Funding Availability for Public and Indian Housing Resident Opportunities and Self Sufficiency (ROSS) Program

Program Overview

Purpose of Program. The purpose of the Public and Indian Housing Resident Opportunities and Self Sufficiency (ROSS) Program is to provide grants to Public Housing Agencies, tribes/Tribally Designated Housing Entities (TDHEs), Resident Organizations and nonprofits, including grassroots, faith-based and other community based organizations for the delivery and coordination of supportive services and other activities designed to help Public and Indian housing residents attain economic self-sufficiency.

Available Funds. A total of $49,675,000 is available for funding in Fiscal Year 2003. Of this, $14,902,500 is allocated to Neighborhood Networks.

Transfer of Funds. HUD may transfer funds between the two Resident Service Delivery Models (RSDM) programs and the Homeownership Supportive Services program in the event that funds in one or more categories are remaining after all qualified applications have been funded. If transfer of funds does become necessary, HUD will give first priority to Homeownership Supportive Services (HSS), second priority to RSDM-Family and third priority to RSDM-Elderly. HUD does not have the discretion to transfer funds for the Neighborhood Networks category to any other funding category within this NOFA. If remaining funds under the Neighborhood Networks funding category are too small to make an award, they will be used to partially fund applications in rank order regardless of region in the existing center category.

Match. At least 25 percent of the grant amount is required as the grant match.

Eligible Applicants. Eligible applicants are Public Housing Agencies (PHAs), tribes/TDHEs, resident management corporations (RMCs), resident councils (RCs), resident organizations (ROs), Intermediary Resident Organizations (IROs), City-Wide Resident Organizations (CWROs) and nonprofits including grassroots, faith-based and other community based organizations that have resident support or the support of tribes. Tribes and TDHEs are not eligible for the Neighborhood Networks funding category. The following chart summarizes the funding categories available under ROSS, eligible applicants and application procedures.

Grant | Eligibility | Application procedure
Resident Services Delivery Model-Family (RSDM-Family) | PHAs, Resident Management Corporations (RMCs), Resident Councils (RCs), Resident Organizations (ROs), Intermediary Resident Organizations (IROs), City-Wide Resident Organizations (CWROs), nonprofits, Indian tribes, and tribally designated housing entities (TDHEs) | Submit application per SuperNOFA and Program Section requirements.
Resident Services Delivery Model-Elderly and Persons with Disabilities | PHAs, Resident Management Corporations (RMCs), Resident Councils (RCs), Resident Organizations (ROs), Intermediary Resident Organizations (IROs), City-Wide Resident Organizations (CWROs), nonprofits, Indian tribes/TDHEs | Submit application per SuperNOFA and Program Section requirements.
Homeownership Supportive Services (HSS) | PHAs, Resident Management Corporations (RMCs), Resident Councils (RCs), Resident Organizations (ROs), Intermediary Resident | Submit application per SuperNOFA and Program Section requirements.
| Organizations (IROs), City-Wide Resident Organizations (CWROs), nonprofits, Indian tribes/TDHEs |
Neighborhood Networks (NN) | PHAs and nonprofits with expertise in this area | Submit application per SuperNOFA and Program Section requirements.
Service Coordinator | PHAs which were recipients of this grant in FY1995. | Renewal Program only. New applications will not be considered. Grantees will not go through the SuperNOFA process. HUD will send a letter to 1995 grantees indicating procedure for applying.

Number of Applications Permitted.

General. Applicants including PHAs, tribes/TDHEs, ROs, RCs, and nonprofits, including grassroots, faith-based or other community-based organizations that have resident support or the support of tribes may submit an application for more than one funding category, however applicants must submit separate applications for each funding category. NOTE: Applications from PHAs, tribes/TDHEs, ROs, RCs, RAs and nonprofit organizations targeting the same public housing development/population will not all be funded. HUD suggests that in these cases, applicants work together to submit one application. Otherwise, the highest scoring application will be funded. Nonprofits may submit more than one application provided that they will be serving residents of distinct Public Housing Authorities.

Joint applications. Two or more applicants may join together to submit a joint application for proposed grant activities. Joint applications must designate a lead applicant. Both lead and non-lead applicants are subject to threshold requirements. Joint applications may include PHAs, RAs, IROs, Tribes/TDHEs, and nonprofit entities on behalf of resident organizations. Joint applications involving nonprofits must also provide evidence of resident support. The maximum funding for joint applications cannot exceed the amount of funding applicants would have collectively received had they applied individually.

Grant term. The grant term for funding for each funding category under the ROSS program is thirty-six months from the execution date of the grant agreement.

Extensions. The field office may grant one six-month extension, as long as the request for an extension occurs no less than one year of grant expiration. Other extensions require approval from the Deputy Assistant Secretary for the Office of Public Housing and Voucher Programs.

Additional Information

If you are interested in applying for funding under any of these funding categories, please carefully review the application requirements provided for each grant category below.

I. Application Due Date, Required Forms, Security Procedures, Further Information and Technical Assistance

Application Due Date. The application due dates for each of the ROSS funding categories follows below:

Neighborhood Networks: May 27, 2003.

Resident Service Delivery Models-Elderly/Persons with Disabilities: June 11, 2003.

Resident Service Delivery Models-Family: June 19, 2003.

Homeownership Supportive Services: July 7, 2003. Application Kits. Application kits will not be used this year.

Required Forms. In addition to the forms required in the General Section of the SuperNOFA, there are ROSS forms that are required. Please see Section VIII and Appendix B of this NOFA for more information on form submission.

Mailing and Receipt Procedures.

Please refer to the General Section of the SuperNOFA for mailing and receipt procedures.

Proof of Timely Submission. Please see the General Section of the SuperNOFA.

Number of Applications. Separate applications must be submitted for each ROSS funding category. Applications must be submitted in triplicate (one original and two identical copies). The original and one identical copy must be sent to the Grants Management Center by the deadline. The other identical copy must be submitted to your local HUD field office by the deadline. For tribal and TDHE applicants, both the original and two copies must be sent to the Denver Program Office of Native American Programs (DPONAP) according to the instructions in paragraph 4 below. If you do not submit the required number of copies HUD may request that you provide the additional copies to the appropriate HUD office(s) in accordance with the procedures described here in Section IX and in Section VIII of the General Section of the SuperNOFA, Corrections to Deficient Applications.

Addresses. When submitting your application, you must refer to the name of the program for which you are seeking funding and include the correct room number to ensure that your application is properly directed. The address to use for the GMC is the following: Grants Management Center, Mail Stop: The name of the funding category to which you are applying, 501 School Street, SW., Suite 800, Washington, DC 20024.

In the case of tribes and TDHEs, please submit your completed application (the original and two copies) to the Denver Program Office of Native American Programs (DPONAP), 1999 Broadway, Suite 3390, Denver, CO 80202, by mail using the United States Postal Service (USPS) or it may be delivered only via the following four carrier services: United Parcel Service (UPS), FedEx, DHL, or Falcon Carrier. Delivery by these services must be made during HUD's business hours, between 8:30 AM and 5:30 PM Eastern Standard Time (or Mountain Standard Time for Tribes and TDHEs), Monday through Friday. If these companies do not service your area, you must submit your application via the USPS. Do not submit the original and or a copy of the application to the Area ONAP.

For Further Information and Technical Assistance. You may call the Public and Indian Housing Information and Resource Center at 1-800-955-2232. For the hearing or speech impaired, please call the Federal Relay Service at 1-800-877-8339. In the case of tribes/TDHEs, please contact DPONAP at 1-800-561-5913 or (303) 675-1600 (this is not a toll free number).

Satellite Broadcast. HUD will hold an information broadcast via satellite for potential applicants to learn more about the program and preparation of the application. For more information about the date and time of the broadcast, you should consult the HUD web site at http://www.hud.gov/grants.

II. Definition of Terms

City-Wide Resident Organization means an organization consisting of members from Resident Councils, Resident Management Corporations, and Resident Organizations who reside in public housing developments that are owned and operated by the same PHA within a city.

Community Facility means a non-dwelling structure that provides space for multiple supportive services for the benefit of public or Indian housing residents and others eligible for the services provided. Supportive services may include but are not limited to:

(1) Job-training;

(2) After-school activities for youth;

(3) Neighborhood Networks (formerly Twenty/20 Education Communities (TECs), Campus of Learners activities);

(4) English as a Second Language (ESL) classes; and

(5) Child care.

Contract Administrator means an overall administrator and/or a financial management agent that oversees the financial aspects of a grant and assists in the entire implementation of the grant. All applicants except non-troubled PHAs, tribes and TDHEs must submit a signed Contract Administrator Partnership Agreement with their application. The agreement must be for the thirty-six month duration of the grant term. Your grant award shall be contingent upon having a Contract Administrator Partnership Agreement included in your application. Applicants, except non-troubled PHAs, who fail to submit a Contract Administrator Partnership Agreement will fail threshold and will not receive further consideration for funding. The Contract Administrator must assure that the financial management system and procurement procedures that will be in place during the grant term will fully comply with either 24 CFR part 84 or 85. Contract Administrators may be: Local Housing Agencies; community-based organizations such as Community Development Corporations (CDCs), churches, temples, synagogues, mosques; nonprofits; state/regional associations and organizations. Troubled PHAs are not eligible to be Contract Administrators. Grant writers who assist applicants prepare their ROSS applications are also ineligible to be Contract Administrators. Contract Administrators may not be paid at more than the daily equivalent of the rate paid for level IV of the government's Executive Schedule.

Elderly person means a person who is at least 62 years of age.

Jurisdiction-Wide Resident Organization means an incorporated nonprofit organization or association that meets the following requirements:

(1) Most of its activities are conducted within the jurisdiction of a single housing authority;

(2) There are no incorporated Resident Councils or Resident Management Corporations within the jurisdiction of the single housing authority;

(3) It has experience in providing start-up and capacity-building training to residents and resident organizations; and

(4) Public housing residents representing unincorporated Resident Councils within the jurisdiction of the single housing authority must comprise the majority of the board of directors.

Tribally Designated Housing Entity (TDHE) is an entity authorized or established by one or more Indian tribe to act on behalf of each such tribe authorizing or establishing the housing entity.

Indian tribe means any tribe, band, nation, or other organized group of a community of Indians, including any Alaska native village or regional or village corporation as defined in or established pursuant to the Alaska Native Claims Settlement Act, and that is recognized as eligible for the special programs and services provided by the United States to Indians because of their status as Indians pursuant to the Indian Self Determination and Education Act of 1975.

Intermediary Resident Organizations means Jurisdiction-Wide Resident Organizations, City-Wide Resident Organizations, State-Wide Resident Organizations, Regional Resident Organizations, and National Resident Organizations.

Match. All applicants are required to have in place a 25% match in cash or in-kind donations. The match is a threshold requirement. Applicants who do not demonstrate the minimum 25% match will fail the threshold requirement and will not receive further consideration for funding. If you are applying for more than one ROSS grant, you must use different sources of match donations for each grant application. Match donations must be firmly committed. “Firmly committed” means that the amount of match resources and their dedication to ROSS-funded activities must be explicit, in writing and signed by a person authorized to make the commitment. Letters of commitment, Memoranda of Understanding (MOU) or tribal resolution must be on organization letterhead, and signed by a person authorized to make the stated commitment whether it be in cash or in-kind services. The letters of commitment/MOUs/tribal resolution must indicate the annual level and/or amount of commitment, be dated within two months of the application deadline, and indicate how the commitment will relate to the proposed program. If volunteer time is being committed it should be calculated using the number of hours to be committed and multiplied by either the normal professional rate for the local area or the national minimum wage rate of $5.15/hour. The commitment should be in place at time of award and should be for the duration of the grant. If you, the applicant, propose to use your own, non-ROSS grant funds to meet the match requirement in whole or in part, you must also include a letter of support indicating the type of match (cash or in-kind) and how the match will be used. For tribal and TDHE applicants, you must submit a letter of support and/or tribal resolution committing to the 25% match. Applicant staff time is not an eligible cash or in-kind match. Applicants shall annotate the HUD-424-CB to list the sources and amount of each match for the duration of the grant term. Grant awards shall be contingent upon letters of commitment being submitted with your application.

NAHASDA-assisted resident means a resident of an Indian tribe (as defined above) who has been assisted by the Native American Housing Assistance and Self-Determination Act (NAHASDA) of 1996.

National Resident Organization (NRO) means an incorporated nonprofit organization or association for public housing that meets each of the following requirements:

(1) It is national (i.e., conducts activities or provides services in at least two HUD Areas or two states);

(2) It has the capacity to provide start-up and capacity-building training to residents and resident organizations; and

(3) Public housing residents representing different geographical locations in the country are members of the board of directors.

Nonprofit organization. A nonprofit organization is an organization that is exempt from federal taxation. A nonprofit can be organized for the following purposes: Charitable, religious, educational, scientific, literary and others. In order to qualify, an organization must be a corporation, community chest, fund or foundation. An individual or partnership will not qualify. To obtain nonprofit status, qualified organizations must file an application with the Internal Revenue Service (IRS) and receive designation as such by the IRS. For more information, go to www.irs.gov. Applicants who are in the process of applying for nonprofit status, but have not yet received nonprofit designation from the IRS, will not be considered nonprofit organizations.

National nonprofit organizations means organizations that work on a national basis and have the capacity to mobilize resources on both a national and local level.

Past Performance is a threshold requirement. HUD's field offices will evaluate applicants for past performance to determine whether an applicant has the capacity to manage the grant for which they are applying. The DPONAP will review past performance for tribal/TDHE submissions. Using Rating Factor 1, the field office will evaluate applicants' past performance. Applicants should carefully review Rating Factor 1 to ensure their application addresses each of the criteria requested therein. If applicants fail to address what is requested in Rating Factor 1, their application will fail threshold and will not receive further consideration. If applicants pass threshold, they will go on to be scored for Rating Factor 1 during the technical review process.

Person with disabilities means a person who:

(1) Has a condition defined as a disability in section 223 of the Social Security Act;

(2) Has a developmental disability as defined in section 102 of the Developmental Disabilities Assistance Bill of Rights Act; or

(3) Is determined to have a physical, mental, or emotional impairment which:

(a) Is expected to be of long-continued and indefinite duration;

(b) Substantially impedes his or her ability to live independently; and

(c) Is of such a nature that such ability could be improved by more suitable housing conditions.

The term “person with disabilities” does not exclude persons who have acquired immunodeficiency syndrome (HIV/AIDS) or any conditions arising from the etiologic agent for AIDS. In addition, no individual shall be considered a person with disabilities, for purposes of eligibility for low-income housing, solely on the basis of any drug or alcohol dependence.

The definition provided above for persons with disabilities is the proper definition for determining program qualifications. However, the definition of a person with disabilities contained in section 504 of the Rehabilitation Act of 1973 and its implementing regulations must be used for purposes of reasonable accommodations.

Project Coordinator is a person who is responsible for coordinating the proposed activities to ensure that their accomplishment will assist in achieving the overall grant goals and objectives.

Project is the same as “low-income housing project” as defined in section 3(b)(1) of the United States Housing Act of 1937 (42 U.S.C. 1437 et seq. ) (1937 Act).

Resident Association (RA) means any or all of the forms of resident organizations as they are defined elsewhere in this Definitions section and includes Resident Councils (RC), Resident Management Corporations (RMC), Regional Resident Organizations (RRO), Statewide Resident Organizations (SRO), Jurisdiction-Wide Resident Organizations, and National Resident Organizations (NRO).

Resident Council (RC) means (as provided in 24 CFR 964.115) an incorporated or unincorporated nonprofit organization or association that shall consist of persons residing in public housing and must meet each of the following requirements in order to receive official recognition from the PHA/HUD, and be eligible to receive funds for RC activities and stipends for officers for their related costs for volunteer work in public housing. The following also applies to resident councils:

(1) The RC must adopt written procedures such as by-laws, or a constitution, which provides for the election of residents to the governing board by the voting membership of the public housing residents. The elections must be held on a regular basis, but at least once every 3 years. The written procedures must provide for the recall of the resident board by the voting membership. These provisions shall allow for a petition or other expression of the voting membership's desire for a recall election, and set the percentage of voting membership that must be in agreement in order to hold a recall election. This threshold shall not be less than 10 percent of the voting membership.

(2) The RC must have a democratically elected governing board that is elected by the voting membership. At a minimum, the governing board should consist of five elected board members. The voting membership must consist of heads of households (any age) and other residents at least 18 years of age or older and whose names appear on a lease for the unit in the public housing that the resident council represents.

(3) The RC may represent residents residing in:

(a) Scattered site buildings in areas of contiguous row houses;

(b) One or more contiguous buildings;

(c) A development; or

(d) A combination of the buildings or developments described above.

(4) The RC must be in good standing and recognized by the PHA.

Regional Resident Organization (RRO) means an incorporated nonprofit organization or association for public housing that meets each of the following requirements:

(1) The RRO is regional (i.e., not limited by HUD Areas);

(2) The RRO has experience in providing start-up and capacity-building training to residents and resident organizations; and

(3) Public housing residents representing different geographical locations in the region must comprise the majority of the board of directors.

Resident Management Corporation (RMC) (see 24 CFR 964.7, 964.120) means an entity that consists of residents residing in public housing and must have each of the following characteristics in order to receive official recognition by the PHA and HUD:

(1) The RMC shall be a nonprofit organization that is incorporated under the laws of the state in which it is located;

(2) The RMC may be established by more than one RC, so long as each such council:

(a) Approves the establishment of the corporation; and

(b) Has representation on the Board of Directors of the corporation.

(3) The RMC shall have an elected Board of Directors, and elections must be held at least once every 3 years;

(4) The RMC's by-laws shall require the Board of Directors to include resident representatives of each RC involved in establishing the corporation; include qualifications to run for office, frequency of elections, procedures for recall; and term limits if desired;

(5) The RMC's voting members shall be heads of households (any age) and other residents at least 18 years of age and whose names appear on the lease of a unit in public housing represented by the RMC;

(6) Where an RC already exists for the development, or a portion of the development, the RMC shall be approved by the RC board and a majority of the residents. If there is no RC, a majority of the residents of the public housing development it will represent must approve the establishment of such a corporation for the purposes of managing the project; and

(7) The RMC may serve as both the RMC and the RC, so long as the corporation meets the requirements of 24 CFR part 964 for an RC.

Resident Organization (RO) for tribal entities means an incorporated or unincorporated nonprofit tribal organization or association that meets each of the following criteria:

(1) It shall consist of residents only, and only residents may vote;

(2) If it represents residents in more than one development or in all of the developments of the tribal/TDHE community, it shall fairly represent residents from each development that it represents;

(3) It shall adopt written procedures providing for the election of specific officers on a regular basis; and

(4) It shall have democratically elected governing board. The voting membership of the board shall consist solely of the residents of the development or developments that the tribal RO represents.

Secretary means the Secretary of Housing and Urban Development.

Site-Based Resident Associations means Resident Councils or Resident Management Corporations representing a specific public housing development.

Statewide Resident Organization (SRO) is an incorporated nonprofit organization or association for public housing that meets the following requirements:

(1) The SRO is statewide;

(2) The SRO has experience in providing start-up and capacity-building training to residents and resident organizations; and

(3) Public housing residents representing different geographical locations in the state must comprise the majority of the Board of Directors.

Tribal/TDHE Resident Group means tribal/TDHE resident groups that are democratically elected groups such as IHA-wide resident groups, area-wide resident groups, single development groups, or resident management corporations (RMCs).

III. Program Description: Resident Service Delivery Models-Family

(A) Program Description. The purpose of the ROSS RSDM-Family funding category is to provide funding to PHAs, tribes/TDHEs, resident organizations, nonprofits including grassroots, faith-based or other community-based organizations to create programs to help residents achieve economic self-sufficiency.

HUD is looking for applications that implement comprehensive programs within the thirty-six month grant term which will result in improved economic self-sufficiency for Public or Indian housing residents.

HUD is looking for proposals that involve partnerships with organizations that will help grantees provide educational programs, housing counseling, including fair housing counseling, job training and other supportive services for residents. Proposed grant activities should build on the foundation created by previous ROSS grants or other federal, state and local self-sufficiency efforts.

(B) Available Funding. The amount of funding available for FY03 is $14,345,000.

(C) Allocation. To the extent that there are a sufficient number of qualified applications, not less than 25 percent of funds available for RSDM-Family shall be provided directly to Resident Councils (RCs), Resident Organizations (ROs), Resident Management Corporations (RMCs), Intermediary Resident Organizations (IROs), and City-Wide Resident Organizations (CWROs). In addition, 5 percent of available funding shall be allocated to national nonprofit organizations provided there is a sufficient number of qualified applications.

(1) Maximum grant amount. For PHAs applying for RSDM-Family grants, the maximum grant award will be based on the number of occupied conventional family public housing units. Tribes/TDHEs applying for RSDM-Family grants should use the computation of units for the maximum grant amount, which is outlined below.

(a) PHAs must use the number of occupied conventional family public housing units as of September 30, 2002 per their budget to determine the maximum grant amount they are eligible for in accordance with the categories listed below. PHAs should clearly indicate the number of units under management on the Fact Sheet.

—For PHAs with 1 to 780 occupied conventional family public housing units, the maximum grant award is $250,000.

—For PHAs with 781 to 2,500 occupied conventional family public housing units, the maximum grant award is $350,000.

—For PHAs with 2501 to 7,300 occupied conventional family public housing units, the maximum grant award is $500,000.

—For PHAs with 7,301 or more occupied conventional family public housing units, the maximum grant award is $1,000,000.

—The maximum grant award is $100,000 for each RA.

—Nonprofit entities that have resident support or the support of tribes or RAs/ROs are limited to $100,000 for each RA/RO. A nonprofit may submit a single application for no more than three different RAs from the same PHA for a maximum grant award of $300,000. Nonprofits may submit more than one application provided they target residents of distinct PHAs.

(b) Tribes/TDHEs should use the number of units counted as Formula Current Assisted Stock for Fiscal Year 2002 as defined in 24 CFR 1000.316. Tribes/TDHEs are eligible for the same amounts as PHAs within each category in (a) above. Tribes that have not previously received funds from the Department under the 1937 Housing Act should count housing units under management that are owned and operated by the Tribe and are identified in their housing inventory as of September 30, 2002 for family units. Tribes should clearly indicate the number of units under management on the Fact Sheet.

(D) Deobligation of Funds. HUD may deobligate amounts for the grant if proposed activities are not initiated or completed within the required time period after the effective date of the award. The grant agreement will set forth in detail circumstances under which funds may be deobligated and other sanctions imposed.

(E) Eligible Applicants.

(1) This funding category provides grants to PHAs, tribes/TDHEs, resident management corporations, resident councils, resident organizations, and nonprofit entities supported by HUD, residents or tribes, to enable them to establish and implement comprehensive programs that assist residents in becoming self-sufficient.

(2) IROs with 501(c) status may apply as nonprofit entities under this funding category.

Note: Applications from PHAs, tribes/TDHEs, ROs, RCs, RAs and nonprofit organizations targeting the same public housing development/population will not all be funded. HUD suggests that in these cases, applicants work together to submit one application. Otherwise, the highest scoring application will be funded.

(F) Eligible Activities. This funding category is designed to provide resources that will benefit adult residents who seek to achieve economic self-sufficiency. This category is also designed to help youth residing in Public and Indian Housing succeed in school and begin planning their educational and economic future. Funds may be used for the activities described below. The eligible activities are listed below in four categories from basic to advanced: Life-Skills Training; Job Training, Job Search and Placement Assistance; Post Employment Follow-up and finally, Activities to Support Career Advancement and Long-term Economic Self-Sufficiency. Grantees are not limited to choosing one category of activities, but rather should design their programs to address the specific needs of the population they are targeting. Grantees are encouraged to pull from all categories and activities listed below:

(1) Hiring of a qualified project coordinator to run the grant program. A qualified project coordinator is someone with at least two years of experience working on supportive services programs designed for typically underserved populations. The project coordinator should be hired for the entire term of your grant. The ROSS program will fund up to $62,500 in combined annual salary and fringe benefits for a full-time project coordinator. However, the project coordinator's salary and administrative costs may not exceed more than 30% of the total grant amount. Other administrative costs, see paragraph 9 below, may not exceed 10% of the total grant amount requested from HUD. For audit purposes, applicants must have documentation on file demonstrating that the salary they pay the project coordinator is comparable to similar professions in their local area. The project coordinator should be responsible for:

(a) Marketing the program to residents;

(b) Assessing participating residents' skills and job-readiness;

(c) Assessing participating residents' needs for supportive services, e.g. child care, transportation costs, etc.

(d) Project coordinators working for tribes/TDHEs may assist the tribe or TDHE to create a Resident Group to promote self-sufficiency efforts on the reservation;

(e) Designing and coordinating grant activities based on residents' needs and the local labor market; and

(f) The project coordinator should be responsible for monitoring the progress of program participants and evaluating the overall success of the program. A portion of grant funds should be reserved to ensure that evaluations can be completed for all participants who received training through this program. For more information on how to measure performance, please see Rating Factor 5.

(2) Life-skills Training for Youth and Adults.

(a) Applying for a job. Filling out employment forms; highlighting skills employers are looking for; job opportunities in the area; calculating net wages; workplace norms (appropriate dress, punctuality, respectful communication, etc.).

(b) Credit. What it means to have good credit; how to maintain good credit.

(c) Banking and Money Management. Opening a bank account; balancing a checkbook; creating a weekly spending budget; contingency planning for child care and transportation, etc.

(d) Real Life Issues. Tax forms; voter registration; lease samples; car insurance; health insurance; long-term care insurance; etc.

(e) Literacy training and GED preparation.

(f) College preparatory courses and information.

(g) Goal setting.

(h) Mentoring.

(3) Job Training, Job Search and Placement Assistance:

(a) Skills Assessment of target population.

(b) Soft skills training which includes: Problem solving and other cognitive skills; oral and written communication skills; personal qualities and work ethic; interpersonal and teamwork skills.

(c) Creating job training and placement programs with local employers.

(d) Resume writing.

(e) Interviewing techniques.

(f) Employer linkage and job placement.

Working with local employers to design and offer training that addresses their employment needs, create a job placement program that refers trained residents to participating employers and other local area employers.

(g) Establish relationships with local job placement providers. Encourage them to participate in the training and to meet with residents.

(4) Post-employment follow-up. After placing residents in jobs, follow-up and ongoing support to newly hired residents can have a significant impact on their long-term job retention. Activities can range from one-on-one meetings to weekly group sessions involving other residents who are making the same transition from welfare to work.

(5) Activities to Support Career Advancement and Long-term Economic Self-Sufficiency.

(a) Career advancement and planning programs. Such programs should be designed to:

(i) Help residents identify a career goal and a timeline for achieving it;

(ii) Provide strategies such as finding a strong professional mentor within a company; focusing on the organization's priorities.

(iii) Reinforce initial welfare-to-work programs and focus efforts on increasing residents' earning capacity. Activities can include job counseling, helping residents secure better paying jobs or jobs in better work environments, preparing for work in a new job category, obtaining additional job skills and other educational training.

(b) Working with local employers, create opportunities that combine education and job skill training with jobs. Strategies that promote work-based learning can offer the most effective method for giving new workers the tools they need to move on to a career ladder and achieve upward mobility.

(c) Individual Savings Accounts (ISAs). You may create programs that encourage residents to save and contribute to matched savings accounts such as Individual Development Accounts (IDAs). The programs should include financial counseling and education activities. ISAs may only be used for three purposes: (1) To purchase a first home; (2) receiving post-secondary education or training; or (3) starting a small business. ROSS RSDM funds can be used as matching funds for ISAs but no more than 20% of total grant funds may be used for this purpose. You are encouraged to leverage RSDM funds by working with local financial organizations which can also contribute to residents' ISAs. FSS escrow accounts may not be used as a match for RSDM-funded ISAs. Grantees shall consult the Internal Revenue Service regarding possible tax consequences to participating residents of the ISAs.

(d) Housing Counseling for Homeownership. “Pre-purchase” homeownership counseling and training; which may include training on such subjects as credit and financial management; credit repair; housing search; how to finance purchase of a home; fair housing; Individual Development Accounts, Real Estate Settlement Procedures Act (RESPA); and home maintenance.

(6) Stipends. Stipends are an eligible use of grant funds. However, no more than $200 of the grant award may be used per participant per month for stipends for active trainees and program participants to reimburse reasonable out-of-pocket expenses related to participation in training and other program-related activities. Reasonable costs reimbursable with stipends include such things as local transportation to and from job training and job interviews, supplemental educational materials, and child care expenses. Receipts for such expenses should be provided by the resident in order to obtain reimbursement. Stipends must be tied to residents' successful performance and regular attendance. Stipends are not considered an administrative expense and therefore are not subject to the 10% limitation on administrative costs.

(7) Hiring of Residents. Grant funds may also be used to hire a resident(s) as program staff. Residents' salaries are to come out of administrative expenses, see section 9 “Administrative Costs” below.

(8) Supportive Services.

(a) After school programs for school-age children to include tutoring, remedial training, educational programming using computers.

(b) Provision of information on the Earned Income Tax Credit Program, Food Stamps, Child Tax Credit Program, Medicaid, the State Child Health Insurance Program (S-CHIP), Student Loan Interest Deduction, tribal welfare programs, and other benefit programs that can assist individuals and families make a successful transition from welfare to work.

(c) Housing Counseling to help residents move to market rate rental housing.

(d) Transportation costs as necessary to enable participating families to receive services or commute to training or employment.

(e) Child-care provision for ROSS-RSDM program participants.

(f) Parenting courses.

(g) Nutrition courses.

(h) Healthcare information and services including referrals to mental health providers, alcohol and other drug abuse treatment programs.

(i) English as a second language (ESL) classes.

(j) Creating and maintaining linkages to local social service agencies, such as employment agencies, health departments, transportation agencies, economic/community development agencies, community colleges, recreational and cultural services, and other community organizations such as Boys & Girls Clubs, 4H-Clubs, Boy Scouts, Girl Scouts, etc.

(9) Administrative costs. Administrative costs may include, but are not limited to, purchase of furniture, office equipment and supplies, salaries for resident employees hired as part of this grant program, quality assurance, local travel, and utilities. Nonprofit organizations only may use administrative funds to pay for rental of space. Administrative costs must not exceed 10 percent of the total grant amount requested from HUD. Administrative costs must adhere to OMB Circular A-87. Please use HUD-424-CBW to itemize your administrative costs.

(G) Ineligible Activities.

Activities for which costs are ineligible for funding under the RSDM-Family funding category include:

(1) Payment of wages and/or salaries to participants receiving supportive services and/or training programs;

(2) Purchase or rental of land;

(3) New construction, materials costs;

(4) Rehab or physical improvements;

(5) Purchase or rental of vehicles; and

(6) Cost of application preparation.

(H) Threshold Requirements. Applicants must respond to threshold requirements clearly and thoroughly by following the instructions below. If your application fails one threshold requirement (regardless of the type of threshold) it will be considered a failed application and will not be reviewed further.

(1) Match. All applicants are required to have in place as defined in this NOFA a firmly committed 25% match in cash or in-kind donations. Applicants who do not demonstrate the minimum 25% match will fail this threshold requirement and will not receive further consideration for funding. If you are applying for more than one ROSS grant, you must use different sources of match donations for each grant application. Match donations must be firmly committed. “Firmly committed” means that the amount of match resources and their dedication to ROSS-funded activities must be explicit, in writing and signed by a person authorized to make the commitment. Letters of commitment, Memoranda of Understanding (MOU) or tribal resolution must be on organization letterhead, and signed by a person authorized to make the stated commitment whether it be in cash or in-kind services. The letters of commitment/MOUs/tribal resolutions must indicate the annual level and/or amount of commitment, be dated within two months of the application deadline, and indicate how the commitment will relate to the proposed program. If volunteer time is being committed it should be calculated using the number of hours to be committed and multiplied by either the normal professional rate for the local area or the national minimum wage rate of $5.15/hour. The commitment should be in place at time of award and should be for the duration of the grant. If you, the applicant, propose to use your own, non-ROSS grant funds to meet the match requirement in whole or in part, you must also include a letter of support/tribal resolution indicating the type of match (cash or in-kind) and how the match will be used. Applicant staff time is not an eligible cash or in-kind match. Applicants shall annotate the HUD-424-CB to list the sources and amount of each match for the duration of the grant term. Grant awards shall be contingent upon letters of commitment being submitted with your application.

(2) Past Performance. HUD's field offices will evaluate applicants for past performance to determine whether an applicant has the capacity to manage the grant for which they are applying. Using Rating Factor 1, the field office will evaluate applicants' past performance. Applicants should carefully review Rating Factor 1 to ensure their application addresses each of the criteria requested therein. If applicants fail to address what is requested in Rating Factor 1, their application will fail threshold and will not receive further consideration. If applicants pass threshold, they will go on to be scored for Rating Factor 1 during the technical review process.

(3) All applicants except non-troubled PHAs and tribes/TDHEs are required to submit a signed Contract Administrator Partnership Agreement. The agreement must be for the thirty-six month duration of the grant term. Your grant award shall be contingent upon having a Partnership Agreement included in your application. The Contract Administrator must assure that the financial management system and procurement procedures that will be in place during the grant term will fully comply with either 24 CFR part 84 or 85. Troubled PHAs are not eligible to be Contract Administrators. Grant writers who assist applicants prepare their ROSS applications are also ineligible to be Contract Administrators. See the definition in Section III of Contract Administrator for more information.

(4) Nonprofit applicants must include letters from Resident Organizations (RO), Resident Associations (RA) indicating that the ROs/RAs you will be working with support your application. Letters from ROs/RAs must be signed by a person authorized to sign for the organization and should, whenever be possible, be on RO/RA letterhead.

(H) Program Requirements.

(1) Eligible Participants. All program participants must be residents of conventional public or NAHASDA-assisted Housing. Participants in the Public or Indian Housing Family Self-Sufficiency (FSS) programs who are residents of public housing (non Housing Choice Voucher Program) are also eligible to participate in activities funded under this category.

(2) Resident Assessment. Applicants are required to assess residents' needs and interests so that program activities are designed to address their needs.

(3) Partnering. Applicants should partner with local schools, libraries, businesses, banks, employment agencies, housing counseling agencies (preferably HUD-approved), state and local social service agencies, or other organizations which will help applicants deliver supportive services and fulfill residents' needs. These organizations can provide additional expertise, volunteers, office supplies, training materials, software, equipment, and other resources.

(4) Performance Reports. The grantee shall submit semi-annual performance reports to the field office. These progress reports shall include financial reports (SF-269A) and a narrative describing milestones, work plan progress, and problems encountered and methods used to address these problems. HUD anticipates that some of the reporting of financial status and grant performance will be through Internet-based submissions. Grantees shall use quantifiable data to measure performance against goals and objectives outlined in its work plan. Performance reports are due to the field office on July 30 and January 31 of each year. If reports are not received by the due date, grant funds will not be advanced until reports are received.

(5) Final Report. The grantees shall submit a final report which will include a financial report (SF-269A) and a narrative evaluating overall performance against its work plan. Grantees shall use quantifiable data to measure performance against goals and objectives outlined in its work plan. The financial report shall contain a summary of all expenditures made from the beginning of the grant agreement to the end of the grant agreement and shall include any unexpended balances. The final narrative and financial report shall be due to the field office 90 days after the termination of the grant agreement.

(6) Final Audit. Grantees are required to obtain a complete final close-out audit of the grant's financial statements by a Certified Public Accountant (CPA), in accordance with generally accepted government audit standards. A written report of the audit must be forwarded to HUD within 60 days of issuance. Grant recipients must comply with the requirements of 24 CFR part 84 or 24 CFR part 85 as stated in OMB Circulars A-110, A-87, and A-122, as applicable.

(J) Application Selection Process.

(1) Four types of reviews will be conducted: A screening to determine if you are eligible to apply for this funding category; whether your application submission is complete, on time and meets threshold; a review by the field office to evaluate past performance; and a technical review to rate your application based on the five rating factors provided in this section. A minimum score of 75 is required for the application to be considered for funding.

(2) The selection process is designed to achieve geographic diversity of grant awards throughout the country. HUD will first select the highest ranked application from each of the ten federal regions and DPONAP for funding. After this “round,” HUD will select the second highest ranked application in each of the ten federal regions and DPONAP for funding (the second round). HUD will continue this process with the third, fourth, and so on, highest ranked applications in each federal region and DPONAP until the last complete round is selected for funding. If available funds exist to fund some but not all eligible applications in the next round, HUD will make awards to those remaining applications in rank order regardless of region and DPONAP and will fully fund as many as possible with remaining funds. If remaining funds are too small to make an award, they may be transferred to another category. If transfer of funds does become necessary, HUD will give first priority to Homeownership Supportive Services, second priority to RSDM-Family and third priority to RSDM-Elderly.

(K) Factors for Award Used to Evaluate and Rate RSDM-Family. The factors for rating and ranking applicants and maximum points for each factor are provided below. The maximum number of points available for this program is 102. This includes two RC/EZ/EC bonus points, as described in the General Section of the SuperNOFA. The SuperNOFA contains a certificate that must be completed in order for the applicant to be considered for RC/EZ/EC bonus points. A listing of federally designated RCs, EZs, ECs, EECs and Strategic Planning Communities is attached to the General Section of the SuperNOFA as Appendix A-2 and is also available from the SuperNOFA Information Center, and the HUD Web site, www.hud.gov.

Note: Applicants should carefully review each rating factor before writing a response. Applicants' narratives should be as descriptive as possible, ensuring that every requested item is addressed. Applicants should make sure to include all requested information, according to the instructions found in Section VIII of this NOFA. This will help ensure a fair and accurate review of your application. Applications must not be longer than 30 narrative pages. Supporting documentation and certificates will not be counted towards the 30 page limit. However, applicants should make every effort to submit only what is necessary in terms of supporting documentation.

Rating Factor 1: Capacity of the Applicant and Relevant Organizational Staff (20 Points)

This factor addresses whether the applicant has the organizational resources necessary to successfully implement the proposed activities within the grant period. In rating this factor HUD will consider the extent to which the proposal demonstrates that the applicant will have qualified and experienced staff dedicated to administering the program.

(A) Proposed Program Staffing (7 Points).

(1) Staff Experience (4 Points). The knowledge and experience of your proposed project coordinator, staff, subcontractors, and partners in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. The following information should be provided in order to provide HUD an understanding of your staff's experience and capacity:

(a) The number of staff years (one staff year = 2080 hours) to be allocated to your program by each employee or expert as well as each of their roles in the program;

(b) The staff's relevant educational background and/or work experience; and

(c) Relevant and successful experience running programs whose activities are similar to the eligible program activities described in this grant category.

(2) Staff Capacity (3 Points). You will be evaluated based on whether you, your subcontractors and partners have sufficient personnel or will be able to quickly access enough qualified experts or professionals, to deliver the proposed activities in a timely and effective fashion. Your ability to immediately begin the proposed work program will also be evaluated. Attach resumes or position descriptions (where staff is not yet hired) for all key personnel. (Resumes do not count toward the 30-page limit.)

(B) Past Performance of Applicant/Project Coordinator (6 Points) Your narrative must describe how you (or your proposed Project Coordinator) successfully implemented grant programs (including those listed below) designed to promote resident self-sufficiency or moving from welfare to work. You will be evaluated according to the following criteria:

(1) Achievement of specific measurable outcomes and objectives in terms of benefits gained by participating residents (i.e. higher incomes, higher rates of employment, increased savings, improved literacy, etc.);

(2) Success in attracting and keeping residents involved in past grant programs so that grant activities benefited a significant numbers of residents;

(3) Timely expenditure of funds throughout the term of the grant. Timely means regular drawdowns throughout the life of the grant, i.e. quarterly drawdowns, with all funds expended by the end of the grant term;

(4) Leveraging of funding or in-kind services beyond that which was originally proposed to be used for past projects;

(5) Long-term partnerships formed with local employers, libraries, community organizations, social service agencies, local colleges and universities, etc.

Your past experience may include, but is not limited to, programs aimed at assisting residents of low-income housing achieve economic self-sufficiency; i.e. Tenant Opportunities Program; Public Housing Drug Elimination program and Youthbuild. Your narrative must indicate the grants, grant amounts, grant terms and grant sources which you are counting towards past experience.

(C) Program Administration and Fiscal Management. (7 Points)

(1) Program Administration. (4 Points). Describe how you will manage the program; how HUD can be sure that there is program accountability; and describe staff's roles and responsibilities.

(2) Fiscal Management. (3 Points). In rating this factor, your skills and experience in fiscal management will be evaluated. If you have had any audit or material weakness findings, you will be evaluated on how well you have addressed them. You must provide the following:

(a) A complete description of your fiscal management structure, including fiscal controls you have in place including those of a Contract Administrator for all applicants except non-troubled PHAs, tribes and TDHEs;

(b) List any audit findings (HUD Inspector General, management review, fiscal, etc.), material weaknesses and what you have done to address them;

(c) For applicants who are required to have a Contract Administrator, describe the skills and experience your Contract Administrator has in managing federal funds.

Rating Factor 2: Need/Extent of the Problem (20 Points)

This factor addresses the extent to which there is a need for funding your proposed program and your indication of the importance of meeting the need in the target area. In responding to this factor, you will be evaluated on the extent to which you describe and document the level of need for your proposed activities and the urgency in meeting the need.

You should use statistics and analyses contained in data source(s) that are sound and reliable. Data that describes socioeconomic conditions at the local level can be found by going to the following websites: www.bls.gov (Bureau of Labor Statistics) or www.census.gov (US Census). Other types of sources include Continuum of Care gaps analysis, law enforcement agency crime reports, academic, state, and local sources. To the extent possible, the data you use should be specific to the area where the proposed activities will be carried out. You should document needs as they apply to the area where activities will be targeted, rather than the entire locality or state.

In responding to this factor, you should include:

(1) Socioeconomic Profile (5 points). A thorough socioeconomic profile of the eligible residents to be served by your program, including education levels, income levels, the number of single-parent families, economic statistics for the local area, crime levels, etc.

(2) Local Training Program Information (5 points). Information on training programs currently available and easily accessible to residents either through the PHA, tribe/TDHE, or other local or state community organizations.

You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. NOTE: Fines, penalties, damages, and other settlements resulting from violations (or alleged violations) of, or failure of the applicant to comply with federal, state, local or Indian tribal laws and regulations are unallowable means in which to satisfy this Rating Factor, except when incurred as a result of compliance with specific provisions of the federal award or written instructions by the awarding agency authorizing in advance such payments.

(3) Resource Documentation (3 points). The names and/or titles of information resources you used to document the need/extent of the problem.

(4) Demonstrated Link Between Proposed Activities and Local Need (7 points). There must be a clear relationship between your proposed activities, community needs and the purpose of the program funding for you to receive points for this factor.

Rating Factor 3: Soundness of Approach (30 Points)

This factor addresses both the quality and cost-effectiveness of your proposed work plan. Your work plan must indicate a clear relationship between your proposed activities, the targeted population's needs, and the purpose of the program funding. Your activities must address HUD's policy priorities which relate to this program.

In rating this factor HUD will consider:

(A) Quality of the Work Plan (18 points). This factor evaluates both your work plan and your budget and will be evaluated based on the following components:

(1) Specific Services and/or Activities (6 points). Your narrative must describe the specific services and activities you plan to offer and who will be responsible for each. You must also provide a work plan which will enumerate the specific services and activities and outcomes you expect. Please see a sample work plan in Appendix B. HUD will consider how well your proposed activities will:

(a) Involve community partners in the delivery of services; and

(b) Offer comprehensive services versus a small range of services geared toward enhancing economic opportunities for residents.

(2) Feasibility and Demonstrable Benefits (4 points). This factor examines whether your work plan is logical, feasible and likely to achieve its stated purpose during the term of the grant. HUD's desire is to fund projects that will quickly produce demonstrable results and advance the purposes of the ROSS program.

(a) Timeliness. This subfactor evaluates whether your work plan demonstrates that your project is ready to be implemented shortly after grant award, but not to exceed three months following the execution of the grant agreement. Your work plan should indicate timeframes and deadlines for accomplishing major activities.

(b) Description of the problem and solution. Your work plan will be evaluated based on how well your proposed activities address the needs described in Factor 2.

(3) Budget Appropriateness/Efficient Use of Grant. (4 Points) The score in this factor will be based on the following:

(a) Justification of expenses. You will be evaluated based on whether your expenses are reasonable and well-explained.

(b) Budget Efficiency. You will be evaluated based on whether your application requests funds commensurate with the level of effort necessary to accomplish your goals and anticipated results.

(4) Involving Residents in the Design of the Work Plan (4 points). All applicants should make every effort to involve residents in the design of the work plan, so that activities and services offered by your organization address their needs.

(B) Addressing HUD's Policy Priorities (12 points). HUD wants to improve the quality of life for those living in distressed communities. HUD's grant programs are a vehicle through which constructive changes can be achieved. Your narrative and work plan will be evaluated based on how well it meets the following HUD policy priorities:

(1) Improving the Quality of Life in Our Nation's Communities (5 points). In order to receive points in this category, your narrative and work plan must indicate the types of activities and training programs you will offer which can help residents successfully transition from welfare to work and earn higher wages.

(2) Providing Full and Equal Access to Grassroots Faith-Based and Other Community-Based Organizations in HUD Program Implementation (7 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, your narrative and work plan must describe how you will work with these organizations and what types of services they will provide.

Rating Factor 4: Leveraging Resources (20 Points)

This factor addresses your ability to secure community resources that can be combined with HUD's grant resources to achieve program purposes. Applicants are required to create partnerships with organizations that can help achieve their program's goals. PHAs are required by QHWRA (Sec. 12(d)(7) of the U.S. Housing Act, entitled “Cooperation Agreements for Economic Self-Sufficiency Activities”) to make best efforts to enter into such agreements with relevant state or local agencies. In rating this factor, HUD will look at the extent to which you partner, coordinate and leverage your services with other organizations serving the same or similar populations.

Additionally, you must have at least a 25 percent cash or in-kind match. The match is a threshold requirement. Applicants who do not demonstrate the minimum 25% match will fail the threshold requirement and will not receive further consideration for funding. If you are applying for more than one grant ROSS grant, you must use different sources of match donations for each grant application. Leveraging in excess of the 25 percent of the grant amount will receive a higher point value. In evaluating this factor HUD will consider the extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25 percent of the grant amount proposed in this application. “Firmly committed” means that the amount of resources and their dedication to ROSS-funded activities must be explicit, in writing and signed by a person authorized to make the commitment. Letters of commitment, Memoranda of Understanding (MOU), or tribal resolutions must be on organization letterhead and signed by a person authorized to make the stated commitment. The letters of commitment/MOUs/tribal resolutions must indicate the annual level and/or amount of commitment, be dated within two months of the application deadline, and indicate how the commitment will relate to the proposed program. If you, the applicant, propose to use your own, non-ROSS grant funds to meet the match requirement in whole or in part, you must also include a letter of support indicating the type of match (cash or in-kind) and how the match will be used. For tribal and TDHE applicants, you must submit a letter of support and/or tribal resolution committing to the 25% match. Applicant staff time is not an eligible cash or in-kind match. Applicants shall annotate their budget form (the HUD-424-CB) to list the sources and amount of each match. Grant awards shall be contingent upon letters of commitment being submitted with your application.

(A) Volunteer time and services shall be computed by using the normal professional rate for the local area or the national minimum wage rate of $5.15 an hour (Note: Applicants may not use their staff time towards the match);

(B) In order for HUD to determine the value of any donated material, equipment, staff time, building, or lease, your application must provide a letter from the organization making the donation stating the value of the contribution. The letter must be on letterhead, signed by an official authorized to make such commitments on behalf of the donating organization and must be dated within two months of the application deadline.

(C) Other resources/services that can be committed include: in-kind services, contributions or administrative costs provided to the applicant; funds from federal sources (not including ROSS funds) as allowed by statute, including for example Community Development Block Grant (CDBG) and federal Revenue Sharing; funds from any state or local government sources; and funds from private contributions. You may also partner with other program funding recipients to coordinate the use of resources in your target area.

(D) Points for this factor will be awarded based on the documented evidence of partnerships and firm commitments and the ratio of requested ROSS funds to the total proposed grant budget.

Points will be assigned based on the following scale:

Percentage of match | Points awarded
25 | 5
26-50 | 10
51-75 | 15
76-99 or above | 20

Rating Factor 5: Achieving Results and Program Evaluation (10 Points)

An important element in this year's NOFA is the development and reporting of performance measures and outcomes. Under this rating factor, applicants must demonstrate how they propose to measure their success and outcomes as they relate to the Department's Strategic Plan.

This factor emphasizes HUD's determination to ensure that applicants meet commitments made in their applications and grant agreements and that they assess their performance so that they realize performance goals. HUD requires ROSS applicants to develop an effective, quantifiable, outcome oriented work plan for measuring performance and determining that goals have been met.

“Outcomes” are benefits accruing to the residents, families and/or communities during or after participation in the ROSS program. Outcomes are not the actual development of self-sufficiency services or program activities. Applicants must clearly identify the outcomes to be achieved and measured. Examples of outcomes are: Increasing the homeownership rates among residents of a development or from a particular housing authority, increasing residents' financial stability (e.g. increasing assets of a household through savings), or increasing employment stability (e.g., whether persons assisted obtain or retain employment for one or two years after job training completion).

In addition to outcomes, applicants must establish interim benchmarks or outputs for their proposed program that lead to the ultimate achievement of outcomes. “Outputs” are the direct products of a program's activities. Examples of outputs are: The number of eligible families that participate in supportive services, the number of new services provided, the number of residents receiving counseling, or the number of households using a technology center. Outputs should produce outcomes for your program.

This rating factor requires that you, the applicant, identify program outcomes, outputs, benchmarks, and performance indicators that will allow you to measure your performance. Performance indicators should be objectively quantifiable and measure actual achievements against anticipated achievements. Your work plan should identify what you are going to measure, how you are going to measure it, and the steps you have in place to make adjustments to your work plan if performance targets are not met within established timeframes.

In order to satisfy the requirements for Factor 5, you must submit a work plan and a Logic Model that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual consortium members and affiliates, including the standards, data sources, and measurement methods, and the steps you have in place or how you plan to make adjustments if you begin to fall short of established benchmarks and timeframes.

Applicants should also use the Logic Model provided in the General Section of this SuperNOFA for reporting on how they will conduct performance measurement. You will be evaluated based on how comprehensively you propose to measure your program's outcomes.

IV. Program Description: Resident Service Delivery Models—Elderly and Persons With Disabilities

(A) Program Description. The Resident Service Delivery Models (RSDM)-Elderly and Persons with Disabilities funding category is intended to provide PHAs, Resident Management Corporations, Resident Councils, Resident Organizations, Intermediary Resident Organizations, City-Wide Resident Organizations, nonprofits and Indian tribes/TDHEs with the resources to provide and coordinate supportive services that lead elderly and/or disabled public housing residents to independent living.

HUD is looking for applications that implement comprehensive programs within the thirty-six month grant term which will result in improved living conditions for the target population. HUD is looking for proposals that involve partnerships with organizations that will help grantees provide enhanced services to the elderly/persons with disabilities they will serve. Proposed grant activities should build on the foundation created by previous ROSS grants or other federal, state and local self-sufficiency efforts to assist these populations.

(B) Available Funding. The amount of funding available for FY03 is $9,300,300.

(C) Allocation. To the extent that there are a sufficient number of qualified applications, not less than 25 percent of funds available for RSDM-Elderly and Persons with Disabilities shall be provided directly to Resident Councils (RCs), Resident Organizations (ROs), Resident Management Corporations (RMCs), Intermediary Resident Organizations (IROs), and City-Wide Resident Organizations (CWROs). In addition, 5 percent of available funding shall be allocated to national nonprofit organizations provided there is a sufficient number of qualified applications.

1. Maximum grant amount. For PHAs applying for the RSDM-Elderly and Persons with Disabilities funding category, the maximum grant award will be based on the number of occupied elderly and disabled conventional public housing units. Tribes/TDHEs applying for this funding category should use the computation of units for the maximum grant amount, which is outlined below.

(a) PHAs must use the number of occupied elderly and disabled conventional public housing units as of September 30, 2002, per their budget to determine the maximum grant amount they are eligible for in accordance with the categories listed below. PHAs should clearly indicate the number of units under management on the Fact Sheet.

—For 1 to 217 units occupied by elderly residents and persons with disabilities, the maximum grant award is $100,000.

—For 218 to 1,155 units occupied by elderly residents and persons with disabilities, the maximum grant award is $200,000.

—For 1,156 or more units occupied by elderly residents and persons with disabilities, the maximum grant award is $300,000.

—The maximum grant award is $100,000 for each RA.

—Nonprofit entities that have resident support or RAs/ROs are limited to $100,000 for each RA/RO. A nonprofit may submit a single application for no more than three different RAs from the same PHA for a maximum grant award of $300,000. Nonprofits may submit more than one application provided they target residents of distinct PHAs.

(b) Tribes/TDHEs should use the number of units counted as Formula Current Assisted Stock for Fiscal Year 2002 as defined in 24 CFR 1000.316. Tribes/TDHEs are eligible for the same amount of funding as PHAs within each category in (a) above. Tribes who have not previously received funds from the Department under the 1937 Housing Act should count housing units under management that are owned and operated by the Tribe and are identified in their housing inventory as of September 30, 2002 for elderly/disabled units. Tribes should clearly indicate the number of units under management on the Fact Sheet.

(D) Deobligation of Funds. HUD may deobligate amounts for the grant if proposed activities are not initiated or completed within the required time period after the effective date of the award. The grant agreement will set forth in detail circumstances under which funds may be deobligated and other sanctions imposed.

(E) Eligible Applicants.

(1) This funding category provides grants to PHAs, tribes/TDHEs, resident management corporations, resident councils, resident organizations, and nonprofits, including grassroots, faith-based and other Community-based organizations, that have resident support or have the support of tribes, so they may provide supportive services for elderly and/or disabled residents. PHAs that are recipients of the Service Coordinator grant are not eligible to apply for this ROSS funding category.

(2) IROs with 501(c) status may apply as nonprofit entities under this funding category.

Note: Applications from PHAs, tribes/TDHEs, ROs, RCs, RAs and nonprofit organizations targeting the same public housing development/population will not all be funded. HUD suggests that in these cases, applicants work together to submit one application. Otherwise, the highest scoring application will be funded.

(F) Eligible Activities.

(1) Hiring of a qualified project coordinator to run the grant program. A qualified project coordinator is someone with at least two years of experience working on supportive services programs designed for elderly and/or disabled people. The ROSS program will fund up to $62,500 in combined annual salary and fringe benefits for a full-time project coordinator. However, the project coordinator's salary and administrative costs may not exceed more than 30% of the total grant amount. Other administrative costs, see paragraph 9 below, may not exceed 10% of the total grant amount requested from HUD. For audit purposes, applicants must have documentation on file demonstrating that the salary they pay the project coordinator is comparable to similar professions in their local area. The project coordinator will be responsible for:

(a) Assessing participating residents' needs for supportive services (e.g. Medicaid, Medicare, physician care, food stamps, rehabilitation services, veterans disability, state-funded programs such as nurse case management, housekeeping, Meals-on-Wheels; transportation etc.);

(b) Designing and coordinating grant activities based on residents' needs;

(c) The project coordinator shall be responsible for monitoring the progress of program participants and evaluating the overall success of the program. A portion of grant funds should be reserved to ensure that evaluations can be completed for all participants who received assistance through this program. For more information on how to measure performance, please see Rating Factor 5.

(2) Coordination and set up of meal services;

(3) Assistance with daily activities;

(4) Coordination and set-up of transportation services;

(5) Wellness programs including, health and nutrition programs, preventive health education, referral to rehabilitation services, services for the disabled and other community resources;

(6) Personal emergency response;

(7) Congregate services—includes supportive services that are provided in a congregate setting at a conventional public housing development;

(8) Case management; and

(9) Administrative costs. Administrative costs may include, but are not limited to, purchase of furniture, office equipment and supplies, quality assurance, local travel, and utilities. Nonprofit organizations only may use administrative funds to pay for rental of space. Administrative costs must not exceed 10 percent of the total grant amount requested from HUD. Administrative costs must adhere to OMB Circular A-87. Please use HUD-424-CBW to itemize your administrative costs.

(G) Ineligible Activities.

(1) Service Coordinator salary and fringe benefits;

(2) Payment of wages and/or salaries to doctors, nurses or other staff in relation to medical services provided to residents;

(3) Payment of wages and/or salaries to participants receiving supportive services and/or training programs;

(4) Purchase of food;

(5) Purchase of non-prescription or prescription medications;

(6) Purchase or rental of land;

(7) New construction, materials costs;

(8) Rehab or physical improvements;

(9) Purchase or rental of vehicles; and

(10) Cost of application preparation.

(H) Threshold Requirements. Applicants must respond to threshold requirements clearly and thoroughly by following the instructions below. If your application fails one threshold requirement (regardless of the type of threshold) it will be considered a failed application and will not be reviewed further.

(1) Match. All applicants are required to have in place as defined in this NOFA a firmly committed 25% match in cash or in-kind donations. Applicants who do not demonstrate the minimum 25% match will fail this threshold requirement and will not receive further consideration for funding. If you are applying for more than one ROSS grant, you must use different sources of match donations for each grant application. Match donations must be firmly committed. “Firmly committed” means that the amount of match resources and their dedication to ROSS-funded activities must be explicit, in writing and signed by a person authorized to make the commitment. Letters of commitment, Memoranda of Understanding (MOU) or tribal resolution must be on organization letterhead, and signed by a person authorized to make the stated commitment whether it be in cash or in-kind services. The letters of commitment/MOUs/tribal resolution must indicate the annual level and/or amount of commitment, be dated within two months of the application deadline, and indicate how the commitment will relate to the proposed program. If volunteer time is being committed it should be calculated using the number of hours to be committed and multiplied by either the normal professional rate for the local area or the national minimum wage rate of $5.15/hour. The commitment should be in place at time of award and should be for the duration of the grant. If you, the applicant, propose to use your own, non-ROSS grant funds to meet the match requirement in whole or in part, you must also include a letter of support/tribal resolution indicating the type of match (cash or in-kind) and how the match will be used. Applicant staff time is not an eligible cash or in-kind match. Applicants shall annotate the HUD-424-CB to list the sources and amount of each match for the duration of the grant term. Grant awards shall be contingent upon letters of commitment being submitted with your application.

(2) Past Performance. HUD's field offices will evaluate applicants for past performance to determine whether an applicant has the capacity to manage the grant for which they are applying. The DPONAP will review past performance for tribal/TDHE submissions. Using Rating Factor 1, the field office will evaluate applicants' past performance. Applicants should carefully review Rating Factor 1 to ensure their application addresses each of the criteria requested therein. If applicants fail to address what is requested in Rating Factor 1, their application will fail threshold and will not receive further consideration. If applicants pass threshold, they will go on to be scored for Rating Factor 1 during the technical review process.

(3) All applicants except non-troubled PHAs and tribes/TDHEs are required to submit a signed Contract Administrator Partnership Agreement. The agreement must be for the thirty-six month duration of the grant term. Your grant award shall be contingent upon having a Partnership Agreement included in your application. The Contract Administrator must assure that the financial management system and procurement procedures that will be in place during the thirty-six month grant term will fully comply with either 24 CFR part 84 or 85. Troubled PHAs are not eligible to be Contract Administrators. Grant writers who assist applicants prepare their ROSS applications are also ineligible to be Contract Administrators. See the definition in Section III of Contract Administrator for more information.

(4) Nonprofit applicants must include letters from Resident Organizations (RO), Resident Associations (RA) indicating that the ROs/RAs you will be working with support your application. Letters from ROs/RAs must be signed by a person authorized to sign for the organization and should, whenever possible, be on RO/RA letterhead.

(I) Program Requirements.

(1) Eligible Participants. All program participants must be residents of conventional public or Indian Housing. Participants in the Public or Indian Housing Family Self-Sufficiency (FSS) programs who are residents of public housing (non Housing Choice Voucher Program) are also eligible to participate in activities funded under this category.

(2) Resident Assessment. Applicants are required to assess residents' needs and interests so that program activities are designed to address their needs.

(3) Partnering. Applicants should partner with local schools, libraries, businesses, banks, employment agencies, housing counseling agencies (preferably HUD-approved), state and local social service agencies, or other organizations which will help applicants deliver supportive services and fulfill residents' needs. These organizations can provide additional expertise, volunteers, office supplies, training materials, software, equipment, and other resources.

(4) Performance Reports. The grantee shall submit semi-annual performance reports to the field office. These progress reports shall include financial reports (SF-269A) and a narrative describing milestones, work plan progress, and problems encountered and methods used to address these problems. HUD anticipates that some of the reporting of financial status and grant performance will be through Internet-based submissions. Grantees shall use quantifiable data to measure performance against goals and objectives outlined in its work plan. Performance reports are due to the field office on July 30 and January 31 of each year. If reports are not received by the due date, grant funds will not be advanced until reports are received.

(5) Final Report. The grantees shall submit a final report which will include a financial report (SF-269A) and a narrative evaluating overall performance against its work plan. Grantees shall use quantifiable data to measure performance against goals and objectives outlined in its work plan. The financial report shall contain a summary of all expenditures made from the beginning of the grant agreement to the end of the grant agreement and shall include any unexpended balances. The final narrative and financial report shall be due to the field office 90 days after the termination of the grant agreement.

(6) Final Audit. Grantees are required to obtain a complete final close-out audit of the grant's financial statements by a Certified Public Accountant (CPA), in accordance with generally accepted government audit standards. A written report of the audit must be forwarded to HUD within 60 days of issuance. Grant recipients must comply with the requirements of 24 CFR part 84 or 24 CFR part 85 as stated in OMB Circulars A-110, A-87, and A-122, as applicable.

(J) Application Selection Process.

(1) Four types of reviews will be conducted: A screening to determine if you are eligible to apply for this funding category; whether your application submission is complete, on time and meets threshold; a review by the field office to evaluate past performance; and a technical review to rate your application based on the five rating factors provided in this section. A minimum score of 75 is required for the application to be considered for funding.

(2) The selection process is designed to achieve geographic diversity of grant awards throughout the country. HUD will first select the highest ranked application from each of the ten federal regions and DPONAP for funding. After this “round,” HUD will select the second highest ranked application in each of the ten federal regions and DPONAP for funding (the second round). HUD will continue this process with the third, fourth, and so on, highest ranked applications in each federal region and DPONAP until the last complete round is selected for funding. If available funds exist to fund some but not all eligible applications in the next round, HUD will make awards to those remaining applications in rank order regardless of region and DPONAP and will fully fund as many as possible with remaining funds. If remaining funds are too small to make an award, they may be transferred to another funding category. If transfer of funds does become necessary, HUD will give first priority to Homeownership Supportive Services, second priority to RSDM-Family and third priority to RSDM-Elderly.

(K) Factors for Award Used to Evaluate and Rate RSDM-Elderly and Persons with Disabilities Applications. The factors for rating and ranking applicants and maximum points for each factor are provided below. The maximum number of points available for this program is 102. This includes two RC/EZ/EC bonus points, as described in the General Section of the SuperNOFA. The SuperNOFA contains a certificate that must be completed in order for the applicant to be considered for RC/EZ/EC bonus points. A listing of federally designated RCs, EZs, ECs, EECs and Strategic Planning Communities is attached to the General Section of the SuperNOFA as Appendix A-2 and is also available from the SuperNOFA Information Center, and the HUD web site, www.hud.gov.

Note: Applicants should carefully review each rating factor before writing a response. Applicants' narratives should be as descriptive as possible, ensuring that every requested item is addressed. Applicants should make sure to include all requested information, according to the instructions found in Section VIII of this NOFA. This will help ensure a fair and accurate review of your application. Applications must not be longer than 30 narrative pages. Supporting documentation and certificates will not be counted towards the 30 page limit. However, applicants should make every effort to submit only what is necessary in terms of supporting documentation.

Rating Factor 1: Capacity of the Applicant and Relevant Organizational Staff (20 Points)

This factor addresses whether the applicant has the organizational resources necessary to successfully implement the proposed activities within the grant period. In rating this factor HUD will consider the extent to which the proposal demonstrates that the applicant will have qualified and experienced staff dedicated to administering the program.

(A) Proposed Program Staffing (7 Points).

(1) Staff Experience (4 Points). The knowledge and experience of your proposed project coordinator, staff, subcontractors, and partners in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. The following information should be provided in order to provide HUD an understanding of your staff's experience and capacity:

(a) The number of staff years (one staff year = 2080 hours) to be allocated to your program by each employee or expert as well as each of their roles in the program;

(b) The staff's relevant educational background and/or work experience; and

(c) Relevant and successful experience running programs whose activities are similar to the eligible program activities described in this grant category.

(2) Staff Capacity (3 Points). You will be evaluated based on whether you, your subcontractors and partners have sufficient personnel or will be able to quickly access enough qualified experts or professionals, to deliver the proposed activities in a timely and effective fashion. Your ability to immediately begin the proposed work program will also be evaluated. Attach resumes or position descriptions (where staff is not yet hired) for all key personnel. (Resumes do not count toward the 30-page limit.)

(B) Past Performance of Applicant/Project Coordinator (6 Points). Your narrative must describe how you (or your proposed Project Coordinator) successfully implemented grant programs designed to assist the elderly/persons with disabilities meet their daily living needs and enhance their access to needed services so that they can continue to reside comfortably and productively in their current living environment. You will be evaluated according to the following criteria:

(1) Achievement of specific measurable outcomes and objectives in terms of benefits gained by participating residents (i.e. access to a greater number of social services; improved health conditions of targeted population; less emergency care; etc.);

(2) Success in attracting and keeping residents involved in past grant program so that grant activities benefited a significant number of residents;

(3) Timely expenditure of funds throughout the term of awarded grant. Timely means regular drawdowns throughout the life of the grant, i.e. quarterly drawdowns, with all funds expended by the end of the grant term;

(4) Leveraging of funding or in-kind services beyond that which was originally proposed to be used for past projects;

(5) Long-term partnerships formed with other state and local social service providers, nonprofits and other organizations serving these populations; etc.

Your past experience may include, but is not limited to, running and managing programs aimed at assisting elderly/persons with disabilities who reside in low-income housing/areas such as HUD's Office of Housing's Congregate grant program. Your narrative must indicate the grants, grant amounts, grant terms and grant sources which you are counting towards past experience.

(C) Program Administration and Fiscal Management. (7 Points).

(1) Program Administration. (4 Points). Describe how you will manage the program; how HUD can be sure that there is program accountability; and describe staff's roles and responsibilities.

(2) Fiscal Management. (3 Points). In rating this factor, your skills and experience in fiscal management will be evaluated. If you have had any audit or material weakness findings, you will be evaluated on how well you have addressed them. You must provide the following:

(a) A complete description of your fiscal management structure, including fiscal controls you have in place including those of a Contract Administrator for all applicants except non-troubled PHAs;

(b) List any audit findings (HUD Inspector General, management review, fiscal, etc.), material weaknesses and what you have done to address them; and

(c) For applicants who are required to have a Contract Administrator, describe the skills and experience your Contract Administrator has in managing federal funds.

Rating Factor 2: Need/Extent of the Problem (20 Points)

This factor addresses the extent to which there is a need for funding your proposed program and your indication of the importance of meeting the need in the target area. In responding to this factor, you will be evaluated on the extent to which you describe and document the level of need for your proposed activities and the urgency in meeting the need.

You should use statistics and analyses contained in data source(s) that are sound and reliable. Data that describes socioeconomic conditions at the local level can be found by going to the following Web sites: www.bls.gov (Bureau of Labor Statistics) or www.census.gov (US Census). Other types of sources include Continuum of Care gaps analysis, academic, state, and local sources. To the extent possible, the data you use should be specific to the area where the proposed activities will be carried out. You should document needs as they apply to the area where activities will be targeted, rather than the entire locality or state.

In responding to this factor, you should include:

(1) Socioeconomic Profile (5 points). A needs assessment which provides the number of residents needing assistance with activities of daily living;

(2) Local Training Program Information (5 points). Information on the type and number of social service programs currently available to residents either through the PHA, tribe/TDHE, or other local or state organizations. Your narrative should indicate the extent to which such programs are utilized by residents.

You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. NOTE: Fines, penalties, damages, and other settlements resulting from violations (or alleged violations) of, or failure of the applicant to comply with federal, state, local or Indian tribal laws and regulations are unallowable means in which to satisfy this Rating Factor, except when incurred as a result of compliance with specific provisions of the federal award or written instructions by the awarding agency authorizing in advance such payments.

(3) Resource Documentation (3 points). The names and/or titles of information resources you used to document the need/extent of the problem.

(4) Demonstrated Link Between Proposed Activities and Local Need (7 points). There must be a clear relationship between your proposed activities, community needs and the purpose of the program funding for you to receive points for this factor.

Rating Factor 3: Soundness of Approach (30 Points)

This factor addresses both the quality and cost-effectiveness of your proposed work plan. Your work plan must indicate a clear relationship between your proposed activities, the targeted population's needs, and the purpose of the program funding. Your activities must address HUD's policy priorities which relate to this program.

In rating this factor HUD will consider:

(A) Quality of the Work Plan (18 points). This factor evaluates both your work plan and your budget and will be evaluated based on the following components:

(1) Specific Services and/or Activities (6 points). Your narrative must describe the specific services and activities you plan to offer and who will be responsible for each. You must also provide a work plan which will enumerate the specific services and activities and outcomes you expect. Please see a sample work plan in Appendix B. HUD will consider how well your proposed activities will:

(a) Involve community partners in the delivery of services; and

(b) Offer comprehensive services versus a small range of services geared toward enhancing economic opportunities for residents.

(2) Feasibility and Demonstrable Benefits (4 points). This factor examines whether your work plan is logical, feasible and likely to achieve its stated purpose during the term of the grant. HUD's desire is to fund projects that will quickly produce demonstrable results and advance the purposes of the ROSS program.

(a) Timeliness. This subfactor evaluates whether your work plan demonstrates that your project is ready to implement shortly after grant award, but not to exceed three months following the execution of the grant agreement. Your work plan should indicate timeframes and deadlines for accomplishing major activities.

(b) Description of the problem and solution. Your work plan will be evaluated based on how well your proposed activities address the needs described in Factor 2.

(3) Budget Appropriateness/Efficient Use of Grant. (4 Points) The score in this factor will be based on the following:

(a) Justification of expenses. You will be evaluated based on whether your expenses are reasonable and well-explained.

(b) Budget Efficiency. You will be evaluated based on whether your application requests funds commensurate with the level of effort necessary to accomplish your goals and anticipated results.

(4) Involving Residents in the Design of the Work Plan (4 points). All applicants should make every effort to involve residents in the design of the work plan, so that activities and services offered by your organization address their needs.

(B) Addressing HUD's Policy Priorities (12 points). HUD wants to improve the quality of life for those living in distressed communities. HUD's grant programs are a vehicle through which constructive changes can be achieved. Your narrative and work plan will be evaluated based on how well it meets the following HUD policy priorities:

(1) Improving the Quality of Life in Our Nation's Communities (5 points). In order to receive points in this category, your narrative and work plan must indicate the types of activities and services you will offer which will enhance the quality of life of the elderly/persons with disabilities.

(2) Providing Full and Equal Access to Grassroots Faith-Based and Other Community-Based Organizations in HUD Program Implementation (7 points). HUD encourages applicants to partner with grassroots organizations, e.g., civic organizations, grassroots faith-based and other community-based organizations that are not usually effectively utilized. These grassroots organizations have a strong history of providing vital community services such as developing visiting programs, arranging holiday parties, connecting residents to transportation, and other supportive services. In order to receive points under this factor, your narrative and work plan must describe how you will work with these organizations and what types of services they will provide.

Rating Factor 4: Leveraging Resources (20 Points)

This factor addresses your ability to secure community resources that can be combined with HUD's grant resources to achieve program purposes. You are required to create partnerships with organizations that can help you achieve your program's goals. PHAs are required by QHWRA (Sec. 12(d)(7) of the U.S. Housing Act, entitled “Cooperation Agreements for Economic Self-Sufficiency Activities”) to make best efforts to enter into such agreements with relevant state or local agencies. In rating this factor, HUD will look at the extent to which you partner, coordinate and leverage your services with other organizations serving the same or similar populations.

Additionally, you must have at least a 25 percent cash or in-kind match. The match is a threshold requirement. Applicants who do not demonstrate the minimum 25% match will fail the threshold requirement and will not receive further consideration for funding. If you are applying for more than one grant ROSS grant, you must use different sources of match donations for each grant application. Leveraging in excess of the 25 percent of the grant amount will receive a higher point value. In evaluating this factor HUD will consider the extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25 percent of the grant amount proposed in this application. “Firmly committed” means that the amount of resources and their dedication to ROSS-funded activities must be explicit, in writing and signed by a person authorized to make the commitment. Letters of commitment, Memoranda of Understanding (MOU), or tribal resolution must be on organization letterhead and signed by a person authorized to make the stated commitment. The letters of commitment/MOUs/tribal resolution must indicate the annual level and/or amount of commitment, be dated within two months of the application deadline, and indicate how the commitment will relate to the proposed program. If you, the applicant, propose to use your own, non-ROSS grant funds to meet the match requirement in whole or in part, you must also include a letter of support indicating the type of match (cash or in-kind) and how the match will be used. Applicant staff time is not an eligible cash or in-kind match. Applicants shall annotate their budget form (the HUD-424-CB) to list the sources and amount of each match. Grant awards shall be contingent upon letters of commitment being submitted with your application.

(A) Volunteer time and services shall be computed by using the normal professional rate for the local area at the national minimum wage rate of $5.15 per hour (Note: Applicants may not use their staff time towards the match);

(B) In order for HUD to determine the value of any donated material, equipment, staff time, building, or lease, your application must provide a letter from the organization making the donation stating the value of the contribution. The letter must be on letterhead, signed by an official authorized to make such commitments on behalf of the donating organization and must be dated within two months of the application deadline.

(C) Other resources/services that can be committed include: in-kind services, contributions or administrative costs provided to the applicant; funds from federal sources (not including ROSS funds) as allowed by statute, including for example Community Development Block Grant (CDBG) and federal Revenue Sharing; funds from any state or local government sources; and funds from private contributions. You may also partner with other program funding recipients to coordinate the use of resources in your target area.

(D) Points for this factor will be awarded based on the documented evidence of partnerships and firm commitments and the ratio of requested ROSS funds to the total proposed grant budget.

Points will be assigned based on the following scale:

Percentage of match | Points awarded
25 | 5
26-50 | 10
51-75 | 15
76-99 or above | 20

Rating Factor 5: Achieving Results and Program Evaluation (10 Points)

An important element in this year's NOFA is the development and reporting of performance measures and outcomes. Under this rating factor, applicants must demonstrate how they propose to measure their success and outcomes as they relate to the Department's Strategic Plan.

This factor emphasizes HUD's determination to ensure that applicants meet commitments made in their applications and grant agreements and that they assess their performance so that they realize performance goals. HUD requires ROSS applicants to develop an effective, quantifiable, outcome oriented work plan for measuring performance and determining that goals have been met.

“Outcomes” are benefits accruing to the residents, families and/or communities during or after participation in the ROSS program. Outcomes are not the actual development of self-sufficiency services or program activities. Applicants must clearly identify the outcomes to be achieved and measured. Examples of outcomes are: increasing the homeownership rates among residents of a development or from a particular housing authority, increasing residents' financial stability (e.g. increasing assets of a household through savings), or increasing employment stability (e.g., whether persons assisted obtain or retain employment for one or two years after job training completion).

In addition to outcomes, applicants must establish interim benchmarks or outputs for their proposed program that lead to the ultimate achievement of outcomes. “Outputs” are the direct products of a program's activities. Examples of outputs are: the number of eligible families that participate in supportive services, the number of new services provided, the number of residents receiving counseling, or the number of households using a technology center. Outputs should produce outcomes for your program.

This rating factor requires that you, the applicant, identify program outcomes, outputs, benchmarks, and performance indicators that will allow you to measure your performance. Performance indicators should be objectively quantifiable and measure actual achievements against anticipated achievements. Your work plan should identify what you are going to measure, how you are going to measure it, and the steps you have in place to make adjustments to your work plan if performance targets are not met within established timeframes.

In order to satisfy the requirements for Factor 5, you must submit a work plan and a Logic Model that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual consortium members and affiliates, including the standards, data sources, and measurement methods, and the steps you have in place or how you plan to make adjustments if you begin to fall short of established benchmarks and timeframes.

Applicants should also use the Logic Model provided in the General Section of this SuperNOFA for reporting on how they will conduct performance measurement. You will be evaluated based on how comprehensively you propose to measure your program's outcomes.

V. Program Description: Homeownership Supportive Services

(A) Program Description. The Homeownership Supportive Services (HSS) category funds homeownership training, counseling and supportive services for residents of Public and Indian Housing who are participating or have participated in self-sufficiency programs, such as ROSS, Family Self-Sufficiency (FSS) or other federal, state or local self-sufficiency programs. Resident participants in any HSS-funding activity cannot be public housing residents and section 8 voucher holders concurrently. HSS is designed to enhance other self-sufficiency efforts by providing public housing residents with the necessary preparation and supportive services they need in order to move from rental housing to homeownership. PHAs, tribes/TDHEs and nonprofits specializing in homeownership training and counseling are eligible to apply.

HUD is looking for applications that implement comprehensive programs within the thirty-six month grant term which will result in increased rates of homeownership for residents of public housing. In this vein, applicants should create linkages with the following HUD homeownership programs: Housing Choice Voucher Homeownership Program, Turnkey III, HOPE I, and the Section 5(h) Homeownership Program. The Turnkey III and HOPE I grant programs are not funding new applications but grantees are still operating homeownership programs under previously awarded grants. The PHA Homeownership Program (Section 32) supercedes the Section 5(h) program and allows PHAs to sell public housing units to low-income families without special funding from HUD. In order to find out whether a PHA or other organization in your area is operating any of these programs, contact your local field office.

Tribes/TDHEs should create linkages with programs such as the Mutual Help Homeownership Opportunity Program, the Section 184 Program, and other homeownership programs developed under the Indian Housing Block Grant Program such as mortgage assistance.

HUD is also looking for proposals that involve partnerships with organizations that will enhance the services grantees will offer. Applicants are strongly encouraged to partner with HUD-approved housing counseling agencies, or other organizations that provide housing counseling services. For a list of HUD-approved housing counseling agencies, go to: http://www.hud.gov/offices/hsg/sfh/hcc/hccprof14.cfm.

Applicants' programs should build on the foundation created by previous ROSS grants, or other state and local self-sufficiency efforts in which their target population may have participated.

(B) Available Funding. The amount of funding available for FY03 is $11,127,200.

(C) Allocation. To the extent that there are a sufficient number of qualified applications, not less than 5 percent of funds available for ROSS shall be provided to national nonprofit organizations which specialize in designing and delivering homeownership programs for low-income individuals and families.

1. Maximum grant amount. For PHAs applying for the HSS funding category, the maximum grant award will be based on the number of occupied conventional family public housing units.

(a) PHAs must use the number of occupied conventional family public housing units as of September 30, 2002 per their budget to determine the maximum grant amount they are eligible for in accordance with the categories listed below. PHAs should clearly indicate the number of units under management on the Fact Sheet.

—For PHAs with 1 to 780 occupied conventional family public housing units, the maximum grant award is $250,000.

—For PHAs with 781 to 2,500 occupied conventional family public housing units, the maximum grant award is $350,000.

—For PHAs with 2,501 to 7,300 occupied conventional family public housing units, the maximum grant award is $500,000.

—For PHAs with 7,301 or more occupied conventional family public housing units, the maximum grant award is $1,000,000.

—Nonprofit entities that have resident support or RAs/ROs are limited to $100,000 for each RA/RO. A nonprofit may submit a single application for no more than three different RAs from the same PHA for a maximum grant award of $300,000. Nonprofits may submit more than one application provided they target residents of distinct PHAs.

(b) Tribes/TDHEs should use the number of units counted as Formula Current Assisted Stock for Fiscal Year 2002 as defined in 24 CFR 1000.316. Tribes/TDHEs are eligible for the same amounts as PHAs within each category in (a) above. Tribes that have not previously received funds from the Department under the 1937 Housing Act should count housing units under management that are owned and operated by the tribe and are identified in their housing inventory as of September 30, 2002 for family units. Tribes should clearly indicate the number of units under management on the Fact Sheet.

(D) Deobligation of Funds. HUD may deobligate amounts for the grant if proposed activities are not initiated or completed within the required time period after the effective date of the award. The grant agreement will set forth in detail circumstances under which funds may be deobligated and other sanctions imposed.

(E) Eligible Applicants.

This funding category provides grants to PHAs, tribes/TDHEs and qualified nonprofits so they may provide homeownership training and supportive services to residents of public housing.

Note: Applications from PHAs and nonprofit organizations targeting the same public housing development/population will not all be funded. HUD suggests that in these cases, applicants work together to submit one application. Otherwise, the highest scoring application will be funded.

(1) PHA applicants must have a Homeownership Voucher program as stated in 24 CFR 982.625 et seq. (65 FR 55163). Those PHAs that have not elected to provide assistance under the Homeownership Voucher option and receive funding under this category, will be required to implement the Homeownership Voucher program and make such option available to eligible families who participate in this ROSS activity.

(2) In applying for HSS, PHA applicants will be required to offer a minimum of 10 housing choice vouchers per year for eligible residents described above.

(3) Tribal/TDHE applicants must have a Low-income Homeownership Program outlined in its current Indian Housing Plan.

(4) In applying for HSS, Tribes/TDHEs will be required to provide homeownership assistance to a minimum of 10 eligible families as described above.

(F) Eligible Activities. Under this funding category, applicants will develop homeownership training programs and supportive services based on needs assessments of the residents they intend to serve. Eligible activities include, but are not limited to:

(1) Hiring of a qualified project coordinator to run the grant program. A qualified project coordinator is someone with at least two years of experience working on homeownership and supportive services programs designed for typically underserved populations. The ROSS program will fund up to $62,500 in combined annual salary and fringe benefits for a full-time project coordinator. However, the project coordinator's salary and administrative costs may not exceed more than 30% of the total grant amount. Other administrative costs, see paragraph 4 below, may not exceed 10% of the total grant amount requested from HUD. For audit purposes, applicants must have documentation on file demonstrating that the salary they pay the project coordinator is comparable to similar professions in their local area. The project coordinator should be responsible for:

(a) Assessing participating residents' needs;

(b) Designing and coordinating grant activities based on residents' needs;

(c) Monitoring the progress of program participants and evaluating the overall success of the program. A portion of grant funds should be reserved to ensure that evaluations can be completed for all participants who received assistance through this program. For more information on how to measure performance, please see Rating Factor 5.

(2) Training to include:

a. Asset building;

b. Credit counseling and credit scoring;

c. Financial literacy and management;

d. Selecting a real estate broker;

e. Choosing a lender;

f. Appraisals;

g. Home inspections;

h. Avoiding delinquency and predatory lending;

i. Foreclosure prevention;

j. Home maintenance and financial management for first-time homeowners;

k. Real Estate Settlement Procedures Act (RESPA); and

l. Fair Housing Counseling.

(3) Individual Savings Accounts (ISAs). You may create programs that encourage residents to save and contribute to matched savings accounts such as Individual Development Accounts (IDAs). ISAs may be used for escrow accounts, downpayment assistance and closing costs only. HSS funds can be used as matching funds for ISAs but no more than 20% of total grant funds may be used for this purpose. You are encouraged to leverage HSS funds by working with local financial organizations which can also contribute to residents' ISAs. FSS escrow accounts may not be used as a match for HSS-funded ISAs. FSS residents are not eligible to participate in the ISA provision.

(4) Administrative costs. Administrative costs may include, but are not limited to, purchase of furniture, office equipment and supplies, quality assurance, local travel, and utilities. Nonprofit organizations only may use administrative funds to pay for rental of space. Administrative costs must not exceed 10 percent of the total grant amount requested from HUD. Administrative costs must adhere to OMB Circular A-87. Please use HUD-424-CBW to itemize your administrative costs.

(G) Ineligible Activities.

(1) Payment of wages and/or salaries to participants receiving supportive services and/or training programs;

(2) Stipends;

(3) Down payment assistance;

(4) Revolving loan funds;

(5) Purchase or rental of land;

(6) New construction, materials costs;

(7) Rehab or physical improvements;

(8) Purchase or rental of vehicles; and

(9) Cost of application preparation.

(H) Threshold Requirements. Applicants must respond to threshold requirements clearly and thoroughly by following the instructions below. If your application fails one threshold requirement (regardless of the type of threshold) it will be considered a failed application and will not be reviewed further.

(1) Match. All applicants are required to have in place a firmly committed 25% match in cash or in-kind donations as defined in this NOFA. Applicants who do not demonstrate the minimum 25% match will fail this threshold requirement and will not receive further consideration for funding. If you are applying for more than one ROSS grant, you must use different sources of match donations for each grant application. Match donations must be firmly committed. “Firmly committed” means that the amount of match resources and their dedication to ROSS-funded activities must be explicit, in writing and signed by a person authorized to make the commitment. Letters of commitment, Memoranda of Understanding (MOU), or tribal resolution must be on organization letterhead, and signed by a person authorized to make the stated commitment whether it be in cash or in-kind services. The letters of commitment/MOUs/tribal resolutions must indicate the annual level and/or amount of commitment, be dated within two months of the application deadline, and indicate how the commitment will relate to the proposed program. If volunteer time is being committed it should be calculated using the number of hours to be committed and multiplied by either the normal professional rate for the local area or the national minimum wage rate of $5.15/hour. The commitment should be in place at time of award and should be for the duration of the grant. If you, the applicant, propose to use your own, non-ROSS grant funds to meet the match requirement in whole or in part, you must also include a letter of support/tribal resolution indicating the type of match (cash or in-kind) and how the match will be used. Applicant staff time is not an eligible cash or in-kind match. Applicants shall annotate the HUD-424-CB to list the sources and amount of each match for the duration of the grant term. Grant awards shall be contingent upon letters of commitment being submitted with your application.

(2) Past Performance. HUD's field offices will evaluate applicants for past performance to determine whether an applicant has the capacity to manage the grant for which they are applying. The DPONAP will review past performance for tribal and TDHE submissions. Using Rating Factor 1, the field office will evaluate applicants' past performance. Applicants should carefully review Rating Factor 1 to ensure their application addresses each of the criteria requested therein. If applicants fail to address what is requested in Rating Factor 1, their application will fail threshold and will not receive further consideration. If applicants pass threshold, they will go on to be scored for Rating Factor 1 during the technical review process.

(3) All applicants except nontroubled PHAs and tribe/TDHEs are required to submit a signed Contract Administrator Partnership Agreement. The agreement must be for the thirty-six month duration of the grant term. Your grant award shall be contingent upon having a Partnership Agreement included in your application. The Contract Administrator must assure that the financial management system and procurement procedures that will be in place during the thirty-six month grant term will fully comply with either 24 CFR part 84 or 85. Troubled PHAs are not eligible to be Contract Administrators. Grant writers who assist applicants prepare their ROSS applications are also ineligible to be Contract Administrators. See the definition in Section III of Contract Administrator for more information.

(4) Nonprofit applicants must include letters from Resident Organizations (RO), Resident Associations (RA) indicating that the ROs/RAs you will be working with support your application. Letters from ROs/RAs must be signed by a person authorized to sign for the organization and should, whenever be possible, be on RO/RA letterhead.

(I) Program Requirements.

(1) Eligible Participants. All program participants must be residents of conventional public housing or NAHASDA-assisted housing. This funding category is targeted to the population of public housing residents that were recipients/beneficiaries of previously awarded ROSS grants, other state or local self-sufficiency programs, and/or participate or participated in the public housing Family Self Sufficiency Program. Resident participants in any HSS-funding activity cannot be public housing residents and section 8 voucher holders concurrently.

(b) ROSS families or FSS residents to be targeted for proposed grant activities must meet the following eligibility requirements:

(i) Achieve a level of income within the acceptable range for the local minimum income for home purchases in the local area; and

(ii) Currently reside in public housing.

(2) Resident Assessment. Applicants are required to assess residents' needs and interests so that program activities are designed to address their needs.

(3) Partnering. Applicants should partner with local schools, libraries, businesses, banks, employment agencies, housing counseling agencies (preferably HUD-approved), state and local social service agencies, or other organizations which will help applicants deliver supportive services and fulfill residents' needs. These organizations can provide additional expertise, volunteers, office supplies, training materials, software, equipment, and other resources.

(4) Performance Reports. The grantee shall submit semi-annual performance reports to the field office. These progress reports shall include financial reports (SF-269A) and a narrative describing milestones, work plan progress, and problems encountered and methods used to address these problems. HUD anticipates that some of the reporting of financial status and grant performance will be through Internet-based submissions. Grantees shall use quantifiable data to measure performance against goals and objectives outlined in its work plan. Performance reports are due to the field office on July 30 and January 31 of each year. If reports are not received by the due date, grant funds will not be advanced until reports are received.

(5) Final Report. The grantees shall submit a final report which will include a financial report (SF-269A) and a narrative evaluating overall performance against its work plan. Grantees shall use quantifiable data to measure performance against goals and objectives outlined in its work plan. The financial report shall contain a summary of all expenditures made from the beginning of the grant agreement to the end of the grant agreement and shall include any unexpended balances. The final narrative and financial report shall be due to the field office 90 days after the termination of the grant agreement.

(6) Final Audit. Grantees are required to obtain a complete final close-out audit of the grant's financial statements by a Certified Public Accountant (CPA), in accordance with generally accepted government audit standards. A written report of the audit must be forwarded to HUD within 60 days of issuance. Grant recipients must comply with the requirements of 24 CFR part 84 or 24 CFR part 85 as stated in OMB Circulars A-110, A-87, and A-122, as applicable.

(J) Application Selection Process.

(1) Four types of reviews will be conducted: a screening to determine if you are eligible to apply for this funding category; whether your application submission is complete, on time and meets threshold; a review by the field office to evaluate past performance; and a technical review to rate your application based on the five rating factors provided in this section. A minimum score of 75 is required for the application to be considered for funding.

(2) The selection process is designed to achieve geographic diversity of grant awards throughout the country. HUD will first select the highest ranked application from each of the ten federal regions for funding. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order regardless of region and will fully fund as many as possible with remaining funds. If remaining funds are too small to make an award, they may be transferred to another funding category. If transfer of funds does become necessary, HUD will give first priority to Homeownership Supportive Services, second priority to RSDM-Family and third priority to RSDM-Elderly.

(K) Factors for Award Used to Evaluate and Rate Homeownership Supportive Services Applications. The factors for rating and ranking applicants and maximum points for each factor are provided below. The maximum number of points available for this program is 102. This includes two RC/EZ/EC bonus points, as described in the General Section of the SuperNOFA. The SuperNOFA contains a certificate that must be completed in order for the applicant to be considered for RC/EZ/EC bonus points. A listing of federally designated RCs, EZs, ECs, EECs and Strategic Planning Communities is attached to the General Section of the SuperNOFA as Appendix A-2 and is also available from the SuperNOFA Information Center, and the HUD Web site, www.hud.gov.

Note: Applicants should carefully review each rating factor before writing a response. Applicants' narratives should be as descriptive as possible, ensuring that every requested item is addressed. Applicants should make sure to include all requested information, according to the instructions found in Section VIII of this NOFA. This will help ensure a fair and accurate review of your application. Applications must not be longer than 30 narrative pages. Supporting documentation and certificates will not be counted towards the 30 page limit. However, applicants should make every effort to submit only what is necessary in terms of supporting documentation.

Rating Factor 1: Capacity of the Applicant and Relevant Organizational Staff (20 Points)

This factor addresses whether the applicant has the organizational resources necessary to successfully implement the proposed activities within the grant period. In rating this factor HUD will consider the extent to which the proposal demonstrates that the applicant will have qualified and experienced staff dedicated to administering the program.

(A) Proposed Program Staffing (7 Points).

(1) Staff Experience (4 Points). The knowledge and experience of your proposed project coordinator, staff, subcontractors, and partners in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. The following information should be provided in order to provide HUD an understanding of your staff's experience and capacity:

(a) The number of staff years (one staff year = 2080 hours) to be allocated to your program by each employee or expert as well as each of their roles in the program;

(b) The staff's relevant educational background and/or work experience; and

(c) Relevant and successful experience running programs whose activities are similar to the eligible program activities described in this grant category.

(2) Staff Capacity (3 Points). You will be evaluated based on whether you, your subcontractors and partners have sufficient personnel or will be able to quickly access enough qualified experts or professionals, to deliver the proposed activities in a timely and effective fashion. Your ability to immediately begin the proposed work program will also be evaluated. Attach resumes or position descriptions (where staff is not yet hired) for all key personnel. (Resumes do not count toward the 30-page limit.)

(B) Past Performance of Applicant/Project Coordinator (6 Points). Your narrative must describe how you (or your proposed Project Coordinator) successfully implemented grant programs designed to promote resident self-sufficiency, moving from welfare to work or homeownership. You will be evaluated according to the following criteria:

(1) Achievement of specific measurable outcomes and objectives in terms of benefits gained by participating residents (i.e. higher incomes, higher rates of employment, increased savings, moving out of subsidized housing to market-rate housing, homeownership etc.);

(2) Success in attracting and keeping residents involved in past grant programs so that grant activities benefited a significant numbers of residents;

(3) Timely expenditure of funds throughout the term of the grant. Timely means regular drawdowns throughout the life of the grant, i.e. quarterly drawdowns, with all funds expended by the end of the grant term;

(4) Leveraging of funding or in-kind services beyond that which was originally proposed to be used for past projects;

(5) Long-term partnerships formed with local housing groups, employers, community organizations, social service agencies, etc.

Your past experience may include, but is not limited to, programs aimed at assisting residents of low-income housing achieve economic self-sufficiency; i.e. Tenant Opportunities Program and Youthbuild. Your narrative must indicate the grants, grant amounts, grant terms and grant sources which you are counting towards past experience.

(C) Program Administration and Fiscal Management. (7 Points)

(1) Program Administration. (4 Points). Describe how you will manage the program; how HUD can be sure that there is program accountability; and describe staff's roles and responsibilities.

(2) Fiscal Management. (3 Points). In rating this factor, your skills and experience in fiscal management will be evaluated. If you have had any audit or material weakness findings, you will be evaluated on how well you have addressed them. You must provide the following:

(i) A complete description of your fiscal management structure, including fiscal controls you have in place including those of a Contract Administrator for all applicants except non-troubled PHAs;

(ii) List any audit findings (HUD Inspector General, management review, fiscal, etc.), material weaknesses and what you have done to address them; and

(iii) For applicants who are required to have a Contract Administrator, describe the skills and experience your Contract Administrator has in managing federal funds.

Rating Factor 2: Need/Extent of the Problem (20 Points)

This factor addresses the extent to which there is a need for funding your proposed program and your indication of the importance of meeting the need in the target area. In responding to this factor, you will be evaluated on the extent to which you describe and document the level of need for your proposed activities.

You should use statistics and analyses contained in data source(s) that are sound and reliable. Data that describes socioeconomic conditions at the local level can be found by going to the following Web sites: www.bls.gov (Bureau of Labor Statistics) or www.census.gov (US Census). Other types of sources include academic, state, and local sources. To the extent possible, the data you use should be specific to the area where the proposed activities will be carried out. You should document needs as they apply to the area where activities will be targeted, rather than the entire locality or state.

In responding to this factor, you should include:

(1) Socioeconomic Profile (5 points). A thorough socioeconomic profile of the eligible residents to be served by your program, including education levels, income levels, the number of single-parent families, economic statistics for the local area, crime levels, etc.

(2) Local Training Program Information (5 points). Information on training programs currently available and easily accessible to residents either through the PHA or other state or local organizations.

You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. NOTE: Fines, penalties, damages, and other settlements resulting from violations (or alleged violations) of, or failure of the applicant to comply with federal, state, local or Indian tribal laws and regulations are unallowable means in which to satisfy this Rating Factor, except when incurred as a result of compliance with specific provisions of the federal award or written instructions by the awarding agency authorizing in advance such payments.

(3) Resource Documentation (3 points). The names and/or titles of information resources you used to document the need/extent of the problem.

(4) Demonstrated Link Between Proposed Activities and Local Need (7 points). There must be a clear relationship between your proposed activities, community needs and the purpose of the program funding for you to receive points for this factor.

Rating Factor 3: Soundness of Approach (30 Points)

This factor addresses both the quality and cost-effectiveness of your proposed work plan. Your work plan must indicate a clear relationship between your proposed activities, the targeted population's needs, and the purpose of the program funding. Your activities must address HUD's policy priorities which relate to this program.

In rating this factor HUD will consider:

(A) Quality of the Work Plan (18 points). This factor evaluates both your work plan and your budget and will be evaluated based on the following components:

(1) Specific Services and/or Activities (6 points). Your narrative must describe the specific services and activities you plan to offer and who will be responsible for each. You must also provide a work plan which will enumerate the specific services and activities and outcomes you expect. Please see a sample work plan in Appendix B. HUD will consider how well your proposed activities will:

(a) Involve community partners in the delivery of services; and

(b) Offer comprehensive services versus a small range of services geared toward enhancing homeownership opportunities for residents.

(2) Feasibility and Demonstrable Benefits (4 points). This factor examines whether your work plan is logical, feasible and likely to achieve its stated purpose during the term of the grant. HUD's desire is to fund projects that will quickly produce demonstrable results and advance the purposes of the ROSS program.

(a) Timeliness. This subfactor evaluates whether your work plan demonstrates that your project is ready to implement shortly after grant award, but not to exceed three months following the execution of the grant agreement. Your work plan should indicate timeframes and deadlines for accomplishing major activities.

(b) Description of the problem and solution. Your work plan will be evaluated based on how well your proposed activities address the needs described in Factor 2.

(3) Budget Appropriateness/Efficient Use of Grant. (4 Points). The score in this factor will be based on the following:

(a) Justification of expenses. You will be evaluated based on whether your expenses are reasonable and well-explained.

(b) Budget efficiency. You will be evaluated based on whether your application requests funds commensurate with the level of effort necessary to accomplish your goals and anticipated results.

(4) Involving Residents in the Design of the Work Plan (4 points). All applicants should make every effort to involve residents in the design of the work plan, so that activities and services offered by your organization address their needs.

(B) Addressing HUD's Policy Priorities (12 points). HUD wants to improve the quality of life for those living in distressed communities. HUD's grant programs are a vehicle through which constructive changes can be achieved. Your narrative and work plan will be evaluated based on how well it meets the following HUD policy priorities:

(1) Providing Increased Homeownership and Rental Opportunities for Low- and Moderate-Income Persons, Persons with Disabilities, the Elderly, Minorities, and Families with Limited English Proficiency (5 points). In order to receive points in this category, your narrative and work plan must indicate the types of activities and training programs you will offer which can help residents successfully transition from subsidized housing to market-rate rental housing or homeownership.

(2) Providing Full and Equal Access to Grassroots Faith-Based and Other Community-Based Organizations in HUD Program Implementation (7 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, your narrative and work plan must describe how you will work with these organizations and what types of services they will provide.

Rating Factor 4: Leveraging Resources (20 Points)

This factor addresses your ability to secure community resources that can be combined with HUD's grant resources to achieve program purposes. You are required to create partnerships with organizations that can help you achieve your program's goals. PHAs are required by QHWRA (Sec. 12(d)(7) of the U.S. Housing Act, entitled “Cooperation Agreements for Economic Self-Sufficiency Activities”) to make best efforts to enter into such agreements with relevant state or local agencies. In rating this factor, HUD will look at the extent to which you partner, coordinate and leverage your services with other organizations serving the same or similar populations.

Additionally, you must have at least a 25 percent cash or in-kind match. The match is a threshold requirement. Applicants who do not demonstrate the minimum 25% match will fail the threshold requirement and will not receive further consideration for funding. If you are applying for more than one grant ROSS grant, you must use different sources of match donations for each grant application. Leveraging in excess of the 25 percent of the grant amount will receive a higher point value. In evaluating this factor HUD will consider the extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25 percent of the grant amount proposed in this application. “Firmly committed” means that the amount of resources and their dedication to ROSS-funded activities must be explicit, in writing and signed by a person authorized to make the commitment. Letters of commitment, or Memoranda of Understanding (MOU), or tribal resolutions must be on organization letterhead and signed by a person authorized to make the stated commitment. The letters of commitment/MOUs/tribal resolution must indicate the annual level and/or amount of commitment, be dated within two months of the application deadline, and indicate how the commitment will relate to the proposed program. If you, the applicant, propose to use your own, non-ROSS grant funds to meet the match requirement in whole or in part, you must also include a letter of support indicating the type of match (cash or in-kind) and how the match will be used. Applicant staff time is not an eligible cash or in-kind match. Applicants shall annotate their budget forms (the HUD-424CB) to list the sources and amount of each match. Grant awards shall be contingent upon letters of commitment being submitted with your application.

(A) Volunteer time and services shall be computed by using the normal professional rate for the local area or the national minimum wage rate of $5.15 per hour (Note: Applicants may not use their staff time towards the match);

(B) In order for HUD to determine the value of any donated material, equipment, staff time, building, or lease, your application must provide a letter from the organization making the donation stating the value of the contribution. The letter must be on letterhead, signed by an official authorized to make such commitments on behalf of the donating organization and must be dated within two months of the application deadline.

(C) Other resources/services that can be committed include: in-kind services, contributions or administrative costs provided to the applicant; funds from federal sources (not including ROSS funds) as allowed by statute, including for example Community Development Block Grant (CDBG) and federal Revenue Sharing; funds from any state or local government sources; and funds from private contributions. You may also partner with other program funding recipients to coordinate the use of resources in your target area.

(D) Points for this factor will be awarded based on the documented evidence of partnerships and firm commitments and the ratio of requested ROSS funds to the total proposed grant budget.

Points will be assigned based on the following scale:

Percentage of match | Points awarded
25 | 5
26-50 | 10
51-75 | 15
76-99 or above | 20

Rating Factor 5: Achieving Results and Program Evaluation (10 Points)

An important element in this year's NOFA is the development and reporting of performance measures and outcomes. Under this rating factor, applicants must demonstrate how they propose to measure their success and outcomes as they relate to the Department's Strategic Plan.

This factor emphasizes HUD's determination to ensure that applicants meet commitments made in their applications and grant agreements and that they assess their performance so that they realize performance goals. HUD requires ROSS applicants to develop an effective, quantifiable, outcome oriented work plan for measuring performance and determining that goals have been met.

“Outcomes” are benefits accruing to the residents, families and/or communities during or after participation in the ROSS program. Outcomes are not the actual development of self-sufficiency services or program activities. Applicants must clearly identify the outcomes to be achieved and measured. Examples of outcomes are: increasing the homeownership rates among residents of a development or from a particular housing authority, increasing residents' financial stability (e.g. increasing assets of a household through savings), or increasing employment stability (e.g., whether persons assisted obtain or retain employment for one or two years after job training completion).

In addition to outcomes, applicants must establish interim benchmarks or outputs for their proposed program that lead to the ultimate achievement of outcomes. “Outputs” are the direct products of a program's activities. Examples of outputs are: the number of eligible families that participate in supportive services, the number of new services provided, the number of residents receiving counseling, or the number of households using a technology center. Outputs should produce outcomes for your program.

This rating factor requires that you, the applicant, identify program outcomes, outputs, benchmarks, and performance indicators that will allow you to measure your performance. Performance indicators should be objectively quantifiable and measure actual achievements against anticipated achievements. Your work plan should identify what you are going to measure, how you are going to measure it, and the steps you have in place to make adjustments to your work plan if performance targets are not met within established timeframes.

In order to satisfy the requirements for Factor 5, you must submit a work plan and a Logic Model that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual consortium members and affiliates, including the standards, data sources, and measurement methods, and the steps you have in place or how you plan to make adjustments if you begin to fall short of established benchmarks and timeframes. Applicants should also use the Logic Model provided in the General Section of this SuperNOFA for reporting on how they will conduct performance measurement. You will be evaluated based on how comprehensively you propose to measure your program's outcomes.

VI. Program Description: Neighborhood Networks

(A) Program Description.

This funding category provides grants to PHAs and qualified nonprofit organizations to (1) update, maintain and expand existing Neighborhood Networks/community technology centers; or (2) establish new Neighborhood Networks (NN) computer technology centers. NN centers provide computer and Internet access to public housing residents and offer a full range of supportive services. Applicants should submit proposals that will: Provide job training, reduce welfare dependency; promote economic self-sufficiency; increase the use of computer technology; expand educational opportunities for residents; develop access to health and nutrition information; and meet other needs of residents. All applicants must complete a Business Plan (see sample provided in Appendix B) covering the thirty-six month grant term. Applicants' business plan and narrative must indicate how the centers will become self-sustaining after the grant term expires.

An existing computer center is: (1) A computer lab, or community technology center already owned and operated by a PHA or nonprofit which serves residents of public housing and which has not received prior Neighborhood Networks funding and therefore is not officially designated a HUD Public & Indian Housing (PIH) Neighborhood Networks center; or (2) a computer lab officially designated a HUD PIH Neighborhood Networks center by virtue of prior funding received under this grant program.

A new computer center is one that: (1) Is not operational; (2) in development; and/or (3) needs funding under this grant program to become fully operational and serve residents of public housing.

HUD is looking for applications that implement comprehensive programs within the grant term which will result in improved economic self-sufficiency for public housing residents. HUD is looking for proposals that involve partnerships with organizations that will help supplement and enhance the services grantees' offered to residents.

Proposed grant activities should build on the foundation created by previous ROSS grants or other federal, state and local self-sufficiency efforts.

(B) Available Funding. The amount of funding available for FY03 is $14,902,500.

(C) Allocation. Fifty percent of available funding for NN will provide grants for updating, maintaining and expanding existing computer technology centers. The other 50% will provide grants to establish and operate new Neighborhood Networks centers. Five percent of available funding shall be provided to national nonprofit organizations provided there is a sufficient number of qualified applications.

(1) Maximum Funding Amount. To update, maintain and expand existing computer technology centers, PHAs must use the number of occupied conventional family public housing units they have as of September 30, 2002 per their budget to determine the maximum grant amount they are eligible for in accordance with the categories listed below. PHAs should clearly indicate the number of units under management on the Fact Sheet.

—For PHAs with 1 to 780 occupied conventional family public housing units, the maximum grant award is $50,000.

—For PHAs with 781 to 7,300 occupied conventional family public housing units, the maximum grant award is $100,000.

—For PHAs with 7,301 or more occupied conventional family public housing units, the maximum grant award is $200,000.

— Nonprofit entities that have resident support or RAs/ROs are limited to $100,000 for each RA/RO. A nonprofit may submit a single application for no more than three different RAs from the same PHA for a maximum grant award of $300,000. Nonprofits may submit more than one application provided they target residents of distinct PHAs.

(2) For new NN centers, PHAs must use the number of occupied conventional family public housing units they have as of September 30, 2002 per their budget to determine the maximum grant amount they are eligible for in accordance with the categories listed below for families:

—For PHAs with 1 to 780 occupied conventional family public housing units, the maximum grant award is $150,000.

—For PHAs with 781 to 7,300 occupied conventional family public housing units, the maximum grant award is $250,000.

—For PHAs with 7,301 or more occupied conventional family public housing units, the maximum grant award is $450,000.

—Nonprofit entities that have resident support or RAs/ROs are limited to $100,000 for each RA/RO. A nonprofit may submit a single application for no more than three different RAs from the same PHA for a maximum grant award of $300,000. Nonprofits may submit more than one application provided they target residents of distinct PHAs.

(D) Deobligation of Funds. HUD may deobligate amounts for the grant if proposed activities are not initiated or completed within the required time period after the effective date of the award. The grant agreement will set forth in detail circumstances under which funds may be deobligated and other sanctions imposed.

(E) Eligible Applicants. Public Housing Authorities and nonprofit organizations that have a demonstrated expertise in developing and managing community technology centers are eligible to apply for this funding category. Tribes/TDHEs are not eligible to apply for this funding category.

Note: Applications from PHAs and nonprofit organizations targeting the same public housing development/population will not all be funded. HUD suggests that in these cases, applicants work together to submit one application. Otherwise, the highest scoring application will be funded.

(F) Eligible Activities.

Programs offered by Neighborhood Networks centers shall be designed to meet residents' needs; be geared towards helping residents transition from welfare to work; assist school-age children and youth with homework; provide guidance and preparatory programming to high school students (or other interested residents) for post-secondary education (college or trade schools); offer life-skills and job training for youth, adults and seniors; provide health care information; and other services as deemed necessary by results obtained from resident surveys.

Neighborhood Networks centers should be located within a public housing development, on PHA land or within reasonable walking distance to the PHA development(s) being served by the center.

Neighborhood Networks will use computers, software and Internet connectivity and should provide the following array of supportive services:

(1) Hiring of a qualified Project Coordinator to run the grant program. A qualified Project Coordinator should have two years of experience running a community technology center. The Project Coordinator should be hired for the entire term of your grant. The ROSS program will fund up to $62,500 in combined annual salary and fringe benefits for a full-time project coordinator. However, the project coordinator's salary and administrative costs may not exceed more than 30% of the total grant amount. Other administrative costs, see paragraph 17 below, may not exceed 10% of the total grant amount requested from HUD. For audit purposes, applicants must have documentation on file demonstrating that the salary they pay the project coordinator is comparable to similar professions in their local area. The project coordinator should be responsible for ensuring that the center's programs achieve your proposal's goals and objectives. In addition, the project coordinator should be responsible for the following activities:

(a) Marketing the program to residents;

(b) Assessing participating residents' needs, interests, skills and job-readiness;

(c) Assessing participating residents' needs for supportive services, e.g. childcare, transportation.

(d) Designing and coordinating grant activities based on residents' needs; and

(e) Monitoring the progress of program participants and evaluating the overall success of the program. A portion of grant funds should be reserved to ensure that evaluations can be completed for all participants who received training through this program. For more information on how to measure performance, please see Rating Factor 5.

(2) Life skills training: How to apply for a job; credit worthiness; opening a bank account; balancing a checkbook; creating a weekly spending budget; contingency planning for child care and transportation;

(3) Real Life Issues: Tax forms; voter registration; lease samples; fair housing; car insurance; health insurance; long-term care insurance;

(4) Literacy training and GED preparation;

(5) Computer training, from basic to advanced;

(6) College preparatory courses and information;

(7) Goal setting: Working with residents to define their professional, educational, economic goals;

(8) Mentoring;

(9) Job Training: Oral and written communication skills; work ethic; interpersonal and teamwork skills; resume writing; interviewing techniques, creating job training and placement programs with local employers and placement agencies; and post-employment follow-up to assist residents who are new to the workplace.

(10) Supportive Services such as transportation, healthcare information and services including referrals to mental health providers, alcohol and other drug abuse treatment programs, childcare, parenting courses, and other services needed by residents.

(11) Physical improvements. Physical improvements must directly relate to providing space for Neighborhood Networks Center activities. Renovation, conversion, wiring, and repair costs may be essential parts of physical improvements. In addition, architectural, engineering, and related professional services required to prepare architectural plans or drawings, write-ups, specifications or inspections may also be part of the cost components to implement physical improvements. For new centers, expenses for physical improvements may not exceed 20 percent of the total grant amount. For existing centers, expenses for physical improvements may not exceed 10 percent of the total grant amount.

Modifications to create a space that is accessible to persons with disabilities is an eligible use of funds. Refer to Office of Management and Budget (OMB) Circular A-87, Cost Principles for state, local and Indian tribal Governments. All renovations must meet appropriate accessibility requirements, including Section 504 requirements at 24 CFR part 8, Architectural Barriers Act at 24 CFR part 40, the Americans with Disabilities Act and the Fair Housing Act. Compliance with The Uniform Federal Accessibility Standards shall be deemed to comply with the requirements of 24 CFR 8.21, 8.22, 8.232, and 8.25 with respect to buildings.

(a) The renovation, conversion, or joining of vacant dwelling units in a PHA development to create appropriate space for the equipment needs and activities of an NN center (computers, printers, and office space) are eligible activities for physical improvement.

(b) The renovation, conversion of existing common areas in a PHA development to accommodate an NN center is eligible.

(c) If renovation, conversion, or repair is done off-site, the PHA must provide documentation that it has control of the proposed property for not less than 3 years and preferably for 4 years or more. Control can be demonstrated through a lease agreement, ownership documentation, or other appropriate documentation.

(12) Maintenance and insurance costs. Include installing, training, and maintaining the hardware and software as well as insurance coverage for the space and equipment. Costs of computer hardware and software necessary to accommodate the needs of persons with disabilities are an eligible cost for this funding category.

(13) Purchase of computers, printers, software and other peripheral equipment;

(14) Security and related costs. Includes space and minor refitting, locks, and other equipment for safeguarding the center.

(15) Resident development and training courses. These courses may be on disk, CD-ROM through the Web, and/or presented live. Programs should be designed to address job training, life-skills, educational needs of residents (youth and adults) and other interests/needs of residents as determined by an assessment of residents conducted by the applicant.

(16) Distance learning equipment. Distance learning equipment (including the costs for video casting and purchase/lease/rental of distance learning equipment) is an eligible use of funds provided your proposal indicates that the center will be working in a virtual setting with a college, university or other educational organization. If you operate more than one center, distance learning equipment can be used to link one or more centers so that residents using the different centers can benefit from courses being offered at only one site.

(17) Administrative costs. Administrative costs may include, but are not limited to, purchase of furniture, office equipment and supplies, salaries for resident employees hired as part of this grant program, quality assurance, local travel, and utilities. Nonprofit organizations only may use administrative funds to pay for rental of space. For existing NN centers, administrative costs must not exceed 10 percent of the total grant amount requested from HUD. Administrative costs must adhere to OMB Circular A-87. Please use HUD-424-CBW to itemize your administrative costs.

(G) Ineligible Activities.

(1) Payment of wages and/or salaries to participants receiving supportive services and/or training programs;

(2) Purchase or rental of land;

(3) Purchase or rental of vehicles; and

(4) Cost of application preparation.

(H) Threshold Requirements. Applicants must respond to threshold requirements clearly and thoroughly by following the instructions below. If your application fails one threshold requirement (regardless of the type of threshold) it will be considered a failed application and will not be reviewed further.

(1) Match. All applicants are required to have in place a firmly committed 25% match in cash or in-kind donations as defined in this NOFA. Applicants who do not demonstrate the minimum 25% match will fail this threshold requirement and will not receive further consideration for funding. If you are applying for more than one ROSS grant, you must use different sources of match donations for each grant application. Match donations must be firmly committed. “Firmly committed” means that the amount of match resources and their dedication to ROSS-funded activities must be explicit, in writing and signed by a person authorized to make the commitment. Letters of commitment, or Memoranda of Understanding (MOU) must be on organization letterhead, and signed by a person authorized to make the stated commitment whether it be in cash or in-kind services. The letters of commitment/MOUs must indicate the annual level and/or amount of commitment, be dated within two months of the application deadline, and indicate how the commitment will relate to the proposed program. If volunteer time is being committed it should be calculated using the number of hours to be committed and multiplied by either the normal professional rate for the local area or the national minimum wage rate of $5.15/hour. The commitment should be in place at time of award and should be for the duration of the grant. If you, the applicant, propose to use your own, non-ROSS grant funds to meet the match requirement in whole or in part, you must also include a letter of support indicating the type of match (cash or in-kind) and how the match will be used. Applicant staff time is not an eligible cash or in-kind match. Applicants shall annotate the HUD-424-CB to list the sources and amount of each match for the duration of the grant term. Grant awards shall be contingent upon letters of commitment being submitted with your application.

(2) Past Performance. HUD's field offices will evaluate applicants for past performance to determine whether an applicant has the capacity to manage the grant for which they are applying. Using Rating Factor 1, the field office will evaluate applicants' past performance. Applicants should carefully review Rating Factor 1 to ensure their application addresses each of the criteria requested therein. If applicants fail to address what is requested in Rating Factor 1, their application will fail threshold and will not receive further consideration. If applicants pass threshold, they will go on to be scored for Rating Factor 1 during the technical review process.

(3) All applicants except nontroubled PHAs are required to submit a signed Contract Administrator Partnership Agreement. The agreement must be for the thirty-six month duration of the grant term. Your grant award shall be contingent upon having a Partnership Agreement included in your application. The Contract Administrator must assure that the financial management system and procurement procedures that will be in place during the thirty-six month grant term will fully comply with either 24 CFR part 84 or 85. Troubled PHAs are not eligible to be Contract Administrators. Grant writers who assist applicants prepare their ROSS applications are also ineligible to be Contract Administrators. See the definition in Section III of Contract Administrator for more information.

(4) Nonprofit applicants must include letters from Resident Organizations (RO), Resident Associations (RA) indicating that the ROs/RAs you will be working with support your application. Letters from ROs/RAs must be signed by a person authorized to sign for the organization and should, whenever be possible, be on RO/RA letterhead.

(I) Program Requirements.

(1) Eligible Participants. All program participants must be residents of conventional public Housing. Participants in the Public Housing Family Self-Sufficiency (FSS) program who are residents of public housing (non Housing Choice Voucher Program) are also eligible to participate in activities funded under this category.

(2) Resident Assessment. Applicants are required to assess residents' needs and interests so that program activities are designed to address their needs.

(3) Applicants shall submit a business plan with their application (see Appendix B for a sample) which shall indicate level and type of expenditures over the three year grant term, contributions from partners, and efforts applicants will make to ensure the NN center will be sustainable once the grant term expires.

(4) Partnering. Applicants should partner with local businesses, schools, libraries, banks, employment agencies, or other organizations which will help applicants deliver supportive services and fulfill residents' needs. These organizations can provide additional expertise, volunteers, office supplies, training materials, software, equipment, and other resources.

(5) Performance Reports. The grantee shall submit semi-annual performance reports to the field office. These progress reports shall include financial reports (SF-269A) and a narrative describing milestones, work plan progress, and problems encountered and methods used to address these problems. HUD anticipates that some of the reporting of financial status and grant performance will be through Internet-based submissions. Grantees shall use quantifiable data to measure performance against goals and objectives outlined in its work plan. Performance reports are due to the field office on July 30 and January 31 of each year. If reports are not received by the due date, grant funds will not be advanced until reports are received.

(6) Final Report. The grantees shall submit a final report which will include a financial report (SF-269A) and a narrative evaluating overall performance against its work plan. Grantees shall use quantifiable data to measure performance against goals and objectives outlined in its work plan. The financial report shall contain a summary of all expenditures made from the beginning of the grant agreement to the end of the grant agreement and shall include any unexpended balances. The final narrative and financial report shall be due to the field office 90 days after the termination of the grant agreement.

(7) Final Audit. Grantees are required to obtain a complete final close-out audit of the grant's financial statements by a Certified Public Accountant (CPA), in accordance with generally accepted government audit standards. A written report of the audit must be forwarded to HUD within 60 days of issuance. Grant recipients must comply with the requirements of 24 CFR part 84 or 24 CFR part 85 as stated in OMB Circulars A-110, A-87, and A-122, as applicable.

(J) Application Selection Process.

(1) Four types of reviews will be conducted: A screening to determine if you are eligible to apply for this funding category; whether your application submission is complete, on time and meets threshold; a review by the field office to evaluate past performance; and a technical review to rate your application based on the five rating factors provided in this section. A minimum score of 75 is required for the application to be considered for funding.

(2) The selection process is designed to achieve geographic diversity of grant awards throughout the country. HUD will first select the highest ranked application from each of the ten federal regions for funding. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order regardless of region and will fully fund as many as possible with remaining funds. If remaining funds are too small to make an award, they will be used to partially fund applications in rank order regardless of region in the existing center category.

(L) Factors for Award Used to Evaluate and Rate Neighborhood Networks Applications. The factors for rating and ranking applicants and maximum points for each factor are provided below. The maximum number of points available for this program is 102. This includes two RC/EZ/EC bonus points, as described in the General Section of the SuperNOFA. The SuperNOFA contains a certificate that must be completed in order for the applicant to be considered for RC/EZ/EC bonus points. A listing of federally designated RCs, EZs, ECs, EECs and Strategic Planning Communities is attached to the General Section of the SuperNOFA as Appendix A-2 and is also available from the SuperNOFA Information Center, and the HUD Web site, www.hud.gov.

Note: Applicants should carefully review each rating factor before writing a response. Applicants' narratives should be as descriptive as possible, ensuring that every requested item is addressed. Applicants should make sure to include all requested information, according to the instructions found in Section VIII of this NOFA. This will help ensure a fair and accurate review of your application. Applications must not be longer than 30 narrative pages. Supporting documentation and certificates will not be counted towards the 30 page limit. However, applicants should make every effort to submit only what is necessary in terms of supporting documentation.

Rating Factor 1: Capacity of the Applicant and Relevant Organizational Staff (25 Points)

This factor addresses whether the applicant has the organizational resources necessary to successfully implement the proposed activities within the grant period. In rating this factor HUD will consider the extent to which the proposal demonstrates that the applicant will have qualified and experienced staff dedicated to administering the program.

(A) Proposed Program Staffing (12 Points)

(1) Staff Experience (9 Points). The knowledge and experience of your proposed project coordinator, staff, subcontractors, and partners in planning and managing programs for which funding is being requested. Experience will be judged in terms of recent, relevant and successful experience of your staff to undertake eligible program activities. In rating this factor, HUD will consider experience within the last 5 years to be recent; experience pertaining to the specific activities being proposed to be relevant; and experience producing specific accomplishments to be successful. The more recent the experience and the more experience your own staff members who work on the project have in successfully conducting and completing similar activities, the greater the number of points you will receive for this rating factor. If your proposed staff has experience working in both computer-related and social service programs, you will receive a maximum score. If your staff has experience in only one area, you will receive 2 points. If your staff has experience in neither area, you will receive a score of 0 for this subfactor.

The following information should be provided in order to provide HUD an understanding of your staff's experience and capacity:

(a) The number of staff years (one staff year = 2080 hours) to be allocated to your program by each employee or expert as well as each of their roles in the program;

(b) The staff's relevant educational background and/or work experience;

(c) Relevant and successful experience running programs whose activities include social services and computer programs that are similar to the eligible program activities described in this grant category;

(d) Another five points will be awarded if applicants commit to hiring 1-3 residents. Small PHAs should hire one person, medium PHAs should hire 1-2 people, and large PHAs should hire 3 people. In the case of large and medium PHAs, one hired resident should be 17 years of age or younger. Residents' salaries must be paid as administrative expenses, see section F(17) above.

(2) Staff Capacity (3 Points). You will be evaluated based on whether you, your subcontractors and partners have sufficient personnel or will be able to quickly access enough qualified experts or professionals, to deliver the proposed activities in a timely and effective fashion. Your ability to immediately begin the proposed work program will also be evaluated. Attach resumes or position descriptions (where staff is not yet hired) for all key personnel. (Resumes do not count toward the 30-page limit.)

(B) Past Performance of Applicant/Project Coordinator (6 Points). Your narrative must describe how you (or your proposed Project Coordinator) successfully implemented grant programs (including those listed below) designed to promote resident self-sufficiency or moving from welfare to work. You will be evaluated according to the following criteria:

(1) Achievement of specific measurable outcomes and objectives in terms of benefits gained by participating residents (i.e. higher incomes, improved grades, higher rates of employment, increased savings, improved literacy, etc.);

(2) Success in attracting and keeping residents involved in past grant programs so that grant activities benefited a significant numbers of residents;

(3) Timely expenditure of funds throughout the term of the grant. Timely means regular drawdowns throughout the life of the grant, i.e. quarterly drawdowns, with all funds expended by the end of the grant term;

(4) Leveraging of funding or in-kind services beyond that which was originally proposed to be used for past projects;

(5) Long-term partnerships formed with local businesses, employers, libraries, community organizations, social service agencies, local colleges and universities, etc.

Your past experience may include, but is not limited to, programs aimed at assisting residents of low-income housing achieve economic self-sufficiency; i.e. Tenant Opportunities Program and Youthbuild. Your narrative must indicate the grants, grant amounts, grant terms and grant sources which you are counting towards past experience.

(C) Program Administration and Fiscal Management. (7 Points)

(1) Program Administration. (4 Points). Describe how you will manage the program; how HUD can be sure that there is program accountability; and describe staff's roles and responsibilities.

(2) Fiscal Management. (3 Points). In rating this factor, your skills and experience in fiscal management will be evaluated. If you have had any audit or material weakness findings, you will be evaluated on how well you have addressed them. You must provide the following:

(a) A complete description of your fiscal management structure, including fiscal controls you have in place including those of a Contract Administrator for all applicants except non-troubled PHAs;

(b) List any audit findings (HUD Inspector General, management review, fiscal, etc.), material weaknesses and what you have done to address them; and

(c) For applicants who are required to have a Contract Administrator, describe the skills and experience your Contract Administrator has in managing federal funds.

Rating Factor 2: Need/Extent of the Problem (15 Points)

This factor addresses the extent to which there is a need for funding your proposed program and your indication of the importance of meeting the need in the target area. In responding to this factor, you will be evaluated on the extent to which you describe and document the level of need for your proposed activities and the urgency in meeting the need.

You should use statistics and analyses contained in data source(s) that are sound and reliable. Data that describes socioeconomic conditions at the local level can be found by going to the following Web sites: www.bls.gov (Bureau of Labor Statistics) or www.census.gov (US Census). Other types of sources include academic, state, and local sources. To the extent possible, the data you use should be specific to the area where the proposed activities will be carried out. You should document needs as they apply to the area where activities will be targeted, rather than the entire locality or state.

In responding to this factor, you should include:

(1) Socioeconomic Profile (5 points). A thorough socioeconomic profile of the eligible residents to be served by your program, including education levels, income levels, the number of single-parent families, economic statistics for the local area, crime levels, etc.

(2) Local Training Program Information (5 points). Information on training programs currently available and easily accessible to residents either through the PHA or other local or state community organizations.

You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. Note: Fines, penalties, damages, and other settlements resulting from violations (or alleged violations) of, or failure of the applicant to comply with federal, state, local or Indian tribal laws and regulations are unallowable means in which to satisfy this Rating Factor, except when incurred as a result of compliance with specific provisions of the federal award or written instructions by the awarding agency authorizing in advance such payments.

(3) Resource Documentation (3 points). The names and/or titles of information resources you used to document the need/extent of the problem.

(4) Demonstrated Link Between Proposed Activities and Local Need (7 points). There must be a clear relationship between your proposed activities, community needs and the purpose of the program funding for you to receive points for this factor.

Rating Factor 3: Soundness of Approach (30 Points)

This factor addresses both the quality and cost-effectiveness of your proposed business plan. (A sample business plan is included in Appendix B.) Your business plan and supporting narrative must indicate a clear relationship between your proposed activities, the targeted population's needs, and the purpose of the program funding. Your activities must address HUD's policy priorities which relate to this program.

In rating this factor HUD will consider:

(A) Quality of the Business Plan and Supporting Narrative (18 points). This factor evaluates both your business plan, narrative, and your budget and will be evaluated based on the following components:

(1) Specific Services and/or Activities (6 points). Your business plan and supporting narrative must describe the specific services and activities you plan to offer and who will be responsible for each. HUD will consider how well your proposed activities will:

(a) Involve community partners in the delivery of services; and

(b) Offer comprehensive services versus a small range of services geared toward enhancing economic opportunities for residents.

(2) Feasibility and Demonstrable Benefits (4 points). This factor examines whether your business plan and supporting narrative are logical, feasible and likely to achieve its stated purpose during the term of the grant. HUD's desire is to fund projects that will quickly produce demonstrable results and advance the purposes of the ROSS program.

(a) Timeliness. This subfactor evaluates whether your business plan demonstrates that your project is ready to implement shortly after grant award, but not to exceed three months of grant award. Your business plan should indicate timeframes and deadlines for accomplishing major activities.

(b) Description of the problem and solution. Your business plan and supporting narrative will be evaluated based on how well your proposed activities address the needs described in Factor 2.

(3) Budget Appropriateness/Efficient Use of Grant. (4 Points). The score in this factor will be based on the following:

(a) Justification of expenses. You will be evaluated based on whether your expenses are reasonable and well-explained.

(b) Budget Efficiency. You will be evaluated based on whether your application requests funds commensurate with the level of effort necessary to accomplish your goals and anticipated results.

(4) Involving Residents in the Design of the Work Plan (4 points). All applicants should make every effort to involve residents in the design of the work plan, so that activities and services offered by your organization address their needs.

(B) Addressing HUD's Policy Priorities (12 points). HUD wants to improve the quality of life for those living in distressed communities. HUD's grant programs are a vehicle through which constructive changes can be achieved. Your narrative and business plan will be evaluated based on how well it meets the following HUD policy priorities:

(1) Improving the Quality of Life in Our Nation's Communities (5 points). In order to receive points in this category, your business plan and supporting narrative must indicate the types of activities and training programs you will offer which can help residents successfully transition from welfare to work and earn higher wages.

(2) Providing Full and Equal Access to Grassroots Faith-Based and Other Community-Based Organizations in HUD Program Implementation (7 points). HUD encourages applicants to partner with grassroots organizations, e.g., civic organizations, grassroots faith-based and other community-based organizations that are not usually effectively utilized. These grassroots organizations have a strong history of providing vital community services such as developing first-time homeownership programs, creating economic development programs, providing job training and other supportive services. In order to receive points under this factor, your narrative and business plan must describe how you will work with these organizations and what types of services they will provide.

Rating Factor 4: Leveraging Resources (20 Points)

This factor addresses your ability to secure community resources that can be combined with HUD's grant resources to achieve program purposes. You are required to create partnerships with organizations that can help you achieve your program's goals. PHAs are required by QHWRA (Sec. 12(d)(7) of the U.S. Housing Act, entitled “Cooperation Agreements for Economic Self-Sufficiency Activities”) to make best efforts to enter into such agreements with relevant state or local agencies. In rating this factor, HUD will look at the extent to which you partner, coordinate and leverage your services with other organizations serving the same or similar populations.

Additionally, you must have at least a 25 percent cash or in-kind match. The match is a threshold requirement. Applicants who do not demonstrate the minimum 25% match will fail the threshold requirement and will not receive further consideration for funding. If you are applying for more than one ROSS grant, you must use different sources of match donations for each grant application. Leveraging in excess of the 25 percent of the grant amount will receive a higher point value. In evaluating this factor HUD will consider the extent to which you have partnered with other entities to secure additional resources to increase the effectiveness of your proposed program activities. The budget, the business plan, narrative, and commitments for additional resources and services, other than the grant, must show that these resources are firmly committed, will support the proposed grant activities and will, in combined amount (including in-kind contributions of personnel, space and/or equipment, and monetary contributions) equal at least 25 percent of the grant amount proposed in this application. “Firmly committed” means that the amount of resources and their dedication to ROSS-funded activities must be explicit, in writing and signed by a person authorized to make the commitment. Letters of commitment, or Memoranda of Understanding (MOU) must be on organization letterhead and signed by a person authorized to make the stated commitment. The letters of commitment/MOUs must indicate the annual level and/or amount of commitment, be dated within two months of the application deadline, and indicate how the commitment will relate to the proposed program. If you, the applicant, propose to use your own, non-ROSS grant funds to meet the match requirement in whole or in part, you must also include a letter of support indicating the type of match (cash or in-kind) and how the match will be used. Applicant staff time is not an eligible cash or in-kind match. Applicants shall annotate their budget form (HUD-424-CB) to list the sources and amount of each match. Grant awards shall be contingent upon letters of commitment being submitted with your application.

(A) Volunteer time shall be computed by using the normal professional rate for the local area or the national minimum wage rate of $5.15 per hour (Note: Applicants may not use their staff time towards the match);

(B) In order for HUD to determine the value of any donated material, equipment, staff time, building, or lease, your application must provide a letter from the organization making the donation stating the value of the contribution. The letter must be on letterhead, signed by an official authorized to make such commitments on behalf of the donating organization and must be dated within two months of the application deadline.

(C) Other resources/services that can be committed include: in-kind services, contributions or administrative costs provided to the applicant; funds from federal sources (not including ROSS funds) as allowed by statute, including for example Community Development Block Grant (CDBG) and federal Revenue Sharing; funds from any state or local government sources; and funds from private contributions. You may also partner with other program funding recipients to coordinate the use of resources in your target area.

(D) Points for this factor will be awarded based on the documented evidence of partnerships and firm commitments and the ratio of requested ROSS funds to the total proposed grant budget.

Points will be assigned based on the following scale:

Percentage of match | Points awarded
25 | 5
26-50 | 10
51-75 | 15
76-99 or above | 20

Rating Factor 5: Achieving Results and Program Evaluation (10 Points)

An important element in this year's NOFA is the development and reporting of performance measures and outcomes. Under this rating factor, applicants must demonstrate how they propose to measure their success and outcomes as they relate to the Department's Strategic Plan.

This factor emphasizes HUD's determination to ensure that applicants meet commitments made in their applications and grant agreements and that they assess their performance so that they realize performance goals. HUD requires ROSS applicants to develop an effective, quantifiable, outcome oriented work plan for measuring performance and determining that goals have been met.

“Outcomes” are benefits accruing to the residents, families and/or communities during or after participation in the ROSS program. Outcomes are not the actual development of self-sufficiency services or program activities. Applicants must clearly identify the outcomes to be achieved and measured. Examples of outcomes are: increasing the homeownership rates among residents of a development or from a particular housing authority, increasing residents' financial stability (e.g., increasing assets of a household through savings), or increasing employment stability (e.g., whether persons assisted obtain or retain employment for one or two years after job training completion).

In addition to outcomes, applicants must establish interim benchmarks or outputs for their proposed program that lead to the ultimate achievement of outcomes. “Outputs” are the direct products of a program's activities. Examples of outputs are: the number of eligible families that participate in supportive services, the number of new services provided, the number of residents receiving counseling, or the number of households using a technology center. Outputs should produce outcomes for your program.

This rating factor requires that you, the applicant, identify program outcomes, outputs, benchmarks, and performance indicators that will allow you to measure your performance. Performance indicators should be objectively quantifiable and measure actual achievements against anticipated achievements. Your work plan should identify what you are going to measure, how you are going to measure it, and the steps you have in place to make adjustments to your work plan if performance targets are not met within established timeframes.

In order to satisfy the requirements for Factor 5, you must submit a work plan and a Logic Model that demonstrates how you will measure your own program performance. Your plan must identify the outcomes you expect to achieve or goals you hope to meet over the term of your proposed grant and benchmarks, outputs, and timeframes for accomplishing these goals. Your work plan must show how you will measure actual accomplishments against anticipated achievements. You must indicate how your plan will measure the performance of individual consortium members and affiliates, including the standards, data sources, and measurement methods, and the steps you have in place or how you plan to make adjustments if you begin to fall short of established benchmarks and timeframes. Applicants should also use the Logic Model provided in the General Section of this SuperNOFA for reporting on how they will conduct performance measurement. You will be evaluated based on how comprehensively you propose to measure your program's outcomes.

VII. Program Requirements, Certifications, and Procedures for ROSS Applicants

The requirements of this section are applicable to all applicants, and grantees under this announcement of funding availability.

(A) Compliance with Fair Housing and Civil Rights Laws. Your application must meet all the applicable threshold requirements found in Section V (B)(2) of the General Section of the SuperNOFA, as well as the following requirements.

(B) Affirmatively Furthering Fair Housing. You must adhere to the requirements as provided in Section V (D) of the General Section of the SuperNOFA.

(C) Conducting Business In Accordance With Core Values and Ethical Standards. All applicants shall develop and maintain a written code of conduct that reflects Core Values. See Section V(B)(3) of the General Section of the SuperNOFA for requirements.

(D) Ensuring the Participation of Small Businesses, Small Disadvantaged Businesses, and Women-Owned Businesses. The Department of Housing and Urban Development (HUD) is committed to ensuring that small businesses, small disadvantaged businesses and women-owned businesses participate fully in HUD's direct contracting and in contracting opportunities generated by HUD grant funds. See Section V (F) of the General Section of the SuperNOFA for requirements.

(E) Economic Opportunities for Low and Very Low Income Persons (Section 3). You must adhere to the requirements as provided in Section V (E) of the General Section of the SuperNOFA.

(F) Certifications and Assurances. Section V(H) of the General Section of the SuperNOFA lists requirements, certifications and procedures that apply to all programs, including ROSS. Applicants must comply with these in order to be eligible for the ROSS program.

(G) Applicant Internet Access. Prior to the initial draw down, all grantees must have secured online access to the Internet as a means to communicate with HUD on grant matters. Tribes and TDHEs awardees may submit a waiver request to the Office of Native American Programs for this requirement if Internet access cannot be obtained. If tribes/TDHEs do not have Internet access, they must send hard copies of their grant documents to their Area ONAP.

(H) ROSS Evaluation and Assessment. All applicants selected for award must be willing to participate in the evaluation and assessment that HUD intends to conduct for the ROSS Program. At grant award HUD will provide additional information on the evaluation and assessment for applicants who receive awards.

(H) ROSS Performance Measures. All applicants selected for award should use ROSS Performance Measures in grant reporting for all awards. At grant award HUD will provide additional information on reporting the Performance Measures and the Logic Model for applicants who receive awards.

(I) Format for submitting applications. All documents must be attached or located according to the instructions below. Applicants should ensure to submit forms appropriate to the program for which they are applying. Applicants who fail to follow these instructions, may lose points if their documentation is not found according to the following instructions (grant reviewers will not be instructed to search through the entire application package for missing documents):

(1) RSDM-Family

Tab 1: Required Forms from the General Section of the SuperNOFA and other ROSS forms:

• Applicant Checklist (HUD-52759);

• Fact Sheet (HUD-52751);

• Application for Federal Assistance (HUD-424);

• Budget Summary for Competitive Grant Programs (HUD-424C);

• Applicant Assurances and Certifications (HUD-424B);

• Grant Application Detailed Budget (HUD-424-CB);

• Grant Application Detailed Budget Worksheet (HUD-424-CBW);

• Applicant/Recipient Disclosure/Update Report (HUD-2880);

• Certification of Consistency with RC/EZ/EC Strategic Plan (HUD-2990) if applicable;

• Certification of Consistency with the Consolidated Plan (HUD-2991) if applicable;

• Certification of Consistency with the Indian Housing Plan if applicable (HUD-52752);

• Certification of Resident Council Board of Election/Signed Letter from Small Housing Authorities without Resident Councils attesting to the fact that the Board contains one or more residents who were appointed by the Housing Authority or elected by fellow tenants (not applicable to tribes/TDHEs (HUD-52753);

• Disclosure of Lobbying Activities (HUD-SF-LLL)—if applicable (applicants requiring additional space may find the Disclosure of Lobbying Activities Continuation Sheet (HUD-SF-LLL-A) through HUD's web site, http://www.hud.gov);

• Acknowledgment of Application Receipt (HUD-2993); and,

• Client Comments and Suggestions (HUD-2994). (Optional)

• Survey on Ensuring Equal Opportunity Applicants (HUD-23004)

TAB 2: Threshold Requirements:

• Letters from Partners attesting to match;

• Letter from Applicant's organization attesting to match;

• Letters from Resident Associations/Resident Organizations indicating support of nonprofit applicants;

• Chart of Resident Associations Participating (required for nonprofit applicants) (HUD-52754);

• Contract Administrator Partnership Agreement (for all applicants except non-troubled PHAs, and tribes/TDHES) (HUD-52755); and

• Past Performance evaluation (from HUD field office).

TAB 3: Narrative for Rating Factor 1 and Non-Standard ROSS Program Forms:

• Narrative;

• Chart A: Program Staffing (HUD-52756);

• Chart B: Applicant/Administrator Track Record (HUD-52757);

• Resumes/Position Descriptions.

TAB 4: Narrative for Rating Factor 2

TAB 5: Rating Factor 3:

• Narrative;

• Work plan (see sample) (HUD-52763).

TAB 6: Narrative for Rating Factor 4

TAB 7: Narrative for Rating Factor 5 and Non-Standard ROSS Program Forms:

• Narrative;

• Logic Model (HUD-96010).

(2) RSDM-Elderly and Persons with Disabilities

TAB 1: Required Forms from the General Section of the SuperNOFA and other ROSS forms:

• Applicant Checklist (HUD-52760);

• Fact Sheet (HUD-52751);

• Application for Federal Assistance (HUD-424);

• Budget Summary for Competitive Grant Programs (HUD-424C);

• Applicant Assurances and Certifications (HUD-424B);

• Grant Application Detailed Budget (HUD-424-CB);

• Grant Application Detailed Budget Worksheet (HUD-424-CBW);

• Applicant/Recipient Disclosure/Update Report (HUD-2880);

• Certification of Consistency with the Consolidated Plan (HUD-2991) if applicable;

• Certification of Consistency with the Indian Housing Plan if applicable (HUD-52752);

• Certification of Resident Council Board of Election/Signed Letter from Small Housing Authorities without Resident Councils attesting to the fact that the Board contains one or more residents who were appointed by the Housing Authority or elected by fellow tenants (not applicable to tribes/TDHEs (HUD-52753);

• Disclosure of Lobbying Activities (HUD-SF-LLL)—if applicable (applicants requiring additional space may find the Disclosure of Lobbying Activities Continuation Sheet (HUD-SF-LLL-A) through HUD's web site, http://www.hud.gov);

• Acknowledgment of Application Receipt (HUD-2993); and,

• Client Comments and Suggestions (HUD-2994). (Optional)

• Survey on Ensuring Equal Opportunity Applicants (HUD-23004)

TAB 2: Threshold Requirements:

• Letters from Partners attesting to match;

• Letter from Applicant's organization attesting to match;

• Letters from Resident Associations/Resident Organizations indicating support of nonprofit applicants;

• Chart of Resident Associations Participating (required for nonprofit applicants) (HUD-52754);

• Contract Administrator Partnership Agreement (for all applicants except non-troubled PHAs, and tribes/TDHES) (HUD-52755); and

• Past Performance evaluation (from HUD field office).

TAB 3: Narrative for Rating Factor 1 and Non-Standard ROSS Program Forms:

• Narrative;

• Chart A: Program Staffing (HUD-52756);

• Chart B: Applicant/Administrator Track Record (HUD-52757);

• Resumes/Position Descriptions.

TAB 4: Narrative for Rating Factor 2

TAB 5: Rating Factor 3:

• Narrative;

• Work plan (see sample) (HUD-52764).

TAB 6: Narrative for Rating Factor 4

TAB 7: Narrative for Rating Factor 5 and Non-Standard ROSS Program Forms:

• Narrative;

• Performance measures Logic Model (HUD-96010).

(3) Homeownership Supportive Services

TAB 1: Required Forms from the General Section of the SuperNOFA and other ROSS forms:

• Applicant Checklist (HUD-52761);

• Fact Sheet (HUD-52751);

• Application for federal Assistance (HUD-424);

• Budget Summary for Competitive Grant Programs (HUD-424C);

• Applicant Assurances and Certifications (HUD-424B);

• Grant Application Detailed Budget (HUD-424-CB);

• Grant Application Detailed Budget Worksheet (HUD-424-CBW);

• Applicant/Recipient Disclosure/Update Report (HUD-2880);

• Certification of Consistency with RC/EZ/EC Strategic Plan (HUD-2990) if applicable;

• Certification of Consistency with the Consolidated Plan (HUD-2991) if applicable;

• Certification of Consistency with the Indian Housing Plan if applicable (HUD-52752);

• Certification of Resident Council Board of Election/Signed Letter from Small Housing Authorities without Resident Councils attesting to the fact that the Board contains one or more residents who were appointed by the Housing Authority or elected by fellow tenants (not applicable to tribes/TDHEs) (HUD-52753);

• Disclosure of Lobbying Activities (HUD-SF-LLL)—if applicable (applicants requiring additional space may find the Disclosure of Lobbying Activities Continuation Sheet (HUD-SF-LLL-A) through HUD's web site, http://www.hud.gov);

• Acknowledgment of Application Receipt (HUD-2993); and,

• Client Comments and Suggestions (HUD-2994). (Optional)

• Survey on Ensuring Equal Opportunity Applicants (HUD-23004)

TAB 2: Threshold Requirements:

• Letters from Partners attesting to match;

• Letter from Applicant attesting to match;

• Letters from Resident Associations/Resident Organizations indicating support of nonprofit applicants;

• Chart of Resident Associations Participating (required of nonprofit applicants) (HUD-52754);

• Contract Administrator Partnership Agreement (for all applicants except non-troubled PHAs and tribes/TDHEs) (HUD-52755); and

• Past Performance evaluation (from HUD field office).

TAB 3: Narrative for Rating Factor 1 and Non-Standard ROSS Program Forms:

• Narrative;

• Chart A: Program Staffing (HUD-52756);

• Chart B: Applicant/Administrator Track Record (HUD-52757);

• Resumes/Position Descriptions.

TAB 4: Narrative for Rating Factor 2

TAB 5: Rating Factor 3:

• Narrative;

• Work plan (see sample) (HUD-52765).

TAB 6: Narrative for Rating Factor 4

TAB 7: Narrative for Rating Factor 5 and Non-Standard ROSS Program Forms:

• Narrative;

• Logic Model (HUD-96010).

(4) Neighborhood Networks

TAB 1: Required Forms from the General Section of the SuperNOFA and other ROSS forms:

• Applicant Checklist (HUD-52762);

• Fact Sheet (HUD-52751);

• Application for federal Assistance (HUD-424);

• Budget Summary for Competitive Grant Programs (HUD-424C);

• Applicant Assurances and Certifications (HUD-424B);

• Grant Application Detailed Budget (HUD-424-CB);

• Grant Application Detailed Budget Worksheet (HUD-424-CBW);

• Applicant/Recipient Disclosure/Update Report (HUD-2880);

• Certification of Consistency with RC/EZ/EC Strategic Plan (HUD-2990) if applicable;

• Certification of Consistency with the Consolidated Plan (HUD-2991) if applicable;

• Certification of Resident Council Board of Election/Signed Letter from Small Housing Authorities without Resident Councils attesting to the fact that the Board contains one or more residents who were appointed by the Housing Authority or elected by fellow tenants (HUD-52753);

• Disclosure of Lobbying Activities (HUD-SF-LLL)—if applicable (applicants requiring additional space may find the Disclosure of Lobbying Activities Continuation Sheet (HUD-SF-LLL-A) through HUD's web site, http://www.hud.gov);

• Acknowledgment of Application Receipt (HUD-2993); and,

• Client Comments and Suggestions (HUD-2994) (Optional);

• Survey on Ensuring Equal Opportunity Applicants (HUD-23004)

TAB 2: Threshold Requirements:

• Letters from Partners attesting to match;

• Letter from Applicant attesting to match;

• Letters from Resident Associations/Resident Organizations indicating support of nonprofit applicants;

• Chart of Resident Associations Participating (required for nonprofit applicants) (HUD-52754);

• Contract Administrator Partnership Agreement (required for all applicants except non-troubled PHAs) (HUD-52755); and

• Past Performance evaluation (from HUD field office).

TAB 3: Narrative for Rating Factor 1 and Non-Standard ROSS Program Forms:

• Narrative;

• Chart A: Program Staffing (HUD-52756);

• Chart B: Applicant/Administrator Track Record (HUD-52757);

• Resumes/Position Descriptions.

TAB 4: Narrative for Rating Factor 2

TAB 5: Rating Factor 3:

• Narrative;

• Business Plan (see sample) (HUD-52766).

TAB 6: Narrative for Rating Factor 4

TAB 7: Narrative for Rating Factor 5 and Non-Standard ROSS Program Forms:

• Narrative;

• Logic Model (HUD-96010).

VIII. Corrections to Deficient Applications

After the application due date, HUD may not, consistent with its regulations at 24 CFR part 4, subpart B, consider any unsolicited information, you the applicant, may want to provide. HUD may contact you to clarify an item in your application or to correct technical deficiencies. HUD may not seek clarification of items or responses that improve the substantive quality of your response to the rating factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing of a technical deficiency. HUD will notify applicants by facsimile or by USPS, return receipt requested. Clarifications or corrections of technical deficiencies in accordance with the information requested by HUD must be submitted within 14 calendar days of the date you receive HUD notification. (If the due date falls on a Saturday, Sunday, or federal holiday, your correction must be received by HUD on the next day that is not a Saturday, Sunday, or federal holiday.) The determination of when you received the deficiency letter will be based on the confirmation of the facsimile transmission, return receipt or postal tracking information, as appropriate. If the deficiency is not corrected within this time period, HUD will reject the application as incomplete and it will not be considered for funding.

Unacceptable Applications. After the 14-day technical deficiency correction period, the Grants Management Center (GMC), or the DPONAP for tribal and TDHE applicants, will disapprove all applications that the GMC, or DPONAP determines are not acceptable for processing. The GMC's notification of rejection must state the basis for the decision. The applicant may request a debriefing. Applicants requesting to be debriefed must send a written request to Michael Diggs, Director, Grants Management Center, Department of Housing and Urban Development, 501 School Street, SW., Suite 800, Washington, DC 20024. For tribal and TDHE applicants, contact Deborah Lalancette, Director, Grants Management, DPONAP, 1999 Broadway, Suite 3390, Denver, CO 80202.

HUD Reform Act of 1989. The provisions of the HUD Reform Act of 1989 that apply to this NOFA are explained in the General Section of the SuperNOFA in Section XI.

IX. Environmental Requirements

It is anticipated that most activities under this ROSS funding will be categorically excluded under 24 CFR 58.34(a)(3) or (a)(9), 58.35(b)(2) or (b) (4), 50.19(b)(3), (b)(9), (b)(12), or (b)(14). An applicant proposing any long-term leasing, or physical development activities is prohibited from rehabilitating, converting, leasing, repairing or constructing property, or committing or expending HUD or non-HUD funds for these types of program activities, until one of the following has occurred:

(1) If the grantee is not a PHA or tribe/TDHE, HUD has completed an environmental review to the extent required by 24 CFR part 50, prior to grant award.

(2) If the grantee is a PHA or tribe/TDHE, HUD has approved the grantee's Request for Release of Funds (HUD Form 7015.15) following a Responsible Entity's completion of an environmental review under 24 CFR part 58, where required, or if HUD has determined in accordance with § 58.11 to perform the environmental review itself under part 50, HUD has completed the environmental review.

XI. Authority

Section 34 of the U.S. Housing Act of 1937 and 24 CFR 964.

Appendix A—ROSS Forms

The non-standard forms, which follow, are required for the ROSS application. The forms marked “Sample”, are intended to assist applicants provide information HUD is requesting in an easy-to-use format. Applicants do not have to adhere to the precise format, but should make sure to include the same information in their submission.

BILLING CODE 4210-32-P

Funding Availability for Continuum of Care Homeless Assistance Programs—Supportive Housing Program (SHP), Shelter Plus Care (S+C), Section 8 Moderate Rehabilitation Single Room Occupancy Program for Homeless Individuals (SRO)

Program Overview

Purpose of the Programs. The purpose of the Continuum of Care Homeless Assistance Programs is to fund projects that will fill gaps in locally developed Continuum of Care systems to assist homeless persons to move to self-sufficiency and permanent housing. An important element of meeting this objective is to fund projects that will meet the Department's goal of ending chronic homelessness.

Available Funds. Approximately $ 1.060 billion.

Eligible Applicants. The chart in Appendix A to this program section of this SuperNOFA identifies the eligible applicants for each of the three programs under the Continuum of Care.

Application Deadline. July 15, 2003.

Match. Yes.

Additional Information

If you are interested in applying for funding under any of the Continuum of Care Homeless Assistance programs, please review carefully the General Section of the SuperNOFA and the following Additional Information. Failure to comply with the procedures specified may disqualify your application.

I. Application Due Date, Application Kits, Further Information, and Technical Assistance

Application Due Date. Your completed applications (an original containing the signed documentation and two copies) are due on or before July 15, 2003 to the addresses shown below.

Security Procedures. HUD security procedures apply to application submission. Please read the following instructions carefully and completely. HUD will not accept hand delivered applications at any office. Applications to HUD Headquarters must be either mailed using the United States Postal Service (USPS) or may be shipped via the following delivery services: United Parcel Service (UPS), FedEX, DHL, or Falcon Carrier. Express delivery service is highly recommended. No other delivery services are permitted into HUD Headquarters without escort. You must, therefore, use one of the four carriers listed above. HUD strongly suggests application copies submitted to HUD Field Offices be sent via the United States Postal Service, as access by other delivery services is not guaranteed.

Please remember that mail to Federal facilities is screened prior to delivery, so please allow time for your package to be delivered, and that it is addressed to the proper location and office.

Timeliness. Your application will be considered timely filed if your application is either

(1) Postmarked on or before 12:00 midnight on the application due date; or

(2) Was placed in transit with an approved overnight delivery/express mail service on or before 12:00 midnight on the application due date; and was received by HUD Headquarters with in fifteen (15) days of the application due date. All applicants must obtain and save a Certificate of Mailing (USPS Form 3817) showing the date when you submitted your application to the United States Postal Service (USPS) or documentary evidence showing the date that the application was placed in transit with an approved overnight delivery/express mail service. These will be your evidence that your application was timely filed.

Approved Overnight Delivery/Express Mail Services. Due to new security measures, you must use one of the four carrier services that do business with HUD Headquarters regularly. These services are UPS, DHL, FedEx, and Falcon Carrier. Delivery by these services must be made during HUD's Headquarters business hours, between 8:30 AM and 5:30 PM Eastern time, Monday to Friday. If these companies do not service your area, you should submit your application via the United States Postal Service.

Addresses for Submitting Applications. To HUD Headquarters. Submit your original completed application (the application with the original signed documentation) to: Room 7270, Office of Community Planning and Development, Department of Housing and Urban Development, 451 Seventh Street, SW, Washington, DC 20410, Attention: Continuum of Care Programs.

To the Appropriate CPD Field Office. Also submit two copies of your completed application to the Community Planning and Development Division of the appropriate HUD Field Office for your jurisdiction. The field office copies also must be postmarked or placed in transit with an approved delivery/express mail service on or before 12:00 midnight on the application due date and received by the field office with in fifteen (15) days. You must obtain and save a Certificate of Mailing (USPS Form 3817) showing the date when you submitted the field office's copies of your application to the United States Postal Service (USPS). The determination, however, that your application was received on time will be made solely on receipt of the application at HUD Headquarters in Washington. Reviews will be based upon the contents of the application submitted to HUD Headquarters. However, in the event that the application received in Headquarters is missing pages or exhibits that result in your application not being selected for an award, HUD may request proof that your field office copies were submitted and received on time and may insert pages from the field office copies into the Headquarters copy for review.

For Application Kits. This year, the application kit will be attached to this program section of the SuperNOFA as Appendix B. An applicant may also obtain a copy of the application kit by calling the SuperNOFA Information Center at 1-800-HUD-8929 (voice) (this is a toll-free number) or you may download an application by Internet at http://www.hud.gov.

For Further Information. You may contact the HUD Field Office serving your area, at the telephone number shown in Appendix A to the General Section of the SuperNOFA, or you may contact the Community Connections Information Center at 1-800-998-9999 (voice) or by Internet at: http://www.hud.gov. Individuals who are hearing-or speech-impaired should use the Information Relay Service at 1-800-877-8339 (these are toll-free numbers).

For Technical Assistance. Before the application deadline, HUD staff will be available to provide you with general guidance. HUD staff, however, cannot provide you with guidance in actually preparing your application. HUD Field Office staff also will be available to help you identify organizations in your community that are involved in developing the Continuum of Care (CoC) system. Following conditional selection of applications, HUD staff will be available to assist selected applicants in clarifying or confirming information that is a prerequisite to the offer of a grant agreement or Annual Contributions Contract by HUD. However, between the application deadline and the announcement of conditional selections, HUD will accept no information that would improve the substantive quality of your application pertinent to HUD's funding decision.

Satellite Broadcast. HUD will hold an information broadcast via satellite for potential applicants to learn more about the program and preparation of the application. For more information about the date and time of the broadcast, you should consult the HUD Web site at http://www.hud.gov.

II. Amount Allocated

Approximately $1.060 billion is available for this Continuum of Care (CoC) competition in FY 2003. Any unobligated funds from previous CoC competitions or additional funds that may become available as a result of deobligations or recaptures from previous awards or budget transfers may be used in addition to 2003 appropriations to fund applications submitted in response to this program section of this SuperNOFA. The FY 2003 HUD Appropriation Act requires HUD to obligate all Continuum of Care homeless assistance funds by September 30, 2005. These funds will remain available for expenditure for five years following that date. The funds available for the CoC program can be used under any of three programs that can assist in creating community systems for combating homelessness. The three programs are:

(1) Supportive Housing (SHP);

(2) Shelter Plus Care (S+C); and

(3) Section 8 Moderate Rehabilitation Single Room Occupancy for Homeless Individuals (SRO).

The chart in Appendix A to this program section of this SuperNOFA summarizes key aspects of the programs, and also provides the citations for the statutes and regulations that authorize these programs. The regulations listed in the chart provide more detailed descriptions of each of the programs.

As noted in Appendix A, for FY 2003, the minimum term of assistance for all new SHP projects is two (2) years. The minimum term for new HMIS is one (1) year. Any requests for one-(1) year terms for new SHP projects will be automatically changed to a two-year term if funded. In this case, the one-year budget will be doubled and the applicant will provide the difference between the awarded SHP amount and the two-year total budget. If the applicant does not agree to these conditions, the award will be deselected. The renewal term of expiring SHP projects will remain at the applicant's choice of one-, two- or three-year term.

As in previous funding availability announcements for the CoC Homeless Assistance Programs, HUD will not specify amounts for each of the three programs this year. Instead, the distribution of funds among the three programs will depend largely on locally determined priorities and overall demand. Local priorities notwithstanding, the FY 2003 HUD Appropriations Act requires that not less than 30 percent of this year's Homeless Assistance Grants appropriation, excluding amounts provided for one-year renewals under the Shelter Plus Care Program, must be used for permanent housing projects. (See Sections V(A)(5)(b) and V(A)(8) of this program section of the SuperNOFA for additional information.) Since this permanent housing set-aside requirement is expected to continue to be part of future competitions and may affect project funding selections as described below, you are strongly encouraged to begin planning as soon as possible for new permanent housing projects to be included as part of your submission in this and future competitions.

Secretary Martinez has established as a HUD priority the elimination of chronic homelessness in ten years. Continuums, therefore, are strongly encouraged within the rating and ranking process to use the funds available in this NOFA to target the chronic homeless in their communities. Such projects awarded through any of the three programs will contribute to the Department's priority of ending chronic homelessness.

Under the FY 2003 HUD Appropriations Act, eligible Shelter Plus Care Program grants whose terms are expiring in FY 2004, and Shelter Plus Care Program grants that have been extended beyond their original five-year terms but which are projected to run out of funds in FY 2004, will be renewed for one year provided that they are determined to be needed by the CoC as evidenced by their inclusion on the priority chart. These projects must also meet the applicant and sponsor eligibility and capacity requirements described in Section V(A)(1) of this NOFA. However, these S+C renewal projects will not count against a continuum's pro rata need amount. On the other hand, no S+C renewal adjustment will be made to a CoC's pro rata need amount since these projects are being funded outside of the competition. Please be advised that S+C renewal applications that are not submitted as part of either a “consolidated” or “associated” CoC application will not be considered as eligible for funding. (See Section VI for a description of the three options for submitting applications.) Non-competitive S+C renewals should be submitted by the application deadline.

III. Program Description; Eligible Applicants; Eligible Activities

(A) Program Description

(1) Developing Continuum of Care Systems. The purpose of the Continuum of Care Homeless Assistance Programs is to fund projects that will fill gaps in locally developed CoC systems to assist homeless persons, especially the chronically homeless, to move to self-sufficiency and permanent housing. The process of developing a CoC system to assist homeless persons is part of the community's larger effort of developing a Consolidated Plan. For a community to successfully address its often complex and interrelated problems, including homelessness, the community must marshal its varied resources—community and economic development resources, social service resources, housing and homeless assistance resources—and use them in a coordinated and effective manner. The Consolidated Plan serves as the vehicle for a community to comprehensively identify each of its needs and to coordinate a plan of action for addressing them.

In addition to prevention, a CoC system consists of four basic components:

(a) A system of outreach and assessment for determining the needs and conditions of an individual or family who is homeless;

(b) Emergency shelters with appropriate supportive services to help ensure that homeless individuals and families receive adequate emergency shelter and referral to necessary service providers or housing finders;

(c) Transitional housing with appropriate supportive services to help those homeless individuals and families who are not prepared to make the transition to permanent housing and independent living; and

(d) Permanent housing, or permanent supportive housing, to help meet the long-term needs of homeless individuals and families.

A CoC system is developed through a community-wide or region-wide process involving nonprofit organizations (including those representing persons with disabilities), government agencies, public housing authorities, faith-based and other community-based organizations and other homeless providers, housing developers and service providers, private businesses and business associations, law enforcement agencies, funding providers, and homeless or formerly homeless persons. To ensure that the CoC system addresses the needs of homeless veterans, it is particularly important that you involve veteran service organizations with specific experience in serving homeless veterans. A CoC system should address the specific needs of each homeless subpopulation: those experiencing chronic homelessness, veterans, persons with serious mental illnesses, persons with substance abuse issues, persons with HIV/AIDS, persons with co-occurring diagnoses, victims of domestic violence, youth, and any others. The term “co-occurring diagnoses” may include diagnoses of multiple physical disabilities or multiple mental disabilities or a combination of these two types.

Your application is more likely to be given a high score under the CoC scoring factors if the application demonstrates the achievement of three basic goals:

• That you have provided maximum participation by nonprofit organizations (including those representing persons with disabilities), government agencies, public housing authorities, faith-based and other community-based organizations and other homeless providers, housing developers and service providers, private businesses and business associations, law enforcement agencies, funding providers, and homeless or formerly homeless persons.

• That you have created, maintained and built upon a community-wide inventory of housing and services for homeless families and individuals; identified the full spectrum of needs of homeless families and individuals; and coordinated efforts to fill gaps between the current inventory and existing needs. This coordinated effort must appropriately address all aspects of the continuum, especially permanent housing.

• That you have instituted a CoC-wide strategy to coordinate homeless assistance with mainstream health, social services and employment programs for which homeless individuals and families may be eligible. These programs include Medicaid, Children's Health Insurance Program, Temporary Assistance for Needy Families, Food Stamps, and services funded through the Mental Health Block Grant and Substance Abuse Block Grant, Workforce Investment Act, Welfare-to-Work grant program, and Veterans Health Care.

Should HUD determine, in its sole discretion, that sufficient evidence exists to confirm that the entity responsible for convening and managing the CoC process in a community has failed to follow locally established or accepted procedures governing the conduct of that process or has failed to provide for a fair process, including a project priority selection process that gives equal consideration to projects proposed by nonprofit organizations, HUD reserves the authority to impose sanctions up to and including a prohibition on that entity and the individuals comprising that entity from participating in that capacity in the future. In making this determination, HUD will consider as evidence court proceedings and decisions, or the determinations of other independent and impartial review bodies. This authority cannot be exercised until after a description of procedural safeguards, including an opportunity for comment and appeal, and the specific process and procedures for imposing a prohibition or debarment, have been published in the Federal Register.

In deciding what geographic area you will cover in your CoC strategy, you should be aware that the single most important factor in being awarded funding under this competition will be the strength of your CoC strategy when measured against the CoC rating factors described in this program section of the SuperNOFA. When you determine what jurisdictions to include in your CoC strategy area, include only those jurisdictions that are involved in the development and implementation of the CoC strategy.

The more jurisdictions you include in the CoC strategy area, the larger the pro rata need share that will be allocated to the strategy area (as described in Section V(A)(5) of this program section of the SuperNOFA). However, it would be a mistake to include jurisdictions that are not fully involved in the development and implementation of the CoC strategy since this would adversely affect the CoC score. If you are a rural county, you may wish to consider working with larger groups of contiguous counties to develop a region-wide or multi-county CoC strategy covering the combined service areas of these counties.

Since the basic concept of a CoC strategy is to create a single, coordinated, inclusive homeless assistance system for an area, the areas covered by CoC strategies should not overlap. If the geography included in your CoC strategy geographically overlaps to the extent that it competes with another application, projects within the CoC application that receive the highest CoC score will be eligible for up to 40 Need points. Projects in the competing CoC application with the lower CoC score will be eligible for only 10 Need points. In no case will the same geographical area be used more than one time in assigning Need points. The local HUD Field Office can help you determine if any of the areas proposed for inclusion by your CoC system is also likely to be claimed under another CoC system in this competition.

(2) Prioritizing. In HUD's view, project priority decisions are best made through a local process, which includes nonprofit organizations. Again this year, you must list all projects proposed for funding in priority order from the highest priority to the lowest, and indicate the applicant, project sponsor, and term for each project. Generally, this priority order will mean, for example, that if HUD has funds available only to award 8 of 10 proposed projects, then it will award funding to the first eight eligible projects listed, except as may be necessary to achieve the 30 percent overall permanent housing requirement—in which case higher priority non-permanent housing projects may be de-selected to fund lower priority permanent housing projects. Since you are now able to closely calculate your Continuum of Care's total pro rata need amount using information provided to you from HUD, and now that you no longer need to carry the large cost burden imposed by Shelter Plus Care five-year renewals, the tiering of projects (splitting into two or more projects by year or by units) on your priority list is not permitted.

To promote permanent housing, a special incentive is being provided to CoC systems that place an eligible, new permanent housing project in the number one priority slot on the priority list. The only eligible activities that will be counted toward the incentive for the number one priority project are housing activities and for SHP, administration. For the SHP program, housing activities include acquisition, new construction, rehabilitation, leasing of housing and operating costs for housing. Because S+C and SRO provide only rental assistance, they are by definition housing activities and are eligible as well. See Section V(A)(5)(b) of this program section of the SuperNOFA for a description of this incentive.

HUD will use this priority list to award up to 40 points per project under the “Need” scoring factors. Higher priority projects will receive more points under Need than lower priority projects. A project priority chart is included in the application kit and you should complete and submit it. If you do not submit clear project priority designations for the continuum, or if HUD, at its sole discretion, cannot determine priority designations, then HUD will give all projects the lowest score for Need.

(3) Project renewals. If your SHP or S+C grant will be expiring in calendar year 2004, or if your S+C Program grant has been extended beyond its original five-year term and is projected to run out of funds in FY 2004, you must apply under this CoC program section of the SuperNOFA to get continued funding.

Your local needs analysis process must consider the need to continue funding for projects expiring in calendar year 2004. HUD will not fund competitive renewals out of order on the priority list except as may be necessary to achieve the 30 percent overall permanent housing requirement. HUD reserves the authority to use FY 2004 funds, if available, to conditionally select for one year of funding lower-rated eligible SHP renewal projects that are assigned 40 need points in either a “consolidated” or “associated” CoC application receiving at least 20 points under the CoC scoring factor that would not otherwise receive funding for these projects.

It is important that SHP renewals and S+C non-competitive renewals meet minimum project eligibility and capacity standards identified in this program section of the SuperNOFA or they will be rejected from consideration for either competitive or non-competitive funding.

For the renewal of an SHP project, you may request funding for one (1), two (2) or three (3) years. The total amount of the request cannot exceed the average yearly amount received in total for leasing, supportive services, and/or operations for the grant being renewed, plus up to five percent for administration.

For the renewal of an S+C project, including S+C SROs, the grant term will be one (1) year, as specified by Congress. For the renewal of S+C rental assistance that is Tenant-based (TRA), Sponsor-based (SRA) or Project-based (PRA), you may request up to the amount determined by multiplying the number of units under lease at the time of your application for renewal funding by the applicable current Fair Market Rent(s) by 12 months, except that for S+C grants having been awarded one year of renewal funding in 2002, the number of units requested for renewal this year may not exceed the number of units funded in 2002. While full funding of existing grants may be requested, there is no guarantee that the entire amount will be awarded. As is the case with SHP, HUD will recapture S+C grant funds remaining unspent at the end of the previous grant period when it renews a grant. The one-year term of non-competitively awarded S+C renewal projects may not be extended.

The renewal of S+C SROs will also be non-competitively awarded in this application process. The process for determining renewal funding amounts for S+C SROs, however, is substantially similar to the Section 8 Mod Rehab SRO program and is described in the application kit.

This program section of the SuperNOFA is not applicable to the renewal of funding under the Section 8 Mod Rehab SRO program. The renewal of expiring SRO projects is not part of the competitive SuperNOFA process. Rather, expiring SROs will be identified at the beginning of the applicable year by the public housing authority and HUD field office. One-year renewal funds will be provided by HUD under a separate, non-competitive process. For further guidance on Section 8 Mod Rehab SRO renewals, please contact your local HUD Field Office.

As a project applicant, you are eligible to apply for renewal of a grant only if you have executed a grant agreement for the project directly with HUD. If you are a project sponsor or subrecipient who has not signed such an agreement, you are not eligible to apply for renewal of these projects. HUD will reject applications for renewal submitted by ineligible applicants. If you have questions about your eligibility to apply for project renewal, contact the local HUD field office. To be considered an applicant when applying as part of a “consolidated” application, you must be an eligible applicant for the program for which you are applying, and you must submit an original, signed Form HUD-424 and the necessary certifications and assurances. (See Section VI for a description of the three options for submitting an application.) Only public housing authorities and private nonprofits are eligible applicants for the Section 8 Mod Rehab Single Room Occupancy SRO program. If you are a unit of general local government acting as an applicant for a consolidated application and plan to include a request for Section 8 SRO funds, you must have a public housing authority or nonprofit listed as the Section 8 SRO applicant and they must submit a signed Form HUD-424, along with all necessary certifications and assurances applicable to the Section 8 SRO project.

(B) Eligible Applicants. See Appendix A.

(C) Eligible Activities. See Appendix A.

IV. Program Requirements

(A) Statutory and Regulatory Requirements. If your project is selected for funding as a result of the competition, you will be required to coordinate and integrate your homeless program with other mainstream health, social services, and employment programs for which homeless populations may be eligible, including Medicaid, Children's Health Insurance Program, Temporary Assistance for Needy Families, Food Stamps, and services funding through the Mental Health Block Grant and Substance Abuse Block Grant, Workforce Investment Act, Welfare-to-Work grant program and Veterans Health Care. In addition, as a condition for award, any governmental entity serving as an applicant must agree to develop and implement, to the maximum extent practicable and where appropriate, policies and protocols for the discharge of persons from publicly funded institutions or systems of care (such as health care facilities, foster care or other youth facilities, or correction programs and institutions) in order to prevent such discharge from immediately resulting in homelessness for such persons. While the state or local governmental entity having jurisdiction in the area of the Continuum's application has the formal responsibility to enact the discharge policy, the Continuum is expected to actively involve itself in the planning and implementation of the discharge policy. Starting in 2003, the effort of a CoC in this area will be rated in Exhibit 1 of the application. This condition for award is intended to emphasize that States and units of general local government are primarily responsible for the care of these individuals, and to forestall attempts to use scarce McKinney-Vento Act funds to assist such persons in lieu of State and local resources.

(B) Program specific requirements follow:

(1) SRO Program. As an applicant, you need to know that the following limitations apply to the Section 8 SRO program:

• Under section 8(e)(2) of the United States Housing Act of 1937, no single project may contain more than 100 assisted units;

• Under 24 CFR 882.802, applicants that are private nonprofit organizations must subcontract with a Public Housing Authority to administer the SRO assistance;

• Under section 8(e)(2) of the United States Housing Act of 1937 and 24 CFR 882.802, rehabilitation must involve a minimum expenditure of $3,000 for a unit, including its prorated share of work to be accomplished on common areas or systems, to upgrade conditions to comply with the Housing Quality Standards.

• Under section 441(e) of the McKinney-Vento Act and 24 CFR 882.805(d)(1), HUD publishes the SRO per unit rehabilitation cost limit each year to take into account changes in construction costs. This cost limitation applies to rehabilitation that is compensated for in a Housing Assistance Payments Contract. For purposes of Fiscal Year 2003 funding, the cost limitation is raised from $18,500 to $19,000 per unit to take into account increases in construction costs during the past 12-month period.

• The SRO Program is subject to the Federal labor standards provisions at 24 CFR part 882, subpart H.

• Individuals assisted through the SRO Program must meet the definition of homeless individual found at section 103 of the McKinney-Vento Act.

(2) Shelter Plus Care/ SRO Component. With regard to the SRO component of the Shelter Plus Care program, if you are a State or a unit of general local government, you must subcontract with a Public Housing Authority to administer the Shelter Plus Care assistance. Also with regard to this component, no single project may contain more than 100 units.

(3) Supportive Housing Program. Please be advised that where an applicant for Supportive Housing Program funding is a State or unit of general local government that utilizes one or more nonprofit organizations to administer the homeless assistance project(s), administrative funds provided as part of the SHP grant must be passed on to the nonprofit organization(s) in proportion to the administrative burden borne by them for the SHP project(s). HUD will consider States or units of general local government that pass on at least 50 percent of the administrative funds made available under the grant as having met this requirement. This requirement does not apply to either the SRO Program, since no administrative funds are provided as part of the grant, or to the S+C Program, since paying the costs associated with the administration of these grants is ineligible by regulation.

(4) HUD will require recordation of a HUD-approved use and repayment covenant (a form may be obtained from your field office) for all grants of funds for acquisition, rehabilitation or new construction. The covenant will enforce the use and repayment requirements found at section 423(b)(1) and (c) of the McKinney Act.

(C) Match. You must match Supportive Housing Program funds provided for acquisition, rehabilitation, and new construction with an equal amount of funds from other sources. For operating costs, since by law SHP can pay no more than 75% of the total operating budget for supportive housing, you must provide at least 25% of the total annual operating costs. In addition, for all SHP funding for supportive services and Homeless Management Information Systems (HMIS) you must provide a 25% cash match. The cash source may be you, the Federal Government, State and local governments, or private resources. You must match rental assistance provided through the Shelter Plus Care Program in the aggregate with supportive services.

(D) Timeliness Standards. As an applicant, you are expected to initiate your approved projects promptly in accordance with Section II of this NOFA. In addition, HUD will take action if you fail to satisfy the following timeliness standards:

(1) Supportive Housing Program

• HUD will deselect your award if you do not demonstrate site control within one (1) year of the date of your grant award letter, as required by the McKinney-Vento Act (see 42 U.S.C. 11386(a)(3)) and implemented in program regulations at 24 CFR 583.320(a).

• HUD may de-obligate SHP funds if the following additional timeliness standards are not met:

—You must begin construction activities within eighteen (18) months of the date of HUD's grant award letter and complete them within thirty-six (36) months after that notification.

—For activities that cannot begin until construction activities are completed, such as supportive service or operating activities that will be conducted within the building being rehabilitated or newly constructed, you must begin these activities within three (3) months after you complete construction.

—You must begin all activities that may proceed independent of construction activities within twelve (12) months of the date of HUD's grant award letter.

(2) Shelter Plus Care Program Components Except SRO Component. HUD may de-obligate S+C funds if you do not meet the following timeliness standards:

• For Tenant-based Rental Assistance, for Sponsor-based Rental Assistance, and for Project-based Rental Assistance without rehabilitation, you must start the rental assistance within twelve (12) months of the date of HUD's grant award letter.

• For Project-based Rental Assistance with rehabilitation, you must complete the rehabilitation within twelve (12) months of the date of HUD's grant award letter.

(3) SRO Program and SRO Component of the Shelter Plus Care Program.

For projects carried out under the SRO program and the SRO component of the S+C program, the rehabilitation work must be completed and the Housing Assistance Payments contract executed within twelve (12) months of execution of the Annual Contributions Contract. HUD may reduce the number of units or the amount of the annual contribution commitment if, in HUD's determination, the Public Housing Authority fails to demonstrate a good faith effort to adhere to this schedule.

V. Application Selection Process

(A) Review, Rating and Conditional Selection. HUD will use the same review, rating, and conditional selection process for all three programs (SHP, S+C and SRO). The standard factors for award identified in the General Section of this SuperNOFA have been modified in this program section as described below. Only the factors described in this program section—Continuum of Care and Need—will be used to assign points. To review and rate applications, HUD may establish panels. In order to obtain certain expertise and outside points of view, including views from other Federal agencies, these panels may include persons not currently employed by HUD. Two types of reviews will be conducted. Paragraphs (1) and (2) below describe threshold reviews and paragraphs (3) and (4) describe factors—Continuum of Care and Need—that will be used to assign points. Up to 100 points will be assigned using these factors.

(1) Applicant and sponsor eligibility and capacity. HUD will review your capacity as the applicant and project sponsor to ensure the eligibility and capacity standards in this section are met. If HUD determines these standards are not met, the project will be rejected from the competition. The eligibility and capacity standards are:

• You must be eligible to apply for the specific program;

• You must demonstrate ability to carry out the project(s). With respect to each proposed project, this means that, in addition to knowledge of and experience with homelessness in general, the organization carrying out the project, its employees, or its partners, must have the necessary experience and knowledge to carry out the specific activities proposed, such as housing development, housing management, and service delivery;

• If you or the project sponsors are current or past recipients of assistance under a HUD McKinney-Vento Act program, there must have been no delay in meeting applicable program timeliness standards unless HUD determines the delay in project implementation is beyond your or the project sponsor's control, no unresolved HUD finding, or no outstanding audit finding of a material nature regarding the administration of the program; and

• You and the project sponsors must be in compliance with applicable civil rights laws and Executive Orders, and must meet the threshold requirements of Section V of the General Section of the SuperNOFA.

(2) Project eligibility. HUD will review projects to determine if they meet the following eligibility standards. If HUD determines the following standards are not met by a specific project or activity, the project or activity will be rejected from the competition.

• The population to be served must meet the eligibility requirements of the specific program as described in the program regulations and you must provide evidence of eligibility specified in the application kit. The application must clearly establish eligibility pertaining to homelessness and disability status.

• Projects that involve rehabilitation or new construction must meet the accessibility requirements of Section 504 of the Rehabilitation Act of 1973, the design and construction requirements of the Fair Housing Act and the accessibility requirements of the Americans with Disabilities Act, as applicable.

The project must be cost-effective in HUD's opinion, including costs associated with construction, operations and supportive services with such costs not deviating substantially from the norm in that locale for the type of structure or kind of activity.

• For the Section 8 SRO program, only individuals meeting HUD's definition of homeless are eligible for assistance. Therefore, any individual occupying a unit at the time of application is not eligible for the SRO program and upon returning after having vacated their unit during the rehabilitation period is not eligible to receive rental assistance under the SRO Program since they do not meet the McKinney-Vento Act definition of homeless individual.

• For those projects proposed under the SHP innovative category: Whether or not a project is a considered innovative will be determined on the basis that the particular approach proposed is new and can be replicated.

• Applicant agrees to participate in a local HMIS system when implemented. Standards for participation in an HMIS will soon be published by HUD.

(3) Project quality. HUD will review projects to determine if they meet the following quality standards. The housing and services proposed must be appropriate to the needs of the persons to be served. HUD may find a project to be inappropriate if:

• The type, scale and general location of the housing or services do not fit the needs of the proposed participants. A S+C or SHP project renewal will be considered as having met this requirement through its previously approved grant application unless information to the contrary is received.

• A specific plan for ensuring that clients will be assisted to obtain the benefits of the mainstream health, social service, and employment programs for which they are eligible is not provided.

• The description of the project does not show how participants will be helped to access permanent housing and achieve self-sufficiency. A S+C project renewal will be considered as having met this requirement through its previously approved grant application.

• Renewal projects do not evidence satisfactory performance for their existing grant in HUD's opinion based upon the substantial achievement of their program goals as reflected in their most recent Annual Progress Report. (New projects funded for one year in 2001 are not subject to this requirement.)

• Renewal projects do not evidence that they have assisted clients to obtain the benefits of the mainstream health, social service, and employment programs for which they were eligible as evidenced in their most recent Annual Progress Report.

• An applicant that proposes a new project does not evidence satisfactory performance for their existing or prior grants based upon the substantial achievement of their program goals as reflected in their most recent Annual Progress Report.

(4) Continuum of Care. HUD will award up to 60 points as follows:

(a) Process and Strategy. HUD will award up to 20 points based on the extent to which your application demonstrates:

• The existence of a coordinated and inclusive community process, including organizational structure(s), for developing and implementing a CoC strategy which includes nonprofit organizations (such as veterans service organizations, organizations representing persons with disabilities, faith-based and other community-based organizations, and other groups serving homeless persons), State and local governmental agencies, public housing authorities, housing developers and service providers, law enforcement, hospital and medical entities, funding providers, local businesses and business associations, and homeless or formerly homeless persons; and

• That a well-defined and comprehensive strategy has been developed which addresses the components of a CoC system (i.e., prevention, outreach, intake, and assessment; emergency shelter; transitional housing; permanent and permanent supportive housing) and that strategy has been designed to serve all homeless subpopulations in the community (e.g., seriously mentally ill, persons with multiple diagnoses, veterans, persons with HIV/AIDS), including those persons living in emergency shelters, supportive housing for homeless persons, or in places not designed for, or ordinarily used as, a regular sleeping accommodation for human beings.

The CoC's statement on process and strategy must also include the following:

A description of how the Continuum will work with the appropriate local government entity to develop and implement a discharge policy for persons leaving publicly funded institutions or systems of care (such as health care facilities, foster care or other youth facilities, or correction programs and institutions) in order to prevent such discharge from immediately resulting in homelessness for such persons; and a description of the CoC's strategy and schedule for implementing an HMIS and its progress to date.

(b) Gaps and Priorities. HUD will award up to 15 points based on the extent to which your application:

(i) Describes the gap analysis performed, uses reliable information and sources that are presented completely and accurately; and

(ii) Proposes projects that are not inconsistent with the gaps analysis described in the CoC strategy, describes a fair project selection process, explains how gaps identified through the analysis are being addressed, and correctly completes the priority chart.

When HUD reviews a community's CoC to determine the points to assign, HUD will consider whether the community took its renewal needs into account in preparing its project priority list. (See discussion on renewals in Section III(A)(3) of this NOFA.)

(c) Supplemental Resources. HUD will award up to 15 points based on the extent to which your application incorporates mainstream resources and demonstrates leveraging of funds requested under this program section of the SuperNOFA with other resources, including private, other public, and mainstream services and housing programs. To achieve the highest rating for this factor, applicants must evidence explicit Continuum-wide strategies to coordinate homeless assistance with mainstream health, social services and employment programs for which homeless populations may be eligible, and to use those benefits as appropriate and practicable to help offset supportive service costs of the programs that would otherwise be paid for with HUD funding. These include Medicaid, Children’s Health Insurance Program, Temporary Assistance for Needy Families, Food Stamps, and services funding through the Mental Health Block Grant and Substance Abuse Block Grant, Workforce Investment Act, the Welfare-to-Work grant program, and Veterans Health Care. To the extent that such mainstream benefits supplement, and ideally reduce, HUD's coverage of supportive service costs, greater resources will be available for housing.

(d) Emphasis on housing. HUD will award up to 10 points based upon the relationship between funds requested for housing activities and funds requested for supportive service activities among projects assigned 40 need points (excluding S+C renewals). Points will be awarded on a sliding scale with the Continuums with the highest percentage of approvable requests for funds for housing activities receiving the highest points. HUD will count as housing activity all approvable funds for rental assistance and approvable funds for acquisition, rehabilitation, construction, leasing and operations when used in connection with housing. HMIS costs will be excluded from this calculation as either a housing or supportive service cost.

(5) Need. HUD will award up to 40 points for need. There is a three-step approach to determining the need scores to be awarded to projects:

(a) Determining relative need: To determine the homeless assistance need of a particular jurisdiction, HUD will use nationally available data, including the following factors as used in the Emergency Shelter Grants program: data on poverty, housing overcrowding, population, age of housing, and growth lag. Applying those factors to a particular jurisdiction provides an estimate of the relative need index for that jurisdiction compared to other jurisdictions applying for assistance under this program section of the SuperNOFA.

(b) Applying relative need: HUD will then apply that relative need index to the total amount of funding estimated to be competitively available under this program section of the SuperNOFA to determine a jurisdiction's pro rata need. However, in order to promote permanent housing for the homeless, if a CoC's number one priority project qualifies as an eligible, new permanent housing project, then the full amount of that project's housing eligible activities, up to the lesser of 100 percent of the CoC's preliminary pro rata need or $750,000, will be added to the final pro rata need amount for the Continuum. For this purpose, HUD will consider the same housing activities identified in Section D above as counting toward the permanent housing bonus. HUD also reserves the right to adjust pro rata need, if necessary, to address SHP project renewals.

(c) Awarding need points to projects: Once the pro rata need is established, it is applied against the priority project list in the application. Starting from the highest priority project, HUD proceeds down the list to award need points to each project. An eligible project will receive the full 40 points for need if at least one half of its requested amount falls within the pro rata need amount for that CoC. Thereafter, HUD proceeds further down the priority project list and awards 15 points for need to each project if at least one half of its requested amount falls within the “second level” of pro rata need amount for that CoC. The “second level” is the amount between the pro rata need and twice the pro rata need for theCoC. Remaining projects each receive 10 points. If projects are not prioritized for the Continuum, then all projects will receive 10 points for Need.

In the case of competing CoC applications from a single jurisdiction or service area, projects in the application that received the highest score out of the possible 60 points for CoC are eligible for up to 40 points under Need. Projects in the competing applications with lower CoC scores are eligible for only 10 points under Need.

(6) Ranking. HUD will add the score for CoC to the Need score to obtain a total score for each project. The projects will then be ranked from highest to lowest according to the total combined score.

(7) Conditional Selection and Adjustments to Funding.

(a) Conditional Selection. Whether a project is conditionally selected, as described in Section V (B) below, will depend on its overall ranking compared to others, except that HUD reserves the right to select lower rated eligible projects in order to meet the 30 percent overall permanent housing requirement. (See Section V (A)(8) for additional selection information.)

When insufficient funds remain to fund all projects in the competition having the same total score, HUD will first fund permanent housing projects if necessary to achieve the 30 percent overall permanent housing requirement. HUD will then break ties among the remaining projects with the same total score by comparing scores received by the projects for each of the following scoring factors, in the order shown: Need, Overall CoC score, CoC Process and Strategy, CoC Gaps and Priorities, and CoC Supplemental Resources. The final tie-breaking factor is the priority number of the competing projects on the applicable CoC priority list(s).

(b) Adjustments to Funding. The Secretary of HUD has determined that geographic diversity is appropriate to carrying out homeless assistance programs in an effective manner. HUD believes that geographic diversity can be achieved best by awarding grants to as many CoCs as possible. To this end, in instances where any of the 50 States, the District of Columbia, the Commonwealth of Puerto Rico, Guam, the Northern Mariana Islands, the Virgin Islands, and American Samoa does not have at least one funded COC, HUD reserves the right to fund eligible project(s) receiving 40 Need points in the CoC with the highest total score in that jurisdiction. To qualify for funding, the total score for these first level projects on the CoC priority list must be at least 65 points. In the case of two or more CoCs with the same total score, HUD will use the tie-breaking rules described above. In addition, if the highest priority project passing threshold requirements within a CoC fails to meet the criteria for receiving 40 Need points, HUD reserves the right to reduce the total requested amount for that project to allow it to qualify for 40 Need points. Finally, if the total amount that would be awarded for first level projects in a CoC exceeds the final pro rata need amount for that COC by more than $200,000, the lowest priority first level project being selected for funding will be reduced to the amount necessary to ensure that the total sum being awarded for such projects does not exceed the final pro rata need amount by more than $200,000. HUD may otherwise adjust funding of applications in accordance with the provisions of Section VI(E) of the General Section of the SuperNOFA. In addition, HUD reserves the right to ensure that a project that is applying for, and eligible for, selection under this competition is not awarded funds that duplicate activities.

(8) Additional Selection Considerations. HUD also will apply the limitations on funding described below in making conditional selections.

In accordance with the appropriation for homeless assistance grants in the Fiscal Year 2003 Appropriation Act for HUD, HUD will use not less than 30 percent of the total FY 2003 Homeless Assistance Grants appropriation, excluding amounts provided for renewals under the Shelter Plus Care Program, to fund projects that meet the definition of permanent housing. Projects meeting the definition of permanent housing for this purpose are: (1) New Shelter Plus Care projects, (2) Section 8 SRO projects, and (3) new and renewal projects under the Supportive Housing Program that are designated as either permanent housing for homeless persons with disabilities or Safe Havens projects having the characteristics of permanent housing for homeless persons with disabilities, including leases with the program participants, that, in addition, have been assigned at least 15 Need points, and which are submitted as part of either a “consolidated” or “associated” Continuum of Care application receiving at least 20 points under the Continuum of Care scoring factor. However, no Continuum of Care application may receive more than 30 percent of its pro rata need, up to $3 million, for “second-level” permanent housing projects assigned 15 Need points that are selected for funding under this procedure. (See Section V(A)(5)(c) for definition of “second-level”.) As stated above, HUD will award no less than 30 percent of the total FY 2003 Homeless Assistance Grants appropriation, excluding amounts for Shelter Plus Care renewals, for permanent housing projects unless an insufficient number of approvable permanent housing projects are submitted. In order to meet this permanent housing funding requirement and stay within the total funding amount available, initially selected Supportive Service Only (SSO) and non-permanent housing projects may need to be de-selected to add an adequate number of permanent housing projects, even if they are lower scoring housing projects. As a result, within a Continuum, higher priority SSO and non-permanent housing projects may need to be de-selected to include lower priority permanent housing projects. This is because HUD will initially select projects (permanent housing, SSO and other non-permanent housing alike) until the 30 percent permanent housing requirement is met. Since this will likely exceed the total funding amount available for award, HUD will, if necessary, first proceed to de-select new SSO projects initially selected, starting with lowest scoring new projects and proceeding if needed to the lowest scoring new non-permanent housing projects initially selected. If the funding line is still exceeded, HUD will proceed to de-select SSO and non-permanent housing renewal projects until all selected projects are within the funding line.

In accordance with section 429 of the McKinney-Vento Act, HUD will award Supportive Housing funds as follows: not less than 25 percent for projects that primarily serve homeless families with children; not less than 25 percent for projects that primarily serve homeless persons with disabilities; and not less than 10 percent for supportive services not provided in conjunction with supportive housing. After projects are rated and ranked, based on the factors described above, HUD will determine if the conditionally selected projects achieve these minimum percentages. If not, HUD will skip higher-ranked projects in order to achieve these minimum percentages.

In accordance with section 463(a) of the McKinney-Vento Act, as amended by the Housing and Community Development Act of 1992, at least 10 percent of Shelter Plus Care funds will be awarded for each of the four components of the program: Tenant-based Rental Assistance; Sponsor-based Rental Assistance; Project-based Rental Assistance; and Section 8 Moderate Rehabilitation of Single Room Occupancy Dwellings for Homeless Individuals (provided there are sufficient numbers of approvable projects to achieve these percentages). After projects are rated and ranked, based on the factors described above, HUD will determine if the conditionally selected projects achieve these minimum percentages. If necessary, HUD will skip higher-ranked projects in order to achieve these minimum percentages.

In accordance with section 455(b) of the McKinney-Vento Act, no more than 10 percent of the assistance made available for Shelter Plus Care in any fiscal year may be used for programs located within any one unit of general local government. In accordance with section 441(c) of the McKinney-Vento Act, no city or urban county may have Section 8 SRO projects receiving a total of more than 10 percent of the assistance made available under this program. HUD is defining the 10 percent availability this fiscal year as $10 million for Shelter Plus Care and $10 million for Section 8 SRO. However, if the amount awarded under either of these two programs exceeds $100 million, then the amount awarded to any one unit of general local government (for purposes of the Shelter Plus Care program) or city or urban county (for the purposes of the SRO program) could be up to 10 percent of the actual total amount awarded for that program.

Lastly, HUD reserves the right to reduce the amount of a grant if necessary to ensure that no more than 10 percent of assistance made available under this program section of the SuperNOFA will be awarded for projects located within any one unit of general local government or within the geographic area covered by any one Continuum of Care. If HUD exercises a right it has reserved under this program section of the SuperNOFA, that right will be exercised uniformly across all applications received in response to this program section of the SuperNOFA.

(B) Action on Conditionally Selected Applications. HUD will notify conditionally selected applicants in writing. As necessary, HUD will subsequently request them to submit additional project information, which may include documentation to show the project is financially feasible; documentation of firm commitments for cash match; documentation showing site control; information necessary for HUD to perform an environmental review, where applicable; and such other documentation as specified by HUD in writing to the applicant, that confirms or clarifies information provided in the application. HUD will notify SHP, SRO, S+C and S+C/SRO applicants of the deadline for submission of such information. If an applicant is unable to meet any conditions for fund award within the specified timeframe, HUD reserves the right not to award funds to the applicant, but instead either to use them to select the next highest ranked application(s) from the original competition for which there are sufficient funds available; or to add them to funds available for the next competition for the applicable program.

(C) Applicant Debriefing. See Section VII(E)(2) of the General Section of the SuperNOFA.

VI. Application Submission Requirements

The application kit provides the application materials, including Form HUD-424 and certifications, that must be used in applying for homeless assistance under this SuperNOFA. These application materials substitute for the forms, certifications, and assurances listed in Section II(H) of the General Section of the SuperNOFA (collectively, the “standard” forms).

In addition to the required narratives, the items that you must submit to HUD as part of the application for homeless assistance funding are the following:

(1) 2003 Application Summary Form

(2) Continuum of Care and Project Exhibits

(3) Gaps Analysis Form

(4) Project Priorities Form

(5) Project Leveraging Form

(6) HUD-424

(7) Applicant Certifications

(8) Consolidated Plan Certification(s)

The standard forms can be found in Appendix B to the General Section of the SuperNOFA. The remaining forms (i.e., excluding such items as narratives), referred to as the non-standard forms, can be found in the Application Kit.

The application requires a description of the Continuum of Care system and the proposed project(s). To ensure that no applicant is afforded an advantage in the rating of the Continuum of Care element (described in Section V(A)(4) above), HUD is establishing a limitation of 25 pages, excluding required multiple page tables or charts but including any attachments, on the length of Exhibit 1 of any application submitted in response to this NOFA. HUD will not consider the contents of any pages exceeding this limit when rating the Continuum of Care element of any application. The application kit also contains certifications that the applicant will comply with fair housing and civil rights requirements, program regulations, and other Federal requirements, and (where applicable) that the proposed activities are consistent with the HUD-approved Consolidated Plan of the applicable State or unit of general local government. Projects funded under this SuperNOFA shall operate in a fashion that does not deprive any individual of any right protected by the Fair Housing Act (42 U.S.C. 3601-19), Section 504 of the Rehabilitation Act of 1973 (29 U.S.C. 794), the Americans with Disabilities Act of 1990 (42 U.S.C. 12101 et seq.), Title VI of the Civil Rights Act of 1964 (42 U.S.C. 2000d) or the Age Discrimination Act of 1975 (42 U.S.C. 6101).

There are three options for submitting an application under this program section of the SuperNOFA.

One: A “Consolidated Application” is submitted when a jurisdiction (or a consortium of jurisdictions) submits a single application encompassing a Continuum of Care strategy and containing all the projects within that strategy for which funding is being requested. Individual projects are contained within the one consolidated application. Grant funding may go to one entity which then administers all funded projects submitted in the application, or under this option, grant funding may go to all or any of the projects individually. Your application will specify the grantee for each project.

Two: “Associated Applications” are submitted when applicants plan and organize a single Continuum of Care strategy that is adopted by project sponsors or operators who choose to submit separate applications for projects while including the identical Continuum of Care strategy. In this case, project funding would go to each successful applicant individually and each would be responsible to HUD for administering its separate grant.

Three: A “Solo Application” is submitted when an applicant applies for a project exclusive of participation in any community-wide or region-wide Continuum of Care development process.

Options one and two are not substantively different and will be considered equally competitive. Applicants are advised that projects that are not a part of a Continuum of Care strategy will receive few, if any, points under the Continuum of Care rating factors.

VII. Corrections to Deficient Applications

The General Section of the SuperNOFA provides the procedures for corrections to deficient applications (See Section V of the General Section).

VIII. Appeals Process

Applicants may appeal the results of HUD's review and selection process if they believe a HUD error has occurred. Appeals must be in writing to the Assistant Secretary for Community Planning and Development and must state what HUD error the applicant believes has occurred.

IX. Environmental, Local Resident Employment, and Relocation Requirements

(A) Environmental Requirements

(1) Finding of No Significant Impact. A Finding of No Significant Impact (FONSI) with respect to the environment was made for this program section of the SuperNOFA, in accordance with HUD regulations at 24 CFR part 50 that implement section 102(2)(C) of the National Environmental Policy Act of 1969 (42 U.S.C. 4223). The FONSI is available for public inspection during regular business hours in the Department's Office of the Rules Docket Clerk, Office of General Counsel, Room 10276, Department of Housing and Urban Development, 451 Seventh Street, SW., Washington, DC 20410-0500.

(2) Environmental Reviews. All Continuum of Care assistance is subject to the National Environmental Policy Act and applicable related Federal environmental authorities. Section 208 of Public Law 106-377 (114 Stat. 1441, approved October 27, 2000) amended section 443 of the Stewart B. McKinney-Vento Homeless Assistance Act to provide that for purposes of environmental review, Continuum of Care projects shall be treated as assistance for special projects that are subject to section 305(c) of the Multifamily Housing Property Disposition Reform Act of 1994, and shall be subject to HUD's regulations implementing that section. The effect of this provision is that environmental reviews for Continuum of Care activities are to be completed by responsible entities (States or units of general local government) in accordance with 24 CFR part 58, whether or not the applicant is itself a State or a unit of general local government. Applicants (such as PHAs or nonprofit organizations) that are not States or units of general local government must request the unit of general local government to perform the environmental review. This statutory provision supersedes those portions of 24 CFR 582.230 and 583.230 that provide for automatic HUD environmental review in the case of applications from such entities. With this exception, conditional selection of projects under the Continuum of Care Program is subject to the environmental review requirements of 24 CFR 582.230, 583.230, and 882.804(c), as applicable. Recipients may not commit or expend any Continuum of Care assistance or nonfederal funds on project activities (other than those listed in 24 CFR 58.22(c), 58.34 or 58.35(b)) until HUD has approved a Request for Release of Funds and environmental certification from the responsible entity. The expenditure or commitment of Continuum of Care assistance or nonfederal funds for such activities prior to this HUD approval may result in the denial of assistance for the project under consideration.

(B) Local Resident Employment

To the extent that any housing assistance (including rental assistance) funded through this program section of the SuperNOFA is used for housing rehabilitation (including reduction and abatement of lead-based paint hazards, but excluding routine maintenance, repair, and replacement) or housing construction, then it is subject to section 3 of the Housing and Urban Rehabilitation Act of 1968, and the implementing regulations at 24 CFR part 135. Section 3, as amended, requires that economic opportunities generated by certain HUD financial assistance for housing and community development programs shall, to the greatest extent feasible, be given to low- and very low-income persons, particularly those who are recipients of government assistance for housing, and to businesses that provide economic opportunities for these persons.

(C) Relocation

The SHP, S+C, and SRO programs are subject to the requirements of the Uniform Relocation Assistance and Real Property Acquisition Policies Act of 1970, as amended (URA). These requirements are explained in HUD Handbook 1378, Tenant Assistance, Relocation and Real Property Acquisition. Any person or family who moves, even temporarily, as a direct result of acquisition, rehabilitation or demolition for a project that is assisted through one of these programs (whether or not HUD funded the acquisition, rehabilitation or demolition) is entitled to relocation assistance. Displacement that results from leasing a unit in a structure may also trigger relocation requirements. Relocation assistance can be expensive. To avoid unnecessary costs, it is important to provide occupants with timely information notices, including a general information notice to be sent at the time the application is submitted to HUD. HUD Handbook 1378 contains guideform information notices. The HUD field office can provide a copy of the handbook and copies of appropriate information booklets to be provided to occupants. Accordingly, if the site is occupied, the applicant should contact the HUD field office in the planning stage to obtain advice, including help in estimating the cost of required relocation assistance.

X. Authority

The Supportive Housing Program is authorized by title IV, subtitle C, of the Stewart B. McKinney-Vento Homeless Assistance Act (McKinney-Vento Act), 42 U.S.C. 11381. Funds made available under this program section of the SuperNOFA for the Supportive Housing Program are subject to the program regulations at 24 CFR part 583.

The Shelter Plus Care program is authorized by title IV, subtitle F, of the McKinney-Vento Act, 42 U.S.C. 11403. Funds made available under this program section of the SuperNOFA for the Shelter Plus Care program are subject to the program regulations at 24 CFR part 582.

The Section 8 Moderate Rehabilitation Program for Single Room Occupancy Dwellings for Homeless Individuals (SRO) is authorized by section 441 of the McKinney-Vento Act, 42 U.S.C. 11401. Funds made available under this NOFA for the SRO program are subject to the program regulations at 24 CFR part 882, subpart H.

Funding Availability for the Housing Opportunities for Persons With AIDS (HOPWA) Program

Program Overview

Purpose of the Program: To provide states and localities with the resources and incentives to devise long-term comprehensive strategies for meeting the housing and related supportive service needs of persons with Human Immunodeficiency Virus/Acquired Immunodeficiency Syndrome (HIV/AIDS) and their families.

Available funds. Approximately $28,811,000 in FY 2003 funds is available. Funds will be made available under this Program Section in the following priority order: (1) Renewal of expiring HOPWA grants providing permanent supportive housing as described in Part B: Renewal Projects; (2) awards for formula grantees to participate in a Special Project of National Significance as described in Part C: Federal Collaboration with the Centers for Disease Control and Prevention (CDC) to Study the Connection of Housing and HIV; and (3) awards to new and continuing projects seeking HOPWA funding, as described under Part D: New and Continuing Projects.

Eligible Applicants. States, units of general local government, and nonprofit organizations may apply for HOPWA competitive funding under this Program Section. Additional eligibility requirements are outlined under each part of this Program Section.

Application Deadline.

Part B: Project Renewals: June 17, 2003

Part C: Federal Collaboration with the CDC to Study the Connection of Housing and HIV: July 9, 2003

Part D: New and Continuing Projects: July 9, 2003

Match. None.

Additional Information

If you are interested in applying for funding under this program, please review carefully the General Section of this SuperNOFA and the following sections of this Program Section. For more information on the program itself including eligible uses of funds, see the HOPWA program regulations at 24 CFR part 574 and the AIDS Housing Opportunity Act (42 U.S.C. 12901), which govern any information contained herein.

Part A: General Program Requirements

The following information provides general guidelines, policies, and requirements for applicants applying for HOPWA competitive funding under this Program Section. Unless otherwise noted, the following provisions apply to applicants of Parts B-D of this Program Section.

I. Available Funding and Additional Resources

(A) HOPWA FY 2003 Competitive Program. Through this Program Section, approximately $28,811,000 in FY 2003 funds is being made available for HOPWA awards. Additional funds may be awarded if funds are recaptured, deobligated, appropriated or otherwise made available during the fiscal year. Priority funding will be given to applicants applying, first, for renewal of expiring permanent supportive housing grants as outlined under Part B of this Program Section. Secondly, if funds remain, HUD will fund applicants for projects working on the collaborative study between HUD and the CDC on the connection of housing and HIV prevention and the progression of HIV Disease as outlined under Part C of this Program Section. Lastly, if funds remain, HUD will award funds for continuing or new projects, as outlined under Part D of this Program Section.

(B) Availability of FY 2003 Formula Allocations. You should consider seeking funds from the formula component of the HOPWA program and from other resources. Ninety (90) percent of the HOPWA program is allocated by formula to recipient states and cities. In FY2003, a total of $259,304,000 was allocated by formula to the qualifying cities for 75 eligible metropolitan statistical areas (EMSAs) and to states for 36 eligible areas outside of EMSAs. All HOPWA formula grants are available as part of the jurisdiction's Consolidated Plan. Information on consolidated planning, including HOPWA formula programs and descriptions of previously awarded competitive grants, is available on the HUD Web site at http://www.hud.gov/grants.

(C) Availability of National HOPWA Technical Assistance. To apply for HOPWA technical assistance funds, submit an application for funds under the Community Development Technical Assistance (CDTA) part of this notice, which is published elsewhere in this SuperNOFA. The CDTA notice makes available up to $1,987,000 in FY 2003 funds in HOPWA funds to organizations for technical assistance support on a national or regional basis.

II. Application, Further Information, and Technical Assistance

(A) Where to Send Your Application. For this Program Section, see the General Section of this SuperNOFA for specific procedures governing the form of application submission (e.g., mailed applications, express mail, or overnight delivery).

(B) Address for Submitting Applications. Your completed application consists of an original signed application and two copies. Submit the original application and one copy to: Department of Housing and Urban Development, Attn: HOPWA, 451 Seventh Street, SW., Room 7251, Washington, DC 20410. Submit the additional one (1) copy of your application to the area CPD Field Office or Offices that serve the area in which activities are proposed. For multi-state efforts, you must submit the copy of your application to the Field Office that serves your main office. The list of addresses for area CPD Field Offices is provided as Appendix B of this Program Section of this SuperNOFA. If you propose nationwide activities, you must send all copies to the HUD Headquarters Office. When submitting your applications, please refer to HOPWA, and include your name, mailing address (including zip code), facsimile, email, and telephone number (including area code).

(C) For Applications. All information required to complete and return a valid application is included in the General Section and this Program Section of the SuperNOFA, including appendices. Copies of the General Section, this Program Section, and appendices, including the application, are available and may be downloaded from HUD's website at www.hud.gov. If you are unable to download any of the materials in this SuperNOFA, Program Section and its appendixes, please call the SuperNOFA Information Center at 1-800-HUD-8929 (1-800-483-8929) for a copy of the General Section and this Program Section of the SuperNOFA. Persons with hearing or speech challenges may access the above number via TTY (text telephone) by calling the Federal Information Relay Service at 1-800-877-8339 (this is a toll-free number).

(D) For Further Information and Technical Assistance (TA). You may call the HUD Field Office serving your area, at the telephone number shown in Appendix B, or you may contact the Office of HIV/AIDS Housing, HUD at (202) 708-1934. HUD staff may assist with program questions, but may not assist in preparing your application. Persons with hearing or speech challenges may access the above number via TTY (text telephone) by calling the Federal Information Relay Service at 1-800-877-8339 (this is a toll-free number).

(E) Seeking Technical Assistance (TA) in Developing a HOPWA Application. HOPWA TA providers may not provide technical assistance in the drafting of responses to HUD's NOFA due to the unfair advantage such assistance gives to one organization over another. If HUD determines that HOPWA technical assistance has been used to draft a HOPWA application, HUD reserves that right to reject the application for funding. If, after your application has been selected for an award, HUD determines that HOPWA technical assistance was used to draft your application, the award will be withdrawn and you may be liable for any funds already spent.

(F) Satellite Broadcast. HUD will hold information broadcasts via satellite for potential applicants to learn more about the program and preparation of the application. For more information about the date and time of the broadcast, you should consult the HUD Web site at www.hud.gov/grants.

III. Applicable Requirements of the General Section of the SuperNOFA

The provisions outlined within the General Section of the SuperNOFA apply to the HOPWA program unless otherwise stated within this Program Section. Specifically, you are encouraged to review:

(A) Section V: Requirements and Procedures Applicable to All Programs. The threshold requirements in the General Section of the SuperNOFA apply to the HOPWA program and applicants must meet all threshold requirements to receive funding.

(B) Section II: HUD's FY 2003 SuperNOFA Policy Priorities. HUD has identified policy priorities that applicants are encouraged to address in implementing programs funded under this notice. Applicable policy priorities for HOPWA applicants seeking funding under Part D of this Program Section are outlined in Part D, Section III: Policy Priorities. Applicants seeking funding under Parts B and C of this Program Section are not required to address HUD's policy priorities.

(C) Section XI: HUD Reform Act. The provisions of the HUD Reform Act of 1989 that apply to this announcement are explained in the General Section of the FY 2003 SuperNOFA at Section XI (A).

IV. Corrections to Deficient Applications

See Section VIII: Corrections to Deficient Applications of the General Section of the SuperNOFA.

V. Award Modifications

After reviewing each application, HUD reserves the right to take each of the following actions:

(A) Make Award Adjustments. HUD reserves the right to make award adjustments as outlined in Section VI (F), Adjustments to Funding, of the General Section of this SuperNOFA.

(B) Add Project Outcome Funding. HUD reserves the right to ensure that each grant receives up to $50,000 for collection of data on project outcomes. If an applicant fails to request this level of funding for this activity, HUD reserves the right to add such funding to the selected application.

(C) Not to Duplicate Continuum of Care Projects. HUD reserves the right to ensure that activities funded under the FY 2003 Continuum of Care will not duplicate new or continuing activities funded under this competition.

VI. Statutory Certifications

HOPWA applicants are not required to provide the forms, certifications, and assurances listed in the General Section of the SuperNOFA unless stated below. The following certifications must be included with your application. All certifications and forms, except those found in the General Section of the SuperNOFA, are included in the appendixes to the HOPWA section of the NOFA.

(A) Certifications Found in the General Section of the SuperNOFA

(1) Consolidated Plan Certification (HUD-2991). Except as stated below, you must include a Consolidated Plan certification from the applicable state or local government official responsible for submitting the appropriate plan. If your project will be carried out on a national basis or will be located on a reservation of an Indian tribe, Guam, the Virgin Islands, American Samoa, or the Northern Mariana Islands, you are not required to include a Consolidated Plan certification with your application. The authorizing official from the state or local government must sign this certification.

(2) Certification of Drug-Free Workplace, Payments to Influence Federal Transactions, and Regarding Debarment and Suspension (new HUD 424B)

(3) Consistency with the RC/RC/EZ/EC Strategic Plan (HUD-2990)

(4) Applicant/Recipient Disclosure/Update Report (HUD-2880)

(5) Certification of Consistency with the Consolidated Plan (HUD-2991)

(6) Disclosure of Lobbying Activities (SF-LLL)

(B) HOPWA Certification Found at Appendix D of This Program Section of the NOFA

(1) Fair Housing and Non-discrimination

(2) Environmental Law and authorities

VII. Program Requirements

(A) Nonprofit Organization Requirements. To be eligible as grantee or project sponsor, you must satisfy the requirements of 24 CFR 574.3. Your application must establish both that you are a nonprofit organization and that your organizational documents include a purpose of significant activities related to providing services or housing to persons with HIV/AIDS.

If you do not qualify as a nonprofit organization, you are not eligible to receive funds and serve as the grantee or as a project sponsor. However, you may collaborate with eligible nonprofit organizations or with a government agency that applies for the grant and assist them, for example, in planning for the proposed activities, identifying needs in your community and identifying eligible persons who will be assisted. In addition, you may do work under contract with a grantee for services funded by this grant.

(1) We will accept as evidence of your nonprofit status:

(a) A copy of the Internal Revenue Service (IRS) ruling providing tax-exempt status under Section 501(c) (3), (4), (6), (7), (9) or (19) of the IRS code; or

(b) A ruling from the Treasury Department of the Commonwealth of Puerto Rico granting income tax exemption under section 101 of the Income Tax Act of 1954, as amended (13 LPRA 3101); or

(c) Documentation showing that the applicant is a certified United Way agency; or

(d) All of these:

(i) A certification by the appropriate official of the jurisdiction under whose laws the nonprofit was organized that your organization was so organized and is in good standing;

(ii) A certification from a designated official of the organization that no part of the net earnings of the organization inures to the benefit of any member, founder, contributor, or individual; that the organization has a voluntary board; and that the organization practices nondiscrimination in the provision of assistance; and

(iii) An opinion letter from a CPA that the nonprofit has a functioning accounting system that provides for each of these (the letter must mention all of them):

(1) Accurate, current, and complete disclosure of the financial results of each federally funded project;

(2) Records that identify adequately the source and application of funds for federally funded activities;

(3) Effective control over and accountability for all funds, property and other assets;

(4) Comparison of outlays with budget amounts;

(5) Written procedures to minimize the time elapsing between the transfer of funds to the recipient from the U.S. Treasury and the use of funds for program purposes;

(6) Written procedures for the determining the reasonableness, allocability and allowability of costs; and

(7) Accounting records including cost accounting records that are supported by source documentation.

(2) We will accept as evidence of your purpose, a certified copy of the organization's articles of incorporation and by-laws which includes in the organization's purposes significant activities related to providing services or housing to persons with HIV/AIDS.

(B) Performance Benchmark Requirements. All grantees receiving funds under this Program Section are expected to meet the following benchmark requirements. If a selected project does not meet the appropriate performance benchmark, HUD reserves the right to cancel or withdraw the grant funds.

(1) Execution of Grant Agreement. Selected applicants must execute grant agreements by the earlier of September 25, 2004 or the first anniversary of HUD's announcement of the awards. HOPWA grants are obligated upon grant execution and the FY 2003 Consolidated Appropriations Resolution (“FY 2003 Appropriations Act”) requires HUD to obligate funds by September 30, 2004.

(2) Disbursement of Funds. Grantees receiving awards under this Program Section should fully expend their grants no later than three years following the effective date of the grant agreement. The National Defense Authorization Act for Fiscal Year 1991 requires expenditure of all HOPWA funds awarded under the FY 2003 Appropriations Act by September 30, 2009. After September 30, 2009, any unexpended funds (whether obligated or unobligated) shall be canceled and, thereafter, shall not be available for obligation or expenditure for any purpose.

(3) Site Control Through Acquisition or Lease. If you acquire or lease a site, you are required to gain site control within one year from the date your selection letter was signed by HUD.

(4) Rehabilitation or New Construction. If you propose to use HOPWA funds for rehabilitation or new construction activities, you must begin the rehabilitation or construction within 18 months, all rehabilitation or construction work must be complete within 3 years from the date your selection letter was signed by HUD.

(5) Project Operations. If funds are used for operating costs of existing housing facilities, these funds must be used within the three year use period for the operation of this award and such activities must start no later than 12 months from the date your selection letter was signed by HUD, and completed within 36 months from this date. If funds are to be used for operating costs, in connection with the new construction or substantial rehabilitation of housing facilities, the amount of funds designated for operating costs must be limited to the amount to be used during the portion of the three-year period for which the facility will be operational and assisting eligible persons. Delays in the project's development activities, such as the planned completion of the construction or rehabilitation activities, could result in the loss of funds designated for operating costs, if such funds remain in excess after the authorized use period for this award. For example, if your project expects to take two years to complete the rehabilitation of the facility, any operating costs could only be requested for use in the remaining one year of the three year operating period for this award.

(6) Six-Month Report. You must provide an initial report to the Field Office and HUD Headquarters on the startup of the planned activities within six months of your selection. Outline your accomplishments and identify any barriers or issues for which the Department may provide assistance.

(C) Program Guidance.

(1) Program Operating Year. Grants awarded through this Program Section must designate the 12-month operating year, which indicates the start and end dates of the term of the grant, at the signing of the grant agreement. The operating year may begin within four months of the signing of the grant agreement or as specified by HUD at the time of award. The operating period begins the day when participants begin to receive housing or supportive services, or for capital development activities at site control or the start of rehabilitation or new construction activities. The operating period is a 12-month period for which grantees report annual accomplishments. Grantees are required to submit annual progress reports to HUD within 90 days following the end of each operating year.

(2) Incorporation of Mainstream Resources. To the extent possible, HUD encourages projects to incorporate mainstream resources into their project plans to maximize the benefit of requested HOPWA funds. Mainstream resources may include private, other public, and mainstream services and housing programs that provide benefits to eligible persons. Applicants are encouraged to create community wide strategies to coordinate assistance to eligible persons through these mainstream programs. These mainstream programs include Medicaid, Children's Health Insurance Program, Temporary Assistance for Needy Families, Food Stamps, and services funded through the Mental Health Block Grant and Substance Abuse Block Grant, Workforce Investment Act and the Welfare-to-Work grant program. Under each part of this Program Section, as an applicant, you may be asked to address how your project is incorporating mainstream programs to benefit eligible persons.

VIII. Other Requirements

(A) Environmental Reviews. All HOPWA assistance is subject to the National Environmental Policy Act and applicable related federal environmental authorities. In accordance with Section 856(h) of the AIDS Housing Opportunities Act, environmental reviews for HOPWA activities are to be completed by responsible entities (including units of general local government, states, Indian tribes, and Alaska Native villages) in accordance with 24 CFR part 58. Applicants or grantees that are not states or units of general local government must request the unit of general local government to perform the environmental review. This statutory provision supersedes the environmental provisions in the HOPWA regulation at 24 CFR 574.510. HOPWA grantees and project sponsors may not commit or expend any grant or nonfederal funds on project activities until HUD has approved a Request for Release of Funds and environmental certification from the responsible entity (other than those listed in 24 CFR 58.22(c), 58.34 or 58.35 (b)). The expenditure or commitment of HOPWA or nonfederal funds for such activities prior to this HUD approval may result in the denial of assistance for the project under consideration.

(B) Affirmatively Furthering Fair Housing. See Section V (D) of the General Section of the SuperNOFA for the information on how to meet this requirement.

(C) Local Resident Employment (Section 3 Requirements). For grants in excess of $200,000, to the extent that grant funds are used for housing rehabilitation (including reduction and abatement of lead-based paint hazards, but excluding routine maintenance, repair, and replacement) or housing construction, then it is subject to Section 3 of the Housing and Urban Development Act of 1968 and the implementing regulations at 24 CFR part 135. Section 3 requires that economic opportunities shall, to the greatest extent feasible, be given to low- and very low-income persons, particularly those who are recipients of government assistance for housing, and to businesses that provide economic opportunities for these persons (also see Section V(E) of the General Section of the SuperNOFA).

IX. Authority

This program is authorized under the AIDS Housing Opportunity Act (42 U.S.C. 12901). The regulations for HOPWA are found at 24 CFR part 574.

Part B. Renewal Projects

HUD will consider applications under this part that are renewals of expiring HOPWA competitive grants whose primary purpose is the provision of permanent supportive housing.

I. General Policies on Renewal of Permanent Supportive Housing Grant—Purpose

Under the provisions of the FY 2003 Appropriations Act, the Secretary is required to renew qualifying expiring contracts for permanent supportive housing on a priority basis. Grants funded under prior HOPWA competitions that meet the stated eligibility requirements below and meet all program requirements will be given priority renewal by HUD. Applications will be reviewed on a pass/fail threshold review system and are not required to address the departmental policy priorities described in the General Section of the SuperNOFA. If you have an expiring grant, which is not for permanent supportive housing, you may apply for funding under Part D of this Program Section.

II. Eligibility of Applicants and Grants

To be eligible for priority renewal under this part, you must meet all of the following eligibility requirements:

(A) Eligible Permanent Supportive Housing Grants. To be eligible, your project must provide permanent supportive housing to eligible persons. Permanent supportive housing is housing in which the eligible person has a continuous legal right to remain in the unit and which provides the eligible person on-going supportive services through qualified providers. HUD will consider a grant to be providing permanent supportive housing if 51% or more of HOPWA program activity funds are used: (1) To provide permanent housing where on-going supportive services are made available through other resources; or (2) to provide supportive services where permanent housing is provided through other resources. To establish eligibility, provide documentation of the following:

(1) Certification of the Provision of Permanent Housing. You must certify that at least 51% of the HOPWA program activity funds awarded to your grant were and are being used to provide permanent supportive housing to eligible persons. To determine whether your grant meets this test, use the Permanent Supportive Housing Worksheet found in Appendix A and submit it with your certification. The test is based on the HOPWA funded program activity costs approved in the original application or, as amended by HUD, excluding administrative costs and project outcome funding. To be counted, the grant funds must be used to provide the housing or to provide supportive services to eligible persons living in permanent housing.

(2) Documentation of Other Resources. If your project relies on other state, local, federal, or private resources to provide the permanent housing or supportive services portion of your project, you must demonstrate that the other resources will continue to be available for that purpose throughout the term of the renewal grant. The continuing assistance must have been documented within the original application to HUD and be used in conjunction with requested HOPWA funds. Evidence of continuing assistance must be provided, as follows:

(a) Permanent Housing. Permanent housing provided through other resources must be documented in the renewal application through a leveraging letter. The leveraging letter must outline the amount of funds for the housing to be provided, the term the funds will be made available, and be signed by the organization providing such housing or funding for the housing. See Part D, Section V, Rating Factor 4: Leveraging Resources, for acceptable leveraging letter examples.

(b) Supportive Services. Supportive services provided through other resources must be documented through a commitment letter(s), which outline(s) the type of support that will be provided to eligible persons, the organizations providing such support, and the length of time such supportive services will be available. Supportive services must be available to eligible persons in permanent housing throughout the term of the renewal grant.

(3) Evidence of Permanent Client Occupancy. Except for funds used for short-term mortgage, rent and utility payments, you must show evidence that the client has a continuous legal right to remain in the unit or property and has access to on-going supportive services provided through qualified providers. You must include in your application a copy of the standard lease form used for residents of the project. It must be for a term of at least one year, be renewable by the tenant and may only be terminable by the landlord for cause.

(B) Eligible Expiring Grant. To be eligible, the HOPWA grant must be an expiring grant, which is defined as a grant that will not have sufficient funds to continue activities until September 30, 2004, if not awarded additional federal funds. The applicant must demonstrate to HUD that all funds awarded in the grant it seeks to renew will be expended within a three-year period (as measured by reimbursements filed with HUD under the financial system, PAS). HUD may deobligate any amount of HOPWA grants funds that have been renewed on this basis and have not been expended within three (3) years from the date of obligation.

(C) Eligible Prior Grants. To be eligible, prior grants must have been selected by HUD for funding under HUD's SuperNOFA process in 1999, 2000, or 2001 and must not have been renewed through a previous competition. Grants selected in 1998 were required to operate and complete activities before the end of fiscal year 2002. Grants funded in 1998 are not eligible for renewal, unless the grantee documents that HUD approved a grant extension of the project that would allow for its continued operations in the federal Fiscal Year 2003 or 2004.

(D) Eligibility based on Achieving Measurable Progress. To be eligible, prior grants must have operated with measurable progress, defined as not evidencing weak performance. Weak performance consists of sanctions or unresolved monitoring findings during the active competitive period, from the date of publication of this Program Section until the selection of applications, or other HUD knowledge of unresolved problems. Unresolved problems may include that planned activities remain delayed in their implementation, a significant number of units are vacant, annual progress reports were not filed with HUD by the application due date under this Program Section for renewals, or significant citizen complaints are unresolved or not responded to with justified reasons. Weak performance is also evident if more than 50% of grant funds remain unexpended on the first day of the month in which the application due date for renewals under this Program Section falls (as measured by reimbursements filed with HUD's financial system, PAS).

(E) Eligible Applicant for Renewals. You are eligible to apply for renewal of a prior HOPWA grant only if you have executed a grant agreement for the project directly with HUD. Project sponsors are not eligible to apply for renewal grants. The application for renewal must be submitted by the grantee. HUD will reject applications submitted by ineligible applicants. If you have questions about your eligibility to apply, contact the local HUD field office.

(F) Eligible Project Sponsors. The project should also continue with the same project sponsors, as documented in the prior HOPWA application or amendments to that application as approved by HUD. HUD will consider the merits for changing a project sponsor if the new sponsor evidences the capacity to enhance project operations or improve responsiveness to eligible persons. Such examples for changing a project sponsor may be that a new project sponsor has greater capacity to conduct program activities or a prior project sponsor is no longer in operation or has merged with another entity.

(G) Ineligible Grants and Projects. You are ineligible if any of the following apply:

(1) Expired Grants. Your grant expired in federal Fiscal Year 2002 or earlier, i.e. all funds were expended (as measured by PAS) by September 30, 2002, or only a residual amount that is less than one percent of the amount of the prior grant remains, are not eligible to apply for renewal funding under this notice.

(2) Prior Grants. Your grant was awarded under the 1992-1996 HOPWA competitions. These grants were required to complete activities within three years of executing the grant agreement.

(3) Non-Permanent Supportive Housing Projects. Projects primarily offering short-term, transitional, or emergency housing options are not eligible. Applicants with existing HOPWA projects that do not qualify for priority renewal under this part, may apply for continuing funding under Part D: New and Continuing Projects section of this Program Section.

III. Renewable Activities and Amount of Renewals

Eligible grants will receive renewal funding on approved eligible activities, as follows:

(A) Eligible Renewal Activities. The activities to be renewed must be on-going forms of support, such as rental assistance, short-term rent, mortgage and utility payments, operating costs for housing facilities, leasing of housing facilities, supportive service costs, housing information services, resource identification/technical assistance for community residences activities and administrative costs. Additionally, applicants must request up to $50,000 in project outcome funding as a part of their renewal budget request.

(B) Ineligible Renewal Activities. Funds for acquisition, new construction or for rehabilitation costs will not be renewed. These capital development activities are not on-going or available for additional sites. If you wish to undertake additional capital development activities or to add funding for new activities, such as operating costs and services, you must apply under Part D.

(C) Amount of Renewals. Renewal projects may only request renewal funds for continuing a previously approved project at the same level of housing and/or services provided in the previous grant. Proposals to expand or significantly alter a funded-project must apply under Part D for the new activities or the expanded part of the project.

(D) Project and Activity Funding. Renewal funding must not exceed 120% of the amount originally awarded for an activity, but may be less than the amount originally awarded, including any amendments affecting this amount that were approved by HUD prior to the publication of this Program Section. However, the total activity costs may not exceed $1,200,000. The limits on administrative costs, three (3) percent for grantees and seven (7) percent for project sponsors, continue to apply. In addition, renewal grantees must add up to $50,000 to the renewal award for the purpose of the collection of data on program outcomes.

(E) Annual Amounts. As an applicant for renewal funding, you must specify the annual amount needed to continue each activity and specify the number of years, up to three, for your request by completing the HOPWA Renewal Budget Form (Appendix A). You should describe your plan for continued operations in the Executive Summary section of your application, including any significant reduction to your prior award level.

IV. Selection Criteria and Process

(A) Selection Process. To the degree that funds are available, the Department will select for funding all renewal requests from applicants that meet program requirements and pass a threshold review for a need for renewal. In the case that the amount requested for renewal is less than the amount available under this notice, HUD will apply the remaining funds, first, to applicants under Part C and then, second, Part D. If the amount of the request for renewal activities is greater than the amount made available by this notice, HUD will select all of the approvable applications and allocate awards to each based on a pro rata reduction to the amount available under this notice to ensure that all eligible and performing renewal projects receive funding that allows their continued operation.

(B) Selection Criteria. HUD will conduct a threshold review of all renewal applications based on the following criteria:

(1) Eligibility. HUD will review your eligibility to apply for renewal funding under this program as described above under Part B, Section II of this Program Section, Eligibility of Applicants and Grants.

(2) Organizational Capacity. If a new project sponsor is added, HUD will review the project sponsor's capacity to conduct program activities.

(3) Provision of Permanent Supportive Housing. HUD will review whether your project provides permanent supportive housing.

(4) Need for Renewal. HUD will review your need for renewal, and how this project has operated with measurable progress, as described below in the Need for Renewal Narrative.

(5) Standard Eligibility Threshold Requirements. HUD will also review your application to ensure that your project meets the standard eligibility threshold requirements as described in Part A, Section III (A), above.

(C) Application Contents. Applicants are requested to submit the following information:

(1) Application for Federal Assistance (Form HUD-424). You should complete Items 1 through 23 with the following additions:

(a) Item 12—The applicable letters are “A” for state; “B, C, or D” for a unit of local government; or “N” for Nonprofit;

(b) Item 14—Enter U.S. Department of Housing and Urban Development or HUD if not preprinted;

(c) Item 15—Enter 14-241 and the title “Housing Opportunities for Persons With AIDS Program” or “HOPWA” for the Catalog of Federal Domestic Assistance;

(d) Item 20—You must complete the budget on page 2 and the HOPWA Renewal Project Budget Form. Please make sure that both the Total Amount on page 2 and the “Total Budget” section on the HOPWA Renewal Project Budget Form are the same. In the event that the total budgets are in conflict, HUD will refer to the HOPWA Project Budget form.

(e) Item 21—Check “No”.

(2) Executive Summary and Synopsis. On no more than five (5) double spaced pages, please provide an Executive Summary of the renewal project, beginning with a two to three sentence synopsis of the focus of your project. In the Executive Summary, please provide the name of the grantee and any project sponsors, along with contact names, phone numbers, and e-mail address.

(3) Narrative Statements. Your application must include the following narrative statements:

(a) Organizational Capacity Narrative. If a new project sponsor(s) is added to the proposal, please describe the capacity of the project sponsor(s) to conduct program activities. Please provide this information on no more than two (2) double-spaced typed pages. If you are adding more than one project sponsor, you may add two (2) additional pages per project sponsor. Address the extent to which the project sponsor(s) have the organizational resources necessary to successfully implement your proposed activities in a timely manner. HUD will review the project sponsor's ability to develop and operate your proposed program. With regard to new project sponsor(s), HUD will consider:

(i) Past experience and knowledge in serving persons with HIV/AIDS and their families;

(ii) Past experience and knowledge in programs similar to those proposed in your application;

(iii) Experience and knowledge in monitoring and evaluating program performance and disseminating information on project outcomes; and

(iv) Past experience as measured by expenditures and measurable progress in achieving the purpose for which funds were provided.

(b) In reviewing the elements of organizational capacity under paragraph (a), immediately above, HUD will consider the extent to which your proposal demonstrates:

(i) The knowledge and experience of the proposed project director and staff, including the day-to-day program manager, consultants, and contractors in planning and managing the kind of activities for which you are requesting funds. The project sponsor will be reviewed in terms of recent, relevant, and successful experience of staff to undertake eligible program activities, including experience and knowledge in serving persons with HIV/AIDS and their families.

(ii) The project sponsor's experience in managing complex interdisciplinary programs, especially those involving housing and community development programs directly relevant to the work activities proposed and carrying out grant management responsibilities.

(iii) If the project sponsor received funding in previous years in the program area for which you are currently seeking funding, the sponsor's past experience will be reviewed in terms of its ability to attain demonstrated measurable progress in the implementation of the grant award. Measurable progress is defined as:

(1) Meeting performance benchmarks, as applicable, in program development and operation;

(2) Meeting project goals and objectives, such as, that the number of persons assisted was comparable to the number that was planned at the time of application;

(3) Submitting timely performance reports; and

(4) Expending prior funding as outlined in the prior proposal with no outstanding audit or monitoring issues.

(c) Provision of Permanent Supportive Housing Narrative. On no more than three (3) double-spaced pages, demonstrate how your project provides permanent supportive housing through HOPWA and other resources. Include the type of assistance and number of housing units being provided and a description of the supportive services provided. Additionally, your description should outline how HOPWA and other funding, if applicable, work together to provide permanent supportive housing. In addition, you must provide the following:

(i) Certification of the Provision of Permanent Housing. A certification, in the form provided in Appendix A, that at least 51% of the HOPWA funds awarded to the project were and will continue to be used to provide permanent supportive housing to eligible persons. To determine whether you can make this certification, complete the “Permanent Supportive Housing Worksheet” provided in Appendix A.

(ii) Documentation of Other Resources. If your project relies on other state, local, federal, or private resources to provide the housing or supportive services, you must document that such assistance will be provided throughout the term of the renewal grant. For information on acceptable forms of evidence, see Part B, Section II (A)(2).

(iii) Evidence of Permanent Housing. Except for funds used for short-term mortgage, rent and utility payments, you must provide a copy of the standard lease used for residents of the project. The lease must be for a term of at least one year, be renewable by the tenant and may be terminated by the landlord for cause.

(d) Need for Renewal Narrative. Please address the following on no more than three (3) double-spaced pages:

(i) Measurable Progress. Please demonstrate the need for renewal funding and how this project has operated with measurable progress. Measurable progress is defined as not failing or not evidencing weak performance in:

(1) Meeting performance benchmarks, as appropriate, in program development and operation;

(2) Meeting project goals and objectives, such as, that the number of persons assisted is comparable to the number that was planned at the time of the application;

(3) Submitting timely performance reports; and

(4) Expending over 50% of prior funding at the beginning of the month for the due date for renewals (as measured by reimbursements filed with HUD's financial system, PAS.).

(ii) Need for Renewal Chart. Additionally, you should complete the HOPWA Need for Renewal Chart, which demonstrates that prior grant funds will expire by September 30, 2004. You must complete the HOPWA Need for Renewal Chart (Appendix A), as described below:

Line 1. Indicate the amount of the prior HOPWA award: ___

Line 2. Indicate the amount expended as of 9-30-02: ___

Line 3. Subtotal: subtract line 2 from line 1: ___

Line 4. Indicate the amount to be expended in FY2003: ___ (By September 30, 2003)

Line 5. Indicate the amount to be expended in FY2004: ___ (By September 30, 2004)

Line 6. Subtotal: subtract lines 4 and 5 from line 3: ___

Notes: If the subtotal on Line 6 is greater than zero, you are not eligible to apply for renewal funding under this notice. Also, note that continued use of prior funds may require that you file an extension request with the area CPD Field Office. Further, if the subtotal on Line 3 is zero or a residual amount that is less than one percent of the amount on Line 1, you are not eligible to apply for renewal funding under this notice. In reviewing the information that you provide in this chart, HUD will determine your eligibility for renewal funding based on financial records for reimbursement of expenditures that are filed under HUD's financial system (PAS).

(4) HOPWA Renewal Budget. Please complete the HOPWA Renewal Budget Form (Appendix A). See Part B, Section III, Renewable Activities and Amount of Renewals, for details on renewal funding.

(5) HOPWA Renewal Project Form (Appendix A). Complete the form including the following:

(a) Project Sponsor. You must identify any organization that will receive HOPWA funds as a project sponsor and the amount of funds to be received.

(b) Non-profit Status. If not previously submitted to HUD through the prior HOPWA application or if a change occurred in non-profit status, non-profit grantees or project sponsors must submit documentation verifying your non-profit status, as outlined under Part A, Section VII (A).

(c) Service Areas. Your application must identify the area(s) in which you are proposing to offer housing and other assistance.

(6) Statutory Certifications. The renewal application should include the required certifications as described under Part A, Section VI, Statutory Certifications. After your entire application is assembled, please mark each exhibit with an appropriately numbered tab and number every page of the application sequentially. Complete the HOPWA Renewal Application Checklist found in Appendix A to this Program Section of the SuperNOFA. Attach the HOPWA Renewal Application Checklist to the front of your application.

V. Additional Renewal Information

As an applicant of renewal funding, you are encouraged to read Part A: General Program Requirements at the beginning of this Program Section. This section outlines submission details, technical assistance, and statutory requirements for using HOPWA funds.

PART C: FEDERAL COLLABORATION WITH CDC TO STUDY THE CONNECTION OF HOUSING AND HIV

I. Purpose

This notice implements an initiative by the Department of Housing and Urban Development (HUD) and the Centers for Disease Control and Prevention (CDC), Study the Connection of Housing and HIV. The study will provide scientific insight into the housing and medical challenges of persons who are living with HIV/AIDS who are unstably housed. Under Part C of the HOPWA program notice, HUD is establishing our part of the collaboration with the CDC in a competitive award for Special Projects of National Significance (SPNS). Due to its innovative nature and potential for replication, the study is likely to serve as an effective model for analyzing the impact of tenant-based rental assistance on the progression of HIV disease in eligible persons that are homeless or unstably housed.

HUD's Office of Community Planning and Development, Office of HIV/AIDS Housing, and Office of Policy Development and Research will work with the Centers for Disease Control and Prevention, National Center for HIV/SDT/TB Prevention, Division of HIV/AIDS Prevention, on this research. The effort will study the effects of stable housing on the progression of HIV disease for persons with HIV/AIDS as well as its effects on the prevention of HIV infection on similar socio-economic populations. HUD and the CDC propose to coordinate the evaluation of project grants under HUD's Housing Opportunities for Persons With AIDS (HOPWA) Program and the CDC's HIV Prevention programs. Over a three-year period, the collaboration will systematically test the impact of providing housing for eligible persons on HIV risk behavior among HIV affected individuals. It will also test the impact of housing and prevention services on HIV negative family members residing with the HOPWA eligible persons as against an unhoused comparison group. The comparison group will receive referrals to case management and HIV prevention intervention funded by CDC or through access to related health care programs that provide HIV prevention services, treatment adherence programs and periodic health assessments, including the use of blood draws to measure HIV health status. Protocols for these activities and information on required client consent for participation will be available from CDC. Personal information on study participants will remain confidential, although related nonpersonal aggregated data will be used as part of the study. Study participants will not be subject to any experimental treatments under this study. A cost-benefit analysis will comprise one new and important aspect of the research.

HUD expects that the housing assistance provided to the participating eligible persons in this grant will be coordinated with resources from other sources, including the use of HOPWA formula and competitive projects or other federal, state and local, private funds, in conjunction with related health-care and other supportive services funded under the Ryan White CARE Act. Given the amount of housing assistance funds available under this award, HUD encouraged interested applicants to fund supportive services activities from non-HOPWA sources.

II. Eligible Applicants

To apply, you must:

(A) Be a formula grantee;

(B) be in good standing, as defined below at Section V(A)(2);

(C) at the time of application and for a minimum period of two years prior, have administered formula funds for tenant-based rental assistance in compliance with 24 CFR 574.320;

(D) have an unmet housing need of at least 500 eligible persons and at least 187 housing units available for those eligible persons within your jurisdiction; and

(E) be able to provide a comparison group of at least 187 unhoused eligible persons for the CDC study throughout the study period. Note that members of the comparison group may not be required to remain unhoused in order to participate in this study. Comparison group members will be eligible to receive housing or supportive services as they become available within the jurisdiction.

III. Study Requirements

HUD has established the following requirements:

(A) Housing placement will be carried out via an open enrollment method (e.g. lottery or random election process).

(B) Under the supervision of the CDC or its contractor, grantees will facilitate and support collection of extensive outcome evaluation data, facilitate client involvement in HIV/AIDS prevention and treatment adherence programs, facilitate periodic client health assessment done by the CDC and research staff, participate in a multi-site collaboration, and facilitate eligible persons' awareness of the study and the option to participate for the clients who meet the research study eligibility criteria. In connection with any data collection activities, grantees will be required to obtain the eligible person's consent before disclosing to the CDC or its contractor any personally identifiable information about the person, including, but not limited to, medical, financial, or educational information.

(C) Study participants will be limited to HOPWA eligible persons who are homeless or at severe risk of homelessness. For the purpose of this study, “homeless” refers to eligible persons who are sleeping in emergency shelters or other facilities for homeless persons, or places not meant for human habitation, such as cars, parks, sidewalks, or abandoned buildings. This term also includes eligible persons who ordinarily live in such places but are in a hospital, or other institution on a short-term basis (30 consecutive days or less). For the purpose of this study, “at severe risk of homelessness” refers to eligible persons who are frequently relocated or who move between temporary housing situations, so that housing is neither appropriate nor stable.

(D) The applicant must either provide appropriate supportive services in connection with the rental assistance or ensure that appropriate services are provided from other sources.

(E) All persons receiving rental assistance under Part C will be advised that such rental assistance is connected to participation in the CDC study, and will be required to consent to such participation prior to receiving rental assistance. Participation in the CDC study will be voluntary. Refusal to participate in the CDC study will not affect a person's eligibility to receive housing or supportive services, as they may become available, under the grantee's HOPWA formula grant. Eligible persons may also apply for other available housing outside that provided under Part C.

IV. HUD Award

HUD will award:

(A) Up to $1,200,000 for tenant-based rental assistance and supportive services (with at least $800,000 to be used for long-term rental assistance);

(B) Up to three (3) percent of your total award for grantee administrative cost; and

(C) Up to seven (7) percent of the amount each project sponsor receives for project sponsor administrative cost.

HUD will not award funds for project-based rental assistance, new construction, acquisition, rehabilitation or conversion, lease or repair of facilities, short-term rent, mortgage and utility assistance, resource identification, operating costs, local evaluations or technical assistance.

V. Application Selection Process

(A) Threshold Review.

The Department will conduct a threshold review of all applicants requesting funding under Part C. Applicants failing to meet the threshold review requirements will not be awarded project funding. Threshold review will consist of:

(1) Eligibility. You must be a HOPWA formula grantee.

(2) Good Standing Review. You must have no sanctions or unresolved monitoring findings during the active competitive period, from the date of this notice until the selection of grants, or other HUD knowledge of unresolved problems. Unresolved problems include that planned activities remain delayed in their implementation, a significant number of units are vacant, annual performance reports were not filed with HUD at the time of the due date for applications, or significant citizen complaints are unresolved or not responded to with justified reasons. Grants in default of the grant agreement or with unresolved management issues will not be awarded project funding.

(B) Application Selection Process and Procedures for the Rating of Applications.

HUD will rate all of the applications based on the factors listed below. The points awarded for the factors total 100. After rating, all applications will be placed in the rank order of their final score for selection.

Rating Factor 1: Capacity of the Applicant and Project Sponsors and Relevant Organizational Experience (30 Points)

You will be rated on the extent to which you and any project sponsor have the organizational resources necessary to successfully implement the proposed project over the three years of the project. HUD will award up to 30 points based on your and any project sponsor's ability to operate the proposed program. These activities include providing rental assistance for HOPWA eligible persons with appropriate management oversight, and that will provide adequate coordination with the planned study by the CDC over the three-year time period of this grant. Identify all relevant experience in undertaking projects similar to the HOPWA funded activities involved in this study.

Rating Factor 2: Need/Extent of the Problem (20 Points)

Up to 20 points will be awarded for this factor. Applicants must assure HUD that there are documented unmet housing needs of at least 500 HOPWA eligible individuals for rental assistance in this area. Applicants must demonstrate that with the rental assistance provided in this demonstration project and other related resources, the area housing market can provide available units for at least 187 new HOPWA eligible persons to be enrolled in the study and that a waiting list or comparison group of at least an equal number of persons with unmet housing needs is likely to continue in the area during the study period.

To receive the maximum points, the applicant must demonstrate that substantial housing and related service needs of eligible persons targeted by the project you propose are not being met in your area of service and that reliable statistics and data sources (i.e. Census, health department statistics, research, scientific studies, along with Needs Analysis of Consolidated Plan and/or Continuum of Care documentation) show this unmet need.

Rating Factor 3: Soundness of Approach (20 Points)

This factor addresses the method by which your plan for housing, client outreach and selection, project management and data collection is consistent with the identified elements of the study. HUD will award up to 20 points based on the extent to which your plan evidences a sound approach for conducting the HOPWA activities in a manner that is responsive to eligible persons, and that your plan for project coordination will ensure that the housing component of this study are implemented in a clear and sound manner when compared to other applications.

You will be rated based on how well you will conduct outreach to unmet homeless or unstably housed persons who have a severe risk of homelessness and are living with HIV/AIDS. You will be rated on the extent to which you have coordinated your activities and the activities of your sponsors with other organizations to provide rental assistance in connection with access to appropriate health care and other supportive services for likely participants in this study. The highest rated applications will define a clear collaborative effort that you and your sponsors have taken with related programs including coordination with eligible persons, advocates, HOPWA and/or Ryan White CARE Act planning bodies, AIDS Drug Assistance Programs, homeless assistance programs, or other mainstream housing, health and human services efforts that assist persons living with HIV/AIDS and their families.

You will be rated on how well your management plan for this study clearly defines how you would manage the rental assistance and any related activities and the outreach and placement of eligible persons for this study using some type of open enrollment method (e.g., lottery or random method). You will also be rated on how well you will mange your housing assistance program in coordination with the research efforts by the CDC to help achieve the objectives of this study. You will be rated on how your management oversight of project sponsors is conducted and how well your plan to ensures that the requirements established by HUD and the CDC are followed.

Factor 4: Leveraging Resources (10 Points).

Up to 10 points will be awarded for this factor. You will be rated on the extent to which other resources will be committed for use in conjunction with these HOPWA funded demonstration activities, including cash resources and in-kind contributions, such as the value of services or materials provided by volunteers or by other individuals or organizations.

Factor 5: Achieving Results and Program Evaluation (20 Points).

Under this factor, HUD will award 20 points based on how well your application demonstrates a commitment to ensuring that your goals and your performance will be assessed in a clear and effective manner. HUD will analyze your plan to implement and manage the HUD/CDC demonstration project goals. These goals include: Facilitating and supporting the collection of outcome evaluation data; facilitating periodic client health assessments done by CDC research staff; participation in a multi-site collaboration; and facilitation of the potential eligible persons awareness of the study and their option to participate. Identify benchmarks and interim activities or performance indicators of your program that will facilitate you and your sponsors in obtaining these goals for the demonstration project. HUD will award the highest points to applications that demonstrate an evaluation plan that will objectively measure actual achievements against anticipated achievements and a model that provides for the dissemination of information from the lessons learned from your effort on this project.

VI. Selection

HUD reserves the right to select the highest rated applicants in ranking order. HUD may consult the CDC to determine the rating of applications. In the event of a tie between applications in a category of assistance, HUD reserves the right to break the tie based on the criteria found in Section V(C) of Part D of this NOFA. In the event that a selected applicant is unable to provide the required number of eligible households to participate in the CDC study within one year from the date of grant agreement execution, HUD reserves the right to deobligate any remaining grant funds.

VII. Application

To apply for funding you must submit the following:

(A) Application for Federal Assistance (Form HUD-424). You should complete Items 1 through 23 with the following additions:

(1) Item 12—The applicable letters are “A” for state; “B, C, or D” for a unit of local government;

(2) Item 14—Enter U.S. Department of Housing and Urban Development or HUD if not preprinted;

(3) Item 15—Enter 14-241 and the title “Housing Opportunities for Persons With AIDS Program” or “HOPWA” for the Catalog of Federal Domestic Assistance;

(4) Item 20—You must complete the budget Funding Matrix on page 2.

(5) Item 21—Check “No”.

(B) Narrative of Rating Factors. Your response to the five (5) rating factors must be doubled-spaced, typed pages no more than approximately twenty-five pages in length.

(C) Executive Summary and Synopsis. On no more than three (3) double-spaced pages, please provide an Executive Summary of your organization and provide the name of the grantee and any project sponsors, along with contact names, phone numbers, and e-mail address.

Part D: New and Continuing Projects

I. Program Purpose

Funds under this part are to be used to support the Department's national goal of increasing the availability of decent, safe, and affordable housing in American communities. The statutory purpose of the HOPWA program is meeting the housing needs of low-income persons with HIV/AIDS and their families. Projects selected for HOPWA awards will be funded to provide housing and related supportive services for eligible persons under two categories of assistance:

(A) Grants for Special Projects of National Significance (SPNS) that, due to their innovative nature or their potential for replication, are likely to serve as effective models in addressing the housing and related supportive service needs of low-income persons living with HIV/AIDS and their families; and

(B) Grants for projects that are part of Long-Term Comprehensive Strategies (Long-Term) which provide housing and related supportive services for low-income persons living with HIV/AIDS and their families in areas that are not eligible for HOPWA FY 2003 formula allocations found in Appendix C of this Program Section of this SuperNOFA.

II. Eligible Applicants and Activities

(A) Eligible Applicants and Project Sponsors

(1) States, units of general local government, and nonprofit organizations may apply for SPNS grants;

(2) States and units of general local government may apply for grants for projects under the Long-Term category of grants, if proposed activities will serve areas that were not eligible to receive HOPWA formula allocations in Fiscal Year 2003. Nonprofit organizations are not eligible to apply directly for the Long-Term grants, but may serve as a project sponsor for an eligible state or local government grantee.

(3) You must identify your project sponsors in your application. Project sponsors cannot be identified at a later date through such processes as an RFP or other selection process.

(B) Eligible Activities

(1) HOPWA Activities. Eligible activities with their standards and limitations may be found in the HOPWA regulations at 24 CFR part 574. A copy of the regulations may be downloaded from the HUD Web site at http://www.hud.gov. You are encouraged to review the HOPWA regulations before seeking funding.

(2) Additional Guidance on Use of Program Funds.

(a) Housing Assistance. To receive the maximum points under the rating criteria, your project must clearly address the housing needs of eligible persons. If you are proposing emergency or transitional housing assistance, your plan should include linkages to or the provision of permanent supportive housing.

(b) Supportive Services. Many of the eligible persons who will be served by HOPWA may need services in addition to housing. It is important that you design programs which enhance access to those needed services, including access to health-care, AIDS drug assistance, and other services funded through the Ryan White CARE Act or other federal, state, local or private funds. While HUD recognizes that there are many ways to ensure that eligible persons receive the services they need, to the extent possible, HUD encourages you to develop housing programs which do not require participation in services as a part of your or your project sponsor's tenancy requirements. Further, to help ensure that selected projects address housing related purposes, no more than 35 percent of the proposed budget for program activities can be designated for supportive services costs.

(c) Resource identification. HUD will not select under this notice an application that is solely directed at providing resource identification activities, since national HOPWA technical assistance funds are being made available under the Community Development Technical Assistance (CDTA) part of this Program Section for this purpose. You may propose a resource identification or technical assistance component in your application, if the amount of funds designated for these activities are less than 20 percent of the proposed program activity costs.

(d) Other Activities. As authorized by statute, you may propose other activities in your application, if approved by HUD. HUD will not approve proposals that depend on future decisions on how funds are to be used, for example, a proposal to establish a local request-for-proposal process to select activities or project sponsors.

(e) Project Outcome Funding. You must request funding to conduct data collection on project outcomes. The budget provides that up to $50,000 may be added to collect information and report to HUD on the outcomes of your service delivery model. You must propose data collection activities in your application. Project outcome activities include:

(i) Defining monitoring questions that will be addressed and examined during the project period;

(ii) Specifying outcome measures;

(iii) Developing instruments to assess project outcomes and systems outcomes;

(iv) Training project staff in the collection of data, including the preparation of the standard HOPWA Annual Progress Report to HUD;

(v) Monitoring data collection activities to assure that submissions are complete and accurate, including data coding and entry;

(vi) Summarizing data collected; and

(vii) Participating in HUD-sponsored collaborations and HUD-designated training events in order to prepare and disseminate the findings of reports on project accomplishments and lessons learned.

Applicants may include an expert third-party to conduct project outcome activities, but grantees are encouraged to train staff internally. Such training will increase the internal capacity of your organization and your partner organizations by learning how to make use of project outcome data in operating and adjusting assistance provided to eligible persons.

(3) Maximum Grant Amounts. The maximum amount that you may receive is $1,200,000 for program activities (e.g., activities that directly benefit eligible persons), irrespective of the number of applications that you submit. You may also add-on up to 3 percent of this program activities amount for grantee administrative costs and, if your program involves project sponsors, add-on up to 7 percent of the amount they receive for their administrative costs. In addition, you must add up to $50,000 for project outcome activities.

III. Policy Priorities

(A) Departmental Policy Priorities. As outlined in Section II of the General Section of the SuperNOFA, HUD has identified policy priorities that applicants are encouraged to address through the proposed plans. HUD has identified two Departmental policy priorities as being applicable to the HOPWA program. Applications for HOPWA funding will receive a rating point for each applicable Departmental policy priority initiative addressed through the proposed program activities and performance goals and objectives. Applicants must demonstrate how these priorities will be addressed through the Soundness of Approach Section of the application as outlined under Rating Factor 3. One Rating Point will be awarded to each of the following addressed priorities:

(1) In accordance with Section II (C) of the General Section of the SuperNOFA, for applicants seeking HOPWA funds for capital development activities, including rehabilitation or new construction, you are encouraged to:

(a) Institute visitability standards in these activities undertaken with HOPWA funds. Visitability standards allow a person with mobility impairments access into the home, but do not require that all features be made accessible.

(b) Incorporate universal design in the construction or rehabilitation of housing undertaken with HOPWA funds. Universal design provides housing that is usable by all without the need for adaptation or specialized design.

(2) For applications in which the grantee, project sponsor(s), or other collaborating organizations meets the definition of a faith-based, other community-based, or grassroots organization as defined in Section II (D) of the General Section of the SuperNOFA.

(B) Program Policies—Target Populations. The Department has been advised by persons living with HIV/AIDS, HIV/AIDS housing providers, and national organizations, of the continuing disparity in accessing housing, health-care, and HIV/AIDS treatment among underserved populations, as well as health-related disparities that result from limited access to health-care, treatment and other support for persons living with HIV/AIDS. Applications seeking to provide housing assistance and related supportive services to one or more of the following underserved populations will receive one point for each priority addressed in the application. To receive this consideration, you must demonstrate the need of the special population in your area under the Need/Extent of the Problem section of your application as outlined under Rating Factor 2, as well as, demonstrate your response to this need under the Soundness of Approach section of your application as outlined under Rating Factor 3.

HUD reserves the right to select the highest rated application (but not one that is rated at less than 75 points) that demonstrates that the planned HOPWA activities and activities supported by leveraged funds, will serve one of the following special populations of HOPWA eligible persons. If funds are insufficient to select one of each of these two special demonstration grants, HUD's selection priority will be in the order listed:

(1) Persons with HIV/AIDS and their families who are living in the Colonias. Primarily the southwest border area of the United States, the Colonias are home to persons living in extreme poverty and poor housing conditions. With the limited access to HIV/AIDS housing, services, healthcare, and treatment, persons living with HIV in the Colonias do not receive the necessary care and treatment. HUD is encouraging applications that strive to meet the needs of eligible persons living in the Colonias. Applicants seeking funding to serve persons with HIV/AIDS within the Colonias must propose a service area which meets the definition of Colonias found in the General Section II (E) of the SuperNOFA.

(2) Persons with HIV/AIDS experiencing chronic homelessness. A chronically homeless person is defined as: “an unaccompanied homeless individual with a disabling condition who has either been continuously homeless for a year or more OR has had at least 4 episodes of homelessness in the past 3 years.” Persons who are infected with HIV are more likely to be able to follow complex treatment regimens if they have a reliable address where they can be reached by care providers, a safe place to keep medications, refrigeration for drugs that require it, and other necessities that many of us take for granted. HUD is encouraging applications that strive to create additional permanent housing for persons living with HIV/AIDS that are experiencing chronic homelessness. Applicants should work with their local Continuum of Care Plans to create this permanent housing for persons living with HIV/AIDS and their families.

IV. Program Requirements

(A) Performance Measures and Project Goals and Objectives. You must use HUD's required performance measures, as detailed below, that will show your accomplishments in using HOPWA funds to expand the housing options that benefit eligible persons. You must also establish individual goals and objectives for your proposal. They should be specific, achievable and measured within set time periods. Your individual goals and objectives should result in possible findings on the successes and lessons learned in undertaking your activities that would be shared with other communities. In designing your proposal, please use the following:

(1) Required HOPWA national performance goal. Your proposed activities must increase the amount of housing assistance available to eligible persons to enable them to achieve housing stability and access to health-care and related supportive services. Your activities should also address the challenge of homelessness for person living with HIV/AIDS and their families by helping them move into permanent housing and strengthen community linkages for HOPWA eligible persons and their families to keep them from slipping back into homelessness (one extra priority point will be awarded—see above—Section III (B)).

(2) Measurements of Performance. After each year of operation, you must report on the number of housing units that were provided with HOPWA and other funding, and the number of additional persons served with related supportive services. HUD will measure your progress and achievements in evaluating your performance on your HOPWA grant.

(B) Descriptive Budget. You must provide a description of each of your requested budget items and how the funds will be used, including each amount of requested funding for you and your project sponsors, and a description of how each line item will relate to eligible HOPWA activities as defined in Part D, Section II (B) of this Program Section. You are expected to match requested funds to specific goals and objectives in your project. See Appendix D.

V. Application Selection Process

(A) HOPWA Application Threshold Reviews. HUD will review your HOPWA application to ensure that:

(1) Your application meets the threshold requirements found in Section V (B) of the General Section of the SuperNOFA.

(2) Your application contains all required certifications as outlined in Part A, Section VI (A) of this Program Section: Forms, Certifications, and Assurances.

(B) Procedures for the Rating of Applications. HUD will rate all HOPWA applications based on the factors listed below.

The points awarded for the factors total 100. In addition, bonus points for projects in RC/EZ/EC areas may be available under Section VI (C) of the General Section of this SuperNOFA. After rating, all applications will be placed in the rank order of their final score for selection within the appropriate category of assistance.

Rating Factor 1: Capacity of the Applicant and Project Sponsors and Relevant Organizational Experience (20 Points)

Address the following factor on not more than five (5) double-spaced, typed pages. For each project sponsor, you may add two additional pages. This factor addresses the extent to which you and any project sponsor have the organizational resources necessary to successfully implement your proposed activities in a timely manner. If you will be using project sponsor(s) in your project, you must identify each project sponsor in your application. HUD will award up to 20 points based on your and any project sponsor's ability to develop and operate your proposed program in relation to which entity is carrying out an activity.

(a) With regard to both you and any project sponsor(s), HUD will consider:

(i) Past experience and knowledge in serving persons with HIV/AIDS and their families;

(ii) Past experience and knowledge in programs similar to those proposed in your application;

(iii) Experience and knowledge in monitoring and evaluating program performance and disseminating information on project outcomes; and

(iv) Past experience as measured by expenditures and measurable progress in achieving the purpose for which funds were provided.

(b) In reviewing the elements of paragraph (1), HUD will consider:

(i) The knowledge and experience of the proposed project director and staff, including the day-to-day program manager, consultants, and contractors in planning and managing the kind of activities for which you are requesting funds. You and any project sponsor will be judged in terms of recent, relevant, and successful experience of staff in undertaking eligible program activities;

(ii) Your and/or the project sponsor's experience in managing complex interdisciplinary programs, especially those involving housing and community development programs directly relevant to the work activities proposed and carrying out grant management responsibilities.

(iii) If you and/or the project sponsor received funding in previous years in the program area for which you are currently seeking funding, you and your project sponsor's past experience will be evaluated in terms of the ability to attain demonstrated measurable progress in the implementation of your grant awards. Measurable progress is defined as:

(1) Meeting applicable performance benchmarks in program development and operation;

(2) Meeting project goals and objectives, such as, that the number of persons assisted was comparable to the number that was planned at the time of application;

(3) Submitting timely performance reports; and

(4) Expending prior funding as outlined in the prior proposal with no outstanding audit or monitoring issues.

Rating Factor 2: Need/Extent of the Problem (20 Points)

Address this factor on not more than five (5) double-spaced, typed pages. Up to 20 points will be awarded for this factor.

(a) AIDS Cases. (5 Points) Up to five points will be determined by the relative numbers of AIDS cases and per capita AIDS incidence within your service area, in metropolitan areas of over 500,000 population and in areas of a state outside of these metropolitan areas, in the state for proposals involving state-wide activities, and in the nation for proposals involving nation-wide activities. Your application must define a planned service area. To determine these points, HUD will obtain AIDS surveillance information from the Director of the Centers for Disease Control and Prevention.

(b) Description of Unmet Need. (5 Points) Up to five points will be awarded based on demonstration of need for funding eligible activities in the area to be served. To receive the maximum points, demonstrate that substantial housing and related service needs of eligible persons and/or the target population, as outlined in Part D, Section III (B), are not being met in the project area and that reliable statistics and data sources (i.e. Census, health department statistics, research, scientific studies, and Needs Analysis of Consolidated Plan and/or Continuum of Care documentation) show this unmet need. To receive the maximum points, show that your jurisdiction's Consolidated Plan and Analysis of Impediments to Fair Housing Choice, Continuum of Care Homeless Assistance plans (if homeless persons are to be served), and comprehensive HIV/AIDS housing plans are applicable to your project and identify the level of the problem and the urgency of the need.

(i) If you apply for a SPNS grant, you must describe a need that is not currently addressed by other projects or programs in the area. Also describe any unresolved or emerging issues and the need to provide new or alternative forms of assistance that, if provided, would enhance your area's programs for housing and related care for persons living with HIV/AIDS and their families; or

(ii) If you apply for a project that is part of a Long-Term Comprehensive Strategy in an area that does not receive a HOPWA formula allocation, you must describe the need that is not currently addressed by other projects or programs in the area. You must also describe any unresolved or emerging issues and/or the need to provide forms of assistance that enhance the community's strategy for providing housing and related services to eligible persons.

(iii) HUD will evaluate your presentation of statistics and data sources based on soundness, reliability, and the specificity of information to the target population and the area to be served. If you propose to serve a subpopulation of eligible persons on the basis that these persons have been traditionally and are currently underserved (e.g., persons with multiple disabilities including AIDS), your application must document the need for this targeted effort through statistics and data sources that support the need of this population in your service area.

(c) Need in Non-Formula Areas and Need for Renewals. (5 Points)

Under this criterion, HUD will award points under the following two circumstances:

(i) Five points will be awarded if your SPNS application proposes to serve eligible persons in an area that does not qualify for HOPWA formula allocation; or

(ii) Up to five points will be awarded, if you propose to continue the operations of HOPWA funded activities that have been supported by HOPWA competitive funds in years immediately prior to this application and that have operated with measurable success. To receive the maximum points, you must describe what unmet need would result if funding for the project was not renewed from this federal funding and describe your efforts to secure other sources of funding to continue this project. You must also show that you operated with measurable progress and your previous HOPWA-funded activities have been carried out and are nearing completion of the planned activities in a timely manner. Measurable progress is defined as:

(1) Meeting performance benchmarks, as appropriate, in program development and operation;

(2) Meeting project goals and objectives, such as, that the number of persons assisted is comparable to the number that was planned at the time of application;

(3) Submitting timely performance reports; and

(4) Expending 50% of prior funding by the application due date of this Program Section of the SuperNOFA.

(d) Highest Rated in a State or the Nation (for nationwide activities).

(5 Points) After rating of all other factors, HUD will award five points to help achieve greater geographic diversity in funding activities within a variety of states. Under this criterion, five points will be awarded to the highest rated SPNS and Long-Term applications in each state and to the highest rated SPNS application among the applications that propose nationwide activities.

Rating Factor 3: Soundness of Approach: Model Qualities and Responsiveness/Coordination/Sustainability (40 Points)

Address this factor on not more than twenty (20) double-spaced, typed pages. Include the HOPWA Budget Forms found in Appendix D. This factor addresses the method by which your plan meets your identified needs. HUD will award up to 40 points based on the extent to which your plan evidences a sound approach for conducting the HOPWA activities in a manner that is responsive to the needs of eligible persons and that your plan for project coordination, and its sustainability after the period of the award, will offer model qualities in providing supportive housing opportunities for eligible persons, when compared to other applications and projects funded under previous HOPWA competitions.

(a) Responsiveness/Coordination/Sustainability (20 Points). HUD will award up to 20 points (Responsiveness—10 Points, Coordination—5 Points, and Sustainability—5 Points) based on how well your project plans respond to the unmet needs in housing and related supportive services for the eligible population, including target populations outlined under Part D, Section III. You should demonstrate the extent to which you have coordinated your activities and the activities of your project sponsors with other organizations that are not directly participating in your proposed work activities. This involves organizations with which you share common goals and objectives in assisting eligible persons. You must demonstrate the extent to which your program exhibits the potential to be financially self-sustaining by decreasing dependence on federal funding and relying more on state, local, and private funding so your activities can be continued after your grant award period is completed. In order to ensure that resources are used to their maximum effect within the community, it is important that you demonstrate involvement in other state, local, and private funding arenas.

(i) Responsiveness (10 Points). To receive the highest ratings in this element your application must address:

• The projected number of persons to be served through each activity for each year of your program;

• The projected number of housing units, by type, to be provided through your project, by year, over a 3-year period; and

• The specific organizations that will provide housing, supportive services, or other activities either through an agreement with your organization or through funding from your project.

Include a description of the roles, and responsibilities of your project sponsors and/or other organizations within your project plan and how these will be coordinated in conducting eligible activities. To receive the maximum points for your project plan, you must explain and describe the eligible activities you or your project sponsor intend to conduct, where these activities will take place (either on site or at another location), and how those activities will benefit eligible persons. Please describe:

(1) Housing Activities. You must demonstrate how the housing needs of eligible persons will be addressed through one or more of the HOPWA eligible activities or through other resources and how such activities are coordinated with other housing assistance. Your plan for housing assistance must include:

(a) Linkage to or the provision of permanent supportive housing. You must describe how eligible persons will access permanent housing options through your project or through specific commitments or other sustainable linkages with other community housing providers, even if the focus of your project is emergency or transitional assistance.

(b) Description of housing site. You must describe any appropriate site features, including accessibility, visitability, and access to other community amenities associated with your project.

(c) A development and operations plan. You must describe a development and/or operations plan for the housing assistance you are proposing to provide. For rental assistance programs, this will include your plan for providing rental assistance, proposed housing sites, and length of stay. If you are proposing to use HOPWA funds for acquisition, rehabilitation, or new construction activities, your plan must also document that you have secured funding sources (if applicable), identified a site(s), and must provide rehabilitation/construction timelines.

(d) Operational Procedures. Describe your outreach, intake, and assessment procedures, as well as how eligible persons will receive housing support with access to medical care and other supportive services. Describe the use of housing being funded from other sources, and how your project provides for on-going assessments of the benefits received by eligible persons. Include a description of how a client moves through the housing program from outreach, intake, client assessment, the delivery of housing services, the use of emergency, transitional or permanent housing, and, if appropriate, the outplacement to more self-sufficient independent housing.

(2) Supportive Services Activities. You must describe how the supportive service needs of eligible persons will be addressed from HOPWA or other sources by describing the type of supportive services that will be offered directly by the program and/or how services will be accessed and coordinated from other sources. Explain the connection of these services in helping eligible persons obtain and/or maintain housing. You are reminded that supportive service costs may represent no more than 35 percent of your program activity costs. In describing your supportive services delivery plan explain:

(a) How eligible persons will have access to mainstream programs that offer healthcare and other supportive services, as discussed in Part A, Section VII (C);

(b) How eligible persons will participate in decision making in the project operations and management;

(c) Your plan for delivering supportive services through a comprehensive plan that shows how eligible persons access medical care and other supportive services to address their needs.

(3) Additional Activities. You must describe your plan for utilizing other requested HOPWA funds (described at 24 CFR 574.300(b)). Explain how these activities will be integrated into your overall plan in the provision of housing and related supportive services to eligible persons.

(4) Other Activities. As authorized by statute and in addition to the activities at 24 CFR 574.300(b), you may propose other activities in your application, if approved by HUD. You must describe the reason of the other activities and the benefits likely to occur if authorized.

(ii) Coordination (5 Points). You should demonstrate the extent to which you have coordinated your activities and the activities of your project sponsors with other organizations that are not directly participating in your proposed work activities. This involves organizations for which you share common goals and objectives. You will be rated on the extent to which you demonstrate you have:

(1) Coordinated your proposed activities with those of other groups or organizations within the community or region prior to submission, to best complement, support, and coordinate all housing and supportive service activities;

(2) Developed your project through consultation with other organizations, groups, or consumers involved with area HIV/AIDS housing and service planning, including planning under the Ryan White CARE Act and other federal planning. The highest rated applicant will demonstrate that the project is integrated with HUD's planning processes, such as the jurisdiction's Consolidated Planning process or the community's Continuum of Care Homeless Assistance planning process (if homeless persons are to be served by proposed activities);

(3) Coordination with other HUD-funded programs outside of the Consolidated Planning Process, for example accessing additional housing resources through a local public housing authority;

(4) Coordination with mainstream resources including private, other public, and mainstream services and housing programs. To achieve the maximum points, applicants must evidence explicit agency strategies to coordinate client assistance with mainstream health, social services and employment programs for which eligible persons may benefit.

(iii) Sustainability (5 Points). The goal of sustainability is to ensure that your activities can be continued after your grant award is complete. Demonstrate the extent to which your program exhibits the potential to be financially self-sustaining by decreasing dependence on federal funding and relying more on state, local and private funding so your activities can be continued after your grant award period is completed. In order to ensure that resources are used to their maximum effect within the community, it is important that you demonstrate involvement in other state, local, and private funding arenas. In evaluating this factor, HUD will consider the extent to which you have:

(1) Developed linkages, or described specific steps you will take to develop linkages with other activities, programs or projects through meetings, information networks, planning processes, letters of participation or coordination, or other mechanisms, to coordinate your activities so solutions are holistic and comprehensively involved with other state, local, or private entities;

(2) Demonstrated how planned activities may be sustained through other resources in order to provide a comprehensive and responsive range of housing and related supportive services to meet the changing needs of persons with HIV/AIDS.

(b) Model Qualities (20 Points). HUD will award up to 20 points based on your service delivery plan and how well it will serve as a model with exemplary qualities to address the ongoing housing and supportive service needs of eligible persons within a replicable operational framework. To receive the maximum points, you must offer a housing plan that describes the following:

(i) Policy Priorities. If applicable to your application, describe how you will meet the Departmental policy priorities emphasized in Part D, Section III of this Program Section.

(ii) Project Management and Oversight. Describe your method for managing and overseeing activities, including those of your organization, your project sponsor, and any other organization. Identify staff members who are responsible for management and oversight of the project and activity implementation.

(iii) Evaluation Plan. Your evaluation plan should identify what you are going to measure, how you are going to measure it, the steps you have in place to make adjustments to your work plan if performance targets are not met within established timeframes, and how you plan to share successes and lessons learned in undertaking your activities with other communities.

(iv) Innovative Qualities. If you propose a new program, or an alternative method of meeting the needs of your eligible persons, describe how the innovative qualities of your activities will become a benchmark for achieving greater housing opportunities and supportive services for persons living with HIV/AIDS. HUD will rate your applications higher if you provide strong evidence that your methods will yield qualities that will benefit or expand knowledge in serving eligible persons, when compared to other applications and HOPWA projects. In order to learn about innovative qualities of previously funded and on-going HOPWA projects, please review the HOPWA Executive Summaries for all HOPWA formula and competitive grantees at http://www.hud.gov.

(v) Other Exemplary Qualities. Demonstrate what exemplary qualities your project contains that will be beneficial to other projects in your area or in other areas across the country. Describe what activities you have undertaken that have been outstanding and that if duplicated would achieve greater housing opportunities for persons living with HIV/AIDS and their families.

(vi) Descriptive Budget. HUD will review your budget in describing:

(1) How each amount of requested funding for you and your project sponsors will be used;

(2) How each line item will relate to eligible HOPWA activities as defined in Part D, Section II (B), of this Program Section of the SuperNOFA; and

(3) A clear and complete statement of the planned activities for your project and demonstrate how these activities are matched with line items for both the grantee and sponsors. You must complete the HOPWA Project Budget Form as described in Part B, Section VI (E). Please note that only the forms are required and an additional narrative under the Model Qualities Section is not required.

Rating Factor 4: Leveraging Resources (10 Points)

This factor addresses your ability to secure community resources that can be combined with HUD's funds to achieve program purposes. HUD will award up to 10 points based on the extent to which resources from other public or private sources have been committed at the time of application, to support your project. To receive the maximum points, you must provide evidence of commitments of leveraged resources that match or exceed the amount of HOPWA funds that are requested, but not including funds designated for data collection.

(a) In establishing leveraging, HUD will not consider other HOPWA-funded activities, entitlement benefits inuring to eligible persons, or conditioned commitments that depend on future fund-raising or actions. In assessing the use of acceptable leveraged resources, HUD will consider the likelihood that state and local resources will be available and continue during the operating period of your grant. In evaluating this factor, HUD will also consider:

(i) The extent to which you document leveraged resources, such as funding and/or in-kind services from governmental entities, private organizations, resident management organizations, educational institutions, or other entities to achieve the purposes of the project for which you are requesting HOPWA funds;

(ii) The extent to which the documented resources evidence that you have partnered with other entities to make more effective use of available public or private resources. Partnership arrangements may include funding or in-kind services from local governments or government agencies, nonprofit or for-profit entities, private organizations, educational institutions, or other entities that are willing to partner with you on proposed activities, or partnering with other program funding recipients to make more effective use of resources within the geographic area covered by your award.

(b) To receive highest leveraging points, you must document the cash value of leveraged resources pledged to your project(s). The commitment of resources will be evidenced by use of the appropriate language as described below:

(i) Applicant or Third Party Cash Resources. If this proposal is funded, (applicant name or third party name) commits $(amount) (of its own funds, if applicant, or to applicant name, if third party) for (type of activity) to be made available to the HOPWA program. These funds will be available from (date) to (date). (Signature and Title of authorized representative and date.)

(ii) Non-Cash Resources. If this proposal is funded, (organization's name) commits to make available (type of resource) valued at $(amount) to the HOPWA program proposed by (applicant name). These resources will be made available to the HOPWA program from (date) to (date). (Signature and Title of authorized representative and date.) The donation of a third party professional service should be valued at the professional's customary charge. The value of materials to be contributed to the project by a third party or by the applicant may also be counted as leveraging.

(iii) Volunteer Time. If this proposal is funded, (name of the organization or of self), commits to provide (number of hours) of volunteer time from (date) to (date) to provide (type of activity) to the HOPWA program proposed by (applicant name). The total value of these services, based on $10.00 per hour, is $(amount). (Signature and Title, and date.) Time to be contributed to the project by volunteers should be valued at $10.00 per hour. In the case of individuals volunteering their time directly to the applicant, the applicant should list itself as the organization.

(iv) Contribution of a Building. If this proposal is funded, (applicant name) pledges the building at (site address) to the HOPWA program. The building has a fair market value of $(amount). A licensed independent real estate appraiser made this appraisal, which is based on comparable properties in the area. (Signature of applicant's authorized representative and date.) Ownership of a building or portion of a building to be used in the project may be counted as leveraging. The fair market value of the building or portion of the building being contributed may be counted. Do not send an appraisal to HUD, but keep documentation of fair market value on file. The contribution of land (as a leveraged resource for new construction) should be treated the same as contribution of a building. You will need to keep documentation of the fair market value on file, particularly if it is improved land and you wish to include the value of the improvements in the contribution.

(v) Contribution of a Building to be Acquired with HOPWA Funds. If this proposal is funded, (applicant name) commits the building at (site address) for the HOPWA program. The building has a fair market value of $(amount). A licensed independent real estate appraiser made this appraisal, which is based on comparable properties in the area. The HOPWA request for the building is $(amount). Therefore, the contribution is the difference between the fair market value and the HOPWA request, or $(amount). (Signature of applicant's authorized representative and date.) The difference between the documented fair market value and the portion paid for with HOPWA funds may be counted as leveraging. Maintain documentation of fair rental value on file.

(vi) Contribution of Leasehold Interest. If this proposal is funded, (applicant name) commits the leasehold interest at (site address) for the HOPWA program. The fair rental value of this site is $(amount) annually, and at constant value will amount to $(amount) over (term of the lease, up to three years). An appropriate independent third party made this appraisal, which is based on comparable properties in the area. The total leasing cost over the term of the lease to be paid with HOPWA funds is $(amount). Therefore, the contribution is the difference between the HOPWA leasing cost and the fair rental value, or $(amount). (Signature of applicant's authorized representative and date.) The difference between the fair rental value (for a term up to three years) and the cost of the lease to be paid for with HOPWA funds may be counted as leveraging.

Factor 5: Achieving Results and Program Evaluation (Maximum 10 Points)

Address this factor on not more than five (5) double-spaced, typed pages. Under this factor, HUD will award 10 points based on how well your application demonstrates a commitment to ensuring that the goals that you set forth and your performance will be assessed in a clear and effective manner. HUD will analyze how well you have clearly implemented the HOPWA program goals and identified the benefits or outcomes of your program including your activities, benchmarks, and interim activities or performance indicators. HUD will award the highest points to applications that demonstrate an evaluation plan that will objectively measure actual achievements against anticipated achievements.

Benchmarks or outputs that are identified in your application should be measurable indicators of actual achievements that help achieve the program outcome goals for the HOPWA Program. These outcome goals should include but are not limited to:

(a) Increase the amount of housing assistance and related supportive services to eligible persons, to establish or maintain housing stability and reduce the risks of homelessness for eligible persons,

(b) Increase the access to permanent housing for low-income eligible persons, to enable these households to become more self-sufficient,

(c) Improve the housing conditions in which low-income and homeless eligible persons and their families live, to increase the number of persons living in housing that is safe, decent, and sanitary, and

(d) Address the challenge of homelessness for persons living with HIV/AIDS and their families by helping them move to permanent housing with appropriate support, with coordinated homeless assistance effort.

Program output measures for your application for the HOPWA Program must include but are not limited to:

(a) The projected numbers of persons to be served through each activity during each project operating year, and

(b) The projected number of housing units by type, to be provided to eligible households through your project during each project operating year,

Your application should also address your evaluation plan. Evaluation is defined as your method for collecting data on HUD program measures to evidence achievement of your project's goals and objectives. HUD will assess your method for reviewing this data and your basis for making relative adjustments in project implementation based on outcomes and lessons learned. Your evaluation plan must include how you propose to utilize the project outcome funding. HUD will award a greater number of points for projects that also provide for a plan for the dissemination of information from the lessons learned from your proposed activities. Three Program Evaluation Logic Models are given as examples on the following pages to illustrate planning for the use of resources, project activities, outputs, outcomes, and goals. Please use the Logic Model (Form HUD-96010-1) in the General Section of this notice to respond to this factor. In addition to using the required HOPWA output measures, applicants may create their own set of activities, other outputs, and project outcomes.

BILLING CODE 4210-32-P

BILLING CODE 4210-32-C

(C) Selection of HOPWA Awards. Whether your HOPWA application is conditionally selected will depend on your overall ranking compared to other applications within each of the two categories of assistance. HUD will select applications in rank order in each category of assistance to the extent that funds are available, except as outlined in Part D, Section III (B): Policy Priorities, where HUD reserves the right to select applications that target the priority eligible populations. In allocating amounts to the categories of assistance, HUD reserves the right to ensure that sufficient funds are available for the selection of at least one application with the highest ranking under each category of assistance. HUD will not select an application that is rated below 75 points.

In the event of a tie between applications in a category of assistance, HUD reserves the right to break the tie by selecting the proposal that was scored higher on a rating criterion in the following order: Soundness of Approach: Responsiveness and Model Qualities (Rating Factor 3); Comprehensiveness and Coordination (Rating Factor 5); the Capacity of the Applicant and Relevant Organizational Experience (Rating Factor 1); the Need/Extent of the Problem (Rating Factor 2); and Leveraging Resources (Rating Factor 4).

HUD will notify you in writing if you are conditionally selected. You may be notified subsequently of any modification made by HUD, the additional project information necessary for grant award, and the date of deadline for submission of the required information. In the event that a conditionally-selected applicant is unable to meet any conditions for fund award within the specified time, HUD reserves the right not to award funds to the applicant and to use those funds to make awards to the next highest rated applications in this competition; to restore amounts to a funding request that had been reduced in this competition; or to add amounts to funds available for the next competition.

VI. Application Submission Requirements

Your HOPWA application must contain the following items in the order shown below. The standard forms can be found in Appendix B to the General Section of the SuperNOFA. The remaining application items that are forms (i.e., excluding such items as narratives, letters) can be found as Appendix D to this Program Section of the SuperNOFA. The items are as follows:

(A) Application for Federal Assistance (Form HUD-424). You should complete Items 1 through 23 with the following additions:

(1) Item 12—The applicable letters are “A” for state; “B, C, or D” for a unit of local government;

(2) Item 14—Enter U.S. Department of Housing and Urban Development or HUD if not preprinted;

(3) Item 15—Enter 14-241 and the title “Housing Opportunities for Persons With AIDS Program” or “HOPWA” for the Catalog of Federal Domestic Assistance;

(4) Item 20—You must complete the budget Funding Matrix on page 2 and the HOPWA Project Budget Form. Please make sure that both the Total Amount on HUD-424 and the “Total Budget” section on the HOPWA Project Budget Form are the same. In the event that the total budgets are in conflict, HUD will refer to the HOPWA Project Budget form.

(5) Item 21—Check “No”.

(B) Executive Summary and Synopsis. Please provide a two to three sentence synopsis of the main focus or features of your proposed program, followed by an Executive Summary of the proposed project on no more than two double-spaced, typed pages. HUD will use this as a summary if your project is chosen for funding. In your abstract, include your organization's name and the name of any project sponsor. Also include the name, telephone number, and e-mail address of the person within your organization and within any project sponsor that is responsible for this application.

(C) Narrative Statements. Your application must include narrative statements that address each of the Factors for Award found at Part D, Section V (B) of this Program Section of the SuperNOFA. Respond to each factor within the stated page limits and do not use a font size smaller than 12 point. Applications failing to submit any of the narrative statements will be rated as zero during the rating process.

(D) Proposed HOPWA Project Information Form. See Appendix D in Program Section of SuperNOFA. Complete the form including the following:

(1) Project Sponsors. You must identify any organization that will receive HOPWA funds as a project sponsor and the amount of funds to be received.

(2) Non-profit Status. Non-profit grantees or project sponsors must submit documentation verifying your non-profit status, as outlined in Part A, Section VI (A).

(3) Service Areas. Your application must identify the area(s) in which you are proposing to offer housing and other assistance.

(E) Budget. You must complete the HOPWA Project Budget Form found in Appendix D of this Program Section of the SuperNOFA, which lists the amount of requested HOPWA funds designated for each type of HOPWA-eligible activity. For more information, please see Part D, Section IV (B) and Rating Factor 3, Soundness of Approach.

(F) Statutory Certifications. You must complete the statutory certifications as outlined in Part A, Section VI section of this Program Section.

After your entire application is assembled, please mark each exhibit with an appropriately numbered tab and number every page of the application sequentially. Complete the HOPWA Application Checklist found in Appendix D to this Program Section of the SuperNOFA. Attach the HOPWA Application Checklist to the front of your application.

BILLING CODE 4210-32-P

Funding Availability for the Assisted Living Conversion Program (ALCP) for Eligible Multifamily Housing Projects

Program Overview

Purpose of the Program. The purpose of this program is to provide grants for the conversion of some or all of the dwelling units in an eligible project into assisted living facilities (ALFs) for frail elderly persons.

Available Funds. Approximately $64 million are available for the conversion of eligible multifamily projects to ALFs ($25 million under the Fiscal Year 2003 Consolidated Appropriations Resolution and $39 million in carryover funds).

Eligible Applicants. Only private nonprofit project owners of eligible developments (as described in Section III of this NOFA) may apply for and become the recipient of a grant.

Application Due Dates. July 10, 2003.

Match. None required.

Additional Information

I. Application Due Date, Application, and Technical Assistance

Application Due Date. Your completed application (one original and four copies) is due on July 3, 2003, at the address shown below.

Application Submission Procedures. New Mailing and Receipt Procedures. HUD has implemented new procedures that impact application submission procedures:

(1) You may not hand deliver your application. HUD will reject any hand delivered application.

(2) You must submit your application to the Multifamily Hub Office that has jurisdiction for the housing development included in your application.

(3) You may submit your application via any mail delivery service; however, HUD recommends that ALCP applications be sent via the United States Postal Service (USPS) as access by other delivery services is not guaranteed.

(4) If you mail your application to the wrong HUD Office and it is not received by the Office designated for receipt by the due date and time, it will be deemed late and will not be considered for funding. HUD is not responsible for directing it to the appropriate office.

See the General Section of the SuperNOFA for specific procedures governing the mailing of applications.

Addresses for Submitting Applications. The official place for receipt of your application is ONLY in the appropriate HUD Multifamily Hub Office. Submit an original and four copies of the ALCP application to the Director of the appropriate HUD Multifamily Hub Office, as listed in Appendix A of this NOFA, with jurisdiction over your development. (To facilitate applicants knowing the correct location to send the application, Appendix B to this NOFA lists the 18 Multifamily Hubs with the Program Centers under each Hub.) Your application will be considered timely filed if your application is received by the designated HUD Office no later than 3:30 pm on the application due date.

For Further Information and Technical Assistance. You should contact the Multifamily Hub where you will be mailing your ALCP Application. (Please refer to Hub telephone numbers in Appendix A.)

You also may contact Faye Norman, Housing Project Manager at (202) 708-3000 x2482 or Aretha Williams, Director, Grant Policy and Management Division, Room 6138 at (202) 708-3000 x2480 for questions regarding the ALF grant award process. This is not a toll free number. Ms. Norman can be reached by e-mail at faye_l._norman@hud.gov and Ms. Williams at aretha_m._williams@hud.gov. Both Ms. Norman and Ms. Williams are located at the Department of Housing and Urban Development, 451 Seventh Street, SW., Washington, DC 20410.

If you have a hearing or speech impairment, you may access the telephone number via TTY by calling the Federal Information Relay Service at 1-800-877-8339.

Application. All information for the submission of your application is included in this NOFA and the General Section of the SuperNOFA. However, for your convenience and ease of submission, an application is being provided as Appendix C of this NOFA. You may also obtain an ALCP application by calling the SuperNOFA Information Center at (voice) 1-800-HUD-8929 (1-800-483-8929). Persons with hearing or speech impairment may call the Center's TTY number at 1-800-HUD-2209. Please be sure to provide your name, address (including zip code), and telephone number (including area code). The application is also available on the Internet through the HUD Web site at http://www.hud.gov/grants.

Note: There is a separate application for service coordinator funds (which is necessary for those needing to enhance or add service coordination per Section IV (D)(13) of this NOFA).

II. Amount Allocated

This NOFA makes available approximately $64 million (approximately $54 million for the physical conversion of eligible multifamily assisted housing projects or portions of projects to ALFs and approximately $10 million for the conversion of up to 2 unused or underutilized commercial properties to ALFs). The Fiscal Year (FY) 2003 funding of $25 million is in the Consolidated Appropriations Resolution, 2003, Pub. L. 108-7, approved February 20, 2003. The $64 million includes $39 million in carryover funds. The allocation formula used for the ALCP to fair share the $64,000,000 reflects demographic characteristics of age and incidence of frailty that would be expected for program participants. The FY 2003 formula consists of one data element from the 2000 decennial census: The number of non-institutional elderly population aged 75 years or older with a disability,

A fair share factor for each state was developed by taking the sum of the persons aged 75 or older with a disability within each state as a percentage of the sum of the same number of persons for the total United States. The resulting percentage for each state was then adjusted to reflect the relative difference in the cost of providing housing among the states. The total of the grant funds available ($54 million) was multiplied by the adjusted fair share percentage for each state, and the resulting funds for each state were totaled for each Hub.

The ALCP grant funds fair share allocations, based on the formula above, to the 18 multifamily Hubs are as shown on the following chart:

Fiscal Year Allocation 2003 for the Assisted Living Conversion Program (ALCP) of Eligible Assisted Multifamily Projects
HUB | Grant authority
Boston | 3,268,998
Buffalo | 1,296,581
New York | 4,366,033
Philadelphia | 5,422,739
Baltimore | 2,502,497
Greensboro | 3,140,895
Atlanta | 5,052,490
Jacksonville | 4,921,568
Chicago | 4,157,759
Columbus | 2,129,329
Detroit | 2,035,287
Minneapolis | 1,864,837
Fort Worth | 5,922,712
Kansas City | 2,998,763
Denver | 1,533,734
Los Angeles | 5,524,003
San Francisco | 5,437,398
Seattle | 2,424,377
Total | 64,000,000

III. Program Description: Eligible and Ineligible Applicants, Developments, and Activities

(A) Program Description. Assisted living facilities (ALFs) are designed to accommodate frail elderly persons and people with disabilities who need certain support services (e.g., assistance with eating, bathing, grooming, dressing and home management activities). ALFs must provide support services such as personal care, transportation, meals, housekeeping, and laundry. Frail elderly person means an individual 62 years of age or older who is unable to perform at least three activities of daily living (ADLs) as defined by the regulations for HUD's Section 202 Program (Supportive Housing for the Elderly) at 24 CFR 891.205. Assisted living is defined in section 232(b)(6) of the National Housing Act (12 U.S.C. 1715w).

The ALCP provides funding for the physical costs of converting some or all of the units of an eligible multifamily development into an ALF, including unit configuration, common and services space and any necessary remodeling, consistent with HUD or the State's statute/regulations (whichever is more stringent). Typical funding will cover basic physical conversion of existing project units, as well as common and services space. There must be sufficient community space to accommodate a central kitchen or dining facility, lounges, recreation and other multiple-areas available to all residents of the project, or office/staff spaces in the ALF. When food is prepared at an off-site location, the preparation area of the facility must be of sufficient size to allow for the installation of a full kitchen, if necessary. You must provide supportive services for the residents either directly or through a third party. Your application must include a firm commitment for the supportive services to be offered within the ALF as part of the application. You may charge assisted living residents for meals and/or service fees. Residents may contract with third party agencies directly for nursing, therapy or other services not offered by the ALF.

(B) Eligible Applicants. Only private nonprofit owners of eligible multifamily assisted housing developments specified in section 683(2) (B), (C), (D), (E), and (F) of the Housing and Community Development Act of 1992 (Pub. L.102-550, approved October 28, 1992) and private nonprofit owners of an unused or underutilized commercial property are eligible for funding. To be eligible, project owners must meet the following criteria where applicable:

(1) Must be in compliance with your Loan Agreement, Capital Advance Agreement, Regulatory Agreement, Housing Assistance Payment contract, Project Rental Assistance Contract, Rent Supplement or LMSA contract, or any other HUD grant or contract document.

(2) Must be in compliance with all fair housing and civil rights laws, statutes, regulations, and executive orders as enumerated in 24 CFR 5.105(a). See Section V(B) (2) of the General Section of the SuperNOFA for further explanation.

Note: If your eligibility status changes during the course of the grant term, making it ineligible to receive the grant (e.g., prepayment of mortgage, sale/TPA of property, or opting out of a Section 8 Housing Assistance Payment (HAP) contract), HUD retains the right to terminate the grant and recover funds made available through this NOFA.

(C) Ineligible Applicants.

(1) Owners of developments designed specifically for people with disabilities.

(2) Owners of Section 232 developments.

(3) Property management companies and agents of property management companies.

(4) Limited dividend partnerships.

(5) Nonprofit Public Agencies.

(6) Owners of unused/underutilized hospitals or other health-related facility which are considered to be eleemosynary institutions rather than commercial enterprises.

(D) Eligible Developments.

(1) Eligible projects must be owned by a private, nonprofit entity and designated primarily for occupancy by elderly persons. Projects must have been in occupancy for at least 5 years from the date the HUD Form 92485, Permission to Occupy Project Mortgage, was approved by HUD's Construction Manager as Chief Architect, and have completed final closing. Additionally, eligible projects must meet one of the following criteria:

• Section 202 direct loan projects with or without Section 8 rental assistance,

• Section 202 capital advance projects receiving rental assistance under 202(C)(2),

• Section 515 rural housing receiving Section 8 rental assistance,

• Other projects receiving Section 8 project-based rental assistance,

• Projects subsidized with Section 221(d)(3) below-market interest mortgage,

• Projects assisted under Section 236 of the National Housing Act.

Your project must:

(a) Meet HUD's Uniform Physical Conditions Standards at 24 CFR part 5, subpart G. Meeting these standards as described, means that the project, based on the most recent Real Estate Assessment Center (REAC) physical inspection report and responses thereto, must have a “satisfactory” rating as evidenced by a score of 60 or better or a HUD-approved and on schedule repair plan for developments scoring less than 60. Additionally, the project must have no uncorrected and outstanding Exigent Health and Safety violations. Finally, the project must not have on file a management review with a rating of “minimally satisfactory” or “unsatisfactory” with open and unresolved findings.

(b) Have a residual receipts account separate from the Reserve for Replacement account, or agree to establish this account as a condition for getting the award(s).

(2) Unused and underutilized commercial properties.

(E) Eligible Conversion Activities. Eligible activities are:

(1) Retrofitting to meet Section 504 accessibility requirements, minimum property standards for accessibility and/or building codes and health and safety standards for ALFs in that jurisdiction. Examples are items such as addition of:

(a) Sprinkler systems;

(b) An elevator or upgrades thereto;

(c) Lighting upgrades;

(d) Major physical or mechanical systems of projects necessary to meet local code or assisted living requirements;

(e) Upgrading to accessible units for the ALF with moveable cabinetry, accessible appliances, sinks, bathroom and kitchen fixtures, closets, hardware and grab bars, widening of doors, etc.;

(f) Upgrades to safety and emergency alert systems;

(g) Addition of hallway railings; and,

(h) Medication storage and work stations;

(2) Retrofitting to add, modify and/or outfit common space, office or related space for ALF staff including a service coordinator and file security, and/or a central kitchen/dining facility to support the ALF function (e.g., outfit lounge/common space/dining furniture, kitchen equipment for cooking/serving and dishware).

(3) Retrofitting to upgrade a regular unit to an accessible unit for a person/family with disabilities who is being displaced from an accessible unit in the portion of the project that is being converted to the ALF, where another accessible unit is not available.

(4) Temporary relocation (not applicable to commercial property).

(5) Consultant, architectural and legal fees.

(6) Vacancy payments not more than 30 days after conversion to an ALF.

(F) Ineligible Activities. You may not use funds available through this NOFA to:

(1) Add additional dwelling units to the existing project (not applicable to commercial property);

(2) Pay the costs of any of the necessary direct supportive services needed to operate the ALF;

(3) Purchase or lease additional land;

(4) Rehabilitate (see definition at 24 CFR 891.105) the project for needs unrelated directly to the conversion of units and common space for assisted living;

(5) Use the ALCP to reduce the number of accessible units in the project that are not part of the ALF (not applicable to commercial property);

(6) Permanently relocate any resident out of the project; and,

(7) Increase the management fee.

IV. Program Requirements

In addition to the statutory, regulatory, threshold and public policy requirements listed in Section V of the General Section of this SuperNOFA, each applicant must comply with the following requirements:

(A) Statutory, Regulatory, and Other Program Requirements. You must comply with all applicable statutory requirements to the projects specified in Section 202(b) and statutory requirements under Section 232(b)(6). Please note that all ALCP projects must conform to the 500-year flood plain limitation (See Section VII of this NOFA.) Construction of ALCP units is considered a “critical action” for purposes of the flood plain requirement.

Excess Residual Receipts (over $500/unit) and Reserve for Replacement (R4R) funds (over $1000/unit) in Project Accounts that are not approved for another use at the time of application to HUD under this NOFA are considered available funds and must be applied towards the cost of conversion activities. Before making this determination, however, HUD staff will consider the extent of repair/replacement needs indicated in the most recent REAC physical inspection and not yet approved and any ongoing commitments such as non-grant-based service coordinator or other funding, where existing, deduct the estimated costs of such items from the R4R and residual receipts balances to determine the extent of available residual receipts and R4R funds for the ALCP. (This paragraph is not applicable to commercial properties.)

If funded, you must also file a HUD Form-2530 for all construction contractors, architects, consultants, and service provider organizations under direct contract with you that will be engaged under this NOFA and comply with all State and local licensing, zoning and building code requirements.

(B) Meals and Supportive Services. You must develop and submit a Supportive Services Plan (SSP) for the services and coordination of the supportive services which will be offered in the ALF to the appropriate state or local organization(s) which are expected to fund those supportive services. (See Section VI(B)(8) of this NOFA below, for the information which must be in the SSP.) You must submit one copy of your SSP to each appropriate State or local service funding organizations well in advance of the application deadline, for appropriate review. The State or local funding organization(s) must return the SSP to you with appropriate comments and an indication of the funding commitment, which you will then include with the application you submit to HUD.

You must ALSO submit the SSP to the appropriate organization(s) which license ALFs in your jurisdiction. The licensing agency(ies) must approve your plan, and must also certify that the ALF and the proposed supportive services identified in your SSP, are consistent with local statute and regulations and well designed to serve the needs of the frail elderly and people with disabilities who will reside in the ALF portion of your project.

Finally, you must also submit an agreement to pursue appropriate ALF licensing in a timely manner.

(C) Minimum Size Limits for an ALF. An ALF must be economically feasible. Consistent with HUD Handbook 4600.1, CHG-1, the minimum size for an ALF is five units.

(D) Program Requirements. The following program requirements apply: (Note: Program Requirements described in paragraphs 3, (8)(a) and (b), and (12) below are not applicable to applicants requesting funding to convert commercial facilities):

(1) Your ALF facility must be licensed and regulated by the state (or if there is no state law providing such licensing and regulation, by the municipality or other subdivision in which the facility is located). Each assisted living unit must include its own kitchen, bathroom, bedroom, living/dining area (1 bedroom unit) or kitchen, bathroom, bedroom/living/dining area (efficiency unit) and must meet the state and/or local licensing, building, zoning and other requirements for an ALF.

(2) Your ALF must be available to qualified elderly persons and persons with disabilities, consistent with the rules and payment plans of the State, who need and want the supportive services in order to remain independent and avoid premature institutionalization.

(3) Your ALF's residents must be tenants or residents of the multifamily project and must comply with the requirements applicable to the project. Thus, you cannot charge additional rent over what is charged to residents in the non-ALF portion of the project. All admissions to the ALF must be through the applicable project admissions office. However, persons accepted into the ALF also must sign an ALF admissions agreement which shall be an addendum to the applicable project lease.

(4) At a minimum, your ALF must provide room, board (as defined in Section IV(B)(6)(below) and continuous protective oversight (CPO). CPO involves a range of activities and services that may include such things as awareness by management and staff of the occupant's condition and location as well as an ability to intervene in a crisis for dependent and relatively independent occupants on a 24-hour basis. The two occupant groups in an ALF are:

(a) Independent Occupants: Awareness by management and staff of the occupant's condition and whereabouts as well as the availability of assistance for the occupants as needed.

(b) Dependent occupants: Supervision of nutrition, assistance with medication and continuous responsibility for the occupants' welfare.

(5) Anyone moving into an ALF unit must agree to accept as a condition of occupancy the board and services required for the purpose of complying with state and local law and regulation. However, occupancy in an ALF unit may not be conditioned on receipt of other services or board not required by state or local requirements.

(6) Your ALF must offer three meals per day to each resident.

(a) Residents whose apartments have kitchens must take at least the number of meals a day provided by the facility, per their mandatory meals requirement, or as required by state or local rules, if more stringent. If the facility does not have a mandatory meals plan, then state and local rules govern.

(b) Residents in projects which were originally constructed without kitchens in their units must take such meals as required by their mandatory meals agreement, or by the state's mandated requirements if more stringent (e.g., 2 meals, 2 snacks daily).

In either case, ALF management must coordinate meals requirements with the needs of residents who are out part of the day (e.g., in day care). The meals program may not be operated at a profit by the project owner.

(7) Your ALF's operation must be part of the project owner's management organization. Some or all of its functions may be contracted out. The ALF must predicate its budget on a two-tiered structure under which board and supportive service income and expenses must be maintained separately and independently from the regular income and expenses of the applicable project. The two components of ALF costs are:

(a) Charges/payment for board, which may be on a sliding scale or any other equitable fee system; and

(b) Charges/payment for necessary supportive services, which may include a combination of resident fees, Medicaid and/or other third party payments.

(8) Priority admissions for ALF units are as follows:

(a) Current residents desiring an ALF unit and meeting the program requirements (no resident can be required to accept an ALF unit).

(b) Qualified individuals or families needing ALF services who are already on the project's waiting list;

(c) Qualified individuals or families in the community needing ALF services wanting to be added to the project's waiting list; and

Note: Qualified disabled non-elderly persons needing assisted living services are eligible to occupy these units on the same basis as elderly persons, except for section 202 project rental assistance contracts (PRAC) projects and unused/underutilized commercial properties.

(9) The management of the project must set up a separate waiting list for ALF units. ALF units must be for eligible residents who meet the admissions/discharge requirements as established for assisted living by State and local licensing, or HUD frailty requirements under 24 CFR 891.205 if more stringent.

(10) Costs of meals and supportive services are not covered by this HUD grant. These items must be paid for through other sources (e.g., a mix of resident fees and/or third party providers). Evidence of third party commitment(s) must be included as part of the application. (See Section VI B(6) of this NOFA.) The assisted living supportive services program must promote independence and provide personal care assistance based on individual needs in a home-like environment. In accordance with Section 504 of the Rehabilitation Act of 1973 and HUD's regulations at 24 CFR 8.4(d), the project must deliver services in the most integrated setting appropriate to the needs of qualified individuals with disabilities (see Section VI(B)(8)(b) through (c) of this NOFA).

(11) Upon receipt of a grant under this program, all project owners participating in the ALCP must provide a Declaration of Restrictive Covenants (DRC), which will be recorded with the land, to retain the low income character of the housing, and to maintain the project (including the ALF), as a moderate, low, or very low income facility (as appropriate) for at least 20 years beyond the current 40-to-50 year term of the mortgage loan or capital advance. Recipients of grant funds to convert unused or underutilized commercial property must provide a DRC for at least 20 years or for the term of the mortgage on the property whichever is longer.

(12) This program does not allow permanent displacement of any resident living in the project at the time the application was submitted to HUD. (HUD will only provide temporary relocation costs for current tenants if they must vacate their unit while conversion work is underway (normal temporary relocation costs include increases in rent, reconnection of telephones, moving costs and appropriate out-of-pocket expenses)).

(13) The ALCP requires service coordination responsible for linking the ALF to services in the community which are available to low-income persons. All projects funded under this NOFA must have sufficient service coordination in place, or request additional funds, if appropriate, to ensure that services meeting licensing requirements are available to ALF residents on an ongoing basis. Service coordination must be described in the application (see Section VI(B)(8)(b) through (c) of this NOFA). If you need to enhance an existing service coordination program or add one where it does not exist, you may apply for funding through the Service Coordinator NOFA, published elsewhere in this SuperNOFA, and attach a copy of the Form HUD 424 so indicating the request to the ALCP application. Alternatively, you may show evidence that funding for the enhanced service coordination is provided by other sources and indicate such funding on the HUD Form 424 which is exhibit 10(a) of your ALF application. If you are funded under this NOFA and requested new or enhanced service coordination you will be funded first under the service coordinator NOFA.

Note: If you are a Section 202 PRAC project owner or an owner with unused or underutilized commercial properties, you are NOT eligible to request funding under the service coordinator NOFA. Section 202 PRAC owners can pay for the service coordinator out of PRAC funds.

In addition to above requirements, the following applicable guidelines are stated:

(a) The ALF must be staffed either directly or through coordination with local agencies, depending on state regulations or local requirements. These may also serve non-ALF residents of the project on a time available and appropriate fee basis.

(b) The ALF may cater to the special needs of residents depending on their condition or diagnosis, such as Alzheimer's disease. If it does so, the design/environment of such facilities must accommodate those needs, e.g., dementia special care unit. However, the ALF cannot provide a service it is not licensed by the State or locality to provide.

Note 1: Owners of section 202/PRAC projects are reminded that they may include a PRAC payment of up to $15/unit/month not to exceed 15% of the total program cost, consistent with 24 CFR 891.225(b)(2) to cover part of the cost of meals and/or supportive services for frail elderly residents, including residents of the ALF.

Note 2: Training for ALF staff is an eligible project cost under existing operating procedures.

For further information on ALFs, please refer to Handbook 4600.1, CHG-1, “Mortgage Insurance for Residential Care Facilities,” Chapter 13. This Handbook and recent ALF program Notices are accessible through HUDCLIPS on HUD's web site. The URL for the HUDCLIPS Database Selection Screen is http://www.hudclips.org/subscriber/cgi/legis.cgi. These notices are in the Handbooks and Notices—Housing Notices database. Enter only the number without the letter prefix (e.g., 99-16) in the “Document number” to retrieve the program notice.

For further guidance on service coordinators, please refer to Handbook 4381.5 REV-2, CHANGE-2, Chapter 8, “The Management Agent's Handbook,” which is also available through the HUDCLIPS database.

(E) Compliance with Other Program Requirements: By the submission of the application for grant funds, the Owner is certifying to comply with the following program requirements:

(1) Establish a residual receipt account as soon as there is surplus cash available, if applicable.

(2) Apply for an ALF license with due diligence and in a timely fashion.

(3) Comply with the requirements of the Fair Housing Act, Title VI of the Civil Rights Act, the Age Discrimination Act of 1975, Section 3 of the Housing and Urban Development Act of 1968 (12 U.S.C. 1701u) and the implementing regulations at 24 CFR part 135, the affirmative fair housing marketing requirements of 24 CFR part 200, subpart M and the implementing regulations at 24 CFR part 108, which requires that the project be marketed to those least likely to apply including those who are not generally served by the agency administering the program, and other applicable Federal, State and local laws prohibiting discrimination and promoting equal opportunity including affirmatively furthering fair housing, and other certifications listed in the application.

(4) Comply with section 232 of the National Housing Act, as applicable, the Uniform Federal Accessibility Standards (24 CFR 40.7), section 504 of the Rehabilitation Act of 1973 and HUD's implementing regulations at 24 CFR part 8, and the design and construction requirements of the Fair Housing Act and HUD's implementing regulations at 24 CFR part 100, and the Americans with Disabilities Act of 1990 for all portions of the development physically affected by this proposal;

(5) Comply with the Davis-Bacon requirements and the Contract Work Hours and Safety Standards Act as applied to this program. While it has been determined that Davis-Bacon does not apply statutorily to the ALCP, the Department has administratively determined that Davis-Bacon standards and overtime rates in accordance with the Contract Work Hours and Safety Standards Act will be adhered to in any ALCP conversion grant in which the total cost of the physical conversion to an ALF (and including any additional renovation work undertaken at the same time) is $500,000 or more (this includes ALCP grant funds, owner funds, or any third party funds loaned or granted in support of the conversion or other renovation for the project associated with this grant), and in which the ALF portion of the project is 12 units or more.

V. Application Selection Process

(A) Review for Curable Deficiencies. You should ensure that your application is complete before submitting it to HUD.

HUD will screen all applications received by the deadline for curable deficiencies. With respect to correction of deficient applications, HUD may not, after the application due date and consistent with HUD's regulations in 24 CFR part 4, subpart B, consider any unsolicited information an applicant may want to provide. HUD may contact an applicant to clarify an item in the application or to correct technical deficiencies. Please note, however, that HUD may not seek clarification of items or responses that improve the substantive quality of a response to any selection factors. In order not to unreasonably exclude applications from being rated and ranked, HUD may contact applicants to ensure proper completion of the application and will do so on a uniform basis for all applicants. Examples of curable (correctable) technical deficiencies include failure to submit the proper certifications or failure to submit an application that contains an original signature by an authorized official. In each case, under this NOFA, the appropriate HUD Multifamily Hub Office will notify you in writing by describing the clarification or technical deficiency. You must submit clarifications or corrections of technical deficiencies in accordance with the information provided by the Hub Office within 14 calendar days of the date of receipt of the HUD notification. (If the due date falls on a Saturday, Sunday, or Federal holiday, your correction must be received by HUD on the next day that is not a Saturday, Sunday, or Federal holiday.) If the deficiency is not corrected within this time period, HUD will reject the application as incomplete, and it will not be considered for funding. The following is a list of the deficiencies that will be considered curable in ALCP applications:

Exhibits

(1) *(a) Articles of Incorporation, or certification of Articles of Incorporation.

*(b) By-laws, or certification of by-laws.

(3) Evidence of occupancy for at least five years (not applicable to commercial facilities).

(5) (c) Original project plans.

(h) Relocation (not applicable to commercial property).

(7) Evidence of Permissive Zoning.

(10) Certifications and Forms

(a) HUD Form 424, Application for Federal Assistance, including Federal Assistance Funding Matrix, and Compliance with Executive Order 12372.

(b) HUD Form 424B, Applicant Assurances and Certifications, Certification of a Drug-free Workplace, Certification to Influence Federal Transaction and Standard Form LLL, Disclosure of Lobbying Activities and Certification Regarding Debarment and Suspension.

(c) Form HUD 2880, Applicant/Recipient Disclosure/Update Report including Social Security and Employment Identification numbers.

(d) Form HUD-2991, Certification of Consistency with the Consolidated Plan (Plan), for the Jurisdiction in which the Proposed ALF will be located.

The appropriate Hub Office will notify you in writing if your application is missing any of the exhibits listed above and you will be given 14 days from the date of receipt of the HUD notification to submit the information required to cure the noted deficiencies. The exhibits identified by an asterisk (*) must be dated on or before the application deadline date. If not so dated the application will be rejected.

After the completeness review, HUD staff will review your application to determine whether the application meets the threshold requirements listed below. Only if your application meets all the threshold requirements is it eligible to be rated and ranked. Applications that do not pass threshold will be rejected.

(B) Threshold Review. In order to pass threshold, you must:

(1) Be in compliance with all fair housing and civil rights laws, statutes, regulations, and executive orders as enumerated in 24 CFR 5.105(a), and as noted earlier in this NOFA under Sections III(B)(2) and IV(E).

(2) Be an eligible applicant.

(3) Not request more funds than advertised.

(4) Additionally, HUD will also reject your application if the SSP and/or commitment and support letter(s) from the appropriate funding organizations and the appropriate licensing agency(ies):

(i) Are not submitted with your application;

(ii) Indicate that the ALF units, facilities, meals and supportive services to be provided are not designed to meet the special needs of the residents who will reside in the ALF as defined in this NOFA,

(iii) Do not show commitment for funding the meals and supportive services proposed; or

(iv) Indicate that the project as proposed will not meet the licensing requirements of the appropriate State/local agency(ies).

(C) Review Panels. The Office of Housing's Multifamily Hubs will establish panels to review all eligible applications that have passed threshold. The panels may include knowledgeable persons not currently employed by HUD.

(D) Rating of Applications (See paragraph below for selection of applications for commercial properties).

HUD staff teams will review and rate ALCP applications in accordance with the Ranking and Selection procedures (see Section V(F) of this NOFA). All applications will be either rated or technically rejected at the end of technical review. If your application meets all program eligibility requirements after completion of technical review, it will be rated according to the rating selection factors in Section V(G) of this NOFA. HUD reserves the right to reduce the amount requested in the application if any proposed components are ineligible or if the cost of items is not deemed reasonable. HUD will not reject an ALCP application based on technical review without notifying you of that rejection with all the reasons for the rejection, and providing you an opportunity to appeal. As discussed above, you will have 14 calendar days from the date of HUD's written notice to appeal a technical rejection to the Multifamily Hub where the applications were sent originally. HUD staff will make a determination on an appeal before finalizing selection recommendations.

(E) Applicant Debriefing. All requests for debriefing must be made in writing and submitted to the local Hub in which you applied for assistance. Materials provided to you during your debriefing will include the final scores you received for each rating factor, final evaluator comments for each rating factor, and the final assessment indicating the basis upon which assistance was provided or denied. Information regarding this procedure may be found in the General Section of the SuperNOFA.

(F) Ranking and Selection Procedures. (Paragraphs (F)(1)-(4) are not applicable to applicants of commercial properties.)

Applications submitted in response to this NOFA that are eligible, pass threshold and have a total score of 75 points (or more) are eligible for ranking and selection. (Applications for the conversion of commercial properties with a score of at least 75 points will not be ranked but will be submitted to HUD Headquarters for selection.)

(1) Hub staff teams will be established for ALCP review in each Hub to do the application ratings (see Section V(D) above). See list of Hubs in Appendix A of this NOFA.

(2) From within rank order, Hub staff teams in each of the 18 Hubs will select the highest ranked applications from within that Hub in rank order, that can be funded from within the dollars available. Each Hub will select applications based on rank order up to and including the last application that can be funded out of each Hub's allocation. Hubs must not skip over any applications in order to select one based on the funds remaining.

(3) After making the initial selections, however, Hubs may use any residual funds to select the next rank-ordered application by reducing the dollars requested by no more than 10 percent (10%) and reducing the number of units proposed, but in no case reducing the number of units below the financial threshold feasibility of five ALF units.

(4) Funds remaining after these processes are completed will be returned to HUD Headquarters. HUD will use these funds first to fund Prentis Jewish Federation of the HUD Detroit Hub, whose Fiscal Year 2002 ALCP application was not funded due to HUD error. Second, HUD Headquarters will use these funds to restore units to any project reduced as a result of using the residual grant funds in a Hub. Finally, HUD will use these funds for selecting one or more additional applications based on the Hubs rating and rankings, beginning with the highest rated application within the 18 Hubs. Only one application will be selected per Hub from the national residual amount. If there are no approvable applications in other Hubs, the process will begin again with the selection of the next highest rated application within the remaining Hubs. This process will continue until all approvable applications are selected using the available remaining funds. If there is a tie score between two or more applications, and there are insufficient residual funds to cover all tied applications, HUD Headquarters staff will choose the winning application(s) by lottery and/or reduction of grant requests consistent with the instructions above.

(5) Up to 2 applications will be selected using the $10 million set-aside to provide grant funds to nonprofit applicants proposing to convert unused or underutilized commercial properties into assisted living. HUD Multifamily Hubs will review applications for commercial properties for completeness and compliance with the eligibility criteria set forth in Section III of this NOFA. Hub staff will forward applications to Headquarters providing the application was received by the deadline date, meets all eligibility criteria, proposes reasonable costs for eligible activities, includes all technical corrections by the designated deadline date and must have received a score of 75 points or more. Headquarters will select no more than 2 applications on a first-come, first-served basis that can be funded within the $10,000,000 available.

Note: Only applications that can be fully funded will be selected. Any remaining funds after this selection process will be returned to the funds allocated for eligible multifamily assisted projects.

(G) Factors For Award Used To Evaluate and Rate Applications.

HUD will rate ALCP applications that successfully complete technical processing using the Rating Factors set forth below and in accordance with the application submission requirements identified in Section VI(B) of this NOFA, below. The maximum number of points an application may receive under this program is 100.

The Department encourages applicants to partner, fund or sub-contract with grassroots organizations, including faith-based and other community-based organizations in conducting their work programs. (See the General Section of the SuperNOFA for the definition of “grassroots organizations”).

Rating Factor 1: Capacity of the Applicant and Relevant Organizational Staff (20 Points)

This factor addresses your capacity to carry out the conversion in a timely, cost-conscious and effective manner. It also reviews your experience with the supportive services which the ALF intends to provide to elderly residents, especially in such areas as meals, 24-hour staffing and on-site health care. Submit information responding to this factor in accordance with Application Submission Requirements in Sections VI(B)(5)(a), (8)(h), and of this NOFA.

In rating this factor, HUD will consider the extent to which your application demonstrates your ability to carry out a successful conversion of the project and to implement the plan to deliver the supportive services on a long-term basis, considering the following:

(1) (9 points). The practicality of your plan and timetable to carry out the physical conversion of the development to the ALF.

(2) (10 points). Your past experience in providing or arranging for supportive services either on or off site for those who are frail. (If you are applying to convert an unused or underutilized commercial facility to assisted living and you do not own or operate a project with frail elderly residents, you must provide information on any past experience in providing or arranging supportive services for those who are frail.) Examples are: Meals delivered to apartment of resident or in a congregate setting (2 points), arranging for or providing personal care (3 points), providing 24-hour staffing (1 point), providing or making available on-site preventive health care (2 points) and other support services (2 points).

(3) (1 point). Your organization is a “grassroots” organization as defined in the General Section of the SuperNOFA.

Rating Factor 2: Need/Extent of the Problem (20 Points)

This factor addresses the extent to which the conversion is needed by the categories of elderly persons and persons with disabilities that the ALF is intended to serve (very low income elderly persons and persons with disabilities who have limitations in three or more activities of daily living). The application must provide evidence of current needs among project residents (not applicable to applications proposing to convert unused or underutilized commercial facilities) and needs of potential residents in the housing market area for such persons including economic and demographic information on very-low income frail elderly and persons with disabilities and information on current assisted living resources in the market area.

The factor also addresses your inability to fund the repairs or conversion activities from existing financial resources. In making this determination, HUD will consider project financial information or the organization's financial information for unused or underutilized commercial facilities. Submit information responding to this factor in accordance with Application Submission Requirements in Section VI(B)(4)(a) through (d), (2)(c) and (9)(a) through (c) of the NOFA. In evaluating this factor, HUD will consider:

(1) (7 points). The need for assisted living among the elderly and disabled residents of the project taking into consideration those currently in need and the depth of future needs given aging in place. (Not applicable to applications to convert unused or underutilized commercial facilities to assisted living.)

(2) (3 points (10 points for applications to convert unused or underutilized commercial facilities to assisted living.)). The need for assisted living among very-low income elderly persons and persons with disabilities in the housing market area.

(3) (9 points). Insufficient funding for any needed conversion work, as evidenced by the project's financial statements and specifically the lack of excess reserve for replacement dollars (R4R) and residual receipts. If the available R4R and residual receipts are less than 10% of the total funds needed = 9 points; if the available R4R and residual receipts are 10-50% of need = 5 points; and, if the available R4R and residual receipts are 51% or more of the total funds needed = 0 points). For commercial properties, if the available working capital exceeds 10 percent of the total conversion = 5 points; if the working capital is less than 10 percent of the total conversion = 9 points.

(4) (1 point). The Department will provide one (1) point to those applications which establish a connection between the proposed ALF and the community's Analysis of Impediments to Fair Housing Choice (AI) or other planning document that analyzes fair housing issues and is prepared by a local planning or similar organization.

Rating Factor 3: Soundness of Approach (40 Points)

This factor addresses the quality and effectiveness of your proposal in addressing the proposed conversion, effectiveness of service coordination and management planning and the meals and supportive services which the ALF intends to provide and the extent to which you have evidenced general support for conversion by participating in your community's Consolidated Planning Process, involving the residents in the planning process (not applicable to applications proposing to convert unused or underutilized commercial facilities). There must also be a relationship between the proposed activities, the project's and the community's needs and purposes of the program funding for your application to receive points for this factor. Submit information responding to this factor in accordance with Application Submission Requirements in Sections VI(B)(2)(a) through (c), VI(B)(5)(b) through (e) and (h) and (7 and VI(B)(8))(a) through (e) and (g) and (h) of this NOFA. In evaluating this factor, HUD will consider the following:

(1) (12 points). The extent to which the proposed ALF design will meet the special physical needs of frail elderly persons or persons with disabilities expected to be served at reasonable cost (consider the ALF design: meets needs = 12 points; ALF design partially meets needs = 6 points; and ALF design does not meet needs = 0 points).

(2) (12 points). The extent to which the ALF's proposed management and operational plan ensures that the provision of both meals and supportive services planned will be accomplished over time. (Consider ALF design/management plan: meets needs of management operations = 12 points; ALF design/management plan partially meets needs of management operations = 6 points; and ALF design/management plan does not meet needs of management operations = 0 points.)

(3) (7 points). The extent to which the proposed supportive services meet the anticipated needs of the frail elderly and disabled residents (does meet = 7 points; partially meets needs = 4 points; and, does not meet needs = 0 points); and

(4) (7 points). The extent to which the service coordination function is addressed and explained as onsite and sufficient, onsite and augmented or new, and addresses the ongoing procurement of needed services for the residents of the ALF (does meet = 7 points, partially meets = 4 points, does not meet = 0 points).

(5) (2 points). The extent to which you demonstrated that you have been actively involved (or if not currently active, the steps you will take to become actively involved) in your community's Consolidated Planning/AI processes to identify and address a need/problem that is related in whole or part, directly or indirectly to the proposed project.

Rating Factor 4: Leveraging Resources (10 Points)

This factor addresses your ability to secure other community resources which can be combined with HUD's grant funds to achieve program purposes. For the ALCP to succeed, you must generate local funding for the necessary supportive services to operate the ALF. HUD also encourages local funding for some of the necessary conversion work, or other work needed in the project (e.g., general modernization) which is not specifically linked to the ALF).

Submit information responding to this factor in accordance with Application Submission Requirements in Section VI(B)(5)(f), (g), and (B)(6) and B(8)(f) of this NOFA.

(1) (5 points). The extent to which there are commitments for the funding needed for the meals and the supportive services planned for the ALF and that the total cost of the estimated budget of the ALF is covered. Consider 90% or more commitment for the total budget with no more than 10% general support = 5 points; 80-89.9% or more commitment for the total budget with no more than 20% general support = 4 points; 65-79.9% firm commitment with no more than 35% general support = 3 points; 40-64.9% firm commitment for the total budget with more than 60% general commitment = 2 points; less than 40% firm commitment for the total budget with no more than 60% general support = 0 points.

(2) (3 points). The extent of local organizations' support which is firmly committed to providing at least 50 percent of the total cost of ALF conversion (consider 50% or more = 3 points, 20-49.9% = 2 points, and under 20% = 0 points).

(3) (2 points). The extent of local organizational support which is firmly committed to providing funds for additional repair or retrofit necessary for the project NOT specifically directed to activities eligible under this NOFA (consider yes = 2 points, no = 0 points).

Rating Factor 5: Achieving Results and Program Evaluation (10 Points)

This factor reflects HUD's goal to embrace high standards of ethics, management and accountability. This factor emphasizes HUD's commitment to ensure that promises you made in the application are kept; and to ensure performance goals with outcomes are established and are met (see the General Section of this SuperNOFA for more detail). Outcomes may include the extent to which your project will implement practical solutions that will result in assisting residents in achieving independent living and an improved living environment, as well as the extent to which the project will be viable absent HUD funds but rely more on state, local and private funds. Submit information responding to this factor in accordance with Application Submission Requirements in Section VI(B)5(a)-(g)(2)(d), (B)(8)(a)-(e) of this NOFA.

(1) (4 points). The extent to which your conversion timeframe reflect the length of time it will take to convert the units describing how residents will benefit from the conversion of the units; and how the converted units will result in ALF residents being able to age in place;

(2) (2 points). The extent to which your assisted living facility will implement practical solutions that will result in assisting residents in achieving independent living and improved living environment.

(3) (2 points). The extent to which you demonstrate that the project will be viable absent HUD funds while relying more on state, local and private funds.

(4) (2 point). The extent to which there is an operating philosophy which promotes the autonomy and independence of the frail elderly persons it is intended to serve (is fully addressed = 2 points, no or not addressed = 0 points).

VI. Application Submission Requirements

(A) Application—General. Your application must include all of the information, materials, forms, and exhibits listed in Section VI(B). In cases where your (i) articles of incorporation and (ii) by-laws have NOT changed since the project was originally approved by HUD, self-certification to that effect—that the documents on file with HUD are current—is sufficient. Items in Section VI(B) for which self-certification of currency is possible are denoted by a “**”.

In addition to the relief of paperwork burden in preparing applications, you will not have to submit certain new/recent information and exhibits you have previously prepared. See individual item descriptions, below to identify such items. An example of such an item may be the FY 2002 Annual Financial Statement.

(B) General Application Requirements. (1) Application Summary for the Assisted Living Conversion Program and Evidence that you are a private non-profit organization or nonprofit consumer cooperative and have the legal ability to operate an ALF program, per the following:

(a) Articles of Incorporation, constitution, or other organizational documents, or self-certification of these documents, if there has been no change in the Articles since they were originally filed with HUD;** and

(b) By-laws, (for non-profits) or self-certification of by-laws, if there has been no change in the by-laws since they were originally filed with HUD.**

(2) A description of your community ties and established linkages:

(a) A description of your links to the community at large and to the minority and elderly communities in particular; and

(b) A description of your efforts to involve elderly persons, including minority elderly persons and persons with disabilities in:

(i) The development of the application;

(ii) The development of the ALF operating philosophy;

(iii) Review of the application prior to submission to HUD; and

(iv) Your intent to involve eligible ALF residents in the operation of the project or not.

Also, in communities that have significant numbers of persons with limited English proficiency, applicants should demonstrate that they have made the application available to the residents of the project (in their language(s)) AND requested and considered comments from them (in their language(s)). Applicants of converted commercial facilities should indicate that the application will be made available to the residents of the project in their language(s) and will request and consider comments from them in their language(s).

(c) A description of your involvement in your community's Consolidated Planning and Analysis of Impediments to Fair Housing (AI) processes including:

(i) An identification of the lead/facilitating agency(ies) that organizes/administers the processes;

(ii) A listing of the Consolidated Plan/AI issue areas in which you participate; and

(iii) The level of your participation in the processes, including active involvement with any neighborhood-based organizations, associations, or any committees that support programs and activities that enhance projects or the lives of residents of the projects, such as the one proposed in your application.

If you are not currently active, describe the specific steps you will take to become active in the Consolidated Planning and AI processes. (Consult the local HUD Office for the identification of the Consolidated Plan community process for the appropriate area.)

(d) A description of how the assisted living facility will implement practical solutions that will result in assisting residents in achieving independent living and improved living environment. The description should include a discussion of performance goals with performance indicators (see the General Section of the SuperNOFA for further detail).

(3) Evidence of your project being in occupancy for at least five years as of the date of application to HUD. (Not applicable to commercial facilities.)

(4) A market analysis of the need for the proposed ALF units, including information from both the project and the housing market, containing:

(a) Evidence of need for the ALF by current project residents: (Not applicable to commercial facilities.)

(i) A description of the demographic characteristics of the elderly residents currently living in the project, including the current number of residents, distribution of residents by age and sex, an estimate of the number of residents with frailties/limitations in activities of daily living and an estimate of the number of residents in need of assisted living services. (Not applicable to commercial facilities.)

(ii) A description of the services which are currently available to the residents and/or provided on or off-site and what services are lacking; (Not applicable to commercial facilities.)

(b) Evidence of the need for ALF units by very low income elderly and disabled households in the market area; a description of the trend in elderly and disabled population and household change; data on the demographic characteristics of the very low income elderly in need of assisted living services (age, race, sex, household size and tenure) and extent of residents with frailty/limitations in existing federally-assisted housing for the elderly (HUD and Rural Housing Service); and an estimate of the very low income elderly and disabled in need of assisted living taking into consideration any available State or local data.

(c) A description of the extent, types and availability and cost of alternate care and services locally, such as: home health care, adult day care, housekeeping services, meals programs, visiting nurses, on-call transportation services, health care and providers of supportive services who address the needs of the local low income population.

(d) A description of how information in the community's Analysis of Impediments to Fair Housing Choice was used in documenting the need for the ALF (covering items in Section VI(B)(4)(a) and (b) of this NOFA).

(5) A description of the physical ALF conversion, including the following:

(a) How you propose to carry out the physical conversion (including a timetable and relocation planning).

(b) A short narrative stating the number of units, special design features, community and office space/storage, dining and kitchen facility and staff space and the physical relationship to the rest of the project. Also, you must describe how this design will facilitate the delivery of services in an economical fashion in the most integrated setting appropriate to the needs of the participating residents with disabilities and accommodate the changing needs of the residents over at least the next 10 years.

(c) A copy of the original plans for all units and other areas of the development, which will be included in the conversion. (If you are applying to convert an unused or underutilized commercial facility to assisted living, provide a copy of the original plans of the facility as well as a copy of the plans of the facility as most recently operated, if different).

(d) A description of the conversion must clearly address the following accessibility issues: All door openings must have a minimum clear opening of 32 inches; and, all bathrooms and kitchens must be accessible to and functional for persons in wheelchairs, according to the “Uniform Federal Accessibility Standards.”

(e) Architectural sketches of the conversion to a scale of 1/4 inch to one foot that indicate the following:

(i) All doors being widened;

(ii) Typical kitchen and bathroom reconfiguration: show all wheelchair clearances, wall reinforcing, grab bars and elevations of counters and work surfaces;

(iii) Bedroom/living/dining area modification, if needed;

(iv) Any reconfigured common space;

(v) Added/reconfigured office and storage space;

(vi) Monitoring stations, and

(vii) The kitchen and dining facility.

All architectural modifications must meet section 504 and ADA requirements as appropriate.

(f) A budget showing at least estimated costs for materials, supplies, fixtures and labor for each of the items listed in Section VI(B)(5)(e), items i through vii, above.

(g) Include firm commitment letters with specific dollar amounts from appropriate organization(s) for conversion needs (within the scope of the ALF conversion NOFA) which will be supported by non-HUD funding.

(h) A description of any relocation of current tenants including a statement that: (Not applicable to commercial property applicants.)

(i) Indicates the estimated cost of temporary relocation payments and other related services;

(ii) Identifies the staff organization that will carry out the relocation activities; and

(iii) Identifies all tenants that will have to be temporarily moved to another unit within the development OR from the development during the period that the physical conversion of the project is under way.

Note: If any of the relocation costs will be funded from sources other than the ALCP grant, you must provide evidence of a firm commitment of these funds. When evaluating applications, HUD will consider the total cost of proposals (i.e., cost of conversion, temporary relocation, service coordinator and other project costs).

(6) A description of any retrofit or renovation which will be done at the project (with third party funds) that is separate and distinct from the ALF conversion. With such description, attach firm commitment letters from third party organizations in specific dollar amounts which will cover the cost of any work outside the scope of this NOFA.

(7) Evidence of permissive zoning, showing that the modifications to include the ALF into the project as proposed are permissible under applicable zoning ordinances or regulations, or a statement of the proposed action required to make the proposed project permissible and the basis for your belief that the proposed action will be completed successfully within six months of the date of grant award by HUD (e.g., a summary of the results of any requests for rezoning and/or the procedures for obtaining special or conditional use permits on land in similar zoning classifications and the time required for such rezoning, or preliminary indications of acceptability from zoning bodies, etc.);

(8) A supportive services plan (SSP), a copy of which must be submitted to the appropriate state and/or local agency as instructed in Section IV(B) of this NOFA. For those applicants needing to contact state Medicaid offices, a list is provided on the Internet at www.hcfa.gov/medicaid/medicaid.htm. The SSP must include:

(a) A description of the supportive services needed for the frail elderly the ALF is expected to serve. This must include at least (i) meals and such other supportive services required locally or by the State, and (ii) such optional services or care to be offered on an “as needed” basis.

Examples of both mandatory and optional services (which will vary from state to state) are: two meals and two snacks or three meals daily; 24-hour protective oversight; personal care; housekeeping services; personal counseling and transportation.

(b) A description of how you will provide the supportive services to those who are frail and have disabilities (i.e., on or off-site or combination of on or off-site), including an explanation of how the service coordination role will facilitate the adequate provision of such services to ALF residents, and how the services will meet the identified needs of the residents. Also indicate how you intend to fund the service coordinator role.

(c) A description of how the operation of your ALF will work. Address: (i) General operating procedures; (ii) ALF philosophy and how it will promote the autonomy and independence of the frail elderly and persons with disabilities; (iii) what will the service coordination function do and the extent to which this function already exists, or will be augmented or new; (iv) ALF staff training plans; and (v) the degree to which and how the ALF will relate to the day-to-day operations of the rest of the project.

(d) The monthly individual rate for board and supportive services for the ALF listing the total fee and components of the total fee for the items required by state or local licensing AND list the appropriate rate for any optional services you plan to offer to the ALF residents. Provide an estimate of the total annual costs of the required board and supportive services you expect to provide and an estimate of the amount of optional services you expect to provide.

(e) List who will pay for the board and supportive services (e.g., $___ for meals by sponsor, $___ for housekeeping services by city government; $___ for personal care by State Department of Health; $___ for ___ by state ___ program; $___ in fees by tenants; and, $___ by ___).

The amounts and commitments from both tenants and/or providers must equal the estimated amounts necessary to cover the monthly rates for the number of people expected to be served. If you include tenant fees in the proposal, list and show any proposed scaling mechanism. All amounts committed/collected must equal the annualized cost of the monthly rates calculated by the expected percentage of units filled.

(f) A support/commitment letter from each listed proposed funding source per paragraph (e), above, for the planned meals and supportive services listed in the application. The letter must cover the total planned annual commitment (and multiyear amount total, if different), length of time for the commitment, and the amounts payable for each service covered by the provider/paying organization. There must be a letter from EACH participating organization listed in Section VI(B)(8)(e) of this NOFA, above.

(g) A support letter from each governmental agency which provides licensing for ALFs in that jurisdiction.

(h) A description of your relevant experience in arranging for and/or delivering supportive services to frail residents. (If you are applying to convert an unused or underutilized commercial facility to assisted living, provide information on your relevant experience in arranging for and/or delivering supportive services to frail elderly persons). The description should include any supportive services facilities owned/operated; your past or current involvement in any project-based programs that demonstrates your management capabilities. The description should include data on the facilities and specific meals and/or supportive services provided on a regular basis, the racial/ethnic composition of the populations served, if available, and information and testimonials from residents or community leaders on the quality of the services.

Note: If a funds request for service coordination for the ALF and/or the whole project is included as part of this application, the Form HUD-424, indicating the dollars requested must be attached as Exhibit 10(a). Do not attach the whole service coordinator application.

(9) A description of your project's resources: (Items (9)(a)-(b) are not applicable to applicants of commercial property.)

(a) A copy of the most recent project Repair and Replacement (R4R) account statement, and an R4R analysis showing plans for its use over the next five years, and any approvals received from the HUD field office to date.

(b) A copy of the most recent Residual Receipts Account statement. Indicate any approvals for the use of such receipts from the field office for over $500/unit.

(c) Annual Financial Statement (AFS). If your FY 2003 AFS was due to REAC more than 120 days BEFORE the due date for this application, in the interest of reducing work burden, only include the date that it was sent to REAC. If the AFS was due to REAC 120 days or less from the due date of this application, you MUST include a paper copy. For commercial properties, the most recent financial statement or annual report.

(10) Forms and Certifications. The following exhibits, forms, certifications and assurances are required:

(a) Form HUD-424, Application for Federal Assistance, including Federal Assistance Matrix, and compliance with Executive Order 12372 (a certification that you have submitted a copy of your application, if required, to the State agency (Single Point of Contact) for State review in accordance with Executive Order 12372 (see the General Section of the SuperNOFA for instructions in submitting this form).

(b) Form HUD-424B, Applicant Assurances and Certifications, Certification of a Drug-free Workplace, Certificaiton to Influence Federal Transaction and Standard Form LLL, Disclosure of Lobbying Activities and Certification Regarding Debarment and Suspension.

(c) Form-HUD 2880, Applicant/Recipient Disclosure/Update Report, including Social Security and Employment Identification numbers. A disclosure of assistance from other government sources received in connection with the project.

(d) Form HUD-2991, Certification of Consistency with the Consolidated Plan (Plan), for the jurisdiction in which the proposed ALF will be located. The certification must be made by the unit of general local government if it is required to have, or has, a complete Plan. Otherwise, the certification may be made by the State, or by the unit of general local government if the project will be located within the jurisdiction of the unit of general local government authorized to use an abbreviated strategy, and if it is willing to prepare such a Plan.

All certifications must be made by the public official responsible for submitting the plan to HUD. The certifications must be submitted as part of the application by the application submission deadline date set forth herein. The Plan regulations are published in 24 CFR part 91.

VII. Environmental Requirements

Your ALCP application is subject to the National Environmental Policy Act of 1969 and applicable related Federal environmental authorities. (See 24 CFR part 50, as applicable.) An environmental review will be completed by HUD before the award of any grant under this program. Pursuant to 24 CFR part 55, ALCP projects are critical actions for purposes of floodplain management review.

VIII. Authority

The Assisted Living Conversion Program is authorized by Section 202(b) of the Housing Act of 1959 (12 U.S.C. 1701q-2) and the Fiscal Year 2003 Departments of Veterans Affairs and Housing and Urban Development, and Independent Agencies Appropriations Act.

Appendix A.—HUD Field Office List for Mailing Assisted Living Conversion Program Applications

HUD—Boston Hub

Boston Office, Thomas P. O'Neill, Jr., Federal Building, 10 Causeway Street, Room 301, Boston, MA 02222-1092, (617) 565-5234, TTY Number: (617) 565-5453

HUD—New York Hub

New York Office, 26 Federal Plaza—32nd Floor, New York, NY 10278-0068, (212) 264-8000, TTY Number: (212) 264-0927

HUD—Buffalo Hub

Buffalo Office, Lafayette Court Building, 465 Main Street, 2nd Floor, Buffalo, NY 14203, (716) 551-5755 ext 5000, TTY Number: (716) 551-5787

HUD—Philadelphia Hub

Philadelphia Office

The Wanamaker Building, 100 Penn Square East, Philadelphia, PA 19107-3380, (215) 656-0600, TTY Number: (215) 656-3452

HUD—Baltimore Hub

Baltimore Office, City Crescent Building, 10 South Howard Street, 5th Floor, Baltimore, MD 21201-2505, (410) 962-2520, TTY Number: (410) 962-0106

HUD—Greensboro Hub

Greensboro Office, Koger Building, 2306 West Meadowview Road, Greensboro, NC 27407-3707, (336) 547-4069, TTY Number: (336) 547-4020

HUD—Atlanta Hub

Atlanta Office, 40 Marietta Street—Five Points Plaza, Atlanta, GA 30303-2806, (404) 331-4976, TTY Number: (404) 730-2654

HUD—Jacksonville Hub

Jacksonville Office, Southern Bell Tower, 301 West Bay Street, Suite 2200, Jacksonville, FL 32202-5121, (904) 232-2626, TTY Number: (904) 232-2631

HUD—Chicago Hub

Chicago Office, Ralph H. Metcalfe Federal Building, 77 West Jackson Boulevard, Chicago, IL 60604-3507, (312) 353-5680, TTY Number: (312) 353-5944

HUD—Detroit Hub

Detroit Office, Patrick V. McNamara Federal Building, 477 Michigan Avenue—Suite 1635, Detroit, MI 48226-2592, (313) 226-7900, TTY Number: (313) 226-6899

HUD—Columbus Hub

Columbus Office, 200 North High Street, 7th Floor, Columbus, OH 43215-2499, (614) 469-5737, TTY Number: (614) 469-6694

HUD—Minneapolis Hub

Minneapolis Office, 920 Second Avenue, South, Minneapolis, MN 55401-2195, (612) 370-3000, TTY Number: (612) 370-3186

HUD—Ft. Worth Hub

Ft. Worth Office, 801 N. Cherry Street, P.O. Box 2905, Fort Worth, TX 76113-2905, (817) 978-9000, TTY Number: (817) 978-9273

HUD—Kansas City Hub

Kansas City Office, Room 200, Gateway Tower II, 400 State Avenue, Kansas City, KS 66101-2406, (913) 551-5462, TTY Number: (913) 551-6972

HUD—Denver Hub

Denver Office, 633 17th Street, Denver, CO 80202-3607, (303) 672-5343, TTY Number: (303) 672-5248

HUD—San Francisco Hub, San Francisco Office, Philip Burton Federal Building and U.S. Courthouse, 450 Golden Gate Avenue, P.O. Box 36003, San Francisco, CA 94102-3448, (415) 436-6550, TTY Number: (415) 436-6594

HUD—Los Angeles Hub

Los Angeles Office, 611 West 6th Street, Suite 800, Los Angeles, CA 90017-3106, (213) 894-8000, TTY Number: (213) 894-8133

HUD—Seattle Hub

Seattle Office, Seattle Federal Office Building, 909 1st Avenue, Suite 200, Seattle, WA 98104-1000, (206) 220-5101, TTY Number: (206) 220-5185

Note: The first line of the mailing address for all offices is the U. S. Department of Housing and Urban Development. Telephone numbers listed are not toll free.

Appendix B

HUD—Boston Hub

Hartford Office, One Corporate Center, 19th Floor, Hartford, CT 06103-3220, (860) 240-4800, TTY Number: (860) 240-4665

Boston Office, Room 301, Thomas P. O'Neill, Jr., Federal Building, 10 Causeway Street, Boston, MA 02222-1092, (617) 565-5234, TTY Number: (617) 565-5453

Manchester Office, Norris Cotton Federal Building, 275 Chestnut Street, Manchester, NH 03101-2487, (603) 666-7510, TTY Number: (603) 666-7518

Providence Office, 10 Weybosset Street, Sixth Floor, Providence, RI 02903-2808, (401) 528-5230, TTY Number: (401) 528-5403

HUD—New York Hub

New York Office, 26 Federal Plaza, Room 3200, New York, NY 10278-0068, (212) 264-8000, TTY Number: (212) 264-0927

HUD—Buffalo Hub

Buffalo Office, Lafayette Court Building, 465 Main Street, 2nd Floor, Buffalo, NY 14203-1780, (716) 551-5755 ext 5000, TTY Number: (716) 551-5787

HUD—Philadelphia Hub

Philadelphia Office, The Wanamaker Building, 100 Penn Square East, Philadelphia, PA 19107-3380, (215) 656-0600, TTY Number: (215) 656-3452

Charleston Office, Suite 708, 405 Capitol Street, Charleston, WV 25301-1795, (304) 347-7000, TTY Number: (304) 347-5332

Newark Office, Thirteenth Floor, One Newark Center, Newark, NJ 07102-5260, (973) 622-7900, TTY Number: (973) 645-3298

Pittsburgh Office, 339 Sixth Avenue, Sixth Floor, Pittsburgh, PA 15222-2515, (412) 644-6428, TTY Number: (412) 644-5747

HUD—Baltimore Hub

Baltimore Office, Fifth Floor, City Crescent Building, 10 South Howard Street, Baltimore, MD 21201-2505, (410) 962-2520, TTY Number: (410) 962-0106

Washington, DC Office, 820 First Street, NE, Suite 300, Washington, DC 20002-4205, (202) 275-9200, TTY Number: (202) 275-0772

Richmond Office, The 3600 Centre 600 East Broad Street, Richmond, VA 23219, (804) 771-2100 ext. 3839, TTY Number: (804) 771-2038

HUD—Greensboro Hub

Greensboro Office, Koger Building, 2306 West Meadowview Road, Greensboro, NC 27407-3707, (336) 547-4069, TTY Number: (336) 547-4020

Columbia Office, Strom Thurmond Federal Building, 1835-45 Assembly Street, Columbia, SC 29201-2480, (803) 765-5592, TTY Number: (803) 253-3209

HUD—Atlanta Hub

Atlanta Office, Richard B. Russell Federal Building 75 Spring Street, S.W., Suite 600, 40 Marietta Street—Five Points Plaza, Atlanta, GA 30303-3388 2806, (404) 331-4976, TTY Number: (404) 730-2654

San Juan Office, Edificio Administracion de Terrenos 171 Carlos Chardon Avenue, Suite 301, San Juan, PR 00918-0903, (787) 766-5400, TTY Number: (787) 776-5609

Louisville Office, 601 West Broadway, Louisville, KY 40202, (502) 582-5251, TTY Number: 1-800-648-6056

Knoxville Office, Third Floor, John J. Duncan Federal Building 710 Locust Street, Knoxville, TN 37902-2526, (423) 545-4384, TTY Number: (423) 545-4559

Nashville Office, Suite 200, 251 Cumberland Bend, Nashville, TN 37228-1803, (615) 736-5213, TTY Number: (615) 736-2886

HUD—Jacksonville Hub

Jacksonville Office, Southern Bell Tower, 301 West Bay Street, Suite 2200, Jacksonville, FL 32202-5121, (904) 232-2626, TTY Number: (904) 232-2631

Birmingham Office, Medical Forum Building, 920 22nd Street, North, Suite 900, Birmingham, AL 35203-5301, (205) 731-2624, TTY Number: (205) 731-2624

Jackson Office, Doctor A.H. McCoy Federal Building, 100 West Capitol Street, Suite 910, Jackson, MS 39269-1096, (601) 965-4700, TTY Number: (601) 965-4171

HUD—Chicago Hub

Chicago Office, Ralph H. Metcalfe Federal Building, 77 West Jackson Boulevard, Chicago, IL 60604-3507, (312) 353-5680, TTY Number: (312) 353-5944

Indianapolis Office, 151 North Delaware Street, Indianapolis, IN 46204-2526, (317) 226-6303, TTY Number: (317) 226-7081

HUD—Detroit Hub

Detroit Office, Patrick V. McNamara Federal Building, 477 Michigan Avenue, Suite 1635, Detroit, MI 48226-2592, (313) 226-7900, TTY Number: (313) 226-6899

Grand Rapids Office, Trade Center Building, 50 Louis Street, NW, Third Floor, Grand Rapids, MI 49503-2648, (616) 456-2100, TTY Number: (616) 456-2159

HUD—Columbus Hub

Columbus Office, 200 North High Street, 7th Floor, Columbus, OH 43215-2499, (614) 469-5737, TTY Number: (614) 469-6694

Cleveland Office, US Bank Centre 1350 Euclid Avenue, Suite 500, Cleveland, OH 44115-1815, (216) 522-4058, TTY Number: (216) 522-2261

HUD—Minneapolis Hub

Minneapolis Office, 920 Second Avenue, South, Minneapolis, MN 55401-2195, (612) 370-3000, TTY Number: (612) 370-3186

Milwaukee Office, Suite 1380, Henry S. Reuss Federal Plaza, 310 West Wisconsin Avenue, Suite 1380, Milwaukee, WI 53203-2289, (414) 297-3214 ext. 8673, TTY Number: (414) 297-1423

HUD—Ft. Worth Hub

Little Rock Office, Suite 900, TCBY Tower, 425 West Capitol Avenue, Little Rock, AR 72201-3488, (501) 324-5931, TTY Number: (501) 324-5931

New Orleans Office, Ninth Floor, Hale Boggs Federal Building, 501 Magazine Street, New Orleans, LA 70130-3099, (504) 589-7200, TTY Number: (504) 589-7279

Ft. Worth Office, 801 N. Cherry Street, P.O. Box 2905, Fort Worth, TX 76113-2905, (817) 978-9000, TTY Number: (817) 978-9273

Houston Office, Suite 200, Norfolk Tower, 2211 Norfolk, Houston, TX 77098-4096, (713) 313-2274, TTY Number: (713) 834-3274

San Antonio Office, 106 South St. Mary's, Suite 405, San Antonio, TX 78205, (210) 475-6800, TTY Number: (210) 475-6885

HUD—Great Plains

Des Moines Office, Room 239, Federal Building, 210 Walnut Street, Des Moines, IA 50309-2155, (515) 284-4583, TTY Number: (515) 284-4728

Kansas City Office, Room 200, Gateway Tower II, 400 State Avenue, Kansas City, KS 66101-2406, (913) 551-5462, TTY Number: (913) 551-6972

Omaha Office, Executive Tower Centre, 10909 Mill Valley Road, Omaha, NE 68154-3955, (402) 492-3122, TTY Number: (402) 492-3183

St. Louis Office, Third Floor, Robert A. Young Federal Building, 1222 Spruce Street, Room 3207, St. Louis, MO 63103-2836, (314) 539-6583, TTY Number: (314) 539-6331

Oklahoma City Office, 500 West Main Street, Suite 400, Oklahoma City, OK 73102-2233, (405) 553-7401, TTY Number: 1-800-877-8339

HUD—Denver Hub

Denver Office, 633 17th Street, Denver, CO 80202-3607, (303) 672-5343, TTY Number: (303) 672-5248

HUD—San Francisco Hub

Phoenix Office, One North Central #600, Phoenix, AZ 85004, (602) 379-4434, TTY Number: (602) 379-4464

San Francisco Office, Philip Burton Federal Building and U.S. Courthouse, 450 Golden Gate Avenue, P.O. Box 36003, San Francisco, CA 94102-3448, (415) 436-8356, TTY Number: (415) 436-6594

Honolulu Office, 500 Ala Moana Boulevard, Suite 3A, Honolulu, HI 96813, (808) 522-8185, TTY Number: (808) 522-8193

HUD—Los Angeles Hub

Los Angeles Office, 611 West 6th Street, Suite 800, Los Angeles, CA 90017-3106, (213) 894-8000, TTY Number: (213) 894-8133

HUD—Seattle Hub

Portland Office, 400 Southwest 6th Avenue, Suite 700, Portland, OR 97204, (503) 326-2561, TTY Number: (503) 326-3656

Anchorage Office, 949 East 36th Avenue, Suite 401, Anchorage, AL 99508, (907) 271-4170

Seattle Office, 909 First Avenue, Suite 200, Seattle, WA 98104-1000, (206) 220-5101, TTY Number: (206) 220-5185

Note: The first line of the mailing address for all offices is the U.S. Department of Housing and Urban Development. Telephone numbers listed are not toll free.

BILLING CODE 4210-32-P

Funding Availability for Service Coordinators in Multifamily Housing

Program Overview

Purpose of the Program. The purpose of this Service Coordinator program is to allow multifamily housing owners to assist elderly individuals and people with disabilities living in HUD-assisted housing and in the surrounding area to obtain needed supportive services from the community, in order to enable them to continue living as independently as possible in their own homes.

Available Funds. Approximately $25 million, Fiscal Year 2003 funds.

Eligible Applicants. Only owners of eligible developments may apply for and become the recipient of grant funds. Property management companies may administer grant programs but are not eligible applicants. See Section III for more detailed eligibility criteria.

Additional Information

If you are interested in applying for funding under this program, please review carefully the General Section of this SuperNOFA and the following additional information.

I. Application Due Date, Application, Further Information, and Technical Assistance

Application Due Date. Your completed application (an original and two copies) is due on or before 3:30 p.m., local time, on July 10, 2003 at the address given below.

Application Delivery. You may not hand deliver applications. HUD will reject any hand-delivered applications.

You must submit your application to the Field Office that has jurisdiction for the housing developments included in your application.

You may send your application via any mail delivery service. However, HUD recommends that you send your application through the United States Postal Service, as access to HUD offices by other delivery services is not guaranteed.

If you mail your application to the wrong Field Office and it is not received by the Office designated for receipt by the due date and time, it will be deemed late and will not be considered for funding. HUD is not responsible for directing it to the appropriate Office. Also, see the General Section of this SuperNOFA for further discussion concerning the form of application submission.

Addresses for Submitting Applications. Appendix A to this program section contains a list of HUD Field Offices where you must send your application by the deadline. Please address your application to the Director, Multifamily Housing Hub or Program Center in your local HUD Field Office. You should not submit any copies of your application to HUD Headquarters.

For Applications. Please note that all information needed for the preparation and submission of your application is included in this program NOFA and in the General Section of the SUPERNOFA. However, for your convenience and ease of submission, an application is being provided as Appendix B to this NOFA. To obtain a printed application, please call the SuperNOFA Information Center at 1-800-HUD-8929. If you have a hearing or speech impairment, please call the Center's TTY number at 1-800-HUD-2209. When requesting an application, please refer to the Multifamily Housing Service Coordinator Program and provide your name, address (including zip code) and telephone number (including area code). An application also will be available on the Internet at http://www.hud.gov.

For Further Information and Technical Assistance. You may contact your local HUD Field Office staff for questions you have regarding this program section of the SuperNOFA and your application. Please contact the Multifamily Housing Resident Initiatives Specialist or Service Coordinator contact person in your local Office. If you are an owner of a Section 515 development, contact the HUD Field Office that monitors your Section 8 contract. If you have a question that the Field staff is unable to answer, please call Carissa Janis, Housing Project Manager, Office of Housing Assistance and Grants Administration, Department of Housing and Urban Development, 451 Seventh Street, SW., Room 6146, Washington, DC 20410; (202) 708-2866, extension 2487 (this is not a toll free number). If you are hearing or speech impaired, you may access this number via TTY by calling the Federal Information Relay Service at 1-800-877-8339.

Satellite Broadcast. HUD will hold an information broadcast via satellite for potential applicants to learn more about the program and preparation of the application. For more information about the date and time of the broadcast, you should contact your local Field office staff or consult the HUD web site at http://www.hud.gov.

II. Amount Allocated

(A) Available Funding. Of the estimated $50 million appropriated in the FY 2003 Consolidated Appropriations, approximately $25 million will be used to fund Service Coordinator Programs through this SuperNOFA. Additionally, approximately $25 million will be used to fund one-year extensions to expiring Service Coordinator and Congregate Housing Services Program (CHSP) grants.

(B) Maximum Grant Award. There is no maximum grant amount. The grant amount you request will be based on the Service Coordinator's salary and the number of hours worked each week by that Service Coordinator (and/or aide). You should base your determination of the appropriate number of weekly work hours on the number of people in the development who are frail, at-risk, or non-elderly people with disabilities. Under normal circumstances, a full-time Service Coordinator should be able to serve about 50-60 frail or at-risk elderly or non-elderly people with disabilities on a continuing basis. Your proposed salary must also be supported by evidence of comparable salaries in your area. Gather data from programs near you to compare your estimates with the salaries and administrative costs of currently operating programs. Field staff can provide you with contacts at local program sites.

(C) Funding Process. Prior to the selection process, HUD will first fund the FY 2002 Service Coordinator application submitted by Prentis Jewish Federation Apartments, Oak Park, Michigan, in the amount of $207,350. This application was not funded in FY 2002 due to HUD error. HUD will then fund Service Coordinator applications submitted by FY 2003 Assisted Living Conversion Program (ALCP) applicants, whose ALCP applications are selected for funding under that program's NOFA. HUD estimates that approximately $1 million will be used to fund ALCP Service Coordinator applications. Any funds not used by the ALCP program to fund service coordinators will be added to the funds available for the National Lottery.

HUD will use remaining funds to make grant awards through the use of a national lottery. A computer program performs the lottery by randomly selecting eligible applications. HUD will fully fund as many applications as possible with the given amount of funds available. After all fully fundable applications have been selected by lottery, HUD may make an offer to partially fund the next application on the lottery's list, in order to use the entire amount of funds allocated. If the applicant selected for partial funding turns down the offer, HUD will make an offer to partially fund the following application. HUD will continue this process until an applicant accepts the partial funding offer.

(D) Reduction in Requested Grant Amount. HUD may make an award in an amount less than requested, if:

(1) HUD determines that some elements of your proposed program are ineligible for funding;

(2) There are insufficient funds available to make an offer to fully fund the application; or

(3) HUD determines that a reduced grant amount would prevent duplicative federal funding.

(E) Alternative Funding for Service Coordinators. If your development has available residual receipts or excess income, you must use these funds prior to receiving grant monies, as long as they are not already allocated for other critical development expenses. Owners may submit requests to use residual receipts, or Section 8 or Project Rental Assistance Contract (PRAC) operating funds following instructions in Housing's Management Agent Handbook 4381.5, REVISION-2, CHANGE-2, Chapter 8. Refer to Housing Notice H 02-14 for information on using Section 236 excess income to fund a Service Coordinator. HUD Field staff may approve use of these project funds at any time, consistent with current policy. You should discuss these alternative funding options with your Field Office staff prior to submitting a grant application.

III. Program Description; Eligible Applicants; Eligible Activities

(A) Program Description. The Service Coordinator Program provides funding for the employment and support of Service Coordinators in insured and assisted housing developments that were designed for the elderly and persons with disabilities and continue to operate as such. Service Coordinators help residents obtain supportive services from the community that are needed to enable independent living and aging in place.

A Service Coordinator is a social service staff person hired or contracted by the development's owner or management company. The Service Coordinator is responsible for assuring that elderly residents, especially those who are frail or at risk, and those non-elderly residents with disabilities are linked to the supportive services they need to continue living independently in their current homes. All services should meet the specific desires and needs of the residents themselves. The Service Coordinator may not require any elderly individual or person with a disability to accept any specific supportive service(s).

You may want to review the Management Agent Handbook 4381.5 REVISION-2, CHANGE-2, Chapter 8 for further guidance on service coordinators. This Handbook is accessible through HUDCLIPS on HUD's Web site at http://www.hudclips.org. The Handbook is in the Handbooks and Notices—Housing Notices database. Enter the Handbook number in the “Document Number” field to retrieve the Handbook.

(B) Definition of Terms Used in this Program NOFA.

(1) “Activities of daily living (ADLs)” means eating, dressing, bathing, grooming, and household management activities, as further described below:

(a) Eating—May need assistance with cooking, preparing, or serving food, but must be able to feed self;

(b) Bathing—May need assistance in getting in and out of the shower or tub, but must be able to wash self;

(c) Grooming—May need assistance in washing hair, but must be able to take care of personal appearance;

(d) Dressing—Must be able to dress self, but may need occasional assistance; and

(e) Home management activities—May need assistance in doing housework, grocery shopping, laundry, or getting to and from activities such as going to the doctor and shopping, but must be mobile. The mobility requirement does not exclude persons in wheelchairs or those requiring mobility devices.

(2) “At-risk elderly person” is an individual 62 years of age or older who is unable to perform one or two ADLs, as defined in the above paragraph.

(3) “Frail elderly person” means an individual 62 years of age or older who is unable to perform at least three ADLs as defined in the above paragraph.

(4) “People with disabilities” means those individuals who:

(a) Have a disability as defined in Section 223 of the Social Security Act;

(b) Have a physical, mental, or emotional impairment expected to be of long, continued, and indefinite duration that impedes the individual's ability to live independently; or

(c) Have a developmental disability.

(5) “Reasonable costs” mean that costs are consistent with salaries and administrative costs of similar programs in your Field office's jurisdiction.

(C) Functions of a Service Coordinator. The major functions of the Service Coordinator include the following:

(1) Refer and link the residents of the development to supportive services provided by the general community. Such services may include case management, personal assistance, homemaker, meals-on-wheels, transportation, counseling, occasional visiting nurse, preventive health screening/wellness, and legal advocacy.

(2) Educate residents on service availability, application procedures, client rights, etc.

(3) Establish linkages with agencies and service providers in the community. Shop around to determine/develop the best “deals” in service pricing, to assure individualized, flexible, and creative services for the involved resident. Provide advocacy as appropriate.

(4) Provide case management when such service is not available through the general community. This might include evaluation of health, psychological and social needs, development of an individually tailored case plan for services, and periodic reassessment of the resident's situation and needs. Service Coordinators can also set up a Professional Assessment Committee (PAC) to assist in performing initial resident assessments. (See the guidance in the CHSP regulations at 24 CFR 700.135 (or 1944.258 for Rural Housing developments). Grantees cannot use grant funds to pay PAC members for their services.

(5) Monitor the ongoing provision of services from community agencies and keep the case management and provider agency current with the progress of the individual. Manage the provision of supportive services where appropriate.

(6) Help the residents build informal support networks with other residents, family and friends.

(7) Work and consult with tenant organizations and resident management corporations. Provide training to the development's residents in the obligations of tenancy or coordinate such training.

(8) Create a directory of providers for use by both development staff and residents.

(9) Educate other staff of the management team on issues related to aging in place and Service Coordination, to help them to better work with and assist the residents.

During work hours paid for by this grant, Service Coordinators may not perform the following activities:

(i) Act as a recreational or activities director;

(ii) Provide supportive services directly;

(iii) Assist with property management work; or

(iv) Act as a Neighborhood Networks program director or coordinator.

(D) Basic Qualifications of Service Coordinators and Aides.

(1) Service Coordinator Qualifications include the following:

(a) A Bachelor of Social Work or degree in Gerontology, Psychology or Counseling is preferable; a college degree is fully acceptable. You may also consider individuals who do not have a college degree, but who have appropriate work experience.

(b) Knowledge of the aging process, elder services, disability services, eligibility for and procedures of federal and applicable state entitlement programs, legal liability issues relating to providing Service Coordination, drug and alcohol use and abuse by the elderly, and mental health issues.

(c) Two to three years experience in social service delivery with senior citizens and people with disabilities. Some supervisory or management experience may be desirable if the Service Coordinator will work with aides.

(d) Demonstrated working knowledge of supportive services and other resources for senior citizens and non-elderly people with disabilities available in the local area.

(e) Demonstrated ability to advocate, organize, problem-solve, and provide results for the elderly and people with disabilities.

(2) Aides Working with a Service Coordinator. Aides should either have a college degree or appropriate experience in working with the elderly and/or people with disabilities. An example of an aide position could be an internship or work-study program with local colleges and universities to assist in carrying out some of the Service Coordinator's functions.

(E) Eligible Applicants and Developments. To be eligible for funding:

(1) You must meet all of the applicable threshold requirements of Sections V (B) and (D) of the General Section of the SuperNOFA.

(2) You must be an owner of a development assisted under one of the following programs:

(a) Section 202 Direct Loan;

(b) Project-based Section 8 (including Section 8 Moderate Rehabilitation); or

(c) Section 221(d)(3) below-market interest rate, and 236 developments that are insured or assisted.

(3) Additionally, developments listed in paragraph (2), above, are eligible only if they meet the following criteria:

(a) Have frail or at-risk elderly residents and/or non-elderly residents with disabilities who together total at least 25 percent of the building's residents. (For example, in a 52-unit development, at least 13 residents must be frail, at-risk, or non-elderly people with disabilities.)

(b) Were designed for the elderly or persons with disabilities and continue to operate as such. This includes any building within a mixed-use development that was designed for occupancy by elderly persons or persons with disabilities at its inception and continues to operate as such, or consistent with title VI, subtitle D of the Housing and Community Development Act of 1992 (Pub. L. 102-550). If not so designed, a development in which the owner gives preferences in tenant selection (with HUD approval) to eligible elderly persons or persons with disabilities, for all units in that development.

(c) Are current in mortgage payments or are current under a workout agreement.

(d) Meet HUD's Uniform Physical Conditions Standards (codified in 24 CFR part 5, subpart G), based on the most recent physical inspection report and responses thereto, as evidenced by a score of 60 or better on the last physical inspection or by an approved plan for developments scoring less than 60.

(e) Are in compliance with their regulatory agreement, Housing Assistance Payment (HAP) Contract, and other outstanding directives.

(f) Have insufficient surplus cash available at the time of application that otherwise could be used to hire a Service Coordinator. HUD Field staff will make this determination based on the surplus cash statement of the development's last Annual Financial Statement.

(4) If your eligibility status changes during the course of the grant term, making you ineligible to receive a grant (e.g. due to prepayment of mortgage, sale of property, or opting out of a Section 8 HAP contract), HUD has the right to terminate your grant.

(F) Ineligible Applicants and Developments.

(1) Property management companies, area agencies on aging, and other like organizations are not eligible applicants for Service Coordinator funds. Such agents may prepare applications and sign application documents if they provide written authorization from the owner corporation as part of the application. In such cases, the owner corporation must be indicated on all forms and documents as the funding recipient.

(2) Developments not designed for the elderly or people with disabilities or those no longer operating as such.

(3) Section 221(d)(4) developments without project-based Section 8 assistance.

(4) Section 202 and 811 developments with a PRAC. Owners of Section 202 PRAC developments may obtain funding by requesting an increase in their PRAC payment consistent with Handbook 4381.5 REVISION-2, CHANGE-2, Chapter 8.

(G) Eligible Activities.

(1) Service Coordinator Program grant funds may be used to pay for the salary, fringe benefits, and related support costs of employing a service coordinator.

(2) You may use grant funds to pay for Quality Assurance (QA) in an amount that does not exceed five (5) percent of the Service Coordinator's salary. Eligible QA activities are those that evaluate your program, to assure that the position is effectively implemented. A qualified, objective third party must perform the program evaluation work and must have supervisory work experience and education in social or health care services. Your QA activities must include two program evaluation reviews during the first year of program operation and one review each successive year. The program evaluations must identify short and long term program outcomes and performance indicators that will help you measure your performance.

On-site housing management staff cannot perform QA and you may not augment current salaries of in-house staff for this purpose.

(3) You may propose reasonable costs associated with setting up a confidential office space for the Service Coordinator. Such expenses must be one-time only administrative start-up costs. Such costs may involve acquisition, leasing, rehabilitation, or conversion of space. HUD Field Office staff must approve both the proposed costs and activity and must perform an environmental assessment on such proposed work prior to grant award.

(4) You may use funds to augment a current Service Coordinator program, by increasing the hours of a currently employed Service Coordinator, or hiring an additional Service Coordinator or aide on a part-or full-time basis. Likewise, ALCP applicants may apply for new or augmented Service Coordinator costs to serve Assisted Living residents and/or all residents of the development.

(5) You may use funds to continue a Service Coordinator program that has previously been funded through other sources. In your application, you must provide evidence that this funding source has already ended or will discontinue within six months following the application deadline date and that no other funding mechanism is available to continue the program. This applies only to funding sources other than the subsidy awards and grants provided by the Department through program Notices beginning in FY 1992. HUD currently provides one-year extensions to these subsidy awards and grants through a separate funding action.

(6) You may provide service coordination to low-income elderly individuals or people with disabilities living in the vicinity of an eligible development. Community residents should come to your housing development to meet with and receive service from the Service Coordinator. However, you must make reasonable accommodations for those individuals unable to travel to the housing site.

(H) Ineligible Activities.

(1) You may not use funds available through this NOFA to replace currently available funding from other sources for a Service Coordinator or for some other staff person who performs service coordinator functions.

(2) Owners with existing service coordinator subsidy awards or grants may not apply for renewal or extension of those programs under this NOFA.

(3) Congregate Housing Services Program (CHSP) grantees may not use these funds to meet statutory program match requirements and may not use these funds to replace current CHSP program funds to continue the employment of a service coordinator.

(4) The cost of application preparation is not eligible for reimbursement.

(5) Grant funds cannot be used to increase a project's management fee.

(6) You cannot hire an additional part or full-time Service Coordinator for the sole purpose of serving community residents.

IV. Program Requirements

To receive and administer a Service Coordinator grant, you must meet the requirements in Section IV of this program section of the SuperNOFA. These requirements apply to all activities, programs, and functions used to plan, budget, and evaluate the work funded under your program.

In addition to the requirements listed below, you must also meet the requirements of Section V of the General Section of this SuperNOFA. (Please note that paragraphs E, G, and M of Section V do not apply to the Service Coordinator program.)

(A) You must make sufficient separate and private office space available for the Service Coordinator and/or aides, without adversely affecting normal activities.

(B) The Service Coordinator must maintain resident files in a secured location. Files must be accessible ONLY to the Service Coordinator, unless residents provide signed consent otherwise. These policies must be consistent with maintaining confidentiality of information related to any individual per the Privacy Act of 1974.

(C) Grantees must ensure that the Service Coordinator receives appropriate supervision, training, and ongoing continuing education requirements, consistent with statutory and HUD administrative policies. This includes 36 hours of training in age-related and disability issues during the first year of employment, if the Service Coordinator has not received recent training in these areas, and 12 hours of continuing education each year thereafter.

(D) Administrative Costs. The administrative costs of your program cannot exceed 10% of the program's cost.

(E) Reports. Grantees must submit semi-annual financial status and program performance reports. They must also provide information supporting program expenses at the time of receipt of grant funds for cost reimbursement. The objectives of the Service Coordinator program are to enhance a resident's quality of life and ability to live independently and age in place. The data that HUD collects on the performance report measures the grantee's success in meeting these intended program outcomes. The data reported include the numbers of residents served, their ages, frailty levels, and the range of services provided to them. In addition, the performance report assesses the Service Coordinator's efficiency in providing coordination, by reporting the number of hours worked, the amount of time spent doing administrative tasks, the types of professional training attended, and examples of problems encountered throughout the course of their work.

(F) As a condition of receiving a grant, Section 202 developments with project-based Section 8 must open a Residual Receipts account separate from the Reserve for Replacement account, if they do not already have such a separate account.

(G) Term of Funded Activities. The grant term is three years. HUD will renew grants subject to the availability of funds and acceptable program performance.

(H) Subgrants and Subcontracts. You may directly hire a Service Coordinator or you may contract with a qualified third party to provide this service.

V. Application Selection Process

(A) General. HUD will not award Service Coordinator Program grant funds through a rating and ranking process. Instead, the Department will hold one national lottery for all eligible applications forwarded from Multifamily HUB and Multifamily Program Centers (a list of these offices is found in Appendix A to this notice).

(B) Threshold Eligibility Review. HUD Multifamily Field Office staff will review applications for completeness and compliance with the eligibility criteria set forth in Section III of this NOFA. Field Office staff will forward application information to Headquarters for entry into the lottery if the application was received by the deadline date, meets all eligibility criteria, proposes reasonable costs for eligible activities, and includes all technical corrections by the designated deadline date.

VI. Application Submission Requirements

(A) Single Applications.

(1) You may submit one application for one or more developments that your corporation owns.

(2) You may submit more than one application to a single Field Office, if you wish to increase your chances of selection in the lottery. Each application must propose a separate, stand-alone program and the development(s) must all be located in the same Field Office jurisdiction.

(3) If you wish to apply on behalf of developments located in different Field Office jurisdictions, you must submit a separate application to each Field Office.

(B) Joint Applications. You may join with one or more other eligible owners to share a Service Coordinator and submit a joint application. In the past, joint applications have been used by small developments that joined together to hire and share a part or full-time Service Coordinator.

(C) Application Submission Requirements for ALCP Applicants. If you are an ALCP applicant and you request new or additional Service Coordinator costs specifically for your proposed Assisted Living Program, you must submit an application containing all required documents and information listed in this NOFA. Be sure to indicate the amount of grant funds you are requesting for both programs on your HUD-424 forms. HUD Field Office staff will review both applications simultaneously.

ALCP applicants must submit all the required items in the Service Coordinator application listed in Section VI.(E) of this NOFA. You may provide a copy of all standard forms in your Service Coordinator application. If you do not provide either an original or copy of these forms, your Service Coordinator application will be incomplete.

If you currently do not have a Service Coordinator working at the development proposed in your ALCP application and your ALCP application is selected to receive an award, HUD will fund a Service Coordinator to serve either ALCP residents only or all residents of the development dependent upon your request. If your development currently has a Service Coordinator, you may request additional hours for the Service Coordinator to serve the Assisted Living residents. If you request additional hours, you must specify the number of additional hours per week and provide an explanation based on the anticipated needs of the Assisted Living residents. Provide this explanation in your ALCP application as instructed in the ALCP NOFA.

If you request Service Coordinator funding to serve all residents of your development, your request can be entered into the national lottery if your ALCP application is not selected to receive an award.

Owners applying for ALCP grants may also submit separate Service Coordinator applications for entry into the lottery for other eligible developments they own and that are not included in their ALCP application.

(D) Your application must contain the items listed in this Section VI(D). These items include the standard forms, certifications, and assurances listed in the General Section of the SuperNOFA that are applicable to this funding (collectively, referred to as the “standard forms”). The standard forms and other required forms can be found in the Application found in Appendix B to this NOFA. The items are as follows:

Standard Forms

(1) Application for Federal Assistance (HUD-424)

(2) Applicant Assurances and Certifications (HUD-424B)

(3) If engaged in lobbying, the Disclosure Form Regarding Lobbying (SF-LLL)

(4) Applicant/Recipient Disclosure/Update Report Form (HUD-2880)

(5) Acknowledgment of Application Receipt (HUD-2993)

(6) Client Comments and Suggestions (HUD-2994)

Other Application Items:

All applications for funding under the Service Coordinator Program must contain the following documents and information:

(1) Service Coordinator Funding Request, forms HUD-91186 and HUD-91186-i.

(2) If more than one owner is proposing to share a Service Coordinator, one agency must designate itself the “lead”. This lead agency must submit a letter along with the completed application materials from each owner. The letter must be on organization letterhead and contain the number of developments, their names and addresses, and the dollar amount requested for each site. The legal signatory for the owner corporation must sign the letter, indicating agreement to administer grant funds for the housing developments listed in the letter.

(3) Evidence of comparable salaries in your local area.

(4) Narratives. (a) Explain your method of estimating how many residents of your development are frail or at-risk elderly or non-elderly people with disabilities. Please document that individuals meeting these criteria make up at least 25% of your resident population. (Do not include elderly individuals or people with disabilities who do not live in the eligible developments included in your application.)

(b) Explain how you will provide on-site private office space for the Service Coordinator, to allow for confidential meetings with residents.

(c) If you include quality assurance in your proposed budget, provide a justification and explanation of who will perform this work, what responsibilities are involved, and how often the work will be done.

(d) If you propose to serve community residents, present a description of your plan.

(e) If you are applying for an ALCP grant: (i) Describe how the new or additional Service Coordinator hours will support your proposed assisted living program, by following the instruction provided in the ALCP NOFA; and (ii) indicate if you want your Service Coordinator application entered into the lottery if your ALCP application is not selected to receive an award.

(5) If applicable, evidence that prior funding sources for your development's Service Coordinator program are no longer available or will expire within six months following the application deadline date.

(6) A bank statement showing the current residual receipts or excess income balance in the development's account.

(7) Applicant checklist.

VII. Corrections to Deficient Applications

The General Section of the SuperNOFA provides the procedures for corrections to deficient applications.

VIII. Environmental Requirements

It is anticipated that most activities under this program are categorically excluded from NEPA and related environmental authorities under 24 CFR 50.19(b)(3), (4), (12), or (13). If grant funds will be used to cover the cost of any activities which are not exempted from environmental review requirements—such as acquisition, leasing, construction, or building rehabilitation, HUD will perform an environmental review to the extent required by 24 CFR part 50, prior to grant award.

IX. Authority

Section 808 of the Cranston-Gonzalez National Affordable Housing Act (Pub. L. 101-625, approved November 28, 1990), as amended by sections 671, 674, 676, and 677 of the Housing and Community Development Act of 1992 (Pub. L. 102-550, approved October 28, 1992), and section 851 of the American Homeownership and Economic Opportunity Act of 2000 (Pub. L. 106-569, approved December 27, 2000).

Appendix A

HUD Field Office List for Mailing Service Coordinator Applications

Alabama—Multifamily Housing Program Center, HUD—Birmingham Office, 600 Beacon Parkway West, Rm. 300, Birmingham, AL 35209-3144, OFC Phone: (205) 290-7611, FAX: (205) 290-7632, TTY Number: (205) 731-2624

Alaska—Multifamily Housing Hub, HUD Seattle Office, 909 First Avenue, Suite 190, MS-0AHM, Seattle, WA 98104-1000, OFC Phone: (206) 220-5228 ext. 3250, FAX: (206) 220-5206, TTY Number: (206) 220-5254

Arizona—Multifamily Housing Program Center, HUD Phoenix Office, 400 North Fifth Street, Suite 1600, Phoenix, AZ 85004-2361, OFC Phone: (602) 379-4434, FAX: (602) 379-3985 TTY Number: (602) 379-4557

Arkansas—Multifamily Housing Program Center, HUD Little Rock Office, 425 West Capitol Avenue #900, Little Rock, AR 72201-3488, OFC Phone: (501) 324-5401, FAX: (501) 324-6142, TTY Number: (501) 324-5931

California—Multifamily Housing Hub, HUD—San Francisco Office, 450 Golden Gate Avenue, PO Box 36003, San Francisco, CA 94102-3448, OFC Phone: (415) 436-6505, FAX: (415) 436-8996, TTY Number: (415) 436-6594

Los Angeles Multifamily Hub, 611 West Sixth Street, Suite 800, Los Angeles, CA 90017, OFC Phone: (213) 894-8000 x3634, Fax: (213) 894-8255, TTY Number: (213) 894-8133

Colorado—Multifamily Housing Hub, HUD Denver Office, 633 17th Street, 11th Floor, Denver, CO 80202-3607, OFC Phone: (303) 672-5343, FAX: (303) 672-5153, TTY Number: (303) 672-5113

Connecticut—Multifamily Housing Program Center, HUD—Hartford Office, One Corporate Center, 19th floor, Hartford, CT 06103-3220, OFC Phone: (860) 240-4800 Ext. 3068, FAX: (860) 240-4850, TTY Number: (860) 240-4665

Delaware—Multifamily Housing Hub, HUD Philadelphia Office, The Wanamaker Building, 100 Penn Square, East, Philadelphia, PA 19107-3380, OFC Phone: (215) 656-0609 Ext. 3533, FAX: (215) 656-3427, TTY Number: (215) 656-3452

District of Columbia—Multifamily Housing Program Center, HUD Washington, DC Office, Suite 300, 820 First Street, N.E., Washington, DC 20032-4205, OFC Phone: (202) 275-9200, FAX: (202) 275-9212, TTY Number: (202) 275-0772

Florida—Multifamily Housing Hub, HUD—Jacksonville Office, 301 West Bay Street, Suite 2200, Jacksonville, FL 32202-5121, OFC Phone: (904) 232-1777 x2144, FAX: (904) 232-2731, TTY Number: (904) 232-2631

Georgia—Multifamily Housing Hub, HUD—Atlanta Office, Five Points Plaza Building, 40 Marietta Street, S.W., Atlanta, Georgia 30303-2806, OFC Phone: (404) 331-4976, FAX: (404) 331-4028, TTY Number: (404) 730-2654

Hawaii—Multifamily Housing Program Center, HUD Honolulu Office, 7 Waterfront Plaza, 500 Ala Moana Blvd. #500, Honolulu, HI 96813-4918, OFC Phone: (808) 522-8185 Ext. 244, FAX: (808) 522-8194, TTY Number: (808) 522-8193

Idaho—Multifamily Housing Hub, HUD Seattle Office, 909 First Avenue, Suite 190, MS-0AHM, Seattle, WA 98104-1000, OFC Phone: (206) 220-5228 ext. 3250, FAX: (206) 220-5206, TTY Number: (206) 220-5254

Illinois—Multifamily Housing Hub, HUD—Chicago Office, Ralph Metcalfe Federal Building, 77 West Jackson Boulevard, Chicago, IL 60604-3507, OFC Phone: (312) 353-6236 Ext. 2202, FAX: (312) 886-2729, TTY Number: (312) 353-5944

Indiana—Multifamily Housing Program Center, HUD Indianapolis Office, 151 North Delaware Street, Suite 1200, Indianapolis, IN 46204-2526, OFC Phone: (317) 226-6303, FAX: (317) 226-7308, TTY Number: (317) 226-7081

Iowa—Multifamily Housing Program Center, HUD Des Moines Office, 210 Walnut Street, Room 239, Des Moines, IA 50309-2155, OFC Phone: (515) 284-4736, FAX: (515) 284-4743, TTY Number: (515) 284-4728

Kansas—Multifamily Housing Hub, HUD Kansas City Office, 400 State Avenue, Room 200, Kansas City, KS 66101-2406, OFC Phone: (913) 551-6844, FAX: (913) 551-5469, TTY Number: (913) 551-6972

Kentucky—Multifamily Housing Program Center, HUD—Louisville Office, 601 West Broadway, PO Box 1044, Louisville, KY 40201-1044, OFC Phone: (502) 582-6124, FAX: (502) 582-6547, TTY Number: (800) 648-6056

Louisiana—Multifamily Housing Program Center, HUD New Orleans Office, Hale Boggs Bldg.—501 Magazine Street, 9th Floor, New Orleans, LA 70130-3099, OFC Phone: (504) 589-7236, FAX: (504) 589-6834, TTY Number: (504) 589-7279

Maine—Multifamily Housing Program Center, HUD—Manchester Office, Norris Cotton Federal Bldg., 275 Chestnut Street, Manchester, NH 03101-2487, OFC Phone: (603) 666-7684, FAX: (603) 666-7697, TTY Number: (603) 666-7518

Maryland—Multifamily Housing Hub, HUD Baltimore Office, 5th Floor, 10 South Howard Street, Baltimore, MD 21201-2505, OFC Phone: (410) 962-2520 Ext. 3474, FAX: (410) 962-1849, TTY Number: (410) 962-0106

Massachusetts—Multifamily Housing Hub, HUD—Boston Office, O'Neil Federal Building, 10 Causeway Street, Rm.375, Boston, MA 02222-1092, OFC Phone: (617) 565-5162, FAX: (617) 565-6557, TTY Number: (617) 565-5453

Michigan—Multifamily Housing Hub, HUD Detroit Office, 477 Michigan Avenue, Detroit, MI 48226-2592, OFC Phone: (313) 226-7900, FAX: (313) 226-5611, TTY Number: (313) 226-6899

Multifamily Housing Program Center, HUD Grand Rapids, Trade Center Building, 50 Louis Street, N.W., Grand Rapids, MI 49503-2648, OFC Phone: (616) 456-2100, FAX: (616) 456-2191, TTY Number: (616) 456-2159

Minnesota—Multifamily Housing Hub, HUD Minneapolis Office, 220 Second Street, South, Minneapolis, MN 55401-2195, OFC Phone: (612) 370-3051, FAX: (612) 370-3090, TTY Number: (612) 370-3186

Mississippi—Multifamily Housing Program Center, HUD Jackson Office—McCoy Federal Building, 100 W. Capitol Street, Room 910, Jackson, MS 39269-1096, OFC Phone: (601) 965-4738, FAX: (601) 965-4773, TTY Number: (601) 965-4171

Missouri—Multifamily Housing Hub, HUD Kansas City Office, 400 State Avenue, Room 200, Kansas City, KS 66101-2406, OFC Phone: (913) 551-6844, FAX: (913) 551-5469, TTY Number: (913) 551-6972

Multifamily Housing Program Center—HUD St. Louis Office, Robert A. Young Federal Building, 1222 Spruce Street, Third Floor, St. Louis, MO 63103-2836, OFC Phone: (314) 539-6382, FAX: (314) 539-6356, TTY Number: (314) 539-6331

Montana—Multifamily Housing Hub, HUD Denver Office, 633 17th Street, 14th Floor, Denver, CO 80202-3607, OFC Phone: (303) 672-5343, FAX: (303) 672-5153, TTY Number: (303) 672-5248

Nebraska—Multifamily Housing Program Center, HUD Omaha Office, 10909 Mill Valley Road, Suite 100, Omaha, NE 68154-3955, OFC Phone: (402) 492-3113, FAX: (402) 492-3184, TTY Number: (402) 492-3183

Nevada—Multifamily Housing Program Center, HUD Las Vegas Office, 333 N. Rancho Drive—Atrium Bldg. Suite 700, Las Vegas, NV 89106-3714, OFC Phone: (702) 388-6525, FAX: (702) 388-6244, TTY Number: (702) 388-6246

New Hampshire—Multifamily Housing Program Center, HUD—Manchester Office, Norris Cotton Federal Bldg., 275 Chestnut Street, Manchester, NH 03101-2487, OFC Phone: (603) 666-7684, FAX: (603) 666-7697, TTY Number: (603) 666-7518

New Jersey—Multifamily Housing Program Center, HUD—Newark Office—13th Floor, One Newark Center, Newark, NJ 07102-5260, OFC Phone: (973) 622-7900 Ext. 3400, FAX: (973) 645-2271, TTY Number: (973) 645-3298

New Mexico—Multifamily Housing Hub, HUD Ft. Worth Office, 801 Cherry Street, PO Box 2905, Ft. Worth, TX 76102-2905, OFC Phone: (817) 978-5764, FAX: (817) 978-5520, TTY Number: (817) 978-9278

New York—Multifamily Housing Hub, HUD—New York Office, 26 Federal Plaza—Room 3214, New York, NY 10278-0068, OFC Phone: (212) 264-0777 Ext. 3713, FAX: (212) 264-1277, TTY Number: (212) 264-0927

Multifamily Housing Hub, HUD—Buffalo Office, Lafayette Court, 5th Floor, 465 Main Street, Buffalo, NY 14203-1780, OFC Phone: (716) 551-5755 Ext. 5509, FAX: (716) 551-3252, TTY Number: (716) 551-5787

North Carolina—Multifamily Housing Hub, HUD Greensboro Office—Koger Building, 2306 West Meadowview Road, Greensboro, NC 27407, OFC Phone: (336) 547-4034, FAX: (336) 547-4121, TTY Number: (336) 547-4020

North Dakota—Multifamily Housing Hub, HUD Denver Office, 633 17th Street, 14th Floor, Denver, CO 80202-3607, OFC Phone: (303) 672-5343, FAX: (303) 672-5153, TTY Number: (303) 672-5248

Ohio—Multifamily Housing Hub, HUD Columbus Office, 200 North High Street, Columbus, OH 43215-2499, OFC Phone: (614) 469-5737, Ext. 8111, FAX: (614) 469-2432, TTY Number: (614) 469-6694

Multifamily Housing Program Center, HUD Cincinnati Office, 525 Vine Street, Suite 700, Cincinnati, OH 45202-3188, OFC Phone: (513) 684-2350, FAX: (513) 684-6224, TTY Number: (513) 684-6180

Multifamily Housing Program Center, HUD Cleveland Office, 1350 Euclid Avenue, Suite 500, Cleveland, OH 44115-1815, OFC Phone: (216) 522-4058 Ext. 7000, FAX: (216) 522-4067, TTY Number: (216) 522-2261

Oklahoma—Multifamily Housing Program Center, HUD Oklahoma City Office, 500 W. Main Street, Suite 400, Oklahoma City, OK 73102-2233, OFC Phone: (405) 553-7410, FAX: (405) 553-7406, TTY Number: (1) 800-877-8339

Oregon—Multifamily Housing Hub, HUD Seattle Office, 909 First Avenue, Suite 190, MS-0AHM, Seattle, WA 98104-1000, OFC Phone: (206) 220-5228 ext. 3250, FAX: (206) 220-5206, TTY Number: (206) 220-5254

Pennsylvania—Multifamily Housing Hub, HUD Philadelphia Office, The Wanamaker Building, 100 Penn Square, East, Philadelphia, PA 19107-3380, OFC Phone: (215) 656-0609 Ext. 3533, FAX: (215) 656-3427, TTY Number: (215) 656-3452

Multifamily Housing Program Center, HUD Pittsburgh Office, 339 Sixth Avenue—Sixth Floor, Pittsburgh, PA 15222-2515, OFC Phone: (412) 644-6639, FAX: (412) 644-5872, TTY Number: (412) 644-5747

Puerto Rico—Multifamily Housing Program Center, HUD Caribbean Office, 171 Carlos E. Chardon Avenue, San Juan, PR 00918-0903, OFC Phone: (787) 766-5401, FAX: (787) 766-5522, TTY Number: (787) 766-5909

Rhode Island—Multifamily Housing Program Center, HUD—Providence Office, 10 Weybosset Street, Sixth Floor, Providence, RI 02903-2808, OFC Phone: (401) 528-5230, FAX: (401) 528-5097, TTY Number: (401) 528-5403

South Carolina—Multifamily Housing Program Center, HUD Columbia Office, 1835 Assembly Street, Columbia, SC 29201-2480, OFC Phone: (803) 765-5162, FAX: (803) 253-3043, TTY Number: (803) 253-3209

South Dakota—Multifamily Housing Hub, HUD Denver Office, 633 17th Street, 14th Floor, Denver, CO 80202-3607, OFC Phone: (303) 672-5343, FAX: (303) 672-5153, TTY Number: (303) 672-5248

Tennessee—Multifamily Housing Program Center, HUD—Knoxville Office, 710 Locust Street, SW, Knoxville, TN 37902-2526, OFC Phone: (423) 545-4411, FAX: (423) 545-4578, TTY Number: (423) 545-4559

Multifamily Housing Program Center HUD—Nashville Office, 251 Cumberland Bend Drive, Suite 200, Nashville, TN 37228-1803, OFC Phone: (615) 736-5748, FAX: (615) 736-2018, TTY Number: (615) 736-2886

Texas—Multifamily Housing Hub, HUD Ft. Worth Office, 801 Cherry Street, PO Box 2905, Ft. Worth, TX 76102-2905, OFC Phone: (817) 978-5764, FAX: (817) 978-5520, TTY Number: (817) 978-5965

Multifamily Housing Program Center, HUD Houston Office, 2211 Norfolk, #200, Houston, TX 77098-4096, OFC Phone: (713) 313-2274 Ext. 7015, FAX: (713) 313-2319, TTY Number: (713) 834-3274

Multifamily Housing Program Center, HUD San Antonio Office, 800 Dolorosa, San Antonio, TX 78207-4563, OFC Phone: (210) 475-6831, FAX: (210) 472-6897, TTY Number: (210) 475-6885

Utah—Multifamily Housing Hub, HUD Denver Office, 633 17th Street, 14th Floor, Denver, CO 80202-3607, OFC Phone: (303) 672-5343, FAX: (303) 672-5153, TTY Number: (303) 672-5248

Vermont—Multifamily Housing Program Center, HUD—Manchester Office, Norris Cotton Federal Bldg., 275 Chestnut Street, Manchester, NH 03101-2487, OFC Phone: (603) 666-7684, FAX: (603) 666-7697, TTY Number: (603) 666-7518

Virginia—Multifamily HUD Richmond Office, 3600 West Broad Street, Richmond, VA 23230-4920, OFC Phone: (804) 278-4500 Ext. 3146, FAX: (804) 278-4613, TTY Number: (804) 771-2038

Washington—Multifamily HUD Seattle Office, 909 First Avenue, Suite 190, MS-0AHM, Seattle, WA 98104-1000, OFC Phone: (206) 220-5228 ext. 3250, FAX: (206) 220-5206, TTY Number: (206) 220-5254

West Virginia—Multifamily HUD—Charleston Office, 405 Capitol Street, Suite 708, Charleston, WV 25301-1795, OFC Phone: (304) 347-7000 Ext. 103, FAX: (304) 347-7050, TTY Number: (304) 347-5332

Wisconsin—Multifamily, HUD Milwaukee Office, 310 West Wisconsin Avenue, Room 1380, Milwaukee, WI 53203-2289, OFC Phone: (414) 297-3214 Ext. 8662, FAX: (414) 297-3204, TTY Number: (414) 297-1423

Wyoming—Multifamily Housing Hub, HUD Denver Office, 633 17th Street, 14th Floor, Denver, CO 80202-3607, OFC Phone: (303) 672-5343, FAX: (303) 672-5153, TTY Number: (303) 672-5248

Funding Availability for Mainstream Housing Opportunities for Persons With Disabilities (Mainstream Program)

Program Overview

Purpose of the Program. The purpose of this program is to provide vouchers under the Housing Choice Voucher Program to enable persons with disabilities (elderly and non-elderly) to access affordable private housing.

Available Funds. Approximately $53.6 million in five-year budget authority, derived from FY 2003 Section 811 funding, for approximately 1,800 vouchers is available to public housing agencies (PHAs) and nonprofit organizations.

See section II (A) of this funding announcement, which fully addresses the source of the $53.6 million in five-year budget authority appropriated by Congress for FY 2003 under Section 811 of the Cranston-Gonzalez National Affordable Housing Act (NAHA) (42 U.S.C. 12701 et seq.), available under this funding announcement. All future references in this funding announcement to five-year budget authority are based upon this funding source.

Eligible Applicants. PHAs and nonprofit organizations that provide services to disabled families are eligible to apply. PHAs or nonprofit organizations that fall into any of the categories in section VII (B)(2) of this announcement are ineligible to have an application funded under this announcement. Indian Housing Authorities (IHAs), Indian tribes and their tribally designated housing entities are not eligible to apply because the Native American Housing Assistance and Self-Determination Act of 1996, (25 U.S.C. 4101 et seq.) does not allow HUD to enter into new housing choice voucher annual contributions contracts (ACC) with IHAs after September 30, 1997.

The vouchers that HUD will provide under this announcement must be made available to eligible disabled families regardless of their type of disability. (See the definition of disabled family in Section IV (E)(1) of this announcement.) The Mainstream Program vouchers must not be issued by the administering agency on the basis of any preference system favoring any particular type of disability over another, nor shall the vouchers be issued solely on the basis of an administering agency's waiting list which is based on that agency heretofore having served only certain types of disabled persons. The Housing Choice Voucher Program regulations provide at 24 CFR 982.207(b)(3) that a PHA may give preference for admission of families that include a person with disabilities; however, the PHA may not give preference for admission of persons with a specific disability. This regulatory requirement is also applicable to nonprofit organizations that receive funding under this announcement; as such organizations must comply with the regulatory requirements applicable to the Housing Choice Voucher Program.

Application Deadline. June 18, 2003.

Match. None

Additional Information

If you are interested in applying for funding under the Mainstream Program, please review carefully the General Section of this SuperNOFA and the following additional information.

I. Application Due Date, Application Kits, Further Information and Technical Assistance

Application Due Date. Submit your completed application (an original and one copy) to HUD on or before midnight of June 18, 2003. This application deadline date is firm. In the interest of fairness to all competing PHAs and nonprofit organizations, HUD will not consider any application that is submitted after the application deadline. Applicants should take this practice into account and make early submission of their materials to avoid any risk of loss of eligibility brought about by unanticipated delays or other delivery-related problems. HUD will not accept, at any time during the competition under this funding announcement, application materials sent via facsimile (FAX) transmission. See the paragraph titled “ADDRESSES AND APPLICATION SUBMISSION PROCEDURES” in the General Section of the SuperNOFA regarding HUD's mailing, delivery and receipt procedures pertinent to the submission of your application.

Address for Submitting Applications. Your completed application consists of one original and one copy. Submit your original application and one copy to: Grants Management Center, Mail Stop: Mainstream Program, 2001 Jefferson Davis Hwy, Suite 703, Arlington, VA 22202.

The Grants Management Center (GMC) is the official place of receipt for all applications in response to this announcement of funding availability. Applications not submitted to the GMC will not be considered. A copy of the application is not required to be submitted to the local HUD Field Office. For ease of reference, the term “local HUD Field Office” will be used in this announcement to mean the local HUD Field Office Hub and the local HUD Field Office Program Center. A listing of HUD Field Offices is attached to the General Section of the SuperNOFA.

Application Kits. An application kit is not necessary for submitting an application in response to this announcement. This announcement contains all the information necessary for the submission of your application for voucher funding for the Mainstream Program.

Further Information and Technical Assistance. Prior to the application due date, you may contact George C. Hendrickson, Housing Program Specialist, Room 4216, Office of Public Housing and Voucher Programs, Department of Housing and Urban Development, 451 Seventh Street, SW., Washington, DC 20410; telephone (202) 708-0477, ext. 4064. Subsequent to application submission, you may contact the Grants Management Center at (202) 358-0221. (These are not toll-free numbers.) Persons with hearing or speech impairments may access these numbers via TTY (text telephone) by calling the Federal Information Relay Service at 1-800-877-8339 (this is a toll-free number).

Satellite Broadcast. HUD will hold an information broadcast via satellite for potential applicants to learn more about the program and preparation of an application. For more information about the date and time of this broadcast, you should consult the HUD web site at www.hud.gov.

II. Amount Allocated

(A) Available Funding for Mainstream Program. Approximately $53.6 million in five-year funding is available for approximately 1,800 vouchers. This allocation is consistent with the Consolidated Appropriations Resolution, FY 2003 (Pub. L. 108-7, approved February 20, 2003), which provides that the Secretary of HUD may designate up to 25 percent of the amounts appropriated for supportive housing for persons with disabilities, under section 811 of the Cranston-Gonzalez National Affordable Housing Act (NAHA), for tenant-based assistance. The five-year budget authority made available to applicants under this Mainstream Program funding announcement does not exceed 25 percent of the $248,886,653 million (dollar amount after rescission action) made available for the section 811 Program under the FY 2003 HUD Appropriations Act. All of the approximately $53.6 million in Mainstream funding is for use in the housing of elderly and non-elderly disabled families.

(B) Funding for the Section 811 Program. The Section 811 Program of Supportive Housing for Persons With Disabilities, located elsewhere in the SuperNOFA, provides capital advances and project rental assistance in FY 2003. The Section 811 Program of Supportive Housing for Persons With Disabilities will provide funding to nonprofit organizations (sponsors) for the development and operation of small, scattered-site housing to enable adults with disabilities to live as independently as possible in the community. The capital advance does not need to be repaid as long as the housing is used for its intended purpose for at least 40 years. The project rental assistance funds cover the difference between the HUD-approved operating expenses of the housing and the tenant's contribution towards rent, which is 30 percent of adjusted income. The types of housing that are typically developed through the program are small group homes for no more than six persons, independent living projects containing individual apartment units for no more than 14 persons, and condominium units. Sponsors are required to ensure that residents have access to any necessary supportive services but cannot require the acceptance of such as a condition of occupancy.

(C) Housing Choice Voucher Funding

(1) Funding Methodology. HUD will select applications for funding that meet all of the application submission requirements in section VI of this NOFA and that score a sufficient number of points under the selection criteria listed in section V of this NOFA. Applications will be ranked from highest to lowest score in descending order, with the highest ranked application selected first for funding, and so forth. Where two or more applicants have exactly the same score under the selection criteria in section V (B) of this NOFA and insufficient funding remains to fund all of them, applicants will be funded in the order of the exact percentage of disabled persons at or below the poverty level that is in each applicant's primary market area. The applicant with the highest percentage will be funded first, etc.

HUD will limit the number of applications selected for funding from any State to 10 percent of the budget authority available for the Mainstream Program. If establishing this geographic limit would result, however, in unreserved budget authority, HUD may modify this limit to assure that all available funds are used.

When remaining budget authority is insufficient to fund the last selected application in full, the application will be funded to the extent of the funding available, unless the applicant indicates that it will only accept a higher number of units. In that event, the next selected application shall be the one indicating a willingness to accept the lesser amount of funding for the units available.

(2) Maximum Voucher Request. There is a limit on the number of vouchers that may be requested. An eligible applicant may apply for a maximum of 50 vouchers. No more than 50 vouchers will be awarded to any applicant under the FY 2003 Mainstream Program.

(3) Determination of Funding Amount for the Applicant's Requested Number of Vouchers. HUD will determine the amount of funding that an applicant will be awarded under this announcement based upon an actual annual per unit cost {except for Moving to Work (MTW) agencies in which the per unit cost will be calculated in accordance with the agency's MTW Agreement for MTW units}, using the following two-step process:

(a) HUD will extract the total expenditures for the PHA's housing choice voucher program and the unit months leased information from the most recent approved year-end statement (Form HUD-52681) that the PHA has filed with HUD. HUD will divide the total expenditures for the PHA's housing choice voucher program by the unit months leased to derive an average monthly per unit cost.

(b) HUD will multiply the monthly per unit cost by 12 (months) to obtain an annual per unit cost.

Note: Applicants who do not currently administer a housing choice voucher program shall have their voucher funding based upon the actual annual per unit costs of the PHA in their most immediate area administering a housing choice voucher program, using the two step process described immediately above.

(4) Preliminary Fee. A preliminary fee of up to $500 per unit for start-up expenses will be paid to applicants selected for funding under this announcement who have not previously administered their own housing choice voucher program. The preliminary fee will be provided to such applicants only in their first year of administering housing choice vouchers.

III. Program Description, Eligible Applicants and Eligible Participants

(A) Program Description. The Secretary has established a Mainstream Housing Opportunities for Persons with Disabilities Program (Mainstream Program) to provide vouchers to enable persons with disabilities to access affordable private housing of their choice.

The Mainstream Program will assist PHAs and nonprofit organizations in providing housing choice vouchers to a segment of the population recognized by HUD's housing research as having one of the worst housing needs of any group in the United States, i.e., very low-income households with adults with disabilities. In addition, the Mainstream Program will assist persons with disabilities who often face difficulties in locating suitable and accessible housing on the private market.

(B) Eligible Applicants. Public housing agencies (PHAs) and nonprofit organizations that provide services to the disabled (as defined in section IV(E) of this announcement) are eligible applicants for the five-year budget authority funding available under this funding announcement. PHAs or nonprofit organizations that fall into any of the categories in section VII(B)(2) of this announcement are ineligible to have an application funded under this announcement. Indian Housing Authorities (IHAs), Indian tribes and their tribally designated housing entities are not eligible to apply for new increments of housing choice voucher funding because the Native American Housing Assistance and Self-Determination Act of 1996 does not allow HUD to enter into new housing choice voucher annual contributions contracts (ACC) with IHAs after September 30, 1997.

(1) PHAs.

(a) A PHA may submit only one application under this announcement. This one application per PHA limit applies regardless of whether or not the PHA is a State or regional PHA, except in those instances where such a PHA has more than one PHA code number due to its operating under the jurisdiction of more than one HUD Field Office. In such an instance, a separate application under each code shall be considered for funding, with the cumulative total of vouchers applied for under the applications not to exceed the maximum of 50 vouchers the PHA is eligible to apply for under Section II (C)(2) of this announcement, i.e., no more than the number of vouchers the same PHA would be eligible to apply for if it only had one PHA code number.

(b) PHAs are encouraged to involve nonprofit organizations that provide services to disabled families, as defined in Section III(B)(2) of this announcement, in the administration of the Mainstream Program's vouchers. In the past, such organizations have frequently demonstrated a capacity to assist disabled families, as well as have an in-depth knowledge of the disability community.

(i) A nonprofit organization could function as either a contract administrator for the PHA's Mainstream vouchers, or as a subcontractor responsible for providing case management services or assisting disabled families to locate suitable housing, gain access to supportive services, or identify private funding sources to cover the costs of unit modifications needed as a reasonable accommodation.

(ii) Such contractual arrangements must, however, ensure equal opportunity among the wide variety of disabled populations in the PHA's service area.

(c) In some cases an applicant currently administering the housing choice voucher program has, at the time of publication of this SuperNOFA, been designated by HUD as troubled under the Section 8 Management Assessment Program (SEMAP), has major program management findings from Inspector General audits that are unresolved, or has other significant program compliance problems. HUD will not accept an application from such an applicant as a contract administrator if, on the application due date, the troubled designation under SEMAP has not been removed by HUD, and the findings or other significant program compliance problems are not resolved. If the applicant wants to apply for funding under this announcement, it must submit an application that designates another contractor that is acceptable to HUD. The application must include an agreement by the other contractor to administer the new funding increment on behalf of the applicant, and (in the instance of an applicant with unresolved major program management findings or other significant program compliance problems) a statement that outlines the steps the applicant is taking to resolve the program findings or compliance problems.

Immediately after the publication of this SuperNOFA, the Office of Public Housing in the local HUD Field Office will notify, in writing, those PHAs and nonprofit organizations that have been designated by HUD as troubled under SEMAP, and those PHAs and nonprofit organizations with unresolved major program management findings or other significant program compliance problems that are not eligible to apply without such an agreement. Concurrently, the local HUD Field Office will provide a copy of each such written notification to the Director of the Grants Management Center. The applicant may appeal the decision, in writing, if HUD has mistakenly classified the applicant as having unresolved major program findings or other significant program compliance problems. The applicant may not appeal its designation as troubled under SEMAP. Any appeal with respect to unresolved major program management findings or other significant program compliance problems must be accompanied by conclusive evidence of HUD's error (i.e., documentation showing that the finding has been cleared or the program compliance problem has been resolved) and must be received prior to the application deadline. The appeal should be submitted to the local HUD Field Office where a final determination shall be made. Concurrently, the local HUD Field Office shall provide the Grants Management Center with a copy of the applicant's written appeal and the Field Office's written response to the appeal. Copies of all letters of ineligibility and matters that relate to PHA appeals referenced in this paragraph must be submitted to the GMC by the Field Office so as to be received by the GMC no later than 10 days after the application deadline date. Major program management findings, or significant program compliance problems, are those that would cast doubt on the capacity of the applicant to effectively administer any new housing choice voucher funding in accordance with applicable HUD regulatory and statutory requirements. (Note: If any additional PHAs or nonprofit disability organizations fall into the above category prior to HUD's announcement of awards under this NOFA, but subsequent to the local HUD Field Office's notification of the GMC addressed above, the Field Office shall immediately notify the GMC of the applicant's name and the category into which the applicant falls, i.e., designated as troubled under SEMAP, major unresolved OIG management findings, or other significant program compliance problems. As indicated in Section VII(B)(2) of this NOFA, an applicant must be eligible for funding at the time of the application due date, as well as at such subsequent time of HUD's selection of awardees. No PHA appeals, based upon Field Office letters of ineligibility issued after the application deadline date, shall be considered for purposes of eligibility for funding under this funding announcement.)

(2) Nonprofit Organization. A nonprofit organization may submit only one application under this announcement. For purposes of the Mainstream Program, a nonprofit organization shall be defined as an organization, no part of the net earnings of which inures to the benefit of any member, founder, contributor, or individual, that provides services to persons with disabilities and has received a federal tax-exempt designation, under section 501(c)(3) of the Internal Revenue Code, from the U.S. Internal Revenue Service.

(a) The nonprofit entity must:

(i) Have a voluntary board;

(ii) Be authorized by its charter or State law to enter into a contract with the Federal Government to provide housing assistance to persons with disabilities;

(iii) Have a functioning accounting system that is operated in accordance with generally accepted accounting principles, or designate an entity that will maintain a functioning accounting system for the organization in accordance with generally accepted accounting principles;

(iv) Practice nondiscrimination in the provision of assistance; and

(v) Provide services to the disabled as part of its ongoing activities and responsibilities.

(b) A nonprofit organization meeting the definition of a nonprofit organization as defined in this section III(B)(2), and wishing to apply for the funding available under this announcement, must have the capacity to:

(i) Comply with the Section 8 Management Assessment Program (SEMAP) certification requirements under 24 CFR part 985.

(ii) Carry out such housing choice voucher and SEMAP-specific related activities as making determinations as to rent reasonableness, performing housing quality standards (HQS) inspections and enforcement, conducting annual reexaminations of participant families, as well as otherwise meeting housing choice voucher program requirements under 24 CFR part 982.

(iii) Manage the Mainstream Program vouchers in a manner equivalent to an overall performance rating under SEMAP (24 CFR part 985) of at least “standard” during the first fiscal year of its receiving Mainstream Program funding under this funding announcement.

(iv) Administer rental housing programs or manage rental housing, as demonstrated by a specific list of rental housing programs the nonprofit organization has administered or the rental housing the organization has managed (e.g., private rental housing, HUD or State-related housing programs, etc.).

Nonprofit organizations are encouraged to seek out PHAs in their geographic area to develop cooperative contractual relationships under the Mainstream Program, and to enhance services to disabled families. In addition to contacting local PHAs, nonprofit organizations may also wish to contact regional (multi-county), or statewide PHAs who may be applying for Mainstream Program funding.

(C) Eligible Participants. Only a disabled family that is income eligible under 24 CFR 982.201(b)(1), as well as otherwise eligible under the regulations at 24 CFR 982.201, may receive a voucher awarded under the Mainstream Program. Applicants with disabilities must be selected from the PHA's or nonprofit organization's housing choice voucher waiting list. Additional information on those families and individuals eligible to receive a voucher is located at the following HUD Web site: http://www.hud.gov/offices/pih/programs/hcv.

IV. Program Requirements and Definitions

(A) Civil Rights and Fair Housing. To be eligible to receive funding under this funding announcement, the applicant must meet all the civil rights and fair housing requirements detailed in Sections V (B)(2), (C) and (D) of the General Section of the SuperNOFA.

(B) Certifications and Assurances. Each applicant is required to submit signed copies of Assurances and Certifications. The standard Assurances and Certifications are on Form HUD-52515, Funding Application, which includes the Equal Opportunity Certification, Certification Regarding Lobbying, and Certification Regarding Drug-Free Workplace Requirements.

(C) Voucher Assistance Requirements

(1) Housing Choice Voucher Program Regulations. Applicants must administer the Mainstream Program in accordance with HUD regulations and requirements governing the Housing Choice Voucher Program. The only exception to this requirement shall be for nonprofit organizations which shall not be required to comply with the requirements of 24 CFR part 903, subpart B concerning the requirement for a PHA Plan.

(2) Housing Choice Voucher Program Admission Requirements. Housing choice voucher assistance must be provided to eligible disabled families in conformity with regulations and requirements governing the Housing Choice Voucher Program and the PHA's administrative plan.

(3) Turnover. When a voucher under this announcement becomes available for reissue (e.g., the family initially selected for the program drops out of the program or is unsuccessful in the search for a unit), the voucher may be used only for another family eligible for assistance under this announcement for five years for the five-year funding from the date the rental assistance is placed under an annual contributions contract (ACC). In addition, any renewal by HUD of the five-year voucher funding (where the source of the renewal funding is Section 811 derived) shall require the continued reissuance of the vouchers to disabled families.

If there is ever an insufficient pool of disabled families on the PHA's or nonprofit organization's housing choice voucher waiting list, the PHA or nonprofit organization shall conduct outreach to encourage eligible persons to apply for this special allocation of vouchers. Outreach may include contacting independent living centers, advocacy organizations for persons with disabilities, and medical, mental health, and social service providers for referrals of persons receiving such services who would benefit from housing choice voucher assistance. If the PHA's or nonprofit organization's housing choice voucher waiting list is closed, and if the PHA or nonprofit organization has insufficient applicants on its housing choice voucher waiting list to use all awarded vouchers under this announcement, the PHA or nonprofit disability organization should open the waiting list for applications from disabled families. PHAs and nonprofit organizations must take care to keep track of the number of disabled vouchers they have been awarded under this funding announcement versus the number of such vouchers that have actually been issued to disabled families.

(D) PHA and Nonprofit Organization Responsibilities. In addition to the responsibilities under the Housing Choice Voucher Program and HUD regulations concerning nondiscrimination based on disability (24 CFR 8.28) and to affirmatively further fair housing, PHAs and nonprofit organizations that receive voucher funding shall:

(1) Where requested by an individual, assist program participants to gain access to supportive services available within the community, but not require eligible applicants or participants to accept supportive services as a condition of participation or continued occupancy in the program.

(2) Identify public and private funding sources to assist participants in covering the costs of modifications that need to be made to their units as a reasonable accommodation for their disabilities.

(3) Not deny persons who qualify for rental assistance under this program other housing opportunities, or otherwise restrict access to PHA or nonprofit organization programs to eligible applicants who choose not to participate.

(4) Provide housing choice voucher search assistance.

(5) In accordance with regulatory guidance, provide higher rents to owners necessary for the provision of accessible units and structural modifications for persons with disabilities.

(6) Provide technical assistance to owners for making reasonable accommodations or making units accessible to persons with disabilities.

(E) Definitions. The following definitions apply to the approximately $53.6 million in five-year budget authority available under this funding announcement.

(1) Disabled Family. Disabled family means a family whose head, spouse, or sole member is a person with disabilities. It may include two or more persons with disabilities living together, or one or more persons with disabilities living with one or more live-in aides.

(2) Person with disabilities.

(a) Means a person who:

(i) Has a disability as defined in 42 U.S.C. 423;

(ii) Is determined, pursuant to HUD regulations, to have a physical, mental or emotional impairment that:

(A) Is expected to be of long-continued and indefinite duration;

(B) Substantially impedes his or her ability to live independently; and

(C) Is of such a nature that the ability to live independently could be improved by more suitable housing conditions;

(iii) Has a developmental disability as defined in 42 U.S.C. 6001;

(b) Does not exclude persons who have the disease of acquired immunodeficiency syndrome or any conditions arising from the etiologic agent for acquired immunodeficiency syndrome;

(c) For purposes of qualifying for low-income housing, does not include a person whose disability is based solely on any drug or alcohol dependence.

(3) Housing choice voucher search assistance. Assistance to increase access by program participants to housing units in a variety of neighborhoods (including areas with low poverty concentrations) and to locate and obtain units suited to their needs.

(F) Homeownership and Family Self-Sufficiency (FSS). Applicants are encouraged to establish or expand upon an existing housing choice voucher homeownership program, as well as complete the closing process on homeownership units. Applicants are also encouraged to fill slots under a mandatory FSS program and to establish a voluntary FSS program and fill slots thereunder where a mandatory FSS program is not required.

(G) Increasing the Participation of Faith-Based and Community-Based Organizations in HUD Program Implementation. HUD believes that grassroots organizations, e.g., faith communities, civic organizations, and other community-based organizations, have not been effectively utilized. These grassroots organizations have a strong history of providing vital community services such as assisting the homeless and preventing homelessness; counseling individuals and families on fair housing rights; providing elderly housing opportunities; developing first time homeownership programs; increasing homeownership and rental housing opportunities; developing affordable and accessible housing in neighborhoods across the country; and creating economic development programs. The goal of this policy priority is to make HUD's housing choice voucher program more effective, efficient, and accessible by expanding opportunities for faith-based and other community-based organizations to participate in developing solutions for their own neighborhoods. Applicants are encouraged to coordinate with and otherwise involve faith-based and other community-based organizations in those activities under the housing choice voucher program where their services, expertise and knowledge may be most effective.

(H) Conducting Business in Accordance With Core Values and Ethical Standards. To reflect core values, all PHAs shall develop and maintain a written code of conduct in the PHA administrative plan that (1) requires compliance with the conflict of interest requirements of the Housing Choice Voucher Program at 24 CFR 982.161, and (2) prohibits the solicitation or acceptance of gifts or gratuities, in excess of a nominal value, by any officer or employee of the PHA, or any contractor, subcontractor or agent of the PHA. The PHA's administrative plan shall state PHA policies concerning PHA administrative and disciplinary remedies for violation of the PHA code of conduct. The PHA shall inform all officers, employees and agents of its organization of the PHA's code of conduct.

(I) Pre-Award Accounting System Surveys. See Section V (B)(5) of the General Section of the SuperNOFA regarding those applicants that may be subject to HUD's arranging for a pre-award survey of an applicant's financial management system.

V. Application Selection Process

(A) Rating and Ranking. After the Grants Management Center has screened and disapproved any applications found unacceptable for further processing, the Grants Management Center will review all acceptable applications to ensure that they are technically adequate and responsive to the requirements of this announcement. HUD Headquarters will fund all applications from PHAs and nonprofit organizations that are recommended for funding by the Grants Management Center unless HUD receives approvable applications for more funds than are available. HUD will select applicants to be funded based upon the methodology indicated in Section II (C)(1) of this NOFA. Applications meeting all the application submission requirements of Section VI of this NOFA will be rated and ranked on the basis of their score under the selection criteria in Section V (B) of this NOFA. The maximum score under the selection criteria is 100 points.

(B) Selection Criteria

(1) Selection Criterion 1, Disabled Persons at or Below the Poverty Level. (40 points)

(a) Description: This criterion assesses the number of disabled persons at or below the poverty level in the primary market area served by the applicant, as a percentage of such disabled persons on a national basis using 2000 census data. The primary market area is defined as the geographic area in which the applicant is legally authorized to operate and where the vouchers will be issued. (See section VI (I) of this NOFA regarding the description of the primary market area required to be included in each PHA's/nonprofit organization's application.) A table listing all the cities and counties with a population of 10,000 or more persons within the nation (States and territories) will be listed with this funding announcement at the following HUD Web site: http://www.hud.gov/offices/adm/grants/fundsavail.cfm. Also indicated on the table will be the number of disabled persons/percentage of such disabled persons at or below the poverty level within each city or county, as a percentage of the number of disabled persons at or below the poverty level within the nation. An applicant (and the GMC during the review of applications) will use the table to determine the percentage of disabled persons at or below the poverty level that is in the applicant's primary market area. The percentage will determine the number of points that the applicant is eligible for under Selection Criterion 1.

(b) Rating and Assessment: Points will be assigned based upon the number of disabled persons at or below the poverty level in the applicant's primary market area, as a percentage of such persons within the nation. For each tenth of one percent (.001) within the applicant's primary market area the applicant will receive 5 points. Percentages of .0015, .0025, etc. or higher but less than the next whole tenth of one percent, i.e., .002, .003, etc. shall be rounded to the next whole tenth of a percentage point. An applicant having a primary market area with a population of 10,000 or fewer or for which disability percentages are not listed on the table will receive 5 points under Selection Criterion 1. Likewise, an applicant having a primary market area comprised of more than one community with a population of 10,000 or fewer shall receive a total of 5 points for all such communities combined. A maximum of 40 points is available under Selection Criterion 1 regardless of how high a percentage of disabled persons at or below the poverty level is located within the applicant's primary market area.

(2) Selection Criterion 2, Lease-Up and Budget Authority Utilization. (25 points)

(a) Description: This criterion focuses on a PHA's and nonprofit organization's success in leasing its housing choice vouchers, and using the budget authority associated with its vouchers. While a PHA or nonprofit organization must have either a lease-up or budget authority utilization rate of at least 97 percent under section VII (B)(2)(c) of this NOFA in order to have an acceptable application, Selection Criterion 2 provides for the award of selection points to those PHAs having a voucher lease-up rate or a budget authority utilization rate of 99 percent or higher. The lease-up and budget authority utilization percentages for a PHA's or nonprofit organization's voucher program will be calculated by HUD based upon the methodology indicated in Appendix A of this NOFA, and shall cover fiscal years ending December 31, 2001; March 31, 2002; June 30, 2002; and September 30, 2002. Lease-up or budget authority utilization rates of a half or more of one percentage point will be rounded to the next highest percentage point for purposes of qualifying for the points available under Selection Criterion 2 (for example, 98.5 percent will be rounded up to 99 percent). PHAs or nonprofit organizations that meet either the 97 percent lease-up or budget authority utilization threshold requirement in section VII(B)(2)(c) of this NOFA, or that have a 99 percent or higher lease-up or budget authority utilization rate and qualify for the points available under Selection Criterion 2 will be listed with this funding announcement at the following HUD Web site: http://www.hud.gov/offices/adm/grants/fundsavail.cfm. A PHA or nonprofit organization not listed may submit information with its application, following the methodology of Appendix B and using the format of Appendix C which includes a completed example and the blank form format to be filled out and submitted with the PHA's or nonprofit organization's application, for its fiscal year December 31, 2001; March 31, 2002; June 30, 2002; September 30, 2002 or subsequent fiscal year not yet processed by HUD but certified by the applicant.

See Section VI (G) of this NOFA regarding the certification requirement applicable to MTW PHAs in connection with qualifying for the points available under Selection Criterion 2.

(b) Rating and Assessment: The GMC will assign point values as follows:

• 25 points: The PHA or nonprofit organization has a lease-up or budget authority utilization rate for its voucher program of 99 percent.

Note: PHAs or nonprofit organizations without a voucher program or whose total voucher program is excluded (annual budget authority associated with new funding increments obligated during the applicant's last fiscal year and annual budget authority for litigation) from the lease-up/budget authority utilization calculation as per the methodology in Appendix A of this funding announcement may also be eligible to receive 25 points under Selection Criterion 2. In order to get the 25 points, the PHA or nonprofit organization will be required to submit a certification statement with its application certifying that it will lease all vouchers it is awarded under this NOFA within 180 days of the award of funding.

(3) Selection Criterion 3, Area-Wide Housing Opportunities (15 Points)

(a) Description: This criterion addresses the voluntary efforts that an applicant may take to provide area-wide housing opportunities for families. The efforts described in response to this criterion must be beyond those required by federal law or regulation such as the portability provisions of the Housing Choice Voucher Program. Applicants should take note that the difference between being eligible for 15 points versus 10 points under this selection criterion requires undertaking efforts to end chronic homelessness on the part of disabled families.

(b) Rating and Assessment: The GMC will assign point values as follows:

• 15 points: The applicant provides information indicating that it will provide housing counseling for disabled families that want to move to low-poverty or non-minority areas, or the applicant has established a contractual relationship with a PHA, nonprofit agency or local governmental entity to provide housing counseling for disabled families that want to move to low-poverty or non-minority areas. In addition, the applicant must target not less than 10 percent of the vouchers awarded under this funding announcement to assisting those disabled families that are chronically homeless as defined in section II (H) of the General Section of the SuperNOFA, and as part of the counseling provided to such families undertake two or more of the activities listed in that section. (The five PHAs approved for the FY 1993 Moving to Opportunity (MTO) for Fair Housing Demonstration, the 11 PHAs approved under the Housing Search Assistance Program (HSAP), and any other PHAs that receive housing counseling funds from HUD (e.g., in settlement of litigation involving the desegregation or demolition of public housing, regional opportunity counseling, or mixed population projects) may qualify for points under this assessment, but these PHAs must identify all activities to be undertaken, other than those funded by HUD, to expand housing opportunities.)

• 10 points: The applicant provides information indicating that it will provide housing counseling for disabled families that want to move to low-poverty or non-minority areas, or the applicant has established a contractual relationship with a PHA, nonprofit agency or local governmental entity to provide housing counseling for disabled families that want to move to low-poverty or non-minority areas. (The five PHAs approved for the FY 1993 Moving to Opportunity (MTO) for Fair Housing Demonstration, the 11 PHAs approved under the Housing Search Assistance Program (HSAP), and any other PHAs that receive housing counseling funds from HUD (e.g., in settlement of litigation involving the desegregation or demolition of public housing, regional opportunity counseling, or mixed population projects) may qualify for points under this assessment, but these PHAs must identify all activities to be undertaken, other than those funded by HUD, to expand housing opportunities.)

• 5 points: The applicant provides information indicating that it has implemented other initiatives that have resulted, and will continue to result, in expanding housing opportunities for disabled families in areas that do not have undue concentrations of poverty or minority families.

(4) Selection Criterion 4, Commitments From Outside Agencies (10 Points)

(a) Description: The applicant documents that it has entered into agreements with one or more organizations to assist disabled families with moving costs, security deposits, utility hook-up fees, utility deposits, medical care, transportation, educational opportunities, employment and child care.

(b) Rating and Assessment: The GMC will assign points as follows:

• 10 points: The applicant provides copies of the agreements that it has entered into with three or more organizations to assist disabled families with moving costs, security deposits, utility hook-up fees, utility deposits, medical care, transportation, educational opportunities, employment and child care. The applicant must also provide information indicating it has taken one or more of the activities to promote the participation of grass-roots and other community-based organizations indicated in Section II (6) of the General Section of the SuperNOFA, as relates to the aforementioned agreements. The applicant's provision of the former, but not the latter information, shall result in the application receiving no more than 8 points under this Selection Criterion 4, as indicated below.

• 8 points: The applicant provides copies of the agreements that it has entered into with three or more organizations to assist disabled families with moving costs, security deposits, utility hook-up fees, utility deposits, medical care, transportation, educational opportunities, employment and child care.

• 5 points: The applicant provides copies of the agreements it has entered into with two organizations to assist disabled families with moving costs, security deposits, utility hook-up fees, utility deposits, medical care, transportation, educational opportunities, employment and child care.

• 3 points: The applicant provides copies of the agreements it has entered into with one organization to assist disabled families with moving costs, security deposits, utility hook-up fees, utility deposits, medical care, transportation, educational opportunities, employment and child care.

(5) Selection Criterion 5, Achieving Results and Program Evaluation (10 Points)

(a) Description: This criterion emphasizes HUD's determination to ensure that applicants meet commitments made in their applications and assess their performance in meeting performance goals. HUD requires Mainstream Program applicants to develop an effective, quantifiable, out-come oriented monitoring and evaluation plan for measuring performance and determining that goals have been met. The plan must include interim products or activities that lead to the ultimate achievement of the applicant's goals. Performance indicators must also be developed by the applicant to measure performance. Performance indicators must be objectively quantifiable and measure actual achievements against planned achievements. The applicant's evaluation and monitoring plan must identify what it is going to measure, how it will be measured, and the steps that will be taken to make adjustments to the plan if performance targets are not met within established deadlines.

An example of a goal is that the applicant will have 100 percent of the Mainstream vouchers under lease by disabled families within 180 days of the effective date of the Annual Contributions Contract (ACC) for the funding increment. Examples of interim activities to achieve such a goal might include assisting disabled families with transportation to rental properties, efforts to identify and provide lists of accessible units, approval of exception payment standards, or use of special housing types. An example of related performance indicators might include assisting disabled families with transportation needs within 24 hours of a disabled family's request to visit a potential rental unit, and that 50 percent of all the Mainstream vouchers are to be under lease within 90 days of the ultimate goal of having all vouchers under lease within 180 days.

Examples of other areas in which applicants may wish to consider establishing goals are with respect to Selection Criterion 3, Selection Criterion 4, any one or more of the areas to be addressed in the applicant's Mainstream Program Operating Plan (see Section IV (D) of this NOFA), etc.

(b) Rating and Assessment: The GMC will assign points as follows:

• 10 points: The applicant submits a monitoring and evaluation plan meeting the descriptive requirements outlined immediately above.

VI. Application Submission Requirements

Applicants are requested to read this section very carefully, as it addresses the specific information that must be in the applications submitted to HUD under this NOFA. Applications failing to provide this information will be determined either ineligible for processing, or in the instance of an application having a curable (correctable) technical deficiency (see the General Section of the SuperNOFA), the applicant will be requested to submit additional information.

Those application submission items identified below in this Section VI as “not curable” shall mean that any item, e.g., Mainstream Program Operating Plan, for which the applicant does not provide all the requested information shall result in the application being determined ineligible for processing. The turnaround times established by HUD in the instance of curable technical deficiencies are relatively brief, so the initial submission of a carefully prepared and complete application is extremely important. Applicants should also carefully review sections VII (B)(2)(b) and (c) of this funding announcement to determine if their SEMAP designation, OIG status, existence of significant program compliance problems, or voucher lease-up/budget authority utilization rate will require the submission of additional information with their application.

(A) Form HUD-52515. All applicants must complete and submit Form HUD-52515, Funding Application, for the Housing Choice Voucher Program. This form includes all necessary certifications for Fair Housing, Drug Free Workplace, and Lobbying Activities. Applicants are required to enter their housing authority code number (for example, CT002), telephone number, facsimile number and electronic mail address in the same space at the top of the form where they also are to enter the applicant's name and mailing address. Section C of the form should be left blank. The form must be completed in its entirety, with the exception of Section C, signed and dated. A copy of Form HUD-52515 is included in the forms found in Appendix B to the General Section of the SuperNOFA. Copies of the form may also be downloaded from the following HUD Web site: http://www.hud.gov. (On the HUD web site click on “handbooks and forms,” then click on “forms,” then click on “HUD-5” and click on “HUD-52515.” In addition, the Form HUD-52515 will also be posted with the Mainstream funding announcement at the following HUD Web site: http://www.hud.gov/offices/adm/grants/fundsavail.cfm.

In the instance of a nonprofit organization that does not currently manage a housing choice voucher program, the nonprofit organization shall fill in Section B, Proposed Assisted Dwelling Units, on the form by either using numbers based on information requested from the nearest public housing agency, based upon its housing choice voucher waiting list, or based upon information from local advocacy groups and local public and private service agencies familiar with the needs of elderly and non-elderly persons with disabilities, census data, and pertinent information from the Consolidated Plan applicable to the applicant's jurisdiction. Section C, Average Monthly Adjusted Income, should be left blank. Section F, New HA Information, requires information on Financial and Administrative Capability and Qualification as a HA. For Financial and Administrative Capability, a nonprofit organization may reference that part of its application addressing the requirements of Section VI (E) of this announcement. For Qualification as an HA, the nonprofit organization must submit information validating its qualifications as a nonprofit organization as defined in section III (B)(2) of this announcement. The submission of enabling legislation is not required to accomplish this purpose, but a legal opinion supportive of the applicant's status as a nonprofit organization, as defined in the first sentence of section III (B)(2)(a) of this announcement is required.

The Form HUD-52515 must be signed and dated by the applicant. The signature and date shall signify that the information provided on the form is complete and accurate, and that all other information provided by the applicant in its application (including any certifications) are complete and accurate.

(B) Letter of Intent and Narrative. The applicant must state in its cover letter to the application whether it is a PHA applying for five-year funding, or a nonprofit organization applying for five-year funding. The applicant also must indicate the number of vouchers being requested, whether it will accept a reduction in the number of vouchers, and the minimum number of vouchers the applicant will accept, since the funding is limited and HUD may only have enough funds to approve an amount smaller than the number of vouchers requested. The maximum number of vouchers that an applicant may apply for under this announcement is limited to 50.

The letter of intent and narrative should also include information addressing how the applicant meets the selection criteria in section V (B) of this NOFA. Failure of the applicant to provide information in connection with selection criteria 1 and 2 shall result in the GMC scoring the applicant solely on the basis of information HUD already has on-hand. Failure of the applicant to provide the information called for under selection criteria 3, 4 and 5 shall be considered not curable, but shall not make the application ineligible for processing. Failure to provide the information shall simply mean that the applicant is ineligible for the points under the categories for which it failed to provide the information requested in this funding announcement.

PHAs and nonprofit organizations that do not currently administer a housing choice voucher program must identify the nearest PHA (including the full name, address, and telephone no.) that does administer a housing choice voucher program. This information will be necessary for HUD to calculate annual per unit costs for voucher funding awarded under this funding announcement for such PHAs and nonprofit organizations (see section II (C)(3) of this funding announcement).

(C) Description of Need for Mainstream Program Vouchers. The PHA's and nonprofit organization's application must demonstrate a need for Mainstream Program vouchers by providing information documenting that the demand for housing for non-elderly and elderly persons with disabilities in connection with a request for five-year funding under this announcement would equal or exceed the requested number of vouchers. The applicant must assess and document the housing need for elderly and non-elderly persons with disabilities using a range of sources including, but not limited to: census data, information from the applicant's waiting list (both public housing and housing choice voucher), statistics on recent public housing admissions and housing choice voucher use, data from local advocacy groups and local public and private service agencies familiar with the housing needs of elderly and non-elderly persons with disabilities, and pertinent information from the Consolidated Plan [including the Analysis of Impediments to Fair Housing Choice (AI)] applicable to the applicant's jurisdiction. {See 24 CFR 91.205(d).}

Failure of the applicant to provide the information required under this section (C) shall be determined not curable and the application deemed ineligible for processing.

(D) Mainstream Program Operating Plan. The application must include a description of an adequate plan for operating a program to serve eligible disabled families, including:

(1) A description of how the applicant will carry out its responsibilities under 24 CFR 8.28 to assist recipients in locating units with needed accessibility features; and

(2) A description of how the applicant will identify private or public funding sources to help participants cover the costs of modifications that need to be made to their units as reasonable accommodations to their disabilities.

(3) A description of how the applicant will use a nonprofit organization or PHA (if any) under a contract to administer the Mainstream Program vouchers, or to otherwise provide services.

Failure of the applicant to provide the information required under this section (D) shall be determined not curable and the application deemed ineligible for processing.

(E) Certification Applicable to Nonprofit Organizations. A nonprofit organization applying for funding available under this announcement must provide a certification stating that the applicant can meet the capacity requirements applicable to a nonprofit organization delineated in section III (B)(2)(b) of this announcement. The certification must specifically list the four capacity requirements from that paragraph, and must specifically list the rental housing programs the nonprofit organization has administered or the rental housing the nonprofit organization has managed.

Failure of the applicant to provide the information required under this section (E) shall be determined not curable and the application deemed ineligible for processing.

(F) Statement Regarding the Steps the PHA and Nonprofit Organization Will Take to Affirmatively Further Fair Housing. The statement must include specific steps to address the categories outlined in sections V (D)(1), (2) and (3) in the General Section of the HUD SuperNOFA.

(G) Moving to Work (MTW) PHA Certification. MTW agencies required to report under SEMAP, as well as those MTW agencies not required to report under SEMAP, shall be required to meet the 97 percent lease-up and budget authority utilization requirement addressed in Section VII (B)(2)(c) of this funding announcement. MTW agencies must submit a certification with their application certifying as to their voucher lease-up and budget authority utilization percentages. Submission of Appendix B information by MTW PHAs is not required.

Failure of the applicant to provide the certification required under this section (G) shall be determined not curable and the application deemed ineligible for processing.

(H) Form HUD-2993. All applicants must complete and submit Form HUD-2993, Acknowledgement of Application Receipt. In addition to the applicant's entering its name and address on the form, the full title of the program under which the applicant is seeking funding must also be entered. This form is located in the General Section of the SuperNOFA and is also available at the following HUD Web site: http://www.hud.gov. On this web site click on “handbooks and forms.”

(I) Identification of Primary Market Area. Each applicant must specify in the application its primary market area, i.e., the geographic area in which it is legally authorized to operate and where the vouchers will be issued. This information may be different from that entered by such an applicant on the Form HUD-52515, as the form calls for the applicant to identify its “legal area of operation” which may be far more geographically expansive than the specific city, county, or area within a State where a PHA (particularly a regional or State PHA), or nonprofit organization intends to issue the vouchers. This information is critical because, as indicated in section V (B)(1)(a) of this funding announcement, the geographic area in which the vouchers are intended to be issued and in which the applicant is legally authorized to operate a Housing Choice Voucher Program will be used by the applicant (and subsequently by the GMC during the review of applications) to determine the percentage of the nation's housing needs for disabled persons at or below the poverty level that are within the applicant's primary market area. For example, although an applicant may be legally authorized to operate throughout the entire county in which it is located, if the vouchers will be issued only in two cities within that county then the primary market area is those two cities and not the entire county. Conversely, if the applicant is planning to issue vouchers to all cities within a county, then the applicant must list the county only and not list the individual cities within that county (the county is the sum of all housing needs for cities within a county). If, in addition to the county, there are individual cities outside the county where the applicant also will be issuing vouchers, the PHA then also must list these cities. A State PHA or nonprofit organization legally authorized to operate throughout the entire State, but which intends to issue the fair share vouchers in only one county, must list solely that county as its primary market area. In addition, the primary market area shall not include a geographic area in which the applicant is issuing vouchers, outside its normal, legally authorized area of operation, based upon an agreement with another agency/PHA to issue vouchers in the other agency's/PHA's jurisdiction.

VII. Corrections to Deficient Applications

(A) Acceptable Applications. The application must include all of the information specified in Section VI, Application Submission Requirements, of this announcement. The General Section of the SuperNOFA provides the procedures for corrections to deficient applications. {Note: The submission by applicants of clarifications or corrections of technical deficiencies under this funding announcement must be provided to HUD within 7 calendar days (not the 14 calendar days indicated in the General Section of the SuperNOFA) of receipt of the HUD notification.}

(B) Unacceptable Applications. (1) After the 7-calendar day technical deficiency correction period, the Grants Management Center will disapprove all applications from PHAs and nonprofit organizations that the Grants Management Center determines are not acceptable for processing. The Grants Management Center's notification of rejection letter must state the basis for the decision. The applicant may request an applicant debriefing. Beginning not less than 30 days after the awards for assistance are announced in the Federal Register, and for not longer than 120 days, HUD will, upon receiving a written request from the applicant, provide a debriefing to the requesting applicant. (See the General Section of the SuperNOFA for additional information regarding a debriefing.) Applicants requesting to be debriefed must send a written request to Michael Diggs, Director, Grants Management Center, Department of Housing and Urban Development, 501 School Street, SW., Suite 800, Washington, DC 20024.

(2) Applications from PHAs or nonprofit organizations that fall into any of the following categories will not be processed:

(a) PHAs or nonprofit organizations that do not meet the fair housing and civil rights compliance threshold requirements of sections V(B)(2), (C) and (D) of the General Section of the SuperNOFA.

(b) The applicant is designated as troubled by HUD under SEMAP, or has major program management findings in an Inspector General audit for its voucher program that are unresolved, or has other significant program compliance problems that are not resolved. Major program management findings, or significant program compliance problems, are those that would cast doubt on the capacity of the applicant to effectively administer any new housing choice voucher funding in accordance with applicable HUD regulatory and statutory requirements. The only exception to this category is if the applicant has been identified under the policy established in section III (B)(1)(c) of this announcement and the applicant makes application with a designated contract administrator.

(c) The PHA or nonprofit organization has failed to achieve a lease-up or budget authority utilization rate of 97 percent for its voucher units under contract for its fiscal year ending on either December 31, 2001; March 31, 2002; June 30, 2002; or September 30, 2002. Applicants that have been determined by HUD to have passed either the 97 percent lease-up, or 97 percent budget authority utilization requirement for their fiscal year ending on December 31, 2001; March 31, 2002; June 30, 2002; or September 30, 2002, will be listed with the Mainstream funding announcement at the following HUD Web site: http://www.hud.gov/offices/adm/grants/fundsavail.cfm. An applicant not listed may submit monthly lease-up and budget authority utilization information (following the methodology of Appendix A of this announcement and using the format in Appendix B, which also includes a blank version of the format) as part of its application supportive of its contention that it should have been included among those potential applicants HUD listed on the HUD Web site as having achieved either a 97 percent lease-up rate or 97 percent budget authority utilization rate for fiscal years ending on December 31, 2001; March 31, 2002; June 30, 2002; September 30, 2002; or subsequent full fiscal year not yet processed by HUD but certified by the applicant. Applicants not listed on the aforementioned HUD Web site must submit utilization information using the blank form in Appendix B, as the application will otherwise be determined ineligible for funding under this announcement.

Note: The lease-up and budget authority utilization requirement shall not apply to applicants not currently administering a voucher program, or to new units associated with funding increments obligated during the applicant's last fiscal year and units obligated for litigation. In addition, lease-up or budget authority utilization rates of 96.5 percent but less than 97 percent shall be rounded up to 97 percent.)

See section VI (G) of this funding announcement which addresses the certification to be submitted by MTW agencies in connection with the 97 percent lease-up and budget authority utilization requirements referenced above.

(d) The PHA or nonprofit organization is involved in litigation and HUD determines that the litigation may seriously impede the ability of the applicant to administer the vouchers.

(e) An application that does not comply with the requirements of 24 CFR 982.103 and this program section after the expiration of the 7-calendar day technical deficiency correction period will be rejected from processing.

(f) The application was submitted after the application due date.

(g) The application was not submitted to the official place of receipt as indicated in the paragraph entitled “Address for Submitting Applications” at the beginning of this announcement.

(h) The applicant has been debarred or otherwise disqualified from providing assistance under the program.

(i) The PHA did not have its PHA plans approved by HUD for the FY 2001 plan cycle on the application due date for this funding announcement. (This category of ineligibility does not apply to nonprofit organizations whose housing choice voucher program is based solely upon previously approved housing choice vouchers under the Mainstream Program.)

VIII. Environmental Requirements

In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs and nonprofit organizations are responsible for the environmental requirements in 24 CFR 982.626(c).

IX. Authority

Authority for this program is found in the Consolidated Appropriations Resolution, FY 2003 (Pub. L. 108-7, approved February 20, 2003).

Funding Availability for Section 202 Supportive Housing for the Elderly Program (Section 202 Program)

Program Overview

Purpose of the Program. This program provides supportive housing for very low-income persons 62 years of age or older.

Available Funds. Approximately $473.8 million, plus any carryover funds available.

Eligible Applicants. Private nonprofit organizations and nonprofit consumer cooperatives (see Section III(B) of this program NOFA). (See Section VIII of this program NOFA for information regarding the formation of the Owner corporation).

Eligible Activities. New construction, rehabilitation, or acquisition of housing with or without rehabilitation (see Section III(C) of this NOFA).

Application Deadline. June 13, 2003.

Match Requirements. None.

Additional Information

If you are interested in applying for funding under this program, please review carefully the General Section of this SuperNOFA and the following additional information.

I. Application Due Date, Further Information, and Technical Assistance

Application Due Date. An original and four copies of your completed application must be submitted to the appropriate HUD field office no later than the application due date.

See the General Section, Mailing and Receipt Procedures and Proof of Timely Submission, of this SuperNOFA for specific procedures governing the submission of applications to HUD Field Offices.

Address for Submitting Applications. Submit an original and four copies of your completed application to the Director of the appropriate Multifamily Hub Office or Multifamily Program Center as listed in Appendix B to the Section 811 program section of this SuperNOFA with the following exceptions:

1. Applications for projects proposed to be located within the jurisdiction of the Sacramento, California Office must be submitted to the San Francisco, California Office.

2. Applications for projects proposed to be located within the jurisdiction of the Cincinnati, Ohio Office must be submitted to the Columbus, Ohio Office.

3. Applications for projects proposed to be located within the jurisdiction of the Washington, DC Office must be submitted to the Baltimore, Maryland Office.

4. Applications for projects proposed to be located within the jurisdiction of the Grand Rapids, Michigan Office must be submitted to the Detroit, Michigan Office.

The SuperNOFA also includes a listing of the Multifamily Hubs and Program Centers, their addresses and telephone numbers, including TTY (text telephone) numbers. This information is also available from HUD's SuperNOFA Information Center at 1-800-HUD-8929 and from the Internet through the HUD Web site at http://www.hud.gov/grants. Persons with hearing or speech impairments may call the Center's TTY number at 1-800-HUD-2209.

All information required to complete and return a valid application is included in the General Section and this Program Section of the SuperNOFA, including appendices. Copies of the General Section, this Program Section, and appendices, including the application, are available and may be downloaded from HUD's Web site at http://www.hud.gov.

For Further Information and Technical Assistance. You may contact the appropriate Multifamily Hub Office or Multifamily Program Center, or Evelyn Berry at HUD Headquarters at (202) 708-3000 (this is not a toll-free number), or access the Internet at http://www.hud.gov/grants. Persons with hearing and speech impairments may access the above number via TTY by calling the Federal Relay Service at 1-800-877-8339 (this is a toll-free number).

HUD encourages minority organizations and grassroots organizations (e.g., civic organizations, faith-communities and grassroots faith-based and other community-based organizations) to participate in this program and strongly recommends that prospective applicants attend the local HUD Office workshop. At the workshops, HUD will explain application procedures and requirements as well as address concerns such as local market conditions, building codes and accessibility requirements, historic preservation, floodplain management, other environmental requirements, displacement and relocation, zoning, and housing costs. If you are interested in attending the workshop, make sure that your name, address and telephone number are on the appropriate HUD Office's mailing list so that you will be informed of the date, time and place of the workshop. Persons with disabilities should call the appropriate HUD Office to ensure that any necessary arrangements can be made to enable their attendance and participation in the workshop.

If you cannot attend the workshop, call the appropriate HUD Office if you have any questions concerning the submission of applications to that particular office and to request any materials distributed at the workshop.

Satellite Broadcast. HUD will hold an information broadcast via satellite for potential applicants to learn more about the program and preparation of the application. It is strongly recommended that potential applicants, especially those who may be applying for section 202 funding for the first time, tune in to this broadcast, if at all possible. Copies of the broadcast tapes are also available from the SuperNOFA Information Center. For more information about the date and time of the broadcast, you should consult the HUD Web site at http://www.hud.gov/grants.

II. Amount Allocated

For FY 2003, $473,750,170 is available for capital advances for the supportive housing for the elderly program. The Consolidated Appropriations Resolution, 2003 ( Pub. L. 108-7), approved February 20, 2003, (FY 2003 Consolidated Appropriations) provides $683,286,000 for capital advances, including amendments to capital advance contracts, for supportive housing for the elderly as authorized by section 202 of the Housing Act of 1959 (12 U.S.C. 1701q), as amended by section 801 of the Cranston-Gonzalez National Affordable Housing Act (Pub. L. 101-625, approved November 28, 1990), and for project rental assistance, and amendments to contracts for project rental assistance, and renewal of expiring contracts for such assistance for up to a one-year term, for supportive housing for the elderly under section 202(c)(2) of the Housing Act of 1959.

Additionally, the FY 2003 Consolidated Appropriations provide $25 million for predevelopment grants to private nonprofit organizations and consumer cooperatives in connection with the development of housing under the section 202 program. The announcement of the availability of these funds will be addressed in a separate NOFA to be issued in the future.

In accordance with the waiver authority provided in the FY 2003 Consolidated Appropriations, the Secretary is waiving the following statutory and regulatory provision: the term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for section 202 reflects the “relevant characteristics of prospective program participants,” as specified in 24 CFR 791.402(a). The FY 2003 formula consists of two data elements from the 2000 Census: (1) Number of elderly renter households of all sizes (householder age 65 and older) and (2) number of elderly households (householder age 60 and older) living alone with incomes below the poverty level.

Under section 202, 85 percent of the total capital advance amount is allocated to metropolitan areas and 15 percent to nonmetropolitan areas. In addition, each HUD Office jurisdiction receives sufficient capital advance funds for a minimum of 20 units in metropolitan areas and 5 units in nonmetropolitan areas. The total amount of capital advance funds to support these minimum set-asides are subtracted from the respective (metropolitan or nonmetropolitan) total capital advance amounts available. The remainder is fair shared to each HUD Office jurisdiction whose fair share exceeds the minimum set-aside based on the allocation formula fair share factors described below.

Note: The allocations for metropolitan and nonmetropolitan portions of the Multifamily Hub or Program Center jurisdictions reflect the most current definitions of metropolitan and nonmetropolitan areas, as defined by the Office of Management and Budget.

A fair share factor is developed for each metropolitan and nonmetropolitan portion of each local HUD Office jurisdiction by dividing the number of elderly renter households in the respective metropolitan and nonmetropolitan portion of the jurisdiction by the total number of elderly rental households in the metropolitan and nonmetropolitan portions of the United States. The resulting percentage for each local HUD Office jurisdiction is then adjusted to reflect the relative cost of providing housing among the HUD Office jurisdictions. The adjusted needs percentage for the applicable metropolitan or nonmetropolitan portion of each jurisdiction is then multiplied by the respective total remaining capital advance funds available nationwide. Based on the allocation formula, HUD has allocated the available capital advance funds as shown on the following chart:

III. Program Description; Eligible Applicants; Eligible Activities

(A) Program Description. HUD provides capital advances and contracts for project rental assistance in accordance with 24 CFR part 891. Capital advances may be used for the construction or rehabilitation of a structure, or acquisition of a structure with or without rehabilitation (including structures from the Federal Deposit Insurance Corporation (FDIC). Capital advance funds bear no interest and are based on development cost limits published in Section IV(D). Repayment of the capital advance is not required as long as the housing remains available for occupancy by very low-income elderly persons for at least 40 years.

Project rental assistance contract (PRAC) funds are used to cover the difference between the tenants' contributions toward rent (30 percent of adjusted income) and the HUD-approved expense to operate the project. PRAC funds may also be used to provide supportive services and to hire a service coordinator in those projects serving frail elderly residents. The supportive services must be appropriate to the category or categories of frail elderly residents to be served.

(B) Eligible Applicants. Private nonprofit organizations and nonprofit consumer cooperatives who meet the threshold requirements contained in section V of the General Section of the SuperNOFA are the only eligible applicants under this section 202 Program. Neither a public body nor an instrumentality of a public body is eligible to participate in the program. See section IV(B) regarding limits on the total number of units and projects that an applicant may request.

(C) Eligible Activities. Section 202 capital advance funds must be used to finance the development of housing through new construction, rehabilitation, or acquisition of housing with or without rehabilitation. Capital advance funds may also be used in combination with other non-Section 202 funding sources to develop additional units for a mixed-finance project. Project rental assistance funds are provided to cover the difference between the HUD-approved operating costs and the amount the residents pay (each resident pays 30 percent of adjusted income) as well as to provide supportive services to frail elderly residents.

Note: For purposes of approving section 202 capital advances, HUD will consider proposals involving mixed-financing for additional units. However, you must obtain funds to assist the additional units with other than PRAC funds. HUD will not provide PRAC funds for non-section 202 units.

(D) Ineligible Activities. Section 202 funds may not be used for nursing homes, infirmaries, medical facilities, mobile home projects, community centers, headquarters for organizations for the elderly, nonhousekeeping accommodations, or refinancing of sponsor-owned facilities without rehabilitation.

Note: You may propose to rehabilitate an existing currently owned or leased structure that may or may not already serve elderly persons, except that the refinancing of any Federally funded or assisted project or project insured or guaranteed by a Federal agency is not permissible under this section 202 NOFA. HUD does not consider it appropriate to utilize scarce program resources to refinance projects that have already received some form of assistance under a Federal program. (For example, section 202 or section 202/8 direct loan projects cannot be refinanced with capital advances and project rental assistance.)

IV. Program Requirements

By signing Form HUD-92015-CA, Application for section 202 Capital Advance, you are certifying that you will comply with all program requirements listed in the General Section of this SuperNOFA as well as the following requirements:

(A) Statutory and Regulatory Requirements. In addition to the statutory, regulatory, threshold and public policy requirements listed in section V of the General Section of this SuperNOFA, you must comply with all statutory and regulatory requirements listed in sections III, IV and IX of this program section of the SuperNOFA.

(B) Application Unit/Project Limits. A Sponsor or Co-sponsor may not apply for more than 200 units of housing for the elderly in a single Hub or more than 10 percent of the total units allocated to all HUD Offices. Also, no single application may propose more than the number of units allocated to a HUD Office or 125 units, whichever is less. Reservations for projects will not be approved for fewer than 5 units. If the proposed project will be a scattered-site development, the 5-unit minimum requirement will apply to each site. Affiliated entities that submit separate applications are considered to be a single entity for the purpose of these limits.

(C) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS' comments in its review and application selection process.

(D) Development Cost Limits. (1) The following development cost limits, adjusted by locality as described in section IV(D)(2) of this program section of the SuperNOFA, below, will be used to determine the capital advance amount to be reserved for projects for the elderly:

(a) The total development cost of the property or project attributable to dwelling use (less the incremental development cost and the capitalized operating costs associated with any excess amenities and design features you must pay for) may not exceed:

Nonelevator Structures

$41,238 per family unit without a bedroom;

$47,548 per family unit with one bedroom;

$57,344 per family unit with two bedrooms;

For Elevator Structures

$43,398 per family unit without a bedroom;

$49,748 per family unit with one bedroom;

$60,493 per family unit with two bedrooms.

(b) These cost limits reflect those costs reasonable and necessary to develop a project of modest design that complies with HUD minimum property standards; the accessibility requirements of § 891.120(b); and the project design and cost standards of § 891.120 and § 891.210.

(2) Increased development cost limits.

(a) HUD may increase the development cost limits set forth in Section IV(D)(1) of this program section of the SuperNOFA, above, by up to 140 percent in any geographic area where the cost levels require, and may increase the development cost limits by up to 160 percent on a project-by-project basis. This increase may include covering additional costs to make dwelling units accessible through rehabilitation.

(b) If HUD finds that high construction costs in Alaska, Guam, the Virgin Islands, or Hawaii make it infeasible to construct dwellings, without the sacrifice of sound standards of construction, design, and livability, within the development cost limits provided in Section IV(D)(1) of this program section of the SuperNOFA, above, the amount of the capital advances may be increased to compensate for such costs. The increase may not exceed the limits established under this section (including any high cost area adjustment) by more than 50 percent.

(E) Minimum Capital Investment. Selected nonprofit organizations must provide a minimum capital investment of one-half of one percent of the HUD-approved capital advance amount, not to exceed $10,000 in accordance with § 891.145, with the following exception. If you, as Sponsor or Co-Sponsor, have one or more Section 202 or one or more Section 811 project(s) under reservation, construction, or management in two or more different HUD geographical regions (Hubs), the minimum capital investment shall be one half of one percent of the HUD-approved capital advance amount, not to exceed $25,000.

(F) Accessibility. Your project must meet accessibility requirements published at 24 CFR 891.120, 24 CFR 891.210, and Section 504 of the Rehabilitation Act of 1973, and, if new construction, the design and construction requirements of the Fair Housing Act and HUD's implementing regulations at 24 CFR part 100. In addition, 24 CFR 8.4(b)(5) prohibits the selection of a site or location which has the purpose or effect of excluding persons with disabilities from the Federally assisted program or activity. HUD will award higher points to applications that add accessible design features beyond those required under civil rights laws and regulations. (See section II of the General Section of this SuperNOFA.)

(G) Conducting Business in Accordance with HUD Core Values and Ethical Standards. Section 202 Sponsors are not subject to the requirements of 24 CFR parts 84 and 85 as outlined in the General Section of this SuperNOFA. However, Sponsors are still subject to the core values and ethical standards as they relate to the conflict of interest provisions in 24 CFR 891.130. To ensure compliance with the program's conflict of interest provisions, you are required to sign a Conflict of Interest Resolution and include it in your Section 202 application. Further, if awarded a section 202 fund reservation, the officers, directors, board members, trustees, stockholders and authorized agents of the section 202 Sponsor and Owner entities will be required to submit to HUD individual certifications regarding compliance with HUD's conflict of interest requirements.

(H) Ensuring the Participation of Small Businesses, Small Disadvantaged Businesses, and Women-Owned Businesses. Although the section 202 program is not subject to the provisions of 24 CFR 85.36(e) as described in the corresponding paragraph in the General Section of the SuperNOFA, you are required to comply with Executive Order 12432, Minority Business Enterprise Development and Executive Order 11625, Prescribing Additional Arrangements for Developing and Coordinating a National Program for Minority Business Enterprise as they relate to the encouragement of HUD grantees to utilize minority business enterprises.

(I) Fair Housing Requirements. See Section V of the General Section of this SuperNOFA.

(J) Economic Opportunities for Low and Very Low-Income Persons (Section 3). See section V of the General Section of this SuperNOFA.

(K) Design and Cost Standards. You must comply with HUD's Section 202 design and cost standards (24 CFR 891.120 and 891.210), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and, where applicable, the Americans with Disabilities Act of 1990.

(L) Acquisition and Relocation. You must comply with the Uniform Relocation Assistance and Real Property Acquisition Policies Act of 1970, as amended (49 CFR part 24, and 24 CFR 891.155(e)) (URA) which covers the acquisition of sites, with or without, existing structures and with 24 CFR 8.4(b)(5) of the Section 504 regulations which prohibits discrimination based on disability in determining the site or location of a Federally-assisted facility. However, you are exempt from complying with the site acquisition requirements of the URA if you do not have the power of eminent domain and prior to entering into a contract of sale, option to purchase or any other method of obtaining site control, you inform the seller of the land (1) that you do not have the power of eminent domain and, therefore, you will not acquire the property if negotiations fail to result in an amicable agreement, and (2) of the estimate of the fair market value of the property. An appraisal is not required to meet this requirement, however, your files must include an explanation (with reasonable evidence) of the basis for the estimate.

(M) Formation of Owner Corporation. You must form an Owner (in accordance with 24 CFR 891.205) after issuance of the capital advance, must cause the Owner to file a request for determination of eligibility and a request for capital advance, and must provide sufficient resources to the Owner to ensure the development and long-term operation of the project, including capitalizing the Owner at firm commitment processing in an amount sufficient to meet its obligations in connection with the project.

(N) Supportive Services. You must not require residents to accept any supportive services as a condition of occupancy.

(O) Davis-Bacon. You must comply with the Davis-Bacon requirements and the Contract Work Hours and Safety Standards Act.

(P) Flood Disaster Protection Act of 1973 and Coastal Barrier Resources Act. You must comply with the requirements under the Flood Disaster Protection Act of 1973 (42 U.S.C. 4001-4128) and the Coastal Barrier Resources Act (16 U.S.C. 3601).

(Q) National Environmental Policy Act. You must comply with the National Environmental Policy Act of 1969 (NEPA) (42 U.S.C. 4321) and applicable related environmental authorities at 24 CFR 50.4, HUD's programmatic implementing regulations at 24 CFR part 50 and 24 CFR 891.155(b), especially but not limited to the provision of information to HUD at 24 CFR 50.31(b) and you must comply with any environmental “conditions and safeguards” at 24 CFR 50.3(c).

(R) Sites. (1) Site Control. You must provide evidence of site control as described in this program section of the SuperNOFA and Exhibit 4(d) of Appendix A of the section 811 program section of this SuperNOFA.

(2) Phase I Environmental Site Assessment (ESA). You must submit a Phase I ESA in accordance with the American Society for Testing and Material (ASTM) Standards E 1527-97, as amended, completed or updated no earlier than six months prior to the application deadline date. Therefore, it is important that you start the Phase I ESA process as soon after publication of this SuperNOFA as possible. Documents providing guidance in choosing an environmentally safe site, entitled “Choosing an Environmentally Safe Site” and the “Supplemental Guidance, Environmental Information”, are available on HUD's Web site at http://www.HUD.gov.

(a) For a project that involves demolition and/or rehabilitation of structures built before 1978, the Phase I ESA must include the following: (i) An asbestos report that identifies the location and condition of any asbestos and (ii) a certification that any asbestos identified in the asbestos report that is in friable condition will be abated, that any non-friable asbestos that has been identified in the asbestos report and that will be affected by the demolition/rehabilitation will be abated, and that any asbestos to be abated have been included within the project costs.

(b) For a project that does not involve demolition and/or rehabilitation of structures built before 1978, the Phase I ESA must include a certification to the same.

If the Phase I ESA indicates the possible presence of contamination and/or hazards, you must decide whether to continue with this site or choose another site. Should you choose another site, the same Phase I ESA process identified above must be followed for the new site.

Note: If the property is to be acquired from the FDIC, include a copy of the FDIC prepared Transaction Screen Checklist or Phase I ESA, and applicable documentation, per the FDIC Environmental Guidelines.

(3) Phase II ESA. If you choose to continue with the original site on which the Phase I ESA indicated contamination or hazards, you must undertake a detailed Phase II ESA by an appropriate professional. If the Phase II ESA reveals site contamination, the extent of the contamination and a plan for clean-up of the site must be submitted to the local HUD Office.

The plan for clean-up must include a contract for remediation of the problem(s) and an approval letter from the applicable Federal, State, and/or local agency with jurisdiction over the site.

In order for the application to be considered for review under this FY 2003 funding competition, you must submit this information to the local HUD Office on or before July 14, 2003.

Note: This could be an expensive undertaking. You must pay for the cost of any clean-up and/or remediation.

(S) Delinquent Federal Debt. See Section V of the General Section of this SuperNOFA.

(T). Commercial Facilities. A commercial facility for the benefit of the residents may be located and operated in the section 202 project. However, the commercial facility cannot be funded with the use of section 202 capital advance or PRAC funds. The maximum amount of space permitted for a commercial facility and other community space cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

(U) False Statements. See section V of the General Section of this SuperNOFA.

(V) Expiration of Section 202 Funds. The FY 2003 Consolidated Appropriations require HUD to obligate all Section 202 funds appropriated for FY 2003 by September 30, 2006. Under 31 U.S.C. Section 1551, no funds can be disbursed from the account after September 30, 2011. Under Section 202, obligation of funds occurs for both capital advances and project rental assistance upon fund reservation and acceptance. If all funds are not disbursed by HUD and expended by the project Owner by September 30, 2011, the funds, even though obligated, will expire and no further disbursements can be made from this account. In submitting an application you need to carefully consider whether your proposed project can be completed through final capital advance closing no later than September 30, 2011. Furthermore, all unexpended balances, including any remaining balance on PRAC contracts, will be cancelled as of October 1, 2011. Amounts needed to maintain PRAC payments for any remaining term on the affected contracts beyond that date will have to be funded from other current appropriations.

V. Application Selection Process

(A) Review for Curable Deficiencies. You should ensure that your application is complete and that you have an original and four copies before submitting it to the appropriate HUD Office. HUD will screen all applications received by the deadline for curable deficiencies. A curable deficiency is a missing Exhibit or portion of an Exhibit that will not affect the rating of the application. The following is a list of the deficiencies that will be considered curable in a Section 202 application:

Exhibits (See Appendix A of the Section 811 Program Section of the SuperNOFA)

(1) Form 92015-CA (Application Form)*

(2) (a) Articles of Incorporation*

(b) By-laws*

(c) IRS tax exemption ruling*

(4) (c)(ii) Energy efficiency

(d)(i) Evidence of site control

(d)(ii) Evidence site is free of limitations, restrictions or reverters

(d)(vi) Phase I Environmental Site Assessment

(d)(vii) Letter from State Historic Preservation Officer (SHPO)

(7) Relocation

(8) (a) Form HUD 424, Application for Federal Assistance

(b) Standard Form LLL, Disclosure of Lobbying Activities, if applicable

(c) Form HUD-424B, Applicant Assurances and Certifications

(d) Form HUD 2880, Applicant/Recipient Disclosure/Update Report

(e) Form HUD-2991, Certification of Consistency with Consolidated Plan

(f) Form-HUD-92041, Sponsor's Conflict of Interest Resolution

(g) Form HUD-92042, Sponsor's Resolution for Commitment to Project*

(i) Form HUD-2530, Previous Participation Certification.

The HUD Office will notify you in writing if your application is missing any of the above exhibits or portions of exhibits and you will be given 14 days from the date of the HUD notification to submit the information required to cure the noted deficiencies. The items identified by an asterisk (*) must be dated on or before the application deadline date.

(B) Rating. HUD will review and rate your application in accordance with the Application Selection Process in the General Section of this SuperNOFA with the following exception. HUD will not reject your application based on technical review without notifying you of that rejection with all the reasons for rejection, and providing you an opportunity to appeal. You will have 14 calendar days from the date of HUD's written notice to appeal a technical rejection to the HUD Office.

Your application will be either rated or technically rejected at the end of technical review. If your application meets all program eligibility requirements after completion of technical review, including HUD approval of you, the section 202 applicant, based on HUD's evaluation of the applicant's previous participation activities as reported on Form HUD-2530, Previous Participation Certification, it will be rated according to the rating factors in Section V(D) below. The HUD Office will make a determination on any appeals before making its selection recommendations.

If an Exhibit or portion of an Exhibit listed above as curable is not discovered as a missing item until technical processing, HUD will provide you with 14 calendar days in which to cure the deficiency.

(C) Ranking and Selection Procedures. Applications submitted in response to the advertised metropolitan allocations or nonmetropolitan allocations that have a total base score (without the addition of RC/EC/EZ bonus points) of 75 points or more and meet all of the applicable threshold requirements of section V(B) of the General Section of the SuperNOFA will be eligible for selection, and HUD will place them in rank order per metropolitan or nonmetropolitan allocation. These applications, after adding any bonus points for RC/EC/EZ, will be selected based on rank order, up to and including the last application that can be funded out of each HUD Program Center Office's metropolitan or nonmetropolitan allocation. HUD Program Center Offices will not skip over any applications in order to select one based on the funds remaining. After making the initial selections in each allocation area, however, HUD Program Center Offices may use any residual funds to select the next rank-ordered application by reducing the number of units by no more than 10 percent, rounded to the nearest whole number, provided the reduction will not render the project infeasible. For this purpose, however, HUD will not reduce the number of units in projects of five units or less.

Once this process has been completed, HUD Program Center Offices may combine their unused metropolitan and nonmetropolitan funds in order to select the next ranked application in either category, using the unit reduction policy described above, if necessary.

After the HUD Program Center Offices have funded all possible projects based on the process above, combined metropolitan and nonmetropolitan residual funds from all HUD Program Center Offices within each Multifamily Hub will be combined. First, these funds will be used to restore units to projects reduced by HUD Program Center Offices based on the above instructions. Second, additional applications within each Multifamily Hub will be selected in rank order with only one application selected per HUD Program Center Office. More than one application may be selected per HUD Program Center Office if there are no approvable applications in other HUD Program Center Offices within the Multifamily Hub. This process will continue until there are no more approvable applications within the Multifamily Hub that can be selected with the remaining funds. Applications may not be skipped over to select one based on funds remaining. However, the HUD Multifamily Hub may use any remaining residual funds to select the next rank-ordered application by reducing the number of units by no more than 10 percent rounded to the nearest whole number, provided the reduction will not render the project infeasible or result in the project being less than five units.

Funds remaining after the Multifamily Hub selection process is completed will be returned to Headquarters. HUD Headquarters will use these residual funds first to restore units to projects reduced by HUD Program Center or Multifamily Hub Offices as a result of the instructions for using their residual funds. Second, HUD Headquarters will use these funds for selecting applications based on HUD Program Center Offices' rankings, beginning with the highest rated application nationwide. However, after restoring units to projects where necessary, priority will be given to those applications for projects in non-metropolitan areas, if necessary to meet the statutory requirement pertaining to section 202 funding in nonmetropolitan areas. Only one application will be selected per HUD Program Center Office from the national residual amount. If there are no approvable applications in other HUD Program Center Offices, the process will begin again with the selection of the next highest rated application nationwide. This process will continue until all approvable applications are selected using the available remaining funds. In order to use as much of the available remaining funds as possible, HUD Headquarters may skip over a higher-rated application.

(D) Factors for Award Used To Evaluate and Rate Applications. HUD will rate applications that successfully complete technical processing using the Rating Factors set forth below and in accordance with the application submission requirements identified in Appendix A of the section 811 program section of the SuperNOFA. The maximum number of points an application may receive under this program is 102. This includes two RC/EZ/EC bonus points, as described in the General Section of the SuperNOFA.

Rating Factor 1: Capacity of the Applicant and Relevant Organizational Staff (25 Points)

This factor addresses the extent to which you have the organizational resources to successfully implement the proposed activities in a timely manner. Submit information responding to this factor in accordance with Application Submission Requirements in Exhibits 2, 3(a), 3(b), 3(e) and 6 of Appendix A of the Section 811 program section of the SuperNOFA.

In rating this factor, HUD will consider the extent to which your application demonstrates your ability to develop and operate the proposed housing on a long-term basis, considering the following:

(a) (15 points). The scope, extent, and quality of your experience in providing housing or related services to those proposed to be served by the project and the scope of the proposed project (i.e., number of units, services, relocation costs, development, and operation) in relationship to your demonstrated development and management capacity as well as your financial management capability;

(b)(i) (5 points). The scope, extent, and quality of your experience in providing housing or related services to minority persons or families.

(b)(ii) (5 points). The scope, extent, and quality of your ties to the community at large and to the minority and elderly communities in particular.

For the purpose of this program section of the SuperNOFA, the term “minority” encompasses the basic racial and ethnic categories for Federal statistics and administrative reporting, as defined in the General Section of the SuperNOFA in the section entitled “Race and Ethnicity.”

To earn the maximum number of points under this subcriterion, you must describe both your relationships over time with the minority community and significant previous experience in providing housing and/or supportive services to minorities generally and to minority elderly in particular. For the purpose of this competition, “significant previous experience” means that the previous housing assistance or related services to minorities, i.e., the percentage of minorities being provided housing or related services in your current developments, was equal to or greater than the percentage of minorities in the jurisdiction where the previous housing or services occurred.

(c) (−2 to −4 points). HUD will deduct (except if the delay was beyond your control) 2 points if a fund reservation you received under either the section 202 Program of Supportive Housing for the Elderly or the section 811 Program of Supportive Housing for Persons with Disabilities has been extended beyond 24 months, 3 points if beyond 36 months, and 4 points if beyond 48 months. Examples of such delays include, but are not limited to, initial closing delays that are: (1) Directly attributable to HUD, (2) directly attributable to third party opposition, including litigation, and (3) due to a disaster, as declared by the President of the United States.

(d) (−1 point). HUD will deduct 1 point if amendment money was required as a result of the delay (except if the delay was beyond your control).

Rating Factor 2: Need/Extent of the Problem (15 Points)

This factor addresses the extent to which there is a need for funding the proposed activities to address a documented problem in the target area. Submit information responding to this factor in accordance with Application Submission Requirements in Exhibits 4(a) and 4(b) of Appendix A of the section 811 program section of the SuperNOFA. HUD will take into consideration the following in evaluating this factor:

The extent of the need for the project in the area based on a determination by the HUD Office. In making this determination, HUD will consider your evidence of need in the area, as well as other economic, demographic, and housing market data available to the HUD Office. The data should include a general assessment of the current conditions in the market for the type of housing proposed, an estimate of the demand for additional housing of the type proposed in the applicable housing market area; as well as, information on the numbers and types of existing comparable Federally assisted housing units for the elderly (HUD and RHS), current occupancy in such housing and recent market experience, comparable assisted housing for the elderly under construction or for which fund reservations have been issued, and, in accordance with an agreement between HUD and RHS, comments from RHS on the demand for additional comparable subsidized housing and the possible harm to existing projects in the same housing market areas. The Department will also review more favorably those applications which establish a connection between the proposed project and the community's Analysis of Impediments to Fair Housing Choice (AI) or other planning document that analyzes fair housing issues and is prepared by a local planning or similar organization. You must show how your proposed project will address an impediment to fair housing choice described in the AI or meet a need identified in the other type of planning document.

In evaluating this Factor, HUD will rate your application as follows:

(a) (12 points). The extent of the need for the project in the area based on a determination by the HUD Office, taking into consideration the Sponsor's evidence of need in the area, as well as other economic, demographic and housing market data available to HUD.

(b) (3 points). The extent that a connection has been established between the project and the community's Consolidated Plan, Analysis of Impediments to Fair Housing Choice (AI) or other planning document that analyzes fair housing issues and is prepared by a local planning or similar organization.

Rating Factor 3: Soundness of Approach (45 Points)

This factor addresses the quality and effectiveness of your proposal and the extent to which you involve elderly persons, including elderly minority persons, in the development and operation of the project. There must be a clear relationship between your proposed design, proposed activities, the community's needs and purposes of the program funding for your application to receive points for this factor. Submit information responding to this factor in accordance with Application Submission Requirements in Exhibits 3(f), 4(c), 4(d) and 5 of Appendix A of the section 811 program section of the SuperNOFA. In evaluating this factor, HUD will consider the following:

(a)(i) (15 points). The proximity or accessibility of the site to shopping, medical facilities, transportation, places of worship, recreational facilities, places of employment, and other necessary services to the intended occupants; adequacy of utilities and streets; freedom of the site from adverse environmental conditions; compliance with site and neighborhood standards (24 CFR 891.125(a), (d) and (e));

(a)(ii) (−1 point). The site(s) is not already permissively zoned for the intended use.

(b) (10 points). The suitability of the site from the standpoints of promoting a greater choice of housing opportunities for minority elderly persons/families, and affirmatively furthering fair housing. In reviewing this criterion, HUD will assess whether the site meets the site and neighborhood standards at 24 CFR 891.125(b) and (c) by examining relevant data in your application or in the HUD Office. Where appropriate, HUD may visit the site.

(i) The site will be deemed acceptable if it increases housing choice and opportunity by:

—Expanding housing opportunities in non-minority neighborhoods (if located in such a neighborhood). The term “nonminority area” is defined as one in which the minority population is lower than 10 percent; or

—Contributing to the revitalization of and reinvestment in minority neighborhoods, including improvement of the level, quality and affordability of services furnished to minority elderly. You should refer to the Site and Neighborhood Standards provisions of the regulations governing the section 202 Supportive Housing for the Elderly program (24 CFR 891.125(b) and (c)) when considering sites for your project.

(ii) For the purpose of this competition, the term “minority neighborhood (area of minority concentration)” is defined as one where any one of the following statistical conditions exists:

—The percentage of persons of a particular racial or ethnic minority is at least 20 points higher than the minority's or combination of minorities' percentage in the housing market as a whole; or,

—The neighborhood's total percentage of minority persons is at least 20 points higher than the total percentage of minorities for the housing market as a whole; or,

—In the case of a metropolitan area, the neighborhood's total percentage of minority persons exceeds 50 percent of its population.

(c) (4 points). The extent to which your proposed design will meet the special physical needs of elderly persons;

(d) (3 points). The extent to which the proposed size and unit mix of the housing will enable you to manage and operate the housing efficiently and ensure that the provision of supportive services will be accomplished in an economical fashion;

(e) (3 points). The extent to which the proposed design of the housing will accommodate the provision of supportive services that are expected to be needed, initially and over the useful life of the housing, by the category or categories of elderly persons the housing is intended to serve;

(f) (3 points). The extent to which the proposed supportive services meet the identified needs of the anticipated residents; and

(g) (3 points). The extent to which you demonstrate that the identified supportive services will be provided on a consistent, long-term basis.

(h) (1 point). The proposed design incorporates visitability standards and universal design in the construction or rehabilitation of the project.

(i) (3 points) Your involvement of elderly persons, particularly minority elderly persons, in the development of the application and your intent to involve elderly persons, particularly minority elderly persons, in the development and operation of the project.

Rating Factor 4: Leveraging Resources (5 Points)

This factor addresses your ability to secure other community resources which can be combined with HUD's program resources to achieve program purposes. Submit information responding to this factor in accordance with Application Submission Requirements in Exhibits 3(c) and 3(d) of Appendix A of the section 811 program section of the SuperNOFA.

(a) (2 points). The extent of local government support (including financial assistance, donation of land, provision of services, etc.) for the project; and

(b) (3 points). The extent of your activities in the community, including previous experience in serving the area where the project is to be located, and your demonstrated ability to enlist volunteers and raise local funds.

Rating Factor 5: Achieving Results and Program Evaluation (10 Points)

This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it, and the steps you will have in place to make adjustments to your project development timeline should you not be able to achieve any of the major milestones. This Factor addresses the extent to which your project will implement practical solutions that result in residents achieving independent living, educational opportunities, and improved living environments. Finally, this factor addresses the extent to which the long-term viability of your project will be sustained for the duration of the 40-year capital advance period. Submit information responding to this factor in accordance with Application Submission Requirements in Exhibits 3(g), 3(h), and 3(i) of Appendix A of the section 811 program section of the SuperNOFA.

(a) (5 points). The extent to which your project development timeline is indicative of your full understanding of the development process and will, therefore, result in the timely development of your project.

(b) (2 points). The extent to which your project will implement practical solutions that will result in assisting residents in achieving independent living, educational opportunities, and improved living environments; and

(c) (3 points). The extent to which you demonstrated that your project will remain viable as housing with the availability of supportive services for very low-income elderly persons for the 40-year capital advance period.

Bonus Points

(2 bonus points) Location of proposed site in an RC/EZ/EC area, as described in the General Section of this SuperNOFA. Submit the information responding to the bonus points in accordance with the Application Submission Requirements in Exhibit 8(h) of Appendix A of the section 811 program section of the SuperNOFA.

(E) Applicant Debriefing. You may request a debriefing on your application in accordance with the General Section of this SuperNOFA, with the exception that the request must be made to the Director of Multifamily Housing in the HUD Field Office to which you sent your application.

VI. Application Submission Requirements

The application submission requirements are contained in Appendix A of the section 811 program section of this SuperNOFA. Your application must include all of the information, materials, forms, and exhibits listed in Appendix A of the section 811 program section of the SuperNOFA (unless you were selected for a section 202 fund reservation within the last three funding cycles). If you qualify for this exception, you are not required to submit the information described in Exhibits 2(a), (b), and (c) of Appendix A of the section 811 program section of the SuperNOFA, which are the articles of incorporation, (or other organizational documents), by-laws, and the IRS tax exemption, respectively. If there has been a change in any of these documents since your previous HUD approval, you must submit the updated information in your application. The HUD Office will verify your indication of previous HUD approval by checking the project number and approval status with the appropriate HUD Office based on the information submitted.

In addition to this relief of paperwork burden in preparing applications, you will be able to submit information and exhibits you have previously prepared for prior applications under section 202, section 811, or other funding programs. Examples of exhibits that may be readily adapted or amended to decrease the burden of application preparation include, among others, those on previous participation in the section 202 or section 811 Programs, your experience in the provision of housing and services, supportive services plans, community ties, and experience serving minorities.

VII. Corrections to Deficient Applications

The General Section of the SuperNOFA provides the procedures for corrections to deficient applications.

VIII. Formation of Owner Corporation for Development of Section 202 Projects and for Section 202 Projects Involving Mixed-Financing

Applicant eligibility for purposes of applying for a section 202 fund reservation under this NOFA has not changed; i.e., all section 202 Sponsors and Co-Sponsors must be private nonprofit organizations and nonprofit consumer cooperatives. However, the Owner corporation, when later formed by the Sponsor, may be (1) a single-purpose private nonprofit organization that has tax-exempt status under section 501(c)(3) or section 501(c)(4) of the Internal Revenue Code of 1986, (2) nonprofit consumer cooperative, OR (3) for purposes of developing a mixed-finance project for developing additional units over and above the section 202 units, a for-profit limited partnership with a nonprofit entity as the sole general partner.

IX. Authority

The Section 202 Supportive Housing for the Elderly Program is authorized by section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992), the Rescissions Act (Pub. L. 104-19; enacted on July 27, 1995); the American Homeownership and Economic Opportunity Act of 2000 (Pub. L. 106-569; approved December 27, 2000); and the Consolidated Appropriations Resolution, 2003 (Pub. L. 108-7, approved February 20, 2003).

Appendix A

Addresses for Submitting Applications

Please see Appendix B of the section 811 program section of this SuperNOFA. Submit your completed application (an original and four copies) to the Director of the appropriate Multifamily Hub Office or Multifamily Program Center as listed in Appendix B of the section 811 program section of this SuperNOFA. See section I., Address for Submitting Applications, of this program NOFA, for the exceptions regarding where to file your application.

Appendix B

The forms, which are required for your section 202 program application are in Appendix A of the section 811 program section of this SuperNOFA.

BILLING CODE 4210-32-P

Funding Availability for the Section 811 Program of Supportive Housing for Persons with Disabilities (Section 811 Program)

Additional Overview

Purpose of the Program. This program provides funding for supportive housing for very low-income persons with disabilities who are at least 18 years old. Additionally, organizations receiving funds must assure that an array of community support services are identified and available. (Please note that funding for a related program, Mainstream Housing Opportunities for Persons with Disabilities, is found elsewhere in this SuperNOFA.)

Available Funds. Approximately $116.8 million plus any carryover funds available.

Eligible Applicants. Nonprofit organizations that have a section 501(c)(3) tax exemption from the Internal Revenue Service. (See section III(B) of this NOFA). (See section VIII of this NOFA for information regarding the formation of the Owner corporation.)

Eligible Activities. New construction, rehabilitation, or acquisition (with or without rehabilitation) of housing (see section III(C) of this NOFA).

Application Deadline. June 13, 2003.

Match Requirements. None.

Additional Information

If you are interested in applying for funding under this program, please review carefully the General Section of this SuperNOFA and the following additional information.

I. Application Due Date, Further Information, and Technical Assistance

Application Due Date. An original and four copies of your completed application must be submitted to the appropriate HUD field office no later than the application due date.

See the General Section, Mailing and Receipt Procedures and Proof of Timely Submission, of this SuperNOFA for specific procedures governing the submission of applications to HUD field offices.

Address for Submitting Applications. Submit an original and four copies of your completed application to the Director of the appropriate Multifamily Hub Office or Multifamily Program Center as listed in Appendix B to this program section of the SuperNOFA with the following exceptions:

1. Applications for projects proposed to be located within the jurisdiction of the Sacramento, California Office must be submitted to the San Francisco, California Office.

2. Applications for projects proposed to be located within the jurisdiction of the Cincinnati, Ohio Office must be submitted to the Columbus, Ohio Office.

3. Applications for projects proposed to be located within the jurisdiction of the Washington, DC Office must be submitted to the Baltimore, Maryland Office.

4. Applications for projects proposed to be located within the jurisdiction of the Grand Rapids, Michigan Office must be submitted to the Detroit, Michigan Office.

The SuperNOFA also includes a listing of the Multifamily Hubs and Program Centers, their addresses and telephone numbers, including TTY (text telephone) numbers. This information is also available from HUD's SuperNOFA Information Center at 1-800-HUD-8929 and from the Internet through the HUD Web site at http://www.hud.gov/grants. Persons with hearing or speech impairments may call the Center's TTY number at 1-800-HUD-2209.

All information required to complete and return a valid application is included in the General Section and this Program Section of the SuperNOFA, including appendices. Copies of the General Section, this Program Section, and appendices, including the application, are available and may be downloaded from HUD's Web site at http://www.hud.gov.

For Further Information and Technical Assistance. You may contact the appropriate Multifamily Hub Office or Multifamily Program Center, or Gail Williamson at HUD Headquarters at (202) 708-3000 (this is not a toll-free number), or access the Internet at http://www.hud.gov/grants. Persons with hearing and speech impairments may access the above number via TTY by calling the Federal Relay Service at 1-800-877-8339 (this is a toll-free number).

HUD encourages minority organizations and grassroots organizations (e.g., civic organizations, faith-communities and grassroots faith-based and other community-based organizations) to participate in this program and strongly recommends prospective applicants attend the local HUD Office workshop. At the workshops, HUD will explain application procedures and requirements, as well as address concerns such as local market conditions, building codes and accessibility requirements, historic preservation, floodplain management, other environmental requirements, displacement and relocation, zoning, and housing costs. If you are interested in attending the workshop, make sure that your name, address and telephone number are on the appropriate HUD Office's mailing list so that you will be informed of the date, time and place of the workshop. Persons with disabilities should call the appropriate HUD Office to assure that any necessary arrangements can be made to enable their attendance and participation in the workshop.

If you cannot attend the workshop, call the appropriate HUD Office if you have any questions regarding the submission of applications to that particular office and to request any materials distributed at the workshop.

Satellite Broadcast. HUD will hold an information broadcast via satellite for potential applicants to learn more about the program and preparation of the application. It is strongly recommended that potential applicants, especially those who may be applying for section 811 funding for the first time, tune in to this broadcast, if at all possible. Copies of the broadcast tapes are also available from the SuperNOFA Information Center. For more information about the date and time of the broadcast, you should consult the HUD Web site at http://www.hud.gov/grants.

II. Amount Allocated

For FY 2003, $116,810,724 for capital advances is available for the Section 811 Program of Supportive Housing for Persons with Disabilities. The Consolidated Appropriations Resolution, 2003 (Pub. L. 108-7, approved February 20, 2003) (FY 2003 Consolidated Appropriations) provides $250,515,000 for capital advances, including amendments to capital advance contracts for supportive housing for persons with disabilities, as authorized by section 811 of the National Affordable Housing Act of 1990 (NAHA); and for project rental assistance for supportive housing for persons with disabilities under section 811 of the NAHA, including amendments to contracts for such assistance and renewal of expiring contracts for such assistance for up to a 1-year term and for tenant-based rental assistance contracts and renewal of expiring contracts for such assistance entered into pursuant to section 811 of the NAHA.

$53.6 million (25% of the appropriated amount remaining after the deductions for project rental assistance (PRAC) renewals, renewals of expiring contracts for tenant-based assistance, and the amount to be transferred to the Working Capital Fund) is available for tenant-based rental assistance for persons with disabilities. These funds are administered through public housing agencies (PHAs) and nonprofit organizations under the Mainstream Housing Opportunities for Persons with Disabilities Program that is found elsewhere in this SuperNOFA.

In accordance with the waiver authority provided in the FY 2003 Consolidated Appropriations, the Secretary is waiving the following statutory and regulatory provision: The term of the project rental assistance contract is reduced from 20 years to 5 years. HUD anticipates that at the end of the contract terms, renewals will be approved subject to the availability of funds. In addition to this provision, HUD will reserve project rental assistance contract funds based on 75 percent rather than on 100 percent of the current operating cost standards for approved units in order to take into account the average tenant contribution toward rent.

The allocation formula used for section 811 reflects the “relevant characteristics of prospective program participants,” as specified in 24 CFR 791.402(a). The FY 2003 formula consists of the following data element from the 2000 Census: The number of non-institutionalized persons age 16 to 64 with a disability. The data on disability status were derived from answers to a two-part question that asked about the existence of the following long-lasting conditions: (a) Blindness, deafness, or a severe vision or hearing impairment (sensory disability) and (b) a condition that substantially limits one or more basic physical activities, such as walking, climbing stairs, reaching, lifting, or carrying (physical disability); and a four-part question that asked if the individual had a physical, mental, or emotional condition lasting 6 months or more that made it difficult to perform certain activities. The four activity categories were: (a) Learning, remembering, or concentrating (mental disability); (b) dressing, bathing, or getting around inside the home (self-care disability); (c) going outside the home alone to shop or visit a doctor's office (going outside the home disability); and (d) working at a job or business (employment disability). Under the Section 811 Program, each HUD Office jurisdiction receives sufficient capital advance funds for a minimum of 10 units. The total amount of capital advance funds to support this minimum set-aside is then subtracted from the total capital advance available. The remainder is fair shared to each HUD Office jurisdiction whose fair share would exceed the set-aside based on the allocation formula fair share factors described below.

The fair share factors were developed by taking the count of disabilities in the data element for each state, or state portion, of each local HUD Office jurisdiction as a percent of the data element from the 2000 Census, described above, for the total United States. The resulting percentage for each local HUD Office is then adjusted to reflect the relative cost of providing housing among the local HUD Office jurisdictions. The adjusted needs percentage for each local HUD Office is then multiplied by the total amount of capital advance funds available nationwide.

The section 811 capital advance funds have been allocated, based on the formula above, to 51 local HUD Offices as shown on the following chart:

BILLING CODE 4210-32-P

BILLING CODE 4210-32-C

III. Program Description; Eligible Applicants; Eligible Activities

(A) Program Description. HUD provides capital advances and contracts for project rental assistance in accordance with 24 CFR part 891. Capital advances may be used to construct, rehabilitate, or acquire structures (including structures from the Federal Deposit Insurance Corporation (FDIC)), to be developed into a variety of housing options described in section III(C) below. Capital advance funds bear no interest and are based on development cost limits in section IV(E) below. Repayment of the capital advance is not required as long as the housing remains available for at least 40 years for occupancy by very low-income persons with disabilities. PRAC funds are used to cover the difference between the tenants' contributions toward rent (30 percent of adjusted income) and the HUD-approved cost to operate the project.

(B) Eligible Applicants. Nonprofit organizations with a section 501(c)(3) tax exemption from the Internal Revenue Service and who meet the threshold requirements contained in Section V of the General Section of the SuperNOFA are the only eligible applicants for this program. See section IV(B) regarding limits on the total number of units and projects that an applicant may request.

(C) Eligible Activities. Section 811 capital advance funds must be used to finance the development of housing through new construction, rehabilitation, or acquisition with or without rehabilitation. Capital advance funds may also be used in combination with other non-Section 811 funding sources to develop additional units for a mixed-finance project. Project rental assistance funds are provided to cover the difference between the HUD-approved operating costs and the amount the residents pay (each resident pays 30 percent of adjusted income). The types of housing that can be developed with Section 811 capital advance funds include independent living projects, dwelling units in multifamily housing developments, condominium and cooperative housing and small group homes.

Note: For purposes of approving Section 811 capital advances, HUD will consider a proposal involving mixed-financing for additional units if you have legal control of an approvable site and the additional units do not cause the project, as a whole, to exceed the project size limits if the additional units will also house persons with disabilities. However, you must obtain funds to assist the additional units with other than PRAC funds. HUD will not provide PRAC funds for non-Section 811 units.

(D) Ineligible Activities. Section 811 funds may not be used for any of the following:

(1) Nursing homes, infirmaries and medical facilities;

(2) Transitional housing;

(3) Manufactured housing;

(4) Intermediate care facilities;

(5) Community centers, with or without special components for use by persons with disabilities;

(6) Sheltered workshops and centers for persons with disabilities;

(7) Headquarters for organizations for persons with disabilities; and

(8) Refinancing of Sponsor-owned facilities without rehabilitation.

Note: You may propose to rehabilitate an existing currently-owned or leased structure that may or may not already serve persons with disabilities, except that the refinancing of any federally funded or assisted project or project insured or guaranteed by a federal agency is not permissible under this Section 811 NOFA. HUD does not consider it appropriate to utilize scarce program resources to refinance projects that have already received some form of assistance under a federal program. (For example, section 202, section 202/8 or section 202/PAC direct loan projects cannot be refinanced with capital advances and project rental assistance.)

IV. Program Requirements

By signing Form HUD-92016-CA, Application for a Section 811 Capital Advance, you are certifying that you will comply with the program requirements listed in the General Section of this SuperNOFA as well as the following requirements:

(A) Statutory and Regulatory Requirements. In addition to the statutory, regulatory, threshold and public policy requirements listed in Section V of the General Section of this SuperNOFA, you must comply with all statutory and regulatory requirements listed in Sections III, IV and IX of this program section of the SuperNOFA.

(B) Application Unit/Project Limits. A Sponsor or Co-Sponsor may not apply for more than 70 units of housing or 4 projects (whichever is less) for persons with disabilities in a single Hub. In addition, a Sponsor or Co-Sponsor may not apply for more units in a given HUD Office than allocated for the section 811 program in that HUD Office, or for more than 10 percent of the total units allocated in all HUD Offices. If the proposed project will be an independent living project, your application must request at least five units, not necessarily in one structure. If your proposed project will be a group home, you must request at least two units per group home. If your proposed project will be a combination of an independent living project and a group home, your application must request at least the minimum number of units for each project type (i.e., 5 units for an independent living project and 2 units for a group home). Affiliated entities that submit separate applications are considered a single entity for the purpose of these limits.

(C) Project Size Limits. (1) Independent living project. The minimum number of units that can be applied for in one application is five. All of the units are not required to be in one structure and they may be on scattered sites. The maximum number of persons with disabilities that can be housed in an independent living project is 14 plus one additional one or two bedroom unit for a resident manager, if necessary. However, if the proposed independent living project will be located on the same site or on an adjacent site containing existing housing for persons with disabilities, the total persons with disabilities housed in both the existing and the proposed project cannot exceed 14.

(2) If you are submitting an application for an independent living project with site control, you may request an exception to the above project size limit by providing the information required in Exhibit 4(d)(ix) in Appendix A of this program section of the SuperNOFA.

(3) Group home. The minimum number of persons with disabilities that can reside in a group home is two, and the maximum number is six. An additional one-bedroom unit can be provided for a resident manager. Only one person per bedroom is allowed, unless two residents choose to share one bedroom or a resident determines he/she needs another person to share his/her bedroom.

(D) HUD/RHS Agreement. HUD and the Rural Housing Service (RHS) have an agreement to coordinate the administration of the agencies' respective rental assistance programs. As a result, HUD is required to notify RHS of applications for housing assistance it receives. This notification gives RHS the opportunity to comment if it has concerns about the demand for additional assisted housing and possible harm to existing projects in the same housing market area. HUD will consider RHS comments in its review and application selection process.

(E) Development Cost Limits. (1) The following development cost limits, adjusted by locality as described in Section IV(E)(2) below, must be used to determine the capital advance amount reserved for projects for persons with disabilities:

(a) For independent living projects and dwelling units in multifamily housing developments, condominium and cooperative housing: The total development cost of the project attributable to dwelling use (less the incremental development cost and the capitalized operating costs associated with any excess amenities and design features you will pay for) may not exceed:

Non-Elevator Structures:

$41,238 per family unit without a bedroom;

$47,548 per family unit with one bedroom;

$57,344 per family unit with two bedrooms;

$73,400 per family unit with three bedrooms;

$81,770 per family unit with four bedrooms.

For Elevator Structures:

$43,398 per family unit without a bedroom;

$49,748 per family unit with one bedroom;

$60,493 per family unit with two bedrooms;

$78,257 per family unit with three bedrooms;

$85,902 per family unit with four bedrooms.

(b) For group homes only:

Type of Disability
# Residents | Physical/developmental | Chronic mental illness
2 | $166,022 | $160,262
3 | 178,533 | 172,340
4 | 191,045 | 183,069
5 | 203,556 | 193,798
6 | 216,054 | 204,527

(c) These cost limits reflect those costs reasonable and necessary to develop a project of modest design that complies with HUD minimum property standards; the minimum group home requirements of 24 CFR 891.310(a) (if applicable); the accessibility requirements of 24 CFR 891.120(b) and 891.310(b); and the project design and cost standards of 24 CFR 891.120.

(2) Increased Development Cost Limits

(a) HUD may increase the development cost limits set forth in Section IV(E)(1) of this program section of the SuperNOFA by up to 140 percent in any geographic area where the cost levels require, and may increase the development cost limits by up to 160 percent on a project-by-project basis. This increase may include covering additional costs to make dwelling units accessible through rehabilitation.

(b) If HUD finds that high construction costs in Alaska, Guam, the Virgin Islands or Hawaii make it infeasible to construct dwellings, without the sacrifice of sound standards of construction, design, and livability, within the development cost limits provided in Section IV(E)(1) of this program section of the SuperNOFA, the amount of capital advances may be increased to compensate for such costs. The increase may not exceed the limits established under this section (including any high cost area adjustment) by more than 50 percent.

(c) For group homes only, HUD Offices may approve increases in the development cost limits in Section IV(E)(1)(b), above, in areas where you can provide sufficient documentation that high land costs limit or prohibit project feasibility. An example of acceptable documentation is evidence of at least three land sales that have actually taken place (listed prices for land are not acceptable) within the last two years in the area where your project is to be built. The average cost of the documented sales must exceed ten percent of the development cost limit for your project in order for an increase to be considered.

(F) Minimum Capital Investment. Selected nonprofit organizations must provide a minimum capital investment of one-half of one percent of the HUD-approved capital advance amount not to exceed a maximum of $10,000 in accordance with 24 CFR 891.145.

(G) Accessibility. Your project must meet accessibility requirements published at 24 CFR 891.120, 24 CFR 891.310 and Section 504 of the Rehabilitation Act of 1973, and, if new construction, the design and construction requirements of the Fair Housing Act and HUD's implementing regulations at 24 CFR part 100. In addition, 24 CFR 8.4(b)(5) prohibits the selection of a site or location which has the purpose or effect of excluding persons with disabilities from the federally assisted program or activity. HUD will award higher points to applications that add accessible design features beyond those required under civil rights laws and regulations. See Section II (C) of the General Section of this SuperNOFA.

(H) Conducting Business in Accordance With Core Values and Ethical Standards. Section 811 Sponsors are not subject to the requirements of 24 CFR parts 84 and 85 as outlined in the General Section of this SuperNOFA. However, Sponsors are still subject to the core values and ethical standards as they relate to the conflict of interest provisions in 24 CFR 891.130. To ensure compliance with the program's conflict of interest provisions, you are required to submit a signed Conflict of Interest Resolution and include it in your Section 811 application. Further, if awarded a Section 811 fund reservation, the officers, directors, board members, trustees, stockholders and authorized agents of the Section 811 Sponsor and Owner entities will be required to submit to HUD individual certifications regarding compliance with HUD's conflict of interest requirements.

(I) Ensuring the Participation of Small Businesses, Small Disadvantaged Businesses, and Women-Owned Businesses. Although the Section 811 program is not subject to the provisions of 24 CFR 85.36(e) as described in the corresponding paragraph in the General Section of the SuperNOFA, you are required to comply with Executive Order 12432, Minority Business Enterprise Development and Executive Order 11625, Prescribing Additional Arrangements for Developing and Coordinating a National Program for Minority Business Enterprise as they relate to the encouragement of HUD grantees to utilize minority business enterprises.

(J) Fair Housing Requirements. See Section V of the General Section of this SuperNOFA.

(K) Economic Opportunities for Low and Very Low Income Persons. See Section V of the General Section of this SuperNOFA.

(L) Design and Cost Standards. You must comply with HUD's Section 811 project design and cost standards (24 CFR 891.120 and 891.310), the Uniform Federal Accessibility Standards (24 CFR 40.7), Section 504 of the Rehabilitation Act of 1973 and HUD's implementing regulations at 24 CFR part 8, and for covered multifamily dwellings designed and constructed for first occupancy after March 13, 1991, the design and construction requirements of the Fair Housing Act and HUD's implementing regulations at 24 CFR part 100, and the Americans with Disabilities Act of 1990, where applicable.

(M) Acquisition and Relocation. You must comply with the Uniform Relocation Assistance and Real Property Acquisition Policies Act of 1970, as amended (49 CFR part 24 and 24 CFR part 891.155(e)) (URA), which covers the acquisition of sites, with or without existing structures and with 24 CFR 8.4(b)(5) of the Section 504 regulations which prohibits discrimination based on disability in determining the site or location of a federally-assisted facility. However, you are exempt from complying with the site acquisition requirements of the URA if you do not have the power of eminent domain and prior to entering into a contract of sale, option to purchase or any other method of obtaining site control, you inform the seller of the land: (1) That you do not have the power of eminent domain and, therefore, you will not acquire the property if negotiations fail to result in an amicable agreement, and (2) of the estimate of the fair market value of the property. An appraisal is not required to meet this requirement, however, your files must include an explanation, with reasonable evidence of the basis for the estimate.

(N) Formation of Owner Corporation. You must form an “Owner” in accordance with 24 CFR 891.305 after issuance of the capital advance; cause the Owner to file a request for determination of eligibility and a request for capital advance, and provide sufficient resources to the Owner to ensure the development and long-term operation of the project, including capitalizing the Owner at firm commitment processing in an amount sufficient to meet its obligations in connection with the project.

(O) Supportive Services. You are required to include a Supportive Services Plan and a certification from the appropriate state or local agency that the provision of services identified in your Supportive Services Plan is well designed to address the individual health, mental health and other needs of persons with disabilities who will live in your proposed project. Exhibit 5 in Appendix A of this program section of the SuperNOFA, below, outlines the information that must be in the Supportive Services Plan. You must submit one copy of your Supportive Services Plan to the appropriate state or local agency well in advance of the application submission deadline date for the state or local agency to review your Supportive Services Plan and complete the Supportive Services Certification and return it to you so that you can include it in the application you submit to HUD.

(1) HUD will reject your application if the supportive services certification:

(a) Is not submitted with your application and is not submitted to HUD within the 14-day cure period; or

(b) Indicates that the provision of supportive services is not well designed to address the individual health, mental health and other needs of persons with disabilities who will live in your project; or

(c) Indicates that the provision of supportive services will not enhance independent living success or promote the dignity of the persons with disabilities who will live in your proposed project.

(2) In addition, if the agency completing the certification will be a major funding or referral source for your proposed project or be responsible for licensing the project, HUD will reject your application if either the agency's supportive services certification indicates—or, where the agency fails to complete item 3 or 4 of the certification, HUD determines that:

(a) You failed to demonstrate that supportive services will be available on a consistent long-term basis; and/or

(b) The proposed housing is not consistent with state or local agency plans/policies addressing the housing needs of people with disabilities.

Any prospective resident of a Section 811 project who believes he/she needs supportive services must be given the choice to be responsible for acquiring his/her own services or to take part in your Supportive Services Plan which must be designed to meet the individual needs of each resident.

You must not require residents to accept any supportive services as a condition of occupancy or admission.

(P) Davis-Bacon. You must comply with the Davis-Bacon Requirements and the Contract Work Hours and Safety Standards Act.

(Q) Flood Disaster Protection Act of 1973 and Coastal Barriers Resources Act. You must comply with the requirements under the Flood Disaster Protection Act of 1973 (42 U.S.C. 4001-4128) and the Coastal Barrier Resources Act (16 U.S.C. 3601).

(R) National Environmental Policy Act. You must comply with the National Environmental Policy Act of 1969 (NEPA)(42 U.S.C. 4321) and applicable related environmental authorities at 24 CFR 50.4 and HUD's programmatic implementing regulations at 24 CFR part 50 and 24 CFR 891.155(b), especially, but not limited to, the provision of information to HUD at 24 CFR 50.31(b) and you must comply with any environmental conditions and safeguards at 24 CFR 50.3(c).

(S) Sites. (1) Site Control or Site Identification. In your application, you must provide either:

(a) Evidence of Site Control—If you have control of a site at the time you submit your application, you must include evidence of such as described in Exhibit 4(d)(i) in Appendix A of this program section of the SuperNOFA relative to site control.

or

(b) Site Identification—If you do not have site control of one or more of your sites, you must provide the information required in Exhibit 4(d)(x) in Appendix A of this program section of the SuperNOFA under “site identified” for any site not under control as a reasonable assurance that site control will be obtained within six months of fund reservation notification.

(2) Phase I Environmental Site Assessment (ESA)—If you have control of the site(s) at the time you submit your application, you must submit a Phase I ESA, in accordance with the American Society for Testing and Material (ASTM) Standards E 1527-97, as amended, completed or updated no earlier than six months prior to the application deadline date, in order for the application to be considered as an application with site control. The Phase I ESA must be completed and submitted with the application. The Phase I study is not a curable deficiency for the Section 811 Program. Therefore, it is important that you start the Phase I ESA process as soon after publication of this SuperNOFA as possible. Documents providing guidance in choosing an environmentally safe site, entitled “Choosing An Environmentally Safe Site” and the “Supplemental Guidance Environmental Information”, are available on HUD's Web site at www.hud.gov.

(a) For a project that will involve demolition and/or rehabilitation of a structure(s) built before 1978, the Phase I must include the following: (i) an asbestos report that identifies the location and condition of any asbestos, and (ii) a certification that any asbestos identified in the asbestos report that is in friable condition will be abated, that any non-friable asbestos that has been identified in the asbestos report and that will be affected by the demolition/rehabilitation will be abated, and that any asbestos to be abated have been included within the project costs.

(b) For a project that does not involve demolition/rehabilitation of a structure(s) built before 1978, the Phase I must include a certification to the same.

If the Phase I ESA indicates the possible presence of contamination and/or hazards, you must decide whether to continue with this site or choose another site. Should you choose another site, the same Phase I ESA process identified above must be followed for the new site.

Note: If the property is to be acquired from the FDIC, include a copy of the FDIC prepared Transaction Screen Checklist or Phase I ESA, and applicable documentation, per the FDIC Environmental Guidelines.

(3) Phase II ESA—If you choose to continue with the original site on which the Phase I ESA indicated contamination or hazards, you must undertake a detailed Phase II ESA by an appropriate professional. If the Phase II ESA reveals site contamination, the extent of the contamination and a plan for clean-up of the site must be submitted to the local HUD Office. The plan for clean-up must include a contract for remediation of the problem(s) and an approval letter from the applicable federal, state, and/or local agency with jurisdiction over the site.

In order for your application to be considered as an application with site control you must submit this information to the local HUD Office on or before July 14, 2003.

Note: This could be an expensive undertaking. You must pay for the cost of any clean-up and/or remediation.

(4) If your application contains evidence of site control where either the evidence or the site is not approvable, your application will not be rejected provided you indicate in your application that you are willing to seek an alternate site and provide an assurance that site control will be obtained within six months of fund reservation notification.

(T) Lead-Based Paint. You must comply with the requirements of the Lead-Based Paint Poisoning Prevention Act (42 U.S.C. 4821-4846) and implementing regulations at 24 CFR part 35.

(U) Delinquent Federal Debt. See Section V of the General Section of this SuperNOFA.

(V) Commercial Facilities. A commercial facility for the benefit of the residents may be located and operated in the Section 811 project. However, the commercial facility cannot be funded with the use of Section 811 capital advance or PRAC funds. The maximum amount of space permitted for a commercial facility and other community space cannot exceed 10 percent of the total project cost. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

(W) False Statements. See Section V of the General Section of this SuperNOFA.

(X) Expiration of Section 811 Funds. The FY 2003 Consolidated Appropriations requires HUD to obligate all Section 811 funds appropriated for FY 2003 by September 30, 2006. Under 31 U.S.C. 1551, no funds can be disbursed from this account after September 30, 2011. Under Section 811, obligation of funds occurs for both capital advances and project rental assistance upon fund reservation and acceptance. If all funds are not disbursed by HUD and expended by the project Owner by September 30, 2011, the funds, even though obligated, will expire and no further disbursements can be made from this account. In submitting an application, you need to carefully consider whether your proposed project can be completed through final capital advance closing no later than September 30, 2011. Furthermore, all unexpended balances, including any remaining balance on PRAC contracts, will be cancelled as of October 1, 2011. Amounts needed to maintain PRAC payments for any remaining term on the affected contracts beyond that date will have to be funded from other current appropriations.

V. Application Selection Process

(A) Review for Curable Deficiencies. You should ensure that your application is complete and that you have an original and four copies before submitting it to the appropriate HUD office. HUD will screen all applications received by the deadline to determine if there are any curable deficiencies. A curable deficiency is a missing Exhibit or portion of an Exhibit that will not affect the rating of your application. The following is a list of the only deficiencies that will be considered curable in a Section 811 application:

Exhibits

(1) Form 92016-CA (Application Form)*

(2) (a) Articles of Incorporation*

(b) By-laws*

(c) IRS tax exemption ruling*

(4) (c)(ii) Energy efficiency

(d)(vii) Letter from the State Historic Preservation Officer (SHPO)

(d)(viii) Seek alternate site

(5) Supportive Services Plan

(7) Relocation

(8) (a) Form HUD-424, Application for Federal Assistance

(b) Standard Form LLL, Disclosure of Lobbying Activities (if applicable)

(c) Form HUD-424B, Applicant Assurances and Certifications

(d) Form HUD-2880, Applicant/Recipient Disclosure/Update Report

(e) Form HUD-2991, Certification of Consistency with Consolidated Plan

(f) Form HUD-92041, Sponsor's Conflict of Interest Resolution

(g) Form HUD-92042, Sponsor's Resolution for Commitment to Project*

(i) Form HUD-2530, Previous Participation Certification

(j) Form HUD-92043, Supportive Services Certification

The HUD Office will notify you in writing if your application is missing any of the above exhibits or portions of exhibits and will give you 14 days from the date of the HUD notification to submit the information required to cure the noted deficiencies. The items identified by an asterisk (*) must be dated on or before the application deadline date.

(B) Rating. HUD will review and rate your application in accordance with the Application Selection Process in the General Section of this SuperNOFA with the following exception. HUD will not reject your application based on technical review without notifying you of the rejection with all the reasons for rejection and providing you an opportunity to appeal. You will have 14 calendar days from the date of HUD's written notice to appeal a technical rejection to the HUD Office.

Your application(s) will be either rated or technically rejected at the end of technical review. If your application meets all program eligibility requirements after completion of technical review, including HUD approval of you, the Section 811 applicant, based on HUD's evaluation of your previous participation activities as reported on Form HUD-2530, Previous Participation Certification, your application will be rated according to the Rating Factors in Section V(D) below. The HUD Office will make a determination on any appeals before making its selection recommendations.

If an Exhibit or portion of an Exhibit listed above as curable is not discovered as missing until technical processing, HUD will provide you with 14 calendar days in which to cure the deficiency.

(C) Ranking and Selection Procedures. Applications that have a total base score of 75 points or more (without the addition of RC/EC/EZ bonus points) and meet all of the applicable threshold requirements of Section V(B) of the General Section of the SuperNOFA will be eligible for selection and will be placed in rank order. HUD will select applications, after adding any bonus points for RC/EC/EZ, based on rank order, up to and including the last application that can be funded out of each HUD Program Center Office's allocation. HUD Program Center Offices will not skip over any applications in order to select one based on the funds remaining. After making the initial selections, however, HUD Program Center Offices may use any residual funds to select the next rank-ordered application by reducing the number of units by no more than 10 percent, rounded to the nearest whole number, provided the reduction will not render the project infeasible. For this purpose, however, HUD will not reduce the number of units in projects of five units or less.

After the HUD Program Center Offices have funded all possible projects based on the process above, residual funds from all HUD Program Center Offices within each Multifamily Hub will be combined. First, these funds will be used to restore units to projects reduced by HUD Program Center Offices based on the above instructions. Second, additional applications within each Multifamily Hub will be selected in rank order with only one application selected per HUD Program Center Office. More than one application may be selected per HUD Program Center Office if there are no approvable applications in other HUD Program Center Offices within the Multifamily Hub. This process will continue until there are no more approvable applications within the Multifamily Hub that can be selected with the remaining funds. Applications may not be skipped over to select one based on funds remaining. However, the HUD Multifamily Hub may use any remaining residual funds to select the next rank-ordered application by reducing the number of units by no more than 10 percent rounded to the nearest whole number, provided the reduction will not render the project infeasible or result in the project being less than 5 units.

Funds remaining after the Multifamily Hub selection process is completed will be returned to Headquarters. HUD Headquarters will use these funds first to restore units to projects reduced by HUD Program Center or Multifamily Hub Offices as a result of the instructions for using their residual funds. Second, HUD Headquarters will use these funds for selecting applications based on HUD Program Center Offices' rankings, beginning with the highest rated application nationwide. Only one application will be selected per HUD Program Center Office from the national residual amount. If there are no approvable applications in other HUD Program Center Offices, the process will begin again with the selection of the next highest rated application nationwide. This process will continue until all approvable applications are selected using the available remaining funds. Headquarters may skip over a higher rated application in order to use as much of the available remaining funds as possible.

(D) Factors For Award Used To Evaluate and Rate Applications. HUD will rate applications that successfully complete technical processing using the Rating Factors set forth below and in accordance with the application submission requirements in Appendix A of this program section of the SuperNOFA. The maximum number of points an application may receive under this program is 102. This includes two (2) RC/EZ/EC bonus points, as described in the General Section of this SuperNOFA.

Rating Factor 1: Capacity of the Applicant and Relevant Organizational Staff (30 Points)

This factor addresses the extent to which you have the organizational resources to successfully implement the proposed activities in a timely manner. Submit information responding to this factor in accordance with Application Submission Requirements in Exhibits 2, 3(a), 3(b), 3(e), and 6 of Appendix A to this program section of the SuperNOFA.

In rating this factor, HUD will consider the extent to which your application demonstrates your ability to develop and operate the proposed housing on a long-term basis, considering the following:

(a) (15 points) The scope, extent, and quality of your experience in providing housing or related services to those proposed to be served by the project and the scope of the proposed project (i.e., number of units, services, relocation costs, development, and operation) in relationship to your demonstrated development and management capacity as well as your financial management capability;

(b)(i) (5 points) The scope, extent, and quality of your experience in providing housing or related services to minority persons or families.

(b)(ii) (5 points) The scope, extent, and quality of your ties to the community at large and to the minority and disability communities in particular.

For the purpose of this program section of the SuperNOFA, the term “minority” encompasses the basic racial and ethnic categories for federal statistics and administrative reporting, as defined in the General Section of the SuperNOFA in the section entitled “Race and Ethnicity.”

To earn the maximum number of points under this subcriterion, you must describe both your relationships over time with the minority community and significant previous experience in providing housing and/or supportive services to minorities generally and to minority persons with disabilities, in particular. For the purpose of this competition, “significant previous experience” means that the previous housing assistance or related services to minorities, i.e., the percentage of minorities being provided housing or related services in your current developments, was equal to or greater than the percentage of minorities in the jurisdiction where the previous housing or services occurred.

(c) (−2 to −4 points) HUD will deduct (except if the delay was beyond your control) 2 points if a fund reservation you received under either the Section 811 program of Supportive Housing for Persons with Disabilities or the Section 202 program of Supportive Housing for the Elderly has been extended beyond 24 months, 3 points if beyond 36 months, and 4 points if beyond 48 months. Examples of delays beyond your control include, but are not limited to, initial closing delays that are: (1) Directly attributable to HUD, (2) directly attributable to third party opposition, including litigation, and (3) due to a disaster, as declared by the President of the United States.

(d) (−1 point) HUD will deduct 1 point if amendment money was required as a result of the delay (except if the delay was beyond your control).

(e) (5 points) You have experience in developing integrated housing (e.g., condominium units scattered within one or more buildings or non-contiguous independent living units on scattered sites) and/or the proposed project will be an integrated housing model.

Rating Factor 2: Need/Extent of the Problem (15 Points)

This factor addresses the extent to which there is a need for funding the proposed activities to address a documented problem in the target area. Submit information responding to this factor in accordance with Application Submission Requirements in Exhibits 4(a) and 4(b) of Appendix A of this program section of the SuperNOFA. HUD will consider the following in evaluating this factor:

The extent of the need for the project in the area based on a determination by the HUD Office. In making this determination, HUD will consider your evidence of need in the area, as well as other economic, demographic, and housing market data available to the HUD Office. The data should include a general assessment of the current conditions in the market for the type of housing proposed, an estimate of the demand for additional housing of the type proposed in the applicable housing market area; as well as, information on the numbers and types of existing comparable subsidized housing for persons with disabilities, current occupancy in such housing and recent market experience, comparable subsidized housing for persons with disabilities under construction or for which fund reservations have been issued, and, in accordance with an agreement between HUD and RHS, comments from RHS on the demand for additional comparable subsidized housing and the possible harm to existing projects in the same housing market area. The Department also will review more favorably those applications which establish a connection between the proposed project and the community's Analysis of Impediments to Fair Housing Choice (AI) or other planning document that analyzes fair housing issues and is prepared by a local planning or similar organization. You must show how the proposed project will address an impediment to fair housing choice described in the AI or meet a need identified in the other type of planning document.

In evaluating this factor, HUD will rate your application as follows:

(a) (12 points) The extent of the need for the project in the area based on a determination by the HUD Office, taking into consideration the Sponsor's evidence of need in the area, as well as other economic, demographic and housing market data available to HUD.

(b) (3 points) The extent that a connection has been established between the project and the community's Consolidated Plan, Analysis of Impediments to Fair Housing Choice (AI) or other planning document that analyzes fair housing issues and is prepared by a local planning or similar organization.

Rating Factor 3: Soundness of Approach (40 Points)

This factor addresses the quality and effectiveness of your proposal, the extent to which you involved persons with disabilities, including minority persons with disabilities in the development of the application and will involve them in the development and operation of the project, and the extent to which you coordinated your application with other organizations, including local independent living centers, with which you share common goals and objectives and are working toward meeting these objectives in a holistic and comprehensive manner. There must be a clear relationship between the proposed activities, the community's needs and purposes of the program funding for your application to receive points for this factor. Submit information responding to this factor in accordance with Application Submission Requirements in Exhibits 2(d), 3(f), 3(j), 4(c), 4(d), and 5 of Appendix A of this program section of the SuperNOFA. In evaluating this factor, HUD will consider the following:

(a)(i) (10 points) Site approvability—The proximity or accessibility of the site to shopping, medical facilities, transportation, places of worship, recreational facilities, places of employment, and other necessary services to the intended tenants; adequacy of utilities and streets, and freedom of the site from adverse environmental conditions (based on site visit for site control projects only); and compliance with site and neighborhood standards in 24 CFR 891.125(a), (d), and (e). Sites where amenities are accessible other than by project residence or private vehicle will be rated more favorably;

(a)(ii) (5 points) Site control—If your application contains legally acceptable site control for all proposed sites and all of the proposed sites are approvable (i.e., receive a score of 1 or higher on Criterion (a)(i)), your application will receive 5 points for site control.

(a)(iii) (−1 point) One or more of your proposed sites is not permissively zoned for the intended use.

(b) (10 points) The suitability of the site from the standpoints of promoting a greater choice of housing opportunities for minorities and persons with disabilities and affirmatively furthering fair housing. In reviewing this criterion, HUD will assess whether the site meets the site and neighborhood standards at 24 CFR 891.125(b) and (c) by examining relevant data in your application or in the HUD Office. If appropriate, HUD may visit the site.

(i) The site will be deemed acceptable if it increases housing choice and opportunity by:

—Expanding housing opportunities in non-minority neighborhoods if located in such a neighborhood. (“Nonminority area” is defined as one in which the minority population is lower than 10 percent); or

—Contributing to the revitalization of and reinvestment in minority neighborhoods, including improvement of the level, quality and affordability of services furnished to minority persons with disabilities. You should refer to the Site and Neighborhood Standards provisions of the regulations governing the Section 811 Supportive Housing Program (24 CFR 891.125(b) and (c)) when considering sites for your projects.

(ii) For the purpose of this competition, the term “minority neighborhood (area of minority concentration)” is defined as one where any one of the following statistical conditions exists:

—The percentage of persons of a particular racial or ethnic minority is at least 20 points higher than the minority's or combination of minorities' percentage in the housing market as a whole; or,

—The neighborhood's total percentage of minority persons is at least 20 points higher than the total percentage of minorities for the housing market area as a whole; or

—In the case of a metropolitan area, the neighborhood's total percentage of minority persons exceeds 50 percent of its population.

(c)(i) (4 points) The extent to which the proposed design of the project (exterior and interior) and its placement in the neighborhood will meet the individual needs of the residents and will facilitate their integration into the surrounding community and promote their ability to live as independently as possible;

(c)(ii) (1 point) The proposed design incorporates visitability standards and universal design in the construction or rehabilitation of the project.

(d) (5 points) At least 51% of your board members are persons with disabilities.

(e) (3 points) You involved persons with disabilities (including minority persons with disabilities) in the development of the application, and will involve persons with disabilities (including minority persons with disabilities) in the development and operation of the project;

(f) (2 points) The extent to which you coordinated your application with other organizations (including local independent living centers; a list of such can be obtained from the local HUD Office) that will not be directly participating in your project, but with which you share common goals and objectives and are working toward meeting these goals and objectives in a holistic and comprehensive manner;

Rating Factor 4: Leveraging Resources (5 Points)

This factor addresses your ability to secure other community resources that can be combined with HUD's program resources to achieve program purposes. Submit information responding to this factor in accordance with Application Submission Requirements in Exhibits 3(c) and (d) of Appendix A of this program section of the SuperNOFA.

(a) (2 points) The extent of local government support (including financial assistance, donation of land, provision of services, etc.) for the project; and

(b) (3 points) The extent of your activities in the community, including previous experience in serving the area where the project is to be located and your demonstrated ability to enlist volunteers and raise local funds.

Rating Factor 5: Achieving Results and Program Evaluation (10 Points)

This factor reflects HUD's goal to embrace high standards of ethics, management and accountability and, as such, emphasizes HUD's commitment to ensuring that you keep the promises made in your application. This factor requires that you clearly identify the benefits or outcomes of your project and develop an evaluation plan to measure performance, which includes what you are going to measure, how you are going to measure it and the steps you will have in place to make adjustments to your project development timeline should you not be able to achieve any of the major milestones. This factor addresses the extent to which your project will implement practical solutions that result in residents achieving independent living, economic empowerment, educational opportunities and improved living environments. Finally, this factor addresses the extent to which the long-term viability of your project will be sustained for the duration of the 40-year capital advance period. Submit information responding to this factor in accordance with Application Submission Requirements in Exhibits 3(g), 3(h), and 3(i), in Appendix A of this program section of the SuperNOFA.

(a) (5 points) The extent to which your project development timeline is indicative of your full understanding of the development process and will, therefore, result in the timely development of your project.

(b) (2 points) The extent to which your project will implement practical solutions that will result in assisting residents in achieving independent living, economic empowerment, educational opportunities, and improved living environments (e.g., activities that will improve computer access, literacy and employment opportunities).

(c) (3 points) The extent to which you demonstrated that your project will remain viable as housing with the availability of supportive services for very low income persons with disabilities for the 40-year capital advance period.

Bonus Points

(2 bonus points) Location of proposed site in an RC/EZ/EC area, as described in the General Section of this SuperNOFA. Submit the information responding to the bonus points in accordance with the Application Submission Requirements in Exhibit 8(h) in Appendix A of this program section of the SuperNOFA.

(E) Applicant Debriefing. You may request a debriefing on your application in accordance with the General Section of this SuperNOFA, with the exception that the request must be made to the Director of Multifamily Housing in the HUD Field Office to which you sent your application.

VI. Application Submission Requirements

The application submission requirements are contained in Appendix A of this program section of the SuperNOFA. Your application must include all of the information, materials, forms, and exhibits listed in Appendix A of this program section of the SuperNOFA (unless you were selected for a Section 811 fund reservation within the last three funding cycles). If you qualify for this exception, you are not required to submit the information described in Exhibit 2(a), (b), and (c), in Appendix A of this program section of the SuperNOFA, which are the articles of incorporation (or other organizational documents), by-laws, and the IRS tax exemption, respectively. If there has been a change in any of these documents since your previous HUD approval, you must submit the updated information in your application. The HUD Office will verify your indication of previous HUD approval by checking the project number and approval status with the appropriate HUD Office based on information submitted.

In addition to this relief of paperwork burden in preparing applications, you are able to use information and exhibits previously prepared for prior applications under Section 811, Section 202, or other funding programs. Examples of exhibits that may be readily adapted or amended to decrease the burden of application preparation include, among others, those on previous participation in the Section 202 or Section 811 programs, your experience in the provision of housing and services, supportive services plans, community ties, and experience serving minorities.

VII. Corrections to Deficient Applications

The General Section of the SuperNOFA provides the procedures for corrections to deficient applications.

VIII. Formation of Owner Corporation for Development of Section 811 Projects and for Section 811 Projects Involving Mixed-Financing

Applicant eligibility for purposes of applying for a Section 811 fund reservation under this NOFA has not changed; i.e., all Section 811 Sponsors and Co-Sponsors must be nonprofit organizations. However, the Owner corporation, when later formed by the Sponsor, may be (1) a single-purpose nonprofit organization that has tax-exempt status under Section 501(c)(3) of the Internal Revenue Code of 1986, or (2) for purposes of developing a mixed-finance project for developing additional units over and above the Section 811 units, a for-profit limited partnership with the nonprofit entity as the sole general partner.

IX. Authority

Section 811 of the Cranston-Gonzalez National Affordable Housing Act (Pub. L. 101-625, approved November 28, 1990), as amended by the Housing and Community Development Act of 1992) (Pub. L. 102-550, approved October 28, 1992); the Rescissions Act (Pub. L. 104-19, approved July 27, 1995); the American Homeownership and Economic Opportunity Act of 2000 (Pub. L. 106-569, approved December 27, 2000) and the Fiscal Year 2003 Consolidated Appropriations (Pub. L. 108-7, approved February 20, 2003) authorized a new supportive housing program for persons with disabilities, and replaced assistance for persons with disabilities previously covered by section 202 of the Housing Act of 1959 (section 202 continues, as amended by section 801 of the NAHA, and the HCD Act of 1992, to authorize supportive housing for the elderly).

BILLING CODE 4210-32-P

[FR Doc. 03-9591 Filed 4-17-03; 9:47 am]

BILLING CODE 4210-32-C